DEPARTMENT OF LABOR

Office of the Secretary

Privacy Act of 1974; Publication in Full of All Notices of Systems of Records Including Several New Systems; Publication of Proposed Routine Uses

AGENCY: Office of the Secretary, Labor.

ACTION: Notice; publication in full of all notices of systems of records, including several new systems; publication of a new universal routine use for all systems of records; publication of several proposed system-specific routine uses, as well as substantive amendments.

SUMMARY: This notice provides an accurate and complete text with both proposed substantive and non-substantive changes of this agency's 147 systems of records which are currently maintained under the Privacy Act of 1974. This notice also proposes one new universal routine use for all of the systems. This notice will update our last complete publication in full which appeared in the Federal Register on September 23, 1993. In addition to 33 new systems of records, which are being published for the first time, it will propose substantive amendments to 60 other systems which have been previously published. Twenty-nine (29) systems will be amended in a non-substantive manner. The notice deletes 31 systems.

DATES: Persons wishing to comment on newly published systems and on the proposed routine uses, both universal and specific, may do so by June 7, 2002.

EFFECTIVE DATE: Unless there is a further notice in the Federal Register, the new systems of records and the proposed routine uses will become effective June 27, 2002. The notices, pertaining to the 29 systems with non-substantive (administrative) changes are effective on April 8, 2002.

ADDRESSES: Written comments may be sent or delivered to Robert A. Shapiro, Associate Solicitor, Office of the Solicitor, Division of Legislation and Legal Counsel, U.S. Department of Labor, Room N-2428, 200 Constitution Avenue, NW., Washington, DC 20210.

FOR FURTHER INFORMATION CONTACT: Miriam McD. Miller, Co-Counsel for Administrative Law, Office of the Solicitor, U.S. Department of Labor, 200 Constitution Avenue, NW, Room N-2428, Washington, DC 20210; Telephone (202) 693-5500.

SUPPLEMENTARY INFORMATION:

1. Background

Pursuant to section three of the Privacy Act of 1974 (5 U.S.C. 552a(e)(4)), hereinafter referred to as the Act, the Department hereby publishes notice of a new universal routine use, as well as thirty-three (33) new systems of records currently maintained pursuant to the Act. This document supplements this Department's last consolidated publication of all of its Privacy Act systems of records. On September 23, 1993, in Volume 58 at Page 49548 of the Federal Register, the Department published a notice containing 138 systems of records which were maintained, at that time, under the Act. That document gave notice of eleven paragraphs containing universal routine uses which applied, across the board, to all 138 systems of records, except for the two employee counseling and medical systems of records. Those eleven paragraphs were presented in the General Prefatory Statement for that document. Thereafter, seven new systems of records were established as set forth in the following five documents. These five documents were as follows: 59 FR 18156, April 15, 1994 (two new systems); 60 FR 24897, May 10, 1995 (one new system); 60 FR 31495, June 15, 1995 (one new system); 62 FR 16610, April 7, 1997 (two new systems); and 62 FR 53343, October 14, 1997 (one new system). The 33 new systems published herein will increase the total number of systems to 147 after accounting for the 31 systems which are being deleted in this notice.

In addition to the seven new systems, discussed above, the Department made amendments to its existing systems subsequent to the September 23, 1993 consolidated publication. These amendments were published in three separate documents published as follows: 59 FR 47361, September 15, 1994, 63 FR 2417, January 15, 1998, and 63 FR 25234, May 7, 1998. You should also note that amendments were made to existing systems in the same documents which established the seven new systems of records.

2. The Current Action

Pursuant to section three of the Privacy Act of 1974 (5 U.S.C. 552a(e)(4)), the Department hereby publishes an updated consolidated publication in full for all of its 147 systems of records, including 33 new systems, currently maintained pursuant to the Privacy Act of 1974. As noted above, the Department's last consolidated publication in full appeared in the Federal Register on September 23, 1993, at page 49548 in Volume 58 of the Federal Register.

This notice also proposes one new universal routine use to be added to the Department's current list of eleven universal routine uses. These universal routine uses apply across the board to all of the Department's systems of records. The original eleven universal routine uses, being republished herein, are essentially a refined version of those universal routine uses which were published on September 23, 1993, at pages 49554-49555 in Volume 58 of the Federal Register.

Besides these twelve universal routine uses, both substantive and non-substantive changes have been made to certain of the system-specific routine uses which appear within the body of most of the systems.

As noted above, this notice will add 33 new systems which are being published for the first time; it amends 60 existing systems in a substantive manner, and it amends 29 existing systems in a non-substantive manner. This notice deletes 31 systems.

The following is a listing of the substantive and non-substantive additions, changes, and deletions to the various departmental systems of records. This listing will not describe extremely non-substantive revisions to the Department's existing systems of records.

The public, the Office of Management and Budget (OMB), and the Congress are invited to submit written comments on the 33 new systems, and on the other substantive amendments. A report on all of the new systems and on the substantive amendments has been provided to OMB and to the Congress as required by OMB Circular A-130.

Revisions to the Universal Routine Uses Appearing Within the General Prefatory Statement

A. Refinements to the Current Universal Routine Uses

The Department is proposing certain grammatical refinements to the eleven routine uses of the records which currently appear within the General Prefatory Statement. In addition, routine use number 10, disclosure to the Office of Management and Budget (OMB), is being broadened to include all legislative matters, instead of being limited to private relief legislation. These universal routing uses apply across the board to all current systems of records, except for the two employee counseling and medical systems.

B. A New Universal Routine Use

The new universal routine use of the records proposed herein will be designated as universal routine use number 12, and will appear within the General Prefatory Statement. This routine use will permit the Department to disclose the fact that an employee conduct investigation may be underway, based upon an allegation of prohibited activity, in the event of a media request, or in the event that the subject of the investigation has released information to the public.

Government-Wide Systems by the Department of Labor

DOL/GOVT-1, entitled Office of Workers' Compensation Programs, Federal Employees' Compensation File, is being amended by maintaining its covered records in an electronic format as well as in paper files. The subject of the file, as well as other parties, as specified in this notice, will be able to access information relating to the claim in either format. Ultimately, the plan is to maintain all open claim files only electronically. In addition, this system of records is revising its Routine Uses category to balance the privacy interests of those persons seeking benefits under the FECA with the benefits of providing access to these records for the purposes specified in the routine uses.

DOL/GOVT-2, entitled Job Corps Student Records, is being revised to rename its enrollees as students.

Office of the Secretary (OSEC)

DOL/OSEC-1, Supervisor's/Team Leader's Records of Employees, is amended by revising several of its categories so that new information can be collected such as labor relations information and requests for reasonable accommodation. For this purpose, the Category of Records and Routine Uses Category have been expanded. In addition, the system has been renamed, and the Location category has been amended.

DOL/OSEC-4, Credit Data on Individual Debtors, has been deleted since it is no longer needed inasmuch as this function has been taken over by the U.S. Treasury Department. Accordingly, the records have been destroyed.

DOL/OSEC-5, High Performance Work Place Tracking Database, has been deleted since it never became operational, and no records were ever created.

Office of the Assistant Secretary for Administration and Management (OASAM)

DOL/OASAM-4, Occupational Accident/Injury/Illness Reporting System (AIIRS) File, has been amended to reflect a new place for the system location and a new title of the system manager.

DOL/OASAM-5, Rehabilitation and Counseling File, has been amended by revising several categories in order to make the notice more descriptive.

DOL/OASAM-7, Employee Medical Records, has been amended by revising several categories in order to make the notice more descriptive.

DOL/OASAM-11, Training Information System, and DOL/OASAM-14, Automated Position Control System, have been transferred into new system DOL/OASAM-36, PeoplePower, and are therefore, deleted from this notice.

DOL/OASAM-12, Administrative Grievance Records, has been amended to reflect a new place for the system location and a new title of the system manager.

DOL/OASAM-15, Travel and Transportation System, has been transferred to the Office of the Chief Financial Officer, and has been renumbered as DOL/CFO-3.

DOL/OASAM-17, Equal Employment Opportunity Complaint Files, has been amended to reflect a new place for the system location and a new title of the system manager.

DOL/OASAM-19, Negotiated Grievance Procedure and Unfair Labor Practice Files, has been amended to reflect a new place for the system location and a new title of the system manager.

DOL/OASAM-20, Personnel Investigation Records, has been amended to reflect a new place for the system location and a new title of the system manager.

DOL/OASAM-22, Civil Rights Center Citizen Discrimination Complaint Files, has been amended to reflect a new place for the system location and a new title of the system manager. Also, the system of records is being amended to reflect additional statutory jurisdiction for the Welfare-to-Work grant program and the Workforce Investment Act.

DOL/OASAM-23, Travel Management Center, has been amended to reflect a new title for the system.

DOL/OASAM-24, Privacy Act/Freedom of Information Act Requests File System, has been amended to reflect a new place for the system location and a new title of the system manager.

DOL/OASAM-25, Intergovernmental Personnel Act Assignment Records, has been amended to reflect a new place for the system location and a new title of the system manager.

DOL/OASAM-26, Frances Perkins Building Parking Management System, is being amended with respect to the category of Records to add the Social Security Numbers of the individuals who apply for and receive parking privileges. In addition, the category for Routine Uses will be amended so that data can be disclosed by DOL to other governmental agencies to enable these agencies to compare the names of car pool members. Finally, the categories for Records and Record Source are being amended to permit other government agencies to disclose data to DOL so that DOL can compare the names of car pool members.

DOL/OASAM-27, Employee/Contractor Identification Program, has been amended to reflect a new place for the system location and a new title of the system manager.

DOL/OASAM-28, Incident Report/Restriction Notice, has been amended to reflect a new place for the system location and a new title of the system manager.

DOL/OASAM-29, OASAM Employee Administrative Investigation File, has been amended to reflect a new place for the system location and title of the system manager.

DOL/OASAM-30, Injury Compensation System (ICS), has been deleted because its information belongs in DOL/GOVT-1, this Department's government-wide system for processing injury claims by federal employees. That system is entitled Office of Workers' Compensation Programs, Federal Employees Compensation File.

DOL/OASAM-31, DOL Flexible Workplace (Flexiplace) Programs Evaluation and Files, has been amended to reflect that the flexiplace program has advanced from a pilot program to a permanent program. Also, the categories for Location and System Manager have been amended to reflect changes in both.

DOL/OASAM-32, Transit Subsidy Management System, is a new system of records to be used to validate identification of employees who request and receive a transit subsidy.

DOL/OASAM-33, Entity Database, is a new system of records which contains the data to complete applications, personnel and administrative forms, and to provide input to various small systems used in administrative and management of DOL employees.

DOL/OASAM-34, DOL Fitness Association (DOLFA) Membership Files, is a new system of records which is used to administer the Department's Fitness Center which provides exercise facilities in the building.

DOL/OASAM-35, DOL Child Care Subsidy Programs Records, is a new system of records which will establish and verify Departmental employees' eligibility for child care subsidies in order for the Department to provide monetary assistance to its employees.

DOL/OASAM-36, PeoplePower, is a new electronic system of records which will produce official personnel actions notifications, and to store and provide access to current and historical human resource information for all of the Department's employees. It will also aid in the performance of several management functions. Former systems, DOL/OASAM-11 and DOL/OASAM-14, have been transferred into this new system.

Office of the Administrative Law Judges (OALJs)

DOL/OALJ-1 has been renamed the Office of Administrative Law Judges Case Tracking System, and its Routine Use category has been amended to state that its proceedings and court dockets records are public and are available for public inspection.

DOL/OALJ-2, entitled Office of Administrative Law Judge Case Files, is a new system of records for the purpose of maintaining records in the adjudication of cases and the determination of issues in hearings and appeals proceedings. Its Routine Uses category provides for public disclosure of its proceedings and decisions.

DOL/OALJ-3, entitled Contract List, is a new system of records for the purpose of maintaining a list of contractors to assist in managing contracts with contractors.

DOL/OALJ-4, entitled Notification List, is a new system of records for the purpose of providing electronic mail notifications of web site updates to the registrants in the system.

Office of the Administrative Review Board

DOL/ARB-1, Administrative Review Board Appeals Files, (formerly DOL/OAA-1) has been amended and updated to reflect the change in agency name from Office of Administrative Appeals to Administrative Review Board and to clarify the routine uses.

Office of the American Workplace (OAW)

This Office no longer exists, but its duties and responsibilities have been transferred into the Employment Standards Administration (ESA). In this connection, in the Federal Register of October 14, 1997 (62 FR 53343 at 53347), DOL/OAW-1 was renamed as DOL/ESA-45, Investigative Files of the Office of Labor-Management Standards.

The following four systems of the OAW are being deleted as noted below. The records for these four systems have been transferred to the National Archives and Records Administration (NARA) since they are permanent records.

DOL/OAW-2, Lists of Airline Employees Protected Under the Rehire Program, is being deleted because this program is inactive.

DOL/OAW-3, Semi-Annual Lists of Hired Employees, is being deleted because this program is inactive.

DOL/OAW-4, Rehire Program Appellant and Inquiry Files, is being deleted because this program has been terminated.

DOL/OAW-5, OLMP/OSP, Redwood Employee Protection Program, Health, Welfare, and Pension Claims and Benefit Payments (including severance benefits and benefits for salary replacement, retraining, job search and relocation) is being deleted because this program has been terminated.

Office of the Assistant Secretary for Policy (ASP)

DOL/ASP-1, National Agricultural Workers Survey (NAWS) Research File, Case Tracking Files, Name Index, USDOL/ASP, is amended by changing several categories including Location, Records, Purpose and Routine Uses. The revised Routine Uses Category will provide additional protection to the privacy interests of the participants in the study. This additional privacy protection is achieved by making several of the Universal Routine Uses, contained within the General Prefatory Statement, inapplicable to this system of records.

Benefits Review Board (BRB)

DOL/BRB-1, Appeals Files—Benefits Review Board, has been amended to reflect the new address of the system's location and to clarify the routine uses.

Bureau of Labor Statistics (BLS)

DOL/BLS-2, Staff Utilization System, is being deleted because this system of records has been closed, and its records have been destroyed.

DOL/BLS-4, Business Research Advisory Council and DOL/BLS-5, Labor Research Advisory Council, are being deleted. Information and data for all of the Department's advisory committees have been transferred to the Office of Small Business Programs (DOL/OSBP) which has established a new system of records for this purpose, entitled DOL/OSBP-2, Department of Labor Advisory Committees Members Files.

DOL/BLS-6, Applicant Race and National Origin (ARNO) System, Form E-7, has been amended to reflect a new title of the system manager.

DOL/BLS-7, BLS Employee Conduct Investigation, has been amended to reflect a new title of the system manager.

DOL/BLS-8, BLS Employee ADP Training History, is being amended to include the employee's Social Security Number, and a new title of the system manager. In addition, certain minor changes are being made.

DOL/BLS-9, Routine Administrative Files, is being amended by revising several categories to make the system more descriptive. These categories are Individuals Covered, Records, and Record Sources. In addition, certain non-substantive, administrative changes are being made throughout the system.

DOL/BLS-11, NIH and Boeing User ID Database, is being renamed as Mainframe User ID Database, and the system is being amended to reflect a new location for the system's electronic records and a new title of the system manager.

DOL/BLS-13, National Longitudinal Survey of Youth 1979 (NLSY79) Database, and DOL/BLS-17, National Longitudinal Survey of Youth 1996 (NLYS96), which are each research surveys of youth, are being expanded so that information can be received from persons who interact with the respondents.

DOL/BLS-15, Management Research Files, is being deleted, because the underlying project was closed down, and no records were ever created.

DOL/BLS-16, Annual Survey of Occupational Injuries and Illnesses, is being deleted as a Privacy Act system of records, because these records are no longer maintained or retrieved by name or by a personal identifier.

DOL/BLS-18, Postal Square Building Parking Management Records, is a new system which is needed to administer the parking and car pool programs at the Postal Square Building wherein the Bureau is housed.

DOL/BLS-19, Customer Information Files, is a new system to maintain and service the list of customers who request BLS information.

DOL/BLS-20, Fellowship Applicants and Recipients Files, is a new system which maintains a list of applicants and recipients of fellowship awards. These individuals are not federal employees but are assigned to work with the BLS staff and/or BLS non-public data files.

Office of the Chief Financial Officer (CFO)

DOL/CFO-1, Attendance, Leave and Payroll File, is being amended by revising the category of Records in the System to include data from the newly created DOL/OASAM-32, Transit Subsidy Management System. It is amended by changing the category for Routine Uses, by permitting disclosure of data to other governmental agencies for the purpose of comparing transit subsidy recipients and car pool applicants. This system of records was last published on January 15, 1998 at 63 FR 2417. That publication inadvertently failed to list certain previously approved disclosures under paragraphs E. and F. of the Routine Uses Category. [An earlier publication of this system, at 62 FR 16614, on April 7, 1997, correctly contained the previously approved disclosures]. This document lists all approved disclosures. Finally, an additional routine use, permitting disclosure of information to labor organizations, is being added.

DOL/CFO-3 is a new system for the CFO, having been transferred into CFO from OASAM. It is entitled the Travel and Transportation System, and was formerly entitled OASAM-15.

The Office of Disability Employment Policy (ODEP) formerly entitled the President's Committee on Employment of People With Disabilities (PCEPD)

DOL/PCEPD-1, Job Accommodation Network (JAN) Files, has been redesignated as DOL/ODEP-1 because of a reorganization within the Department.

DOL/ODEP-2, Workforce Recruitment Program (WRP) Database, is a new system of records to maintain records on a database resource of college students with disabilities so that federal and private sector employers may be able to identify qualified employees in a variety of fields.

Employees' Compensation Appeals Board (ECAB)

DOL/ECAB-1, Employees' Compensation Appeals Board Docket Records, has been amended to reflect the new address of the system location and to clarify the routine uses.

DOL/ECAB-2, Employees' Compensation Appeals Board Disposition Records, has been amended to reflect the new address of the system location and to clarify the routine uses.

Employment Standards Administration (ESA)

DOL/ESA-2, Office of Federal Contract Compliance Programs, Complaint Case Files, is changed to correct name of system and to add “class action” to Record Source Categories.

DOL/ESA-5, Office of Workers’ Compensation Programs, Black Lung Antidiscrimination Files, has been refined in a non-substantive manner.

DOL/ESA-6, Office of Workers' Compensation Programs, Black Lung Benefits Claim File, has been refined in a non-substantive manner.

DOL/ESA-12, Office of Workers' Compensation Programs, Black Lung X-ray Interpretation File, is being deleted because these records have been transferred into DOL/ESA-6.

DOL/ESA-15, Office of Workers' Compensation Programs, Longshore and Harbor Workers' Compensation Act Case Files, has been amended with respect to the category for Routine Uses. Disclosures have been both expanded and reduced by these amendments.

DOL/ESA-24, Office of Workers' Compensation Programs, Longshore and Harbor Workers' Compensation Act Special Fund System, has been amended with respect to the category for Routine Uses. Disclosures have been both expanded and reduced by these amendments.

DOL/ESA-25, Office of Federal Contract Compliance Programs, Executive Management Information Systems (OFCCP/EIS), is amended to include “TRIS” in the system names, to change Location, to change Categories of Individuals Covered By The System, to change Categories of Records In The System, to change Authority for Maintenance of the system, to change Purpose, to change Retrievability.

DOL/ESA-26, Office of Workers' Compensation Programs, Longshore and Harbor Workers' Compensation Act Investigation Files, has been amended by adding a note to the category for Routine Uses to provide that, pursuant to 5 U.S.C. 552a(b)(1), information from this system of records may be disclosed to members and staff of the Benefits Review Board, the Office of Administrative Law Judges, the Office of the Solicitor and other components of the Department who have a need for the record in the performance of their duties.

DOL/ESA-27, Office of Workers' Compensation Programs, Longshore and Harbor Workers' Compensation Act Claimant Representatives, has been amended by adding a note to the category for Routine Uses to provide that, pursuant to 5 U.S.C. 552a(b)(1), information from this system of records may be disclosed to members and staff of the Benefits Review Board, the Office of Administrative Law Judges, the Office of the Solicitor and other components of the Department who have a need for the record in the performance of their duties.

DOL/ESA-28, Office of Workers' Compensation Programs, Physicians and Health Care Providers Excluded under the Longshore Act, has been amended with respect to the category for Routine Uses. Disclosures have been both expanded and reduced by these amendments. In addition, a note has been added to the category for Routine Uses to provide that, pursuant to 5 U.S.C. 552a(b)(1), information from this system of records may be disclosed to members and staff of the Benefits Review Board, the Office of Administrative Law Judges, the Office of the Solicitor and other components of the Department who have a need for the record in the performance of their duties.

DOL/ESA-29, Office of Workers' Compensation Programs, Physicians and Health Care Providers Excluded under the Federal Employees' Compensation Act. The same changes are made as described above with respect to DOL/ESA-28.

DOL/ESA-30, Office of Workers' Compensation Programs, Black Lung Automated Support Package, has been refined in a non-substantive manner.

DOL/ESA-31, Office of Federal Contract Compliance Programs, Time Reporting Information System (TRIS) is being deleted because it has been merged into DOL/ESA-25, Office of Federal Contract Compliance Programs, Management Information System (OFCCP/MIS).

DOL/ESA-33, Time Report Component of the Wage and Hour Investigative Support and Reporting Database (WHISARD), Compliance Officer's Weekly Report, is amended to add “leave records” to the Categories of Records, add “statute” to Purpose, add “investigator” to Record Source Category, add the “Systems Exempted” Category which was inadvertently omitted from the previous publication.

DOL/ESA-34, Farm Labor Contractor Registration File, is amended to correct the name of the Florida system location, remove extraneous references in the Authority for Maintenance of the System, correct the name of the Florida storage location, correct the identity and address of system manager, and correct the identity and address of the person to whom contesting inquiries should be addressed and remove “Social Security Number” from the information required to make such inquiry.

DOL/ESA-35, Farm Labor Contractor Employee Registration File, is changed to correct the name of the Florida system location, remove extraneous references in the Authority for Maintenance of the System, correct the name of the Florida storage location, correct the identity and address of the System Manager, and correct the identity and address of the person to whom contesting inquiries should be addressed and remove “Social Security Number” from the information required to make such inquiry.

DOL/ESA-36, MSPA Civil Money Penalties in the Wage and Hour Investigative Support and Reporting Database (WHISARD), is amended to: Delete reference to “FLCRA” in the title of the record; add “District” offices to the system locations, remove extraneous references in the Authority for Maintenance of the System; add “District” offices to the storage locations; correct the identity and address of the system manager; correct the identity and address for Notification Procedure and remove “Social Security Number” from the information required to make such inquiry; correct the identity and address for record access procedures; and remove “social security number” from the information required to make such inquiry; and correct the identity and address for contesting record procedures and remove “social security number” from the information required to make such inquiry.

DOL/ESA-37, MSPA Public Central Registry Records Files, is changed to remove extraneous references in the authority for maintenance of the system, to add language in the routine uses category to allow disclosure of registration information via an “800” telephone number required by and published in 29 CFR 500.170; correct the identity and address of system manager, correct the identity and address for contesting record procedures and remove “Social Security Number” from the information required to make such inquiry, and to add “applications” to the record source categories.

DOL/ESA-38, Wage and Hour Regional Office Clearance List—MSPA Registration, is amended to show that the category of records shown as “personal identification” means “names, addresses and Social Security Numbers”, to remove extraneous references in the Authority for Maintenance of the System, to include “providing historical and current compliance information to Wage and Hour National, Regional, and District offices as a purpose, correct the identity and address of system manager, and correct the identity and address for contesting record procedures and remove “Social Security Number” from the information required to make such inquiry.

DOL/ESA-39, State Employment Service Clearance List—MSPA Registration, is changed to: Remove “Division of Labor and Industry, Baltimore, Maryland; Delaware Department of Labor, Dover, Delaware; and New York Department of Labor, Albany, New York” from system location; to show that the category of records shown as “personal identification” means “names, addresses and social security numbers”; to remove extraneous references in the Authority for Maintenance of the System; to correct the routine uses of records to show that this record will be disclosed to the Department of Labor and Employment Security, Tallahassee, Florida; New Jersey Department of Labor, Trenton, New Jersey; and Virginia Employment Commission, Richmond, Virginia; to correct the identity and address of the system manager; and to correct the identity and address for contesting record procedures and remove “Social Security Number” from the information required to make such inquiry.

DOL/ESA-40, MSPA Tracer List, is amended in Categories of Records to Delete reference to “FLCRA” in the title of the record, remove “Social Security Numbers” and add “certificate of registration numbers”, to remove extraneous references in the authority for maintenance of the system, correct the identity and address of system manager, correct the identity and address for notification procedure and remove “social security number” from the information required to make such inquiry, correct the identity and address for record access procedures and remove “Social Security Number” from the information required to make such inquiry, and correct the identity and address for contesting record procedures and remove “Social Security Number” from the information required to make such inquiry.

DOL/ESA-41, MSPA Certificate Action Records Files, is amended to: Delete reference to “FLCRA” in the title of the record, remove extraneous references in the authority for maintenance of the system, add “and maintain a record” of persons who filed applications to the purpose, correct the identity and address of system manager, correct the identity and address for contesting record procedures and remove “Social Security Number” from information required to make such inquiry.

DOL/ESA-42, Case Registration/Investigator Form; in the Wage and Hour Investigative Reporting Database (WHISARD), is amended to change system name, to change categories of individuals covered, to change retrievability, and to make it an exempt system.

DOL/ESA-43, Office of Workers' Compensation Programs, Federal Employees' Compensation Act and Longshore and Harbor Workers' Compensation Act Rehabilitation Files, has been amended with respect to the category for Routine Uses. Disclosures have been both expanded and reduced by these amendments. In addition, a note has been added to the category for Routine Uses to provide that, pursuant to 5 U.S.C. 552a(b)(1), information from this system of records may be disclosed to members and staff of the Benefits Review Board, the Office of Administrative Law Judges, the Office of the Solicitor and other components of the Department who have a need for the record in the performance of their duties.

DOL/ESA-44, Office of Workers' Compensation Programs, Federal Employees' Compensation Act (FEC) and Longshore and Longshore and Harbor Workers' Compensation Act Rehabilitation Counselor Case Assignment, Contract Management and Performance, and Federal Employees' Compensation Act Field Nurses Files, has been amended by the following additions: The note following the routine uses category regarding telephonic disclosure of information, which currently appears in the other ESA/OWCP Privacy Act Systems of Records, has been added and language is inserted into this note to reflect that, pursuant to 5 U.S.C. 552a(b)(1), information from this system of records is disclosed to members and staff of the Benefits Review Board, the Employees' Compensation Appeals Board, the Office of Administrative Law Judges, the Office of the Solicitor and other components of the Department who have a need for the record in the performance of their duties.

DOL/ESA-45, Investigative Files of the Office of Labor-Management Standards (Formerly DOL/OAW-1), has been amended to reflect a reorganization of the Office of Labor-Management Standards (OLMS); to clarify the Categories of Individuals Covered by the System; to include the Congressional Accountability Act of 1995 (CAA); to change the authority citations; to include CAA in the Purpose; to make changes in the retention schedule, and to make typographical corrections.

DOL/ESA-46, is a new system entitled, Migrant and Seasonal Agricultural Worker Protection Act (MSPA) Ineligible Farm Labor Contractors, which is being established in order to maintain a listing of individuals who are ineligible to engage in any activity as a farm labor contractor or farm labor contractor employee. This listing is available to the general public, upon request.

DOL/ESA-47 is a new electronic system, entitled Youth Peddler Bulletin Board, which is being established to exchange information with law enforcement agencies about individuals and organizations that employ young children as “door-to-door candy sellers.” Access is available only to those enforcement agencies through the issuance of a “password”.

DOL/ESA-48 is a new system, entitled “Customer Service” component of the Wage Hour Investigative Support and Reporting Database (WHISARD), which is being established to provide Wage and Hour employees with an index of individuals who contact the Wage and Hour Division. This information may be used to provide assistance or to facilitate the processing of complaints.

DOL/ESA-49 is a new system, entitled Office of Workers' Compensation Programs, Energy Employees' Occupational Illness Compensation Program Act File, which is being established in order to adjudicate claims of current and former employees of the Department of Energy, its contractors, and predecessor agencies, and other individuals for compensation under the Energy Employees' Occupational Illness Compensation Programs Act (EEOICPA).

DOL/ESA-50 is a new system entitled Office of Workers' Compensation Programs, Physicians and Health Care Providers Excluded under the Energy Employees' Occupational Illness Compensation Program Act, which is being established as a companion system to DOL/ESA-49 in order to adjudicate claims of individuals for compensation under the Energy Employees' Occupational Illness Compensation Programs Act (EEOICPA).

DOL/ESA-51 is a new system entitled OLMS Public Disclosure Request Tracking System, which is being established to process requests made to the OLMS Public Disclosure Room, to prepare requests for payment, and to process payments.

Employment and Training Administration (ETA)

DOL/ETA-1, Bureau of Apprenticeship and Training, Budget and Position Control File, has been amended to include information from DOL/ETA-2, Bureau of Apprenticeship and Training, Program Management Group, Budget and Position Control File.

DOL/ETA-2 has been deleted since its records and function have been transferred into to DOL/ETA-1.

DOL/ETA-4, Apprenticeship Management System (AMS), is being renamed Apprenticeship Information Management System (AIMS).

DOL/ETA-8, Job Corps Management Information System (JCMIS) File is being renamed Job Corps Student Pay, Allotment and Management Information System (SPAMIS).

DOL/ETA-21, Employment and Training Administration Advisory Committees Members Files, has been deleted. Information and data for all of the Department's advisory committees have been transferred to the Office of Small Business Programs(SBA) which has established a new system of records for this purpose, entitled DOL/OSBP-2, Department of Labor Advisory Committees Members Files.

DOL/ETA-23, Federal Committee on Apprenticeship, has been deleted. The information is to be included in a new department-wide system DOL/OSBP-2, described above.

DOL/ETA-25, DOL/ETA Evaluation Research Projects of the Unemployment Compensation System, has been amended to reflect a new name, and a new system manager.

DOL/ETA-27, Youth Opportunity Grant Program Information Files, is a new management information system designed to facilitate the uniform compilation and analysis of programmatic data necessary for reporting, monitoring, and evaluation purposes.

Office of Inspector General (OIG)

DOL/OIG-1, General Investigative Files, Case Tracking Files, and Subject/Title Index, USDOL/OIG, has been amended to reflect the title change (to Investigative Files, Case Tracking System, Analysis, Complaints, Inspections, and Evaluation Files, describe the system's categories of records more completely, clarify the routine uses and reflect the number of years files are retained.

DOL/OIG-2, Freedom of Information/Privacy Act Records, has been amended to clarify the routine uses.

DOL/OIG-3, Case Development Records, has been amended to reflect its title change (to Investigative Case Files, Case Development and Intelligence Records), to clarify the routine uses and to reflect the number of years information is retained.

DOL/OIG-5, Audit Information, Tracking and Reporting System US DOL/OIG, has been amended to clarify the routine uses and to change the number of years files are retained.

Bureau of International Labor Affairs (ILAB)

DOL/ILAB-2, entitled Senior Technical Assistance Register, has been deleted since this program has ended and the records have been destroyed.

Mine Safety and Health Administration (MSHA)

DOL/MSHA-1, Coal and Metal and Nonmetal Mine Accident, Injury, and Illness, has been amended to make editorial changes and corrections to these paragraphs: system name, system location, safeguards, retention and disposal, and system manager and address.

DOL/MSHA-3, Metal and Nonmetal Mine Safety and Health Management Information System, has been amended to make an editorial change in the area of retention and disposal.

DOL/MSHA-10, Discrimination Investigations, has been amended to make editorial changes and corrections to the categories of: Categories of Records in the system, Retrievability, Safeguards, Notification Procedure, Records Source categories, and to delete information in the categories of Record Access procedures and Contesting Record procedures.

DOL/MSHA-13, Coal Mine Respirable Dust Program, has been amended to make editorial changes, clarify categories of records in the system, and to update the retention and disposal procedures.

DOL/MSHA-15, Health and Safety Training and Examination Records, is revised to add clarity to the descriptions of types, uses, and safeguard of records, and to modify the retention and disposal section of the record system.

DOL/MSHA-18, Coal Mine Safety and Health Management Information System, has been amended to remove references to training personnel and add information related to samples taken by inspectors.

DOL/MSHA-19, Employee Conduct Investigations System, is amended to make editorial changes and corrections in the categories of: Categories of Records in the System; Storage; Safeguards; and Records Access Procedures.

DOL/MSHA-20, Civil/Criminal Investigations, has been amended to make editorial changes and corrections to the categories of: Individuals Covered by the System, Records in the System, Authority for Maintenance of the System, Retrievability, Notification Procedure, and to delete information in categories of Record Access Procedures and Contesting Record Procedures.

DOL/MSHA-21, Assessments and Civil Penalty Debt Collection Activity and Reporting System, is a new system to maintain records on operating companies and individuals indebted to the U.S. Department of Labor, Mine Safety and Health Administration, for civil penalties assessed as a result of violations of the Mine Safety and Health Act of 1977 (Mine Act).

DOL/MSHA-22, Education Policy and Development; National Mine Health and Safety Academy Permanent Record Card, is a new system to maintain records on Mine Safety and Health inspectors who receive training. Records are used to track training and grades.

DOL/MSHA-23, Educational Policy and Development; Education Field Services (EFS) Activity Reporting System, is a new system of records. The Mine Safety and Health Administration has transferred all training specialists from Coal Mine Safety and Health and Metal/Nonmetal Safety and Health to Educational Policy and Development. This new system of records has been established to track information on the training specialists with regard to the mine being visited; number of personnel contacted; activities conducted; time spent on activities; and information on time utilization for Training Specialists.

DOL/MSHA-24, Radon Daughter Exposure, is a new system of records for the purpose of preventing over exposure of miners to radon daughters, a form of radiation which has been documented as causing cancer in humans and is well known as a severe hazard for metal and nonmetal miners.

Occupational Safety and Health Administration (OSHA)

DOL/OSHA-1, Discrimination Complaint File, is amended by revising the categories of System Location, Individuals Covered, Authority, System Manager, Purpose and Routine Uses.

DOL/OSHA-4, Advisory Committee Candidates' Biographies, is being deleted. As noted above, information and data for all of the Department's advisory committees have been transferred to the Office of Small Business Programs(OSBP) which has established a new system of records for this purpose, entitled DOL/OSBP-2, Department of Labor Advisory Committees Members Files.

DOL/OSHA-10, OSHA Train-the-Trainer Outreach Program, is amended by revising several of the categories, including the name of this system to the above name.

Pension and Welfare Benefits Administration (PWBA)

DOL/PWBA-1, Employee Retirement Income Security Act Advisory Council on Employee Welfare and Pension Benefit Plan, has been deleted and is included in the Department-wide system, entitled DOL/OSBP-2.

DOL/PWBA-2, Office of Enforcement Index Cards and Investigation Files, has been renamed as PWBA EnforcementManagement System due to the elimination of the use of index cards. The system has been computerized. No other substantive changes have been made.

DOL/PWBA-3, ERISA Coverage Correspondence Files, has been renamed as PWBA Correspondence Files to reflect that the system has been expanded to several PWBA national and field office components. The categories for System Location(s) and System Manager(s) reflect these changes. The Categories of Individuals Covered has been simplified. Categories of Records, Purpose and Retention and Disposal have been expanded to better reflect the variety of documents in the system.

DOL/PWBA-4, Inquiry Correspondence Files, has been renamed as Technical Assistance and Inquiry System. The system is now in use in all PWBA offices and services are now provided via telephone as well as through correspondence. The entire notice has been adjusted to reflect the expansion of the technical assistance program and to correct the retention and disposal information.

DOL/PWBA-5, Public Disclosure Request Tracking System, has been amended to reflect the change in location of the system and clarify the Categories of Individuals Covered and correct the Retention and Disposal Category.

DOL/PWBA-6, entitled PWBA Debt Collection/Management System, has been amended to clarify the Categories of Individuals Covered and the Categories of Records in the System.

DOL/PWBA-7, entitled Employee Conduct Investigations, has been amended to correct the system location.

DOL/PWBA-8, entitled PWBA Consolidated Training Record is a new system of records which is used to identify which employees have completed certain training courses, and the number of employees awaiting training.

DOL/PWBA-9, entitled Office of Enforcement Correspondence Tracking System is a new system of records used to track the progress of correspondence through the Office of Enforcement.

DOL/PWBA-10, entitled PWBA Civil Litigation Case Information System, is a new system of records used to access information related to civil litigation case files involving investigation initiated by DOL under Title I of ERISA.

DOL/PWBA-11, entitled PWBA Criminal Case Information System, is a new system of records used to maintain information about the progress and/or disposition of criminal cases involving private sector employee benefit plans.

DOL/PWBA-12, entitled Publication Hotline Requests, is a new system of records used to process requests made to the PWBA toll-free hotline for publications.

DOL/PWBA-13, entitled Office of Exemption DeterminationsERISA Section 502(l) Files, is a new system of records used to document the Department's response to petitioners' requests for relief from the Section 502(l) penalties assessed upon those who are found to have violated the fiduciary and prohibited transaction provisions of Part 4 Title I of ERISA.

DOL/PWBA-14, entitled Investment Advisor Registration Data Base, is a new system of records used to develop a listing of individuals who have status as an investment advisor under ERISA.

DOL/PWBA-15, entitled, PWBA Inventory Management Data Base, is a new system of records used to identify the makes and models of all PWBA owned ADP hardware, the equipment's current location within the agency and the individual to whom it is assigned.

DOL/PWBA-16, entitled, Form 5500EZ, is a new system of records which maintains records on individuals who have filed pension plan reporting Form 5500EZ.

Office of Small Business Programs (OSBP)

DOL/OSBP-2, Department of Labor Advisory Committee Members Files, is a new system of records which centralizes all of the advisory committees' members files which were previously maintained by the various component agencies of the Department.

Office of the Solicitor (OSOL)

DOL/SOL-1, Conflict of Interest File, has been deleted because its remaining records and function have been transferred into an enlarged DOL/SOL-15, Solicitor's Office Litigation Files. Older records from this system have been destroyed pursuant to the records retention schedule.

DOL/SOL-2, Employment and Training Legal Services Litigation and Investigation File, has been deleted, because its records and function have been transferred into an enlarged DOL/SOL-15, Solicitor's Office Litigation Files.

DOL/SOL-5, Job Training Partnership Act, has been renamed as the Workforce Investment Act Tort Claims Files, and has been amended to reflect that its underlying statute has been superceded, and that its system's location has been narrowed to the Offices of the Regional Solicitors.

DOL/SOL-8, Special Litigation Files, has been deleted because its remaining records and function have been transferred into an enlarged DOL/SOL-15, Solicitor's Office Litigation Files. Older records from this system have been destroyed pursuant to the records retention schedule.

DOL/SOL-10, Privacy Act Litigation Files, has been deleted, because its records and function have been transferred into an enlarged DOL/SOL-15, Solicitor's Office Litigation Files.

DOL/SOL-11, Division of Civil Rights Defensive Litigation Files, has been deleted, because its records and function have been transferred into an enlarged DOL/SOL-15, Solicitor's Office Litigation Files.

DOL/SOL-12, Third-Party Recovery Files, has been deleted, because its records and function have been transferred into an enlarged DOL/SOL-15, Solicitor's Office Litigation Files.

DOL/SOL-14, DOL Subpoena Tracking System, has been deleted, because its records and function have been transferred into an enlarged DOL/SOL-15, Solicitor's Office Litigation Files.

DOL/SOL-15, Solicitor's Office Litigation Files, has been greatly enlarged in order to accept information from the six litigation systems, which have been deleted, as noted above.

DOL/SOL-16, Solicitor's Office Directory of Senior Management, has been deleted because these records are no longer maintained. Older records from this system have been destroyed pursuant to the record retention schedule.

DOL/SOL-17, Solicitor's Office Equipment Files, has been renamed and enlarged in order to contain all of the component's equipment.

Veterans Employment and Training Administration (VETS)

DOL/VETS-1, Veterans' Reemployment Complaint File, has been renamed as the Uniformed Services Employment and Re-employment Right Act (USERRA) Complaint File.

DOL/VETS-2, Veterans' Preference Complaint File, has been renamed as Veterans' Preference Complaint File under the Veterans Equal Opportunities Act of 1998 (VEOA). It has been amended to reflect its new function of investigating possible violations of those federal laws pertaining to veterans' preference and other special considerations related to employment with Federal agencies.

Routine Uses of the Records

The Department, in the General Prefatory Statement, sets forth twelve paragraphs containing routine uses of the records which apply to all systems. The first eleven routine uses are a more refined version of those universal routine uses which were published on September 23, 1993, at pages 49554-49555 of Volume 58 of the Federal Register. The twelfth routine use is a new use.

Government-Wide Records

Two systems of records are reported by the Department of Labor for all federal agencies since this Department has overall responsibility for the administration of the programs in connection with which these systems of records have been compiled. It is presumed that most, if not all, federal agencies maintain systems of records comprising a portion of the government-wide systems of records. In order to avoid duplication in reporting, the Department is reporting these systems on behalf of all agencies. The Department has control over these systems to the same extent as the Office of Personnel Management has control over systems of records containing federal employee personnel records. These systems are the Federal Employees' Compensation Act files and the Job Corps Student Records.

Signed at Washington, DC, this 19th day of March, 2002.
Elaine L. Chao,
Secretary of Labor.

Table of Contents

General Prefatory Statement

Government-Wide Systems by the U.S. Department of Labor

DOL/GOVT-1—Office of Workers' Compensation Programs, Federal Employees' Compensation File.

DOL/GOVT-2—Job Corps Student Records.

Office of the Secretary (OSEC)

DOL/OSEC-1—Supervisor's/Team Leader's Records of Employees.

Office of the Assistant Secretary for Administration and Management (OASAM)

DOL/OASAM-4—Occupational Accident/Injury/Illness Reporting System (AIIRS) File.

DOL/OASAM-5—Rehabilitation and Counseling File.

DOL/OASAM-7—Employee Medical Records.

DOL/OASAM-12—Administrative Grievance Records.

DOL/OASAM-17—Equal Employment Opportunity Complaint Files.

DOL/OASAM-19—Negotiated Grievance Procedure and Unfair Labor Practice Files.

DOL/OASAM-20—Personnel Investigation Records.

DOL/OASAM-22—Civil Rights Center Citizen Discrimination Complaint Files.

DOL/OASAM-23—Travel Management Center.

DOL/OASAM-24—Privacy Act/Freedom of Information Act Requests File System.

DOL/OASAM-25—Intergovernmental Personnel Act Assignment Records.

DOL/OASAM-26—Frances Perkins Building Parking Management System.

DOL/OASAM-27—Employee/Contractor Identification Program.

DOL/OASAM-28—Incident Report/Restriction Notice.

DOL/OASAM-29—OASAM Employee Administrative Investigation File.

DOL/OASAM-31—DOL Flexible Workplace (Flexiplace) Programs Evaluation and Files.

DOL/OASAM-32—Transit Subsidy Management System.

DOL/OASAM-33—Entity Database.

DOL/OASAM-34—DOL Fitness Association (DOLFA) Membership Files.

DOL/OASAM-35—DOL Child Care Subsidy Programs Records.

DOL/OASAM-36—PeoplePower.

Office of Administrative Law Judges (OALJs)

DOL/OALJ-1—Office of Administrative Law Judges Case Tracking System.

DOL/OALJ-2—Office of Administrative Law Judges Case Files.

DOL/OALJ-3—Contract List.

DOL/OALJ-4—Notification List.

Office of the Administrative Review Board

DOL/ARB-1—Administrative Review Board Appeals Files.

Office of the Assistant Secretary for Policy (ASP)

DOL/ASP-1—National Agricultural Workers Survey (NAWS) Research File, Case Tracking Files, Name Index.

Benefits Review Board (BRB)

DOL/BRB-1—Appeals Files-Benefits Review Board (BRB).

Bureau of Labor Statistics (BLS)

DOL/BLS-6—Applicant Race and National Origin (ARNO) System, Form E 618.

DOL/BLS-7—BLS Employee Conduct Investigation.

DOL/BLS-8—BLS Employee ADP Training History.

DOL/BLS-9—Routine Administrative Files.

DOL/BLS-10—Commissioner's Correspondence Control System.

DOL/BLS-11—Mainframe User ID Database.

DOL/BLS-12—Employee Acknowledgement Letter Control System.

DOL/BLS-13—National Longitudinal Survey of Youth 1979 (NLSY79) Database.

DOL/BLS-14—Collection Procedures Research Lab Project Files.

DOL/BLS-17—National Longitudinal Survey of Youth 1996 (NLYS96).

DOL/BLS-18—Postal Square Building Parking Management Records.

DOL/BLS-19—Customer Information Files.

DOL/BLS-20—Fellowship Applicants and Recipients Files.

Office of the Chief Financial Officer (CFO)

DOL/CFO-1—Attendance, Leave and Payroll File.

DOL/CFO-2—Department of Labor Accounting and Related Systems.

DOL/CFO-3—Travel and Transportation System.

Office of Disability Employment Policy, formerly known as the President's Committee on Employment of People with Disabilities (PCEPD)

DOL/ODEP-1—Job Accommodation Network (JAN) Files.

DOL/ODEP-2—Workforce Recruitment Program (WRP) Database.

Employees' Compensation Appeals Board (ECAB)

DOL/ECAB-1—Employees' Compensation Appeals Board Docket Records.

DOL/ECAB-2—Employees' Compensation Appeals Board Disposition Records.

Employment Standards Administration (ESA)

DOL/ESA-2—Office of Federal Contract Compliance Programs, Complaint Case Files.

DOL/ESA-5—Office of Workers' Compensation Programs, Black Lung Antidiscrimination Files.

DOL/ESA-6—Office of Workers' Compensation Programs, Black Lung Benefits Claim File.

DOL/ESA-15—Office of Workers' Compensation Programs, Longshore and Harbor Workers' Compensation Act Case Files.

DOL/ESA-24—Office of Workers' Compensation Programs, Longshore and Harbor Workers' Compensation Act Special Fund System.

DOL/ESA-25—Office of Federal Contract Compliance Programs, Management Information System (OFCC/MIS).

DOL/ESA-26—Office of Workers' Compensation Programs, Longshore and Harbor Workers' Compensation Act Investigation Files.

DOL/ESA-27—Office of Workers' Compensation Programs, Longshore and Harbor Workers' Compensation Act Claimant Representatives.

DOL/ESA-28—Office of Workers' Compensation Programs, Physicians and Health Care Providers Excluded Under the Longshore Act.

DOL/ESA-29—Office of Workers' Compensation Programs, Physicians and Health Care Providers Excluded Under the Federal Employees' Compensation Act.

DOL/ESA-30—Office of Workers' Compensation Programs, Black Lung Automated Support Package.

DOL/ESA-32—Employee Conduct Investigations.

DOL/ESA-33—Time Report Component of the Wage and Hour Investigative Support and Reporting Database (WHISARD).

DOL/ESA-34—Farm Labor Contractor Registration File.

DOL/ESA-35—Farm Labor Contractor Employee Registration File.

DOL/ESA-36—MSPA Civil Money Penalties in the Wage and Hour Investigative Support and Reporting Database (WHISARD).

DOL/ESA-37—MSPA Public Central Registry Records File.

DOL/ESA-38—Wage and Hour Regional Office Clearance List-MSPA Registration.

DOL/ESA-39—State Employment Service Clearance List-MSPA Registration.

DOL/ESA-40—MSPA Tracer List.

DOL/ESA-41—MSPA Certificate Action Record Files.

DOL/ESA-42—Case Registration/Investigator form; in the Wage and Hour Investigative Support and Report Database (WHISARD).

DOL/ESA-43—Office of Workers' Compensation Programs, Federal Employees Compensation Act and Longshore and Harbor Workers' Compensation Act Rehabilitation Files.

DOL/ESA-44—Office of Workers' Compensation Programs, Federal Employees Compensation Act (FEC) and Longshore and Harbor Workers' Compensation Act Rehabilitation Counselor Case Assignment, Contract Management and Performance Files and FEC Field Nurses Files.

DOL/ESA-45—Investigative Files of the Office of Labor-Management Standards (Formerly DOL/OAW-1)

DOL/ESA-46—Migrant and Seasonal Agricultural Worker Protection Act (MSPA) Ineligible Farm Labor Contractors.

DOL/ESA-47—Youth Peddler Bulletin Board.

DOL/ESA-48—“Customer Service” component of the Wage Hour Investigative Support and Reporting Database (WHISARD).

DOL/ESA-49—Office of Workers' Compensation Programs, Energy Employees' Occupational Illness Compensation Program Act File.

DOL/ESA-50—Office of Workers' Compensation Programs, Physicians and Health Care Providers Excluded under the Energy Employees' Occupational Illness Compensation Program Act.

DOL/ESA-51—OLMS Public Disclosure Request Tracking System.

Employment and Training Administration (ETA)

DOL/ETA-1—Bureau of Apprenticeship and Training, Budget and Position Control File.

DOL/ETA-4—Apprenticeship Information Management System (AIMS).

DOL/ETA-7—Employer Application File for Permanent and Temporary Alien Workers.

DOL/ETA-8—Job Corps Student Pay, Allotment and Management Information System (SPAMIS).

DOL/ETA-15—DOL/ETA Evaluation, Research Pilot or Demonstration Contractors' Project Files.

DOL/ETA-16—Employment and Training Administration Investigatory File.

DOL/ETA-20—Federal Bonding Program, Bondees Certification Files.

DOL/ETA-22—ETA Employee Conduct Investigations.

DOL/ETA-24—Contracting and Grant Officer Files.

DOL/ETA-25—DOL/ETA Evaluation Research Projects of the Unemployment Compensation System.

DOL/ETA-26—Standardized Program Information Report (SPIR).

DOL/ETA-27—Youth Opportunity Grant Program Information Files.

Office of Inspector General (OIG)

DOL/OIG-1—Investigative Files, Case Tracking System, Analysis, Complaints and Evaluation Files, USDOL/OIG.

DOL/OIG-2—Freedom of Information/Privacy Acts Records.

DOL/OIG-3—Investigative Case Files, Case Development and Intelligence Records.

DOL/OIG-5—Audit Information, Tracking and Reporting Systems.

Bureau of International Labor Affairs (ILAB)

DOL/ILAB-1—Arbitrators/Experts/Consultant Candidates' Biographies.

Mine Safety and Health Administration (MSHA)

DOL/MSHA-1—Coal and Metal and Nonmetal Mine Accident, Injury, and Illness.

DOL/MSHA-3—Metal and Nonmetal Mine Safety and Health Management Information System.

DOL/MSHA-10—Discrimination Investigations.

DOL/MSHA-13—Coal Mine Respirable Dust Program.

DOL/MSHA-15—Health and Safety Training and Examination Records.

DOL/MSHA-18—Coal Mine Safety and Health Management Information System.

DOL/MSHA-19—Employee Conduct Investigations System.

DOL/MSHA-20—Civil/Criminal Investigations.

DOL/MSHA-21—Assessments and Civil Penalty Debt Collection Activity and Reporting System.

DOL/MSHA-22—Education Policy and Development; National Mine

Health and Safety Academy Permanent Record Cards.

DOL/MSHA-23—Educational Policy and Development; Educational Field Services (EFS) Activity Reporting System.

DOL/MSHA-24—Radon Daughter Exposure.

Occupational Safety and Health Administration (OSHA)

DOL/OSHA-1—Discrimination Complaint File.

DOL/OSHA-6—Program Activity File.

DOL/OSHA-9—OSHA Compliance Safety and Health Officer Training Record.

DOL/OSHA-10—OSHA Train-the-Trainer Outreach Program.

DOL/OSHA-12—OSHA Employee Conduct Investigations.

DOL/OSHA-13—OSHA Office of Training and Education Automated Registration System.

DOL/OSHA-14—Office of Training and Education Computer-based Acquisition/Financial Records System.

DOL/OSHA-15—Office of Training and Education Resource Center Circulation Project.

Pension and Welfare Benefits Administration (PWBA)

DOL/PWBA-2—PWBA Investigation Management Files.

DOL/PWBA-3—PWBA Correspondence Files.

DOL/PWBA-4—Technical Assistance and Inquiry Files.

DOL/PWBA-5—Public Disclosure Request Tracking System.

DOL/PWBA-6—PWBA Debt Collection/Management System.

DOL/PWBA-7—Employee Conduct Investigations.

DOL/PWBA-8—PWBA Consolidated Training Record.

DOL/PWBA-9—Office of Enforcement Correspondence Tracking System.

DOL/PWBA-10—PWBA Civil Litigation Case Information System.

DOL/PWBA-11—PWBA Criminal Case Information System.

DOL/PWBA-12—Publication Hotline Requests.

DOL/PWBA-13—Office of Exemption Determinations ERISA Section 502(l) Files.

DOL/PWBA-14—Investment Advisor Registration Data Base.

DOL/PWBA-15—PWBA Inventory Management Data Base.

DOL/PWBA-16—Form 5500EZ Filings.

Office of Small Business Programs (OSBP)

DOL/OSBP-1—Office of Small Business Programs, Small Entity Inquiry and Complaint Tracking System.

DOL/OSBP-2—Department of Labor Advisory Committee Members Files.

Office of the Solicitor (OSOL)

DOL/SOL-3—Tort Claims Files.

DOL/SOL-5—Workforce Investment Act Tort Claims Files.

DOL/SOL-6—Military Personnel and Civilian Employees' Claims.

DOL/SOL-7—Solicitor's Legal Activity Recordkeeping System.

DOL/SOL-9—Freedom of Information Act and Privacy Act Appeals Files.

DOL/SOL-13—Employee Conduct Investigations.

DOL/SOL-15—Solicitor's Office Litigation Files.

DOL/SOL-17—Solicitor's Office Equipment Files.

Veterans Employment and Training (VETS)

DOL/VETS-1—Uniformed Services Employment and Re-employment Rights Act (USERRA) Complaint File.

DOL/VETS-2—Veterans' Preference Complaint File under the Veterans Equal Opportunities Act of 1998 (VEOA).

DOL/VETS-3—Veterans' Transition Assistance Program (TAP) Registration System.

Appendix—Responsible Officials

General Prefatory Statement

A. Universal Routine Uses of the Records

The following routine uses of the records apply to and are incorporated by reference into each system of records published below unless the text of a particular notice of a system of records indicates otherwise. These routine uses do not apply to DOL/OASAM-5, Rehabilitation and Counseling File, nor to DOL/OASAM-7, Employee Medical Records.

1. To disclose the records to the Department of Justice when: (a) The agency or any component thereof; or (b) any employee of the agency in his or her official capacity; or (c) the United States Government, is a party to litigation or has an interest in such litigation, and by careful review, the agency determines that the records are both relevant and necessary to the litigation, and the use of such records by the Department of Justice is for a purpose that is compatible with the purpose for which the agency collected the records.

2. To disclose the records in a proceeding before a court or adjudicative body, when: (a) The agency or any component thereof; or (b) any employee of the agency in his or her official capacity; or (c) any employee of the agency in his or her individual capacity; or (d) the United States Government, is a party to litigation or has an interest in such litigation, and by careful review, the agency determines that the records are both relevant and necessary to the litigation, and that the use of such records is a purpose that is compatible with the purpose for which the agency collected the records.

3. When a record on its face, or in conjunction with other information, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the agency determines by careful review that the records or information are both relevant and necessary to any enforcement, regulatory, investigative or prosecutive responsibility of the receiving entity, and that the use of such records or information is for a purpose that is compatible with the purposes for which the agency collected the records.

4. To a Member of Congress or to a Congressional staff member in response to an inquiry of the Congressional office made at the written request of the constituent about whom the record is maintained.

5. To the National Archives and Records Administration or to the General Services Administration for records management inspections conducted under 44 U.S.C. 2904 and 2906.

6. To disclose to contractors, employees of contractors, consultants, grantees, and volunteers who have been engaged to assist the agency in the performance of or working on a contract, service, grant, cooperative agreement or other activity or service for the Federal Government.

Note 1. Recipients shall be required to comply with the requirements of the Privacy Act of 1974, as amended, 5 U.S.C. 552a; see also 5 U.S.C. 552a(m).

7. To the parent locator service of the Department of Health and Human Services or to other authorized persons defined by Pub. L. 93-647 the name and current address of an individual for the purpose of locating a parent who is not paying required child support.

8. To any source from which information is requested in the course of a law enforcement or grievance investigation, or in the course of an investigation concerning retention of an employee or other personnel action, the retention of a security clearance, the letting of a contract, the retention of a grant, or the retention of any other benefit, to the extent necessary to identify the individual, inform the source of the purpose(s) of the request, and identify the type of information requested.

9. To a Federal, State, local, foreign, or tribal or other public authority of the fact that this system of records contains information relevant to the hiring or retention of an employee, the granting or retention of a security clearance, the letting of a contract, a suspension or debarment determination or the issuance or retention of a license, grant, or other benefit.

10. To the Office of Management and Budget during the coordination and clearance process in connection with legislative matters.

11. To the Department of the Treasury, and a debt collection agency with which the United States has contracted for collection services to recover debts owed to the United States.

12. To the news media and the public when (1) the matter under investigation has become public knowledge, (2) the Solicitor of Labor determines that disclosure is necessary to preserve confidence in the integrity of the Department or is necessary to demonstrate the accountability of Department's officers, employees, or individuals covered by this system, or (3) the Solicitor of Labor determines that there exists a legitimate public interest in the disclosure of the information, except to the extent that the Solicitor of Labor determines in any of these situations that disclosure of specific information in the context of a particular case would constitute an unwarranted invasion of personal privacy.

B. System Location—Flexiplace Programs

The following paragraph applies to and is incorporated by reference into all of the Department's systems of records under the Privacy Act, within the category entitled, SYSTEM LOCATION:

“Pursuant to the Department of Labor's Flexiplace Programs, copies of records may be temporarily located at alternative worksites, including employees' homes or at geographically convenient satellite offices for part of the workweek. All appropriate safeguards will be taken at these sites.”

Government-Wide Records

Two systems of records are reported by the Department of Labor for all federal agencies since this Department has overall responsibility for the administration of the programs in connection with which these systems of records have been compiled. It is presumed that most, if not all, federal agencies maintain systems of records comprising a portion of the government wide systems of records. In order to avoid duplication in reporting, the Department is reporting these systems on behalf of all agencies. The Department has control over these systems to the same extent as the Office of Personnel Management has control over systems of records containing federal employee personnel records.

1. Federal Employees' Compensation Act Files: All records relating to injury or death of civilian employees or other persons entitled to benefits under the Federal Employees' Compensation Act are the records of the Office of Workers' Compensation Programs of the Department of Labor. The Office asserts control of these records under the provisions of 5 U.S.C. 8149 and Department regulations at 20 CFR 10.10. This notice applies to copies of claim forms and other documents relating to a compensation claim maintained by the employing agency. This notice, however, does not apply to other medical or related files not created pursuant to the Federal Employees' Compensation Act which may be in the possession of an agency. This system is entitled DOL/GOVT-1, Office of Workers' Compensation Programs, Federal Employees' Compensation File.

Initial determinations on requests for access, amendment or correction of records maintained in this system of records shall be made by the OWCP district office having jurisdiction over the particular claim. In addition, requests for access to copies of records maintained by the employing agency may be directed to that agency. Administrative appeals from initial determinations denying access, amendment or correction, shall be addressed to the Solicitor of Labor, U.S. Department of Labor, 200 Constitution Avenue, NW, Washington, DC 20210, as required by 20 CFR 10.12.

2. Job Corps Student Records: All records which contain information about students during their stay in Job Corps, from entrance to placement and/or termination, are records which must be maintained by the Job Corps center. The Employment and Training Administration asserts control of these records under 29 U.S.C. 2881 et seq. This system is entitled DOL/GOVT-2, Job Corps Student Records.

Initial determinations concerning access, amendment or correction of this government-wide system of records shall be made by screening contractors, Job Corps Center Directors, Job Corps National or Regional Offices. Administrative appeals shall be referred to the Solicitor of Labor, U.S. Department of Labor, 200 Constitution Avenue, NW, Washington, DC 20210.

Special California Earthquake Co-operative Agreement

The San Francisco, California Regional Office of the Department of Labor's Office of Assistant Secretary for Administration and Management (OASAM), Region IX of OASAM, has entered into a reciprocal agreement with the U.S. Internal Revenue Service's Office of the Regional Counsel located in San Francisco. The purpose of this reciprocal agreement is to provide each with an alternative off-site location to store computer data. This back-up storage capacity will mitigate damage if an earthquake ever occurs in the San Francisco area. This agreement is based upon the fact that the respective offices of the participants are located at opposite ends of the downtown San Francisco district and the ground structure of the two areas is substantially different.

Addresses to Which Requests May Be Directed

The addresses of the various component units of the Department as well as its regional offices are contained in the Appendix annexed to this document.

In addition, the following government agencies also have Government-wide Systems of Records:

Government-Wide Systems

EEOC/GOVT-/-1—Equal Employment Opportunity Complaint Records and Appeal Records

FEMA/GOVT-1—National Defense Executive Reserve System

GSA/GOVT-2—Employment Under Commercial Activities Contracts

GSA/GOVT-3—Travel Charge Card Program

GSA/GOVT-4—Contracted Travel Services Programs

MSPB/GOVT-1—Appeal and Case Records

OGE/GOVT-1—Executive Branch Public Financial Disclosure Reports and Other Ethics Program Records

OGE/GOVT-2—Confidential Statements of Employment and Financial Interests

OPM/GOVT-1—General Personnel Records

OPM/GOVT-2—Employee Performance File System Records

OPM/GOVT-3—Adverse Actions and Actions Based on Unacceptable Performance

OPM/GOVT-4—[Reserved]

OPM/GOVT-5—Recruiting, Examining and Placement Records

OPM/GOVT-6—Personnel Research and Test Validation Records

OPM/GOVT-7—Applicant—Race, Sex, National Origin and Disability Status Records

OPM/GOVT-8—[Reserved]

OPM/GOVT-9—Position Classification Appeals, Job Grading Appeals, and Retained Grade or Pay

OPM/GOVT-10—Employee Medical File System Records

DOL/GOVT-1

System Name:

Office of Workers' Compensation Programs, Federal Employees' Compensation Act File.

Security Classification:

Most files and data are unclassified. Files and data in certain cases have Top Secret classification, but the rules concerning their maintenance and disclosure are determined by the agency, which has given the information the security classification of Top Secret.

System Location:

The central database for DOL/GOVT-1 is located at SUNGUARD, 600 Laurel Oak Road, Voorhees, New Jersey, 08043. Paper claim files and local databases are located at the various OWCP district offices, and in Kansas City (for imaged cases only); claim files of employees of the Central Intelligence Agency are located at that agency. Records from this system of records may be temporarily located in the office of health care providers and other individuals or entities with whom the Department contracts for such services as examination or evaluation of claimants. Copies of claim forms and other documents arising out of a job-related injury that resulted in the filing of a claim under the Federal Employees' Compensation Act (FECA), may also be maintained by the employing agency (and where the forms were transmitted to the Office of Workers' Compensation Programs (OWCP) electronically, the original forms are maintained by the employing agency). In addition, records relating to third-party claims of FECA beneficiaries are maintained in the Division of Employee Benefits, Office of the Solicitor, United States Department of Labor, 200 Constitution Avenue, NW, Washington, DC 20210-0002, in the offices of the Regional and Associate Regional Solicitors, and in various offices of the United States Postal Service, which undertakes various duties relating to third party claims pursuant to an agreement with OWCP.

Pursuant to the Department of Labor's Flexiplace Programs, copies of records may be temporarily located at alternative worksites, including employees' homes or at geographically convenient satellite offices for part of the workweek. All appropriate safeguards will be taken at these sites.

Categories of Individuals Covered by the System:

Individuals and/or their survivors who file claims seeking benefits under the FECA by reason of injuries sustained while in the performance of duty. The FECA applies to all civilian federal employees, including various classes of persons who provide or have provided personal service to the government of the United States, and to other persons as defined by law such as state or local law enforcement officers, and their survivors, who were injured or killed while assisting in the enforcement of federal law. In addition, the FECA covers employees of the Civil Air Patrol, Peace Corps Volunteers, Job Corps students, Volunteers in Service to America, members of the National Teacher Corps, certain student employees, members of the Reserve Officers Training Corps, certain former prisoners of war, and employees of particular commissions and other agencies.

Categories of Records in the System:

This system may contain the following kinds of records: reports of injury by the employee and/or employing agency; claim forms filed by or on behalf of injured federal employees or their survivors seeking benefits under the FECA; forms authorizing medical care and treatment; other medical records and reports; bills and other payment records; compensation payment records; formal orders for or against the payment of benefits; transcripts of hearings conducted; and any other medical, employment, or personal information submitted or gathered in connection with the claim. The system may also contain information relating to dates of birth, marriage, divorce, and death; notes of telephone conversations conducted in connection with the claim; information relating to vocational and/or medical rehabilitation plans and progress reports; records relating to court proceedings, insurance, banking and employment; articles from newspapers and other publications; information relating to other benefits (financial and otherwise) the claimant may be entitled to; and information received from various investigative agencies concerning possible violations of Federal civil or criminal law.

The system may also contain consumer credit reports on individuals indebted to the United States, information relating to the debtor's assets, liabilities, income and expenses, personal financial statements, correspondence to and from the debtor, information relating to the location of the debtor, and other records and reports relating to the implementation of the Federal Claims Collection Act (as amended), including investigative reports or administrative review matters. Individual records listed here are included in a claim file only insofar as they may be pertinent or applicable to the employee or beneficiary.

AUTHORITY FOR MAINTENANCE OF THE SYSTEM:

5 U.S.C. 8101 et seq., 20 CFR 1.1 et seq.

PURPOSE(S):

The FECA establishes the system for processing and adjudicating claims that federal employees and other covered individuals file with the Department of Labor's OWCP, seeking monetary, medical and similar benefits for injuries or deaths sustained while in the performance of duty. The records maintained in this system are created as a result of and are necessary to this process. The records provide information and verification about the individual's employment-related injury and the resulting disabilities and/or impairments, if any, on which decisions awarding or denying benefits provided under the FECA must be based.

ROUTINE USES OF RECORDS MAINTAINED IN THE SYSTEM, INCLUDING CATEGORIES OF USERS AND THE PURPOSES OF SUCH USES:

In addition to those Department-wide routine uses set forth above in the General Prefatory Statement to this document, disclosure of information from this system of records may be made to the following individuals and entities for the purposes noted when the purpose of the disclosure is both relevant and necessary and is compatible with the purpose for which the information was collected:

a. To any attorney or other representative of a FECA beneficiary for the purpose of assisting in a claim or litigation against a third party or parties potentially liable to pay damages as a result of the FECA beneficiary's FECA-covered injury and for the purpose of administering the provisions of sections 8131-8132 of the FECA. Any such third party, or a representative acting on that third party's behalf, may be provided information or documents concerning the existence of a record and the amount and nature of compensation paid to or on behalf of the FECA beneficiary for the purpose of assisting in the resolution of the claim or litigation against that party or administering the provisions of sections 8131-8132 of the FECA.

b. To federal agencies that employed the claimant at the time of the occurrence or recurrence of the injury or occupational illness in order to verify billing, to assist in administering the FECA, to answer questions about the status of the claim, to consider rehire, retention or other actions the agency may be required to take with regard to the claim or to permit the agency to evaluate its safety and health program. Disclosure to federal agencies, including the Department of Justice, may be made where OWCP determines that such disclosure is relevant and necessary for the purpose of providing assistance in regard to asserting a defense based upon the FECA's exclusive remedy provision to an administrative claim or to litigation filed under the Federal Tort Claims Act.

c. To other federal agencies, other government or private entities and to private-sector employers as part of rehabilitation and other return-to-work programs and services available through OWCP, where the entity is considering hiring the claimant or where otherwise necessary as part of that return-to-work effort.

d. To federal, state or private rehabilitation agencies and individuals to whom the claimant has been referred for evaluation of rehabilitation and possible reemployment.

e. To physicians, pharmacies, and other health care providers for their use in treating the claimant, in conducting an examination or preparing an evaluation on behalf of OWCP and for other purposes relating to the medical management of the claim, including evaluation of and payment for charges for medical and related services and supplies.

f. To medical insurance or health and welfare plans (or their designees) that cover the claimant in instances where OWCP had paid for treatment of a medical condition that is not compensable under the FECA, or where a medical insurance plan or health and welfare plan has paid for treatment of a medical condition that may be compensable under the FECA, for the purpose of resolving the appropriate source of payment in such circumstances.

g. To labor unions and other voluntary employee associations from whom the claimant has requested assistance for the purpose of providing such assistance to the claimant.

h. To a federal, state or local agency for the purpose of obtaining information relevant to a determination concerning initial or continuing eligibility for FECA benefits, and for a determination concerning whether benefits have been or are being properly paid, including whether dual benefits that are prohibited under any applicable federal or state statute are being paid; and for the purpose of utilizing salary offset and debt collection procedures, including those actions required by the Debt Collection Act of 1982, to collect debts arising as a result of overpayments of FECA compensation and debts otherwise related to the payment of FECA benefits.

i. To the Internal Revenue Service (IRS) for the purpose of obtaining taxpayer mailing addresses for the purposes of locating a taxpayer to collect, compromise, or write-off a federal claim against such taxpayer; and informing the IRS of the discharge of a debt owed by an individual. Records from this system of records may be disclosed to the IRS for the purpose of offsetting a federal claim from any income tax refund that may be due to the debtor.

j. To the Occupational Safety and Health Administration (OSHA) for the purpose of using injury reports filed by Federal agencies pursuant to the FECA to fulfill agency injury reporting requirements. Information in this system of records may be disclosed to OSHA by employing agencies as part of any MIS system established under OSHA regulations to monitor health and safety.

k. To contractors providing services to DOL or any other federal agency or any other individual or entity specified in any of these routine uses or in the Department's General Prefatory Statement who require the data to perform the services that they have contracted to perform, provided that those services are consistent with the routine use for which the information was disclosed to the contracting entity. Should such a disclosure be made to the contractor, the individual or entity making such disclosure shall insure that the contractor complies fully with all Privacy Act provisions, including those prohibiting unlawful disclosure of such information.

l. To the Defense Manpower Data Center—Department of Defense and the United States Postal Service to conduct computer matching programs for the purpose of identifying and locating individuals who are receiving Federal salaries or benefit payments and are delinquent in their repayment of debts owed to the United States under programs administered by the DOL in order to collect the debts under the provisions of the Debt Collection Act of 1982 (Pub. L. 97-365) by voluntary repayment, or by salary or administrative offset procedures.

m. To a credit bureau for the purpose of obtaining consumer credit reports identifying the assets, liabilities, expenses, and income of a debtor in order to ascertain the debtor's ability to repay a debt incurred under the FECA, to collect the debt, or to establish a payment schedule.

n. To consumer reporting agencies as defined by section 603(f) of the Fair Credit Reporting Act (15 U.S.C. 1681a(f)) or in accordance with section 3(d)(4)(A)(ii) of the Federal Claims Collection Act of 1966 as amended (31 U.S.C. 3711(f)) for the purpose of encouraging the repayment of an overdue debt, the amount, status and history of overdue debts, the name and address, taxpayer identification (SSN), and other information necessary to establish the identity of a debtor, the agency and program under which the claim arose, may be disclosed pursuant to 5 U.S.C. 552a(b)(12)

o. To a Member of Congress or to a Congressional staff member in response to an inquiry made by an individual seeking assistance who is the subject of the record being disclosed for the purpose of providing such assistance.

p. To individuals, and their attorneys and other representatives, and government agencies, seeking to enforce a legal obligation on behalf of such individual or agency, to pay alimony and/or child support for the purpose of enforcing such an obligation, pursuant to an order of a state or local court of competent jurisdiction, including Indian tribal courts, within any State, territory or possession of the United States, or the District of Columbia or to an order of a State agency authorized to issue income withholding notices pursuant to State or local law or pursuant to the requirements of section 666(b) of title 42, United States Code, or for the purpose of denying the existence of funds subject to such legal obligation.

Note: Disclosure of information contained in this system of records to the subject of the record, a person who is duly authorized to act on his or her behalf, or to others to whom disclosure is authorized by these routine uses, may be made over the telephone or by electronic means. Disclosure over the telephone or by electronic means will only be done where the requestor provides appropriate identifying information. Telephonic or electronic disclosure of information is essential to permit efficient administration and adjudication of claims under the FECA. Pursuant to 5 U.S.C. 552a(b)(1), information from this system of records may be disclosed to members and staff of the Employees' Compensation Appeals Board, the Office of Administrative Law Judges, the Office of the Solicitor and other components of the Department who have a need for the record in the performance of their duties.

DISCLOSURE TO CONSUMER REPORTING AGENCIES:

The amount, status and history of overdue debts, the name and address, taxpayer identification (SSAN), and other information necessary to establish the identity of a debtor, the agency and program under which the claim arose, may be disclosed pursuant to 5 U.S.C. 552a(b)(12) to consumer reporting agencies as defined by section 603(f) of the Fair Credit Reporting Act (15 U.S.C. 1681a(f)) or in accordance with section 3(d)(4)(A)(ii) of the Federal Claims Collection Act of 1966 as amended (31 U.S.C. 3711(f)) for the purpose of encouraging the repayment of an overdue debt.

POLICIES AND PRACTICES FOR STORING, RETRIEVING, ACCESSING, RETAINING AND DISPOSING OF RECORDS IN THE SYSTEM:

STORAGE:

Paper case files are maintained in manual files, while security case files are in locked cabinets. Automated data, including case files that have been transformed into electronic form, are stored in computer discs or magnetic tapes, which are stored in cabinets. Microfiche is stored in cabinets.

RETRIEVABILITY:

Files and automated data are retrieved after identification by coded file number and/or Social Security Number which is cross-referenced to employee by name, employing establishment, and date and nature of injury. Since the electronic case management files were created in 1975, these electronic files are located in District Offices which have jurisdiction over the claim, and (as noted above under “system location”), a complete central data base is maintained at the location of the contractor. Prior to 1975, a paper index file was maintained; these records were transferred to microfiche and are located in the national office.

SAFEGUARDS:

Files and automated data are maintained under supervision of OWCP personnel during normal working hours—only authorized personnel, with the appropriate password, may handle, retrieve, or disclose any information contained therein. Only personnel having an appropriate security clearance may handle or process security files. After normal working hours, security files are kept in locked cabinets. Access to electronic records is controlled by password or other user identification code.

RETENTION AND DISPOSAL:

All case files and automated data pertaining to a claim are destroyed 15 years after the case file has become inactive. Case files that have been scanned to create electronic copies are destroyed after the copies are verified. Automated data is retained in its most current form only, however, and as information is updated, outdated information is deleted. Some related financial records are retained only in electronic form, and destroyed 6 years and 3 months after creation or receipt.

SYSTEM MANAGER(S) AND ADDRESS:

Director for Federal Employees' Compensation, Office of Workers' Compensation Programs, 200 Constitution Avenue, NW, Room S-3229, Washington, DC 20210-0002.

NOTIFICATION PROCEDURE:

An individual wishing to inquire whether this system of records contains information about him/her may write or telephone the OWCP district office that services the state in which the individual resided or worked at the time he or she believes a claim was filed. In order for the record to be located, the individual must provide his or her full name, OWCP claim number (if known), date of injury (if known), and date of birth.

RECORD ACCESS PROCEDURES:

Any individual seeking access to non-exempt information about a case in which he/she is a party in interest may write or telephone the OWCP district office where the case is located, or the systems manager, and arrangements will be made to provide review of the file. Access to copies of documents maintained by the employing agency may be secured by contacting that agency's designated disclosure officials.

CONTESTING RECORD PROCEDURES:

Specific materials in this system have been exempted from certain Privacy Act provisions regarding the amendment of records. The section of this notice entitled “Systems Exempted From Certain Provisions of the Act,” indicates the kind of materials exempted, and the reasons for exempting them. Any individual requesting amendment of non-exempt records should contact the appropriate OWCP district office, or the system manager. Individuals requesting amendment of records must comply with the Department's Privacy Act regulations at 29 CFR 71.1 and 71.9, and with the regulations found at 20 CFR 10.12 (1999).

RECORD SOURCE CATEGORIES:

Injured employees; beneficiaries; employing Federal agencies; other Federal agencies; physicians; hospitals; clinics; suppliers of health care products and services and their agents and representatives; educational institutions; attorneys; Members of Congress; OWCP field investigations; State governments; consumer credit reports; agency investigative reports; correspondence with the debtor including personal financial statements; records relating to hearings on the debt; and other DOL systems of records.

SYSTEMS EXEMPTED FROM CERTAIN PROVISIONS OF THE ACT:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government under an express promise that the identity of the source would be held in confidence, or prior to January 1, 1975, under an implied promise that the identity of the source would be held in confidence.

DOL/GOVT-2

SYSTEM NAME:

Job Corps Student Records.

SECURITY CLASSIFICATION:

None.

SYSTEM LOCATION:

Screening contractors; Job Corps centers and operators (which includes contract and agency centers); Job Corps National Office; Job Corps Regional Offices; Federal Records Centers.

CATEGORIES OF INDIVIDUALS COVERED BY THE SYSTEM:

Job Corps applicants, students, and terminees.

CATEGORIES OF RECORDS IN THE SYSTEM:

Records contain information kept on the students, such as separate running accounts of the students' general biographical data; educational training, vocational training; counseling; recreational activities; dormitory logs; health (dental, medical, mental health, and drug testing records); administrative records covering data pertaining to enrollment allowances and allotments; leave records; Student Profile (ETA-640); and Center Standards Officer's disciplinary records.

AUTHORITY FOR MAINTENANCE OF THE SYSTEM:

Subtitle C of Title I of the Workforce Investment Act of 1998, 29 U.S.C. 2881 et seq.

PURPOSE(s):

These records are maintained to ensure that all appropriate documents of the student's stay in Job Corps (covering application to placement and/or termination) are retained and are available to those officials who have a legitimate need for the information in performing their duties and to serve the interests and needs of the students in accordance with 29 U.S.C. 2881 et seq.

ROUTINE USES OF RECORDS MAINTAINED IN THE SYSTEM, INCLUDING CATEGORIES OF USERS AND THE PURPOSES OF THE SUCH USES:

These records and information in these records may be used when relevant, necessary, and appropriate:

(1) To disclose photographs and student identities, with appropriate consent, to the news media, for the purpose of promoting the merits of the program.

(2) To disclose information, giving the summary of a student's academic and vocational achievement and general biographical information, to placement and welfare agencies, prospective employers, school or training institutions to assist in the employment of a student.

(3) To disclose information to State and Federal law enforcement agencies or other government investigators to assist them in locating a student and/or his or her family.

(4) To disclose information to appropriate Federal, State, and local agencies which have law enforcement jurisdiction over students (which includes probation or parole officers); and/or the property on which the center is located.

(5) To disclose all or any information to parents/guardians regarding students under the age of 18 for performance of parental rights and responsibilities.

(6) To disclose information to Job Corps health consultants; Job Corps Center Review Board members (in appropriate disciplinary cases); State, county, and local health services personnel; family planning agencies; and physicians (public or private) to whom a student is referred for diagnosis or to receive treatment to assure continuance of proper health care, or notification and contact tracking for communicable disease control.

(7) To disclose to State and local health departments all cases of infection or disease that are required to be reported to them in accordance with state and local laws. This disclosure shall be made by the Center Director.

Note: Center physicians shall deal with all cases of communicable diseases in accordance with Job Corps directives based on current recommendations of the Center for Disease Control of the Department of Health and Human Services.

(8) To disclose information to State and local health departments regarding infected persons who are unwilling to notify their contacts at the center for the purpose of enabling the counseling of contacts.

(9) To disclose information to medical laboratories necessary in identifying specimens for the purpose of testing.

(10) To disclose information to social service agencies in cases of a student's termination in order to provide services such as Medicaid, housing, finance, and placement.

(11) To disclose information to the Army Finance Center, Fort Benjamin Harrison, Indiana, to pay student allowances and maintain and dispose of their pay records.

(12) To disclose information to Federal, State, and local agencies and to community-based organizations for the operation of experimental, research, demonstration, and pilot projects authorized under sections 156, 171, or 172 of the Workforce Investment Act of 1998, 29 U.S.C. 2856, 2916, or 2917, except that in the case of a research project, the researcher shall guarantee to protect the anonymity of all staff and students involved in any presentation of the results of such study.

(13) To disclose information to contractors and agencies that operate centers or have Outreach Admissions and Placement (OA&P) issues which demonstrate a legitimate need for the information to enable them to properly administer their responsibilities in the Job Corps program.

(14) To disclose to the Selective Service system names, social security number, date of birth, and address of students, to insure registration compliance for eligible applicants applying for Job Corps training benefits.

DISCLOSURE TO CONSUMER REPORTING AGENCIES:

None.

POLICIES AND PRACTICES FOR STORING, RETRIEVING, ACCESSING, RETAINING, AND DISPOSING OF RECORDS IN THE SYSTEM:

STORAGE:

Students' files are maintained in locked file cabinets; files are maintained on magnetic tapes, computer data base, and discs; printouts from army terminals which include payroll statistical reports.

RETRIEVABILITY:

Records are retrieved by name, social security number, and date of student entry.

SAFEGUARDS:

Records are maintained in file folders during center use; health records are placed in sealed envelopes after termination; on magnetic tapes, computer data base, or discs; and are stored in locked filing cabinets with access to those whose official duties require access.

RETENTION AND DISPOSAL:

Job Corps centers will maintain records of terminated students for a period of 3 years unless custodianship is extended or terminated, for administrative reasons, by the regional office. Counseling records are retained on the Job Corps center for 6 months after student's termination, after which they are destroyed. After termination, a summary or copy of the counseling record is placed in the health record.

After 3 years, centers will retire the records to the appropriate Federal Records center. Students' records are subject to destruction 75 years from the birth date of the youngest student's record contained in a GSA records retirement box, with the disposal authority being NC 369-76-2, item 59. [Note: Centers will send a copy of the SF 135-135 A (transmittal and receipt form) to the appropriate Job Corps regional office, after they have received the accession number from the appropriate Federal Records Center. In the event of a student's death, the student's entire personnel record shall be sent to the U.S. Department of Labor Job Corps National Health Office within 10 days of date of student's death.]

SYSTEM MANAGER(S) AND ADDRESS:

Director, Office of Job Corps, U.S. DOL/ETA, Frances Perkins Building, 200 Constitution Avenue, NW., Washington, DC 20210.

NOTIFICATION PROCEDURES:

Requests for access of terminated student's records are to be directed to the appropriate U.S. DOL Regional Job Corps Office, or to the System Manager at the above address. Requests for current records can be directed to the appropriate center director or screening contractor.

RECORD ACCESS PROCEDURES:

A request for access to a record from this system shall be made in writing to the System Manager or appropriate center director, Regional Job Corps Director, or screening contractor, in accordance with rules and regulations of the Privacy Act of 1974, as amended, with the envelope and the letter clearly marked “Privacy Act Request”, and the record sufficiently described in the letter for identification.

CONTESTING RECORD PROCEDURES:

Individuals desiring to contest or amend information maintained in this system should direct their request to the System Manager listed above, or appropriate center director, Regional Job Corps Director, or screening contractor, stating clearly and concisely what information is contested, the reasons for contesting the information, and the proposed amendment to the information sought. Details required for records identification are: (a) Full Name(s) (i.e., name during enrollment); (b) Center(s) where enrolled; and (d) Date enrolled.

RECORD SOURCE CATEGORIES:

Outreach/screening and placement contractors; Job Corps centers; Job Corps students; employment services; parole officers; State and local law enforcement agencies.

SYSTEMS EXEMPTED FROM CERTAIN PROVISIONS OF THE ACT:

None.

DOL/OSEC-1

SYSTEM NAME:

Supervisor's/Team Leader's Records of Employees.

SECURITY CLASSIFICATION:

None.

SYSTEM LOCATION:

Immediate supervisor(s)/team leader(s) and two higher supervisory levels at all facilities of the Department, as well as the national and regional personnel offices. Emergency addressee information may be kept upon the supervisor's person when appropriate.

Note: Requests for a reasonable accommodation are made to supervisors. The Civil Rights Center may temporarily maintain a copy of such requests and of the medical documents submitted by the employee when the Public Health Service physician completes his or her review of the request.

CATEGORIES OF INDIVIDUALS COVERED BY THE SYSTEM:

Current employees and employees who have retired or left the office within the last twelve months.

CATEGORIES OF RECORDS IN THE SYSTEM:

Records related to individuals while employed by the Department and which contain such information as: record of employee/supervisor discussions, supervisor(s)/team leader(s) observations, supervisory copies of officially recommended actions, reports of FTS telephone usage containing call detail information, awards, disciplinary actions, emergency addressee information, flexiplace records, reports of on-the-job accidents, injuries, illnesses, correspondence from physicians, and training requests. The system also contains records relating to requests for reasonable accommodation, and/or leave, including medical documents submitted by employees, as well as reports and records by the Public Health Service physicians who have reviewed the accommodation requests.

The system also contains labor relations materials such as performance improvement plans (PIPs), reprimands, suspensions of less than 14 days, leave restrictions and related materials.

AUTHORITY FOR MAINTENANCE OF THE SYSTEM:

5 U.S.C. 301, 1302, 2951, 4118, Reorganization Plan 6 of 1950, and the Civil Service Reform Act of 1978. The Rehabilitation Act and the American Disabilities Awareness Act.

PURPOSE(S):

To maintain a file for the use of supervisor(s)/team leader(s) in performing their responsibilities and to support specific personnel actions on employees.

ROUTINE USES OF RECORDS MAINTAINED IN THE SYSTEM, INCLUDING CATEGORIES AND USERS AND THE PURPOSE OF SUCH USES:

A. Selected information may be disclosed at appropriate stages of adjudication to the Merit Systems Protection Board, Office of the Special Counsel, the Federal Labor Relations Authority, the Equal Employment Opportunity Commission, arbitrators, or the courts for the purposes of satisfying requirements related to investigation of prohibited personnel practices, appeals, special studies investigations of alleged EEOC discrimination practices and unfair labor practices.

B. Records relating to a request for a reasonable accommodation may be referred to the Public Health Service (PHS) or other physicians for their review and evaluation of the request.

C. Data may be disclosed to medical providers for the purpose of evaluating sick leave absences based upon illness or injury.

DISCLOSURE TO CONSUMER REPORTING AGENCIES:

None.

POLICIES FOR STORING, RETRIEVING, ACCESSING, RETAINING, AND DISPOSING OF RECORDS IN THE SYSTEM:

STORAGE:

Records are maintained in manual files.

RETRIEVABILITY:

By name of employee.

SAFEGUARDS:

Locked storage cabinets and desks. Access limited to officials/employees on a need to know basis.

RETENTION AND DISPOSAL:

Records are maintained on current employees. Records on former employees are kept for one year, then destroyed.

SYSTEM MANAGER(S) AND ADDRESS:

All supervisor(s)/team leader(s) having responsibility for performance management plans, performance standards, or ratings.

NOTIFICATION PROCEDURE:

An individual may inquire whether the system contains a record pertaining to her/him by contacting the supervisor/team leader who completes his/her performance standards and rating.

RECORD ACCESS PROCEDURES:

A request for access will be addressed to the appropriate system manager listed above. Individuals must furnish their name in order for their records to be located and identified:

CONTESTING RECORD PROCEDURES:

A petition for amendments shall be addressed to the appropriate System Manager.

RECORD SOURCE CATEGORIES:

Information is supplied by the individual, supervisor(s)/team leader(s), agency officials, medical providers and co-workers.

SYSTEMS EXEMPTED FROM CERTAIN PROVISIONS OF THE ACT

None.

DOL/OASAM-4

SYSTEM NAME:

Safety and Health Information Management System (SHIMS).

SECURITY CLASSIFICATION:

None.

SYSTEM LOCATION:

1. Safety and Health Center, OASAM, U.S. Department of Labor, 200 Constitution Avenue, NW, Washington, DC 20210 and

2. DOL regional offices.

3. A copy of the modified CA-1/CA-2 Form used by the Office of Workers' Compensation Programs (OWCP) may be reproduced and retained in the office of the supervisor who files the form.

CATEGORIES OF INDIVIDUALS COVERED BY THE SYSTEM:

DOL employees and Job Corps students involved in occupationally related accidents, injuries and illnesses.

CATEGORIES OF RECORDS IN THE SYSTEM:

Reports of on-the-job accidents, injuries, and illnesses generated as a result of filing forms CA-1, CA-2, and CA-6.

AUTHORITY FOR MAINTENANCE OF THE SYSTEM:

29 U.S.C. 651 et seq., 29 CFR Part 1960, 5 U.S.C. 7902, DOL Secretary's Order 5-95, Executive Order 12196.

PURPOSE(S):

This system is used (a) to provide an information source for compliance with the Occupational Safety and Health Act; (b) to provide a documented record of job related accidents, injuries, and illnesses for the purpose of measuring safety and health programs' effectiveness; (c) to provide summary data of accident, injury and illness information to Departmental agencies in a number of formats for analytical purposes in establishing programs to reduce or eliminate loss producing hazards or conditions; (d) to provide summary listings of individual cases to Departmental agencies to ensure that all work-related injury/illness cases are reported through the SHIMS; and (e) to use as a reference when adjudicating tort and employee claims.

ROUTINE USES OF RECORDS MAINTAINED IN THE SYSTEM, INCLUDING CATEGORIES OF USERS AND PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Records are stored on computer disks, and on hard copies filed in locked file cabinets.

RETRIEVABILITY:

Records are retrieved by claimant's last name, social security number, and employee category (DOL employee or Job Corps student).

SAFEGUARDS:

Records are maintained in locked storage equipment. Computer files are accessible only to authorized users through password/user ID system.

RETENTION AND DISPOSAL:

Records are maintained for five (5) years after each report is filed with the agency. Electronic copies are maintained for five (5) years and then downloaded onto a disk.

SYSTEM MANAGER(S) AND ADDRESS:

Director, Safety and Health Center, OASAM, U.S. Department of Labor, 200 Constitution Avenue, NW, Washington, DC 20210.

NOTIFICATION PROCEDURE:

Individuals wishing to inquire whether this system of records contains information about them should contact the systems manager, or the servicing regional office in which they are employed. Individuals must furnish in writing the following information for their records to be located and identified:

a. Full name

b. Date of birth

c. Signature

RECORD ACCESS PROCEDURES:

Individuals wishing to request access to records should contact the appropriate office (national/regional). Individuals must furnish the following information for their records to be located:

a. Full name

b. Date of birth

c. Signature

Individuals requesting access must also comply with the Privacy Act Regulations on verification of identity and access to records (5 CFR 297.201 and 297.203).

CONTESTING RECORD PROCEDURES:

Individuals wishing to request information about their records should contact in writing the systems manager. Individual must furnish the following information for their records to be located:

a. Full name

b. Signature

RECORD SOURCE CATEGORIES:

a. The employee (or someone acting on his/her behalf).

b. Witness (if any).

c. Employing agency (supervisor or comp specialist).

d. CA-1, CA-2, CA-6, forms used by OWCP.

SYSTEMS EXEMPTED FROM CERTAIN PROVISIONS OF THE ACT:

None.

DOL/OASAM-5

SYSTEM NAME:

Employee Assistance Program (EAP) Records.

SECURITY CLASSIFICATION:

None.

SYSTEM LOCATION:

The Employee Assistance Program (EAP), headquartered in the Safety and Health Center, Office of the Assistant Secretary for Administration and Management (OASAM), U.S. Department of Labor (DOL), 200 Constitution Avenue, NW., Washington, DC 20210, and offices of designated EAP service providers located elsewhere in the Washington metropolitan area and Department's regions.

Note: DOL may elect to use, under an interagency agreement or other contractual arrangement, the counseling staff of another Federal, state, or local government, or private or community organization. This system does not cover EAP records of DOL employees (current or former) or their family members that are maintained by other Federal agencies.

CATEGORIES OF INDIVIDUALS COVERED BY THE SYSTEM:

DOL employees or their family members, who have been assessed, referred for treatment/rehabilitation or otherwise counseled regarding alcohol or drug abuse or other emotional health issues by an EAP counselor responsible for providing services to DOL employees or their family members.

CATEGORIES OF RECORDS IN THE SYSTEM:

Records in this system include documentation of visits to counselors designated by the agency to provide EAP services (regardless of whether the counselors are employed by the Federal, state, or local government, or by a private sector or community organization); problem assessments; counseling; recommendations and/or referrals for treatment and/or rehabilitation; client cooperation with those recommendations and/or referrals; progress; and other notes or records of discussions held with the client made by the counselor. Additionally, records in this system may include documentation of the therapeutic or rehabilitative work performed by a private therapist or a therapist at a Federal, State, local government, or private organization. If the client was referred to the EAP by a supervisor due to work performance or conduct problems, the record may also contain information regarding such matters. When the client was referred to the EAP because of a positive drug test, required by DOL's drug-free workplace plan, the record will also contain information about such tests results.

AUTHORITY FOR MAINTENANCE OF THE SYSTEM:

5 U.S.C. 7901, 7904; 5 U.S.C. 7361-7362; 42 U.S.C. 290dd-3; 5 CFR part 792; 42 CFR part 2; and E.O. 12564.

PURPOSE(s):

These records are used to document the nature and extent of the client's problem; the counseling, recommendations and/or referrals for treatment and/or rehabilitation made by the EAP; and the extent of the client's participation in, and the results of treatment or rehabilitation in community or private sector programs; and any follow-up necessary.

ROUTINE USES OF RECORDS MAINTAINED IN THE SYSTEM, INCLUDING CATEGORIES OF USERS AND THE PURPOSES OF SUCH USES:

a. DOL may elect to enter into interagency agreements or other contractual arrangements with other Federal agencies, private organizations or individuals for the purpose of providing EAP services for DOL employees and their family members. Relevant records will be disclosed to these providers.

b. Except where the records are covered by the Confidentiality of Alcohol and Drug Abuse Patient Records regulation, 42 CFR part 2, records and information in these records may be:

(1) Disclosed to the Department of Justice when: (A) DOL or any component thereof; or (B) any employee of the agency in his or her official capacity; or (C) the United States Government, is a party to litigation or has an interest in such litigation, and by careful review, the agency determines that the records are both relevant and necessary to the litigation, and the use of such records by the Department of Justice is for a purpose that is compatible with the purpose for which the agency collected the records.

(2) Disclosed in a proceeding before a court or adjudicative body, when: (A) DOL or any component thereof; or (B) any employee of the agency in his or her official capacity; or (C) any employee of the agency in his or her individual capacity; or (D) the United States Government, is a party to litigation or has an interest in such litigation, and by careful review, the agency determines that the records are both relevant and necessary to the litigation, and that the use of such records is a purpose that is compatible with the purpose for which the agency collected the records.

c. Where the records are covered by the Confidentiality of Alcohol and Drug Abuse Patient Records regulation, 42 CFR part 2, records and information in these records may be used:

(1) To disclose, in accordance with 42 CFR 2.51, patient identifying information to medical personnel who have a need for the information about a patient for the purpose of treating a condition which poses an immediate threat to health of any person and which requires immediate medical intervention.

(2) To disclose patient identifying information to medical personnel of the Food and Drug Administration (FDA) under the circumstances set forth in 42 U.S.C. 2.51(b) et seq.;

(3) To disclose patient information when authorized by an order of a court of competent jurisdiction in accordance with 42 CFR 2.61;

(4) To disclose information to a Federal, State or local law enforcement authority that is directly related to a patient's commission of a crime committed on the premises of the program or against any program personnel or to a threat to commit such a crime. (See 42 CFR 2.12(a)(5));

(5) To disclose information to State or local law enforcement authorities on incidents of suspected child abuse or neglect. (See 42 CFR 2.12(c)(6)).

(6) To disclose the fact of a minor's application for treatment to the minor's parent or guardian where State law requires parental consent. (See 42 CFR 2.14(c));

(7) To disclose to a minor's parent or guardian, facts relevant to reducing a threat to the life or physical well being of any individual, if the minor lacks capacity for rational choice (See 42 CFR 2.14(d));

(8) To disclose to a Qualified Service Organization (QSO),in accordance with 42 CFR 2.12(c)(4), that information needed by the QSO to provide services to the program;

(9) To disclose patient identifying information for the purpose of conducting scientific research under the circumstances set forth in 42 CFR 2.52;

(10) To disclose patient identifying information for audit and evaluation purposes under the circumstance set forth in 42 CFR 2.53

DISCLOSURE TO CONSUMER REPORTING AGENCIES:

None.

POLICIES AND PRACTICES FOR STORING, RETRIEVING, ACCESSING, AND RETAINING AND DISPOSING OF RECORDS IN THE SYSTEM:

STORAGE:

These records are maintained in file folders.

RETRIEVABILITY:

These records are retrieved by the name of the individual on whom they are maintained.

SAFEGUARDS:

These records are maintained in locked metal file cabinets labeled confidential with access strictly limited to personnel directly responsible for the management or operation of DOL's EAP. Such access and use must be in accordance with the provisions of the Privacy Act and 42 CFR part 2.

RETENTION AND DISPOSAL:

Records are maintained for three (3) years after the client's last contact with the EAP, or until any relevant litigation is resolved, or any periodic evaluation reports required by the U.S. Office of Personnel Management, DOL, or other authorities are completed. Records are destroyed by shredding or burning.

SYSTEM MANAGER(S) AND ADDRESS:

The Employee Assistance Program Administrator, Safety and Health Center, U.S. Department of Labor, 200 Constitution Avenue, NW, Washington, DC 20210.

NOTIFICATION PROCEDURE:

An individual wishing to inquire whether this system of records contains information about him/her should submit a written request to the system manager, stating that the request is being made pursuant to the Privacy Act, and including:

His/her full name, any former name, if applicable, home address, place and approximate dates when EAP services were received, date and place of birth, and signature.

RECORD ACCESS PROCEDURES:

Follow the same steps described above.

CONTESTING RECORD PROCEDURES:

Follow the same steps described above. In addition, the written request for an amendment should include the following:

a. The precise identification of the records to be amended;

b. The identification of the specific material to be deleted, added, or changed; and

c. A statement of reasons for the request, including all available material substantiating the request.

Requests for amendment of records should include the words Privacy Act Amendment Request on both the envelope and at the top of the request letter.

RECORDS SOURCE CATEGORIES:

Information in this system of records comes from the individual to whom it applies, the supervisor of the individual if the individual was referred to the EAP by a supervisor, the staff of the EAP, other therapists or organizations providing treatment and/or rehabilitation, and other sources whom the EAP believes may have information relevant to treatment of the individual.

SYSTEMS EXEMPTED FROM CERTAIN PROVISIONS OF THE ACT:

None.

DOL/OASAM-7

SYSTEM NAME:

Employee Medical File System Records (not job related).

SECURITY CLASSIFICATION:

None.

SYSTEM LOCATION:

For current employees, records are located in a health unit or dispensary of the Federal Occupational Health (FOH), U.S. Public Health Service, Department of Health and Human Services, or in a health unit or dispensary of another Federal or private sector entity which provides health services, under an interagency agreement or other contractual arrangement, to DOL employees. Medical records maintained by one of the latter entities may be considered the property of the entity providing care to the DOL employee; however, records maintained by FOH are considered the property of DOL.

For former employees, most records will be located in an Employee Medical Folder (EMF) stored at the National Personnel Records Center operated by the National Archives and Records Administration (NARA). Agencies may retain some records on former employees for a limited time.

CATEGORIES OF INDIVIDUALS COVERED BY THE SYSTEM:

Individuals covered are those of the following who have received voluntary employee health services provided by the agency under the authority of 5 U.S.C. 7901:

a. Current and former DOL employees as defined in 5 U.S.C. 2105.

b. DOL contract employees and other visitors (including minors and employees of other Federal agencies) who may have received emergency care from the health unit or dispensary.

CATEGORIES OF RECORDS IN THE SYSTEM:

This system is comprised of records developed as a result of the provision of voluntary employee health services offered by the agency under the authority of 5 U.S.C. 7901. These records contain the following information:

a. Medical history and other biographical data on those employees requesting voluntary periodic health examinations.

b. Test reports and medical diagnoses based on voluntary periodic health examinations or voluntary health screening program tests (tests for single medical conditions or diseases).

c. History of complaint, diagnosis, and treatment of injuries and illnesses cared for by the health unit or dispensary.

d. Vaccination records.

Note: Listed below are other types of medical records which are not covered by this system of records. Rather, they are covered by a government-wide system of records (OPM/GOVT-10), which is managed by the U.S. Office of Personnel Management (OPM), even though the records are not in OPM's physical custody. The routine uses of such records are defined in the Privacy Act Notice for OPM/GOVT-10. Such records include:

(1). Medical records, forms, and reports completed or obtained when an individual applies for a Federal job and is subsequently employed;

(2). Medical records, forms and reports completed during employment as a condition of employment, either by the employing agency or by another State or local government entity, or a private sector entity under contract to the employing agency;

(3). Records pertaining to and resulting from the testing of the employee for use of illegal drugs under Executive Order 12564. Such records may be retained by the agency (e.g., by the agency Medical Review Official) or by a contractor laboratory. This includes records of negative results, confirmed or unconfirmed positive test results, and documents related to the reasons for testing or other aspects of test results;

(4). Reports of on-the-job injuries and medical records, forms, and reports generated as a result of the filing of a claim for Workers Compensation, whether the claim is accepted or not. (The official compensation claim file is not covered by the OPM system; rather, it is part of DOL's Office of Workers Compensation Program (OWCP) system of records.)

(5). All other medical records, forms, and reports created on an employee during his/her period of employment, including any retained on a temporary basis and those designated for long-term retention (i.e., those retained for the entire duration of Federal service and for some period of time after), except that, records maintained by an agency dispensary are included in this system of records only when they are the result of a condition of employment or related to an on-the-job occurrence including, for example, records of the specialized health services made available to investigative personnel of the Wage-Hour Division, under interagency agreement between PHS and DOL s Employment Standards Administration.

AUTHORITY FOR MAINTENANCE OF THE SYSTEM:

5 U.S.C. 7901 et seq., 5 CFR 293, and 5 CFR 297.

PURPOSE(s):

These records document the utilization and provision of voluntary employee health services authorized by 5 U.S.C. 7901.

ROUTINE USES OF RECORDS MAINTAINED IN THE SYSTEM, INCLUDING CATEGORIES OF USERS AND THE PURPOSES OF SUCH USES:

The records and information in this system of records may be used as follows:

a. Disclosed to the Department of Justice when: (1) DOL or any component thereof; or (2) any employee of the agency in his or her official capacity; or (3) the United States Government, is a party to litigation or has an interest in such litigation, and by careful review, the agency determines that the records are both relevant and necessary to the litigation, and the use of such records by the Department of Justice is for a purpose that is compatible with the purpose for which the agency collected the records.

b. Disclosed in a proceeding before a court or adjudicative body, when: (1) DOL or any component thereof; or (2) any employee of the agency in his or her official capacity; or (3) any employee of the agency in his or her individual capacity; or (4) the United States Government, is a party to litigation or has an interest in such litigation, and by careful review, the agency determines that the records are both relevant and necessary to the litigation, and that the use of such records is a purpose that is compatible with the purpose for which the agency collected the records.

c. Used to refer information required by applicable law to be disclosed to a Federal, State, or local public health service agency, concerning individuals who have contracted certain communicable diseases or conditions. Such information is used to prevent further outbreak of the disease or condition.

d. Disclosed to the appropriate Federal, State, or local agency responsible for investigation of an accident, communicable disease, medical condition, or injury as required by pertinent legal authority.

e. Disclosed to the OWCP information in connection with a claim for benefits filed by an employee.

f. Disclosed to contractors providing medical or health counseling services to Department of Labor employees when such contractors have a need for the information in connection with their services. This would include medical or health personnel and employee assistance program (EAP) counselors.

DISCLOSURE TO CONSUMER REPORTING AGENCIES:

None.

POLICIES AND PRACTICES FOR STORING, RETRIEVING, ACCESSING, RETAINING, AND DISPOSING OF RECORDS IN THE SYSTEM:

STORAGE:

These records are stored in manual file folders.

RETRIEVABILITY:

These records are retrieved by the name of the individual to whom they pertain.

SAFEGUARDS:

Records are maintained in a locked file cabinet with access limited to personnel directly responsible for the management or operation of DOL's voluntary health services program. Such access and use must be in accordance with the provisions of the Privacy Act.

RETENTION AND DISPOSAL:

Records covered under OPM/GOVT-10 are retained and disposed of as required by that system. Records covered by this system are destroyed six (6) years after the date of last entry.

SYSTEM MANAGER(S) AND ADDRESS:

Director, Safety and Health Center, Office of the Assistant Secretary for Administration and Management (OASAM), U.S. Department of Labor, 200 Constitution Avenue, NW, Washington, DC 20210.

NOTIFICATION PROCEDURE:

a. An individual wishing to inquire whether this system of records contains information about him/her should submit a written request to the appropriate DOL system manager, stating that the request is being made pursuant to the Privacy Act, and including: His/her full name, any former name, if applicable, home address, current or last place and dates of DOL employment, date and place of birth, and signature.

b. An applicant for DOL employment or a current DOL employee wishing to inquire whether OPM's government-wide system of records contains information about him/her should initially submit a written request, as above, to the appropriate DOL system manager.

Note: OPM retains authority under its record management authority and under the Privacy Act to decide appeals of initial agency determinations regarding access to and amendment of material in these systems.

c. A former employee wishing to inquire whether OPM's government-wide system of records contains information about him/her should initially submit a written request, as outlined above, to the Assistant Director for Workforce and Information Personnel Systems and Oversight Group, Office of Personnel Management, 1900 E Street, NW., Washington, DC 20415.

RECORD ACCESS PROCEDURES:

Follow the steps described above. Note: When a request for access involves medical or psychological records, the system manager may advise the requester that the material will be provided only to a physician designated by the subject. Upon receipt of the designation and upon verification of the physicians identity, the records will be made available to the physician, who will have full authority to disclose those records to the subject when appropriate.

CONTESTING RECORD PROCEDURES:

Follow the steps described above. In addition, the written request for an amendment should include the following:

The precise identification of the records to be amended; the identification of the specific material to be deleted, added, or changed; and a statement of the reasons for the request, including all available material substantiating the request. Requests for amendment of records should include the words “Privacy Act Amendment Request” on both the envelope and at the top of the request letter.

RECORD SOURCE CATEGORIES:

a. The individual to whom the information pertains.

b. Laboratory reports and test results.

c. Medical staff working in the health unit or dispensary who have examined, tested, or treated the individual.

d. The individual's co-workers or supervisors.

e. The individual's personal physician.

f. Other Federal employee health units.

SYSTEMS EXEMPTED FROM CERTAIN PROVISIONS OF THE ACT:

None.

DOL/OASAM-12

SYSTEM NAME:

Administrative Grievance Records.

SECURITY CLASSIFICATION:

None.

SYSTEM LOCATION:

1. Human Resources Center, U.S. Department of Labor, 200 Constitution Avenue, NW, Washington, DC 20210; National and Regional Personnel Offices;

2. Office of the Solicitor, Washington, DC, and Regional Offices of the Solicitor.

CATEGORIES OF INDIVIDUALS COVERED BY THE SYSTEM:

Current or former DOL employees who have filed grievances, under DOL's administrative grievance procedure in accordance with 5 CFR part 771 and DOL's implementing regulation.

CATEGORIES OF RECORDS IN THE SYSTEM:

The system contains records relating to grievances filed by DOL employees under administrative grievance procedures and in accordance with 5 CFR part 771 and DOL's implementing regulation. These case files contain all documents related to the grievance including statements of witnesses, reports of interviews and hearings, fact-finder's findings and recommendations, a copy of the original decision, and related correspondence and exhibits. This system does not include files and records of any grievance filed under negotiated procedures with recognized labor organizations.

AUTHORITY FOR MAINTENANCE OF THE SYSTEM:

5 CFR part 771.

PURPOSE(S):

The records are used to process grievances submitted by bargaining-unit employees for personal relief in a matter of concern or dissatisfaction which is subject to the control of agency management.

ROUTINE USES OF RECORDS MAINTAINED IN THE SYSTEM, INCLUDING CATEGORIES OF USERS AND THE PURPOSES OF SUCH USES:

These records and information in these records may be used:

a. To disclose information to any source from which additional information is requested in the course of processing a grievance, to the extent necessary to identify the individual, inform the source of the purpose(s) of the request, and identify the type of information requested.

b. To disclose information to officials of the Merit System Protection Board or the Office of Special Counsel, when requested in connection with appeals, special studies of the civil service and other merit systems, review of DOL rules and regulations, investigations of alleged or possible prohibited personnel practices, and such other functions as may be authorized by law.

c. To disclose information to the Equal Employment Opportunity Commission when requested in connection with investigations into alleged or possible discrimination practices or examination of affirmative employment programs.

d. To disclose information to the Federal Labor Relations Authority or its General Counsel when requested in connection with investigations of allegations of unfair labor practices or matters before the Federal Service Impasses Panel.

DISCLOSURE TO CONSUMER REPORTING AGENCIES:

Not applicable.

POLICIES AND PRACTICES FOR STORING, RETRIEVING, SAFEGUARDING, AND RETAINING AND DISPOSING OF RECORDS IN THE SYSTEM:

STORAGE:

Manual file.

RETRIEVABILITY:

These records are retrieved by the names of the individuals on whom they are maintained.

SAFEGUARDS:

Locked storage equipment.

RETENTION AND DISPOSAL:

These records are disposed of 4 years after the closing of the case.

SYSTEM MANAGER(S) AND ADDRESS:

Director, Labor Management Relations Center, Human Resources Center, U.S. Department of Labor, 200 Constitution Avenue, NW, Washington, DC 20210.

NOTIFICATION PROCEDURE:

Individuals submitting grievances should be provided a copy of the record under the grievance process. They may, however, contact the personnel office where the action was processed, regarding the existence of such records on them. They must furnish the following information for their records to be located and identified:

a. Name;

b. Approximate date of closing of the case and kind of action taken, and

c. Organizational component involved.

RECORD ACCESS PROCEDURE:

See Notification Procedure above.

CONTESTING RECORD PROCEDURE:

Contact the personnel office where the grievance was processed. Individuals must furnish the following information for their records to be located and identified:

a. Name;

b. Approximate date of closing of the case and kind of action taken; and

c. Organizational component involved.

RECORDS SOURCE CATEGORIES:

Information in this system of records is provided by the following:

a. The individual on whom the record is maintained.

b. Testimony of witnesses.

c. Investigative and other employment records.

d. Decisions by Agency Officials.

SYSTEMS EXEMPTED FROM CERTAIN PROVISIONS OF THE ACT:

Not applicable.

DOL/OASAM-17

SYSTEM NAME:

Equal Employment Opportunity Complaint Files.

Note: Records in this system are covered in conjunction with EEOC's government-wide system EEOC/GOVT-1.

SECURITY CLASSIFICATION:

None.

SYSTEM LOCATION:

Civil Rights Center, OASAM, U.S. Department of Labor, 200 Constitution Avenue, NW, Washington, DC 20210. The Civil Rights Center maintains the primary system of records. However, Regional Civil Rights Offices maintain copies of complete or partial investigative reports and correspondence files, as well as settlement agreements and informal complaint forms. A portion of these complaint files are forwarded to and maintained in the Office of the Administrative Review Board (ARB).

CATEGORIES OF INDIVIDUALS COVERED BY THE SYSTEM:

Individuals, classes of individuals, or representatives designated to act on behalf of employees, former employees, or applicants of the Department who have consulted with an EEO Counselor and/or who have filed a formal complaint alleging discrimination on the basis of race, color, religion, sex, national origin, disability, age, and/or any basis covered by Executive Order 11478, as amended, because of a determination, decision, action, or the non-action administered against them by a departmental official, and individuals alleging reprisal for having previously participated in the EEO process.

CATEGORIES OF RECORDS IN THE SYSTEM:

Information and/or documents pertaining to pre-complaint processing, informal resolutions, formal allegations of discrimination, and investigations of complaints of discrimination. These records contain complainants' names, addresses, job titles and descriptions, dates of employment; agencies involved; counselor's reports; initial and supplemental allegations; letters and notices to individuals and organizations involved in the processing of the complaint; materials placed into the record to support or refute the alleged decisions; determination or actions taken; statements of witnesses; related correspondence; investigative reports, instructions on actions to be taken in order to comply with the provisions of a decision, opinions, recommendations, settlement agreements, proposed and final decisions.

AUTHORITY FOR MAINTENANCE OF THE SYSTEM:

Executive Order 11478, as amended; Secretary's Order 2-81 and 3-96; Title VII of the Civil Rights Act of 1964, as amended, 42 U.S.C. 2000e; the Equal Pay Act, as amended, 29 U.S.C. 206(d); the Age Discrimination in Employment Act of 1967, as amended, 29 U.S.C. 621; sections 501, 504 and 508 of the Rehabilitation Act of 1973, as amended, 29 U.S.C. 791, 794(a) and 794(d); the Civil Service Reform Act of 1978, 5 U.S.C. 1101; and 29 CFR part 1614.

PURPOSE(S):

These records are used to process, investigate and resolve discrimination complaints within the Department.

ROUTINE USES OF RECORDS MAINTAINED IN THE SYSTEM, INCLUDING CATEGORIES OF USERS AND THE PURPOSES OF SUCH USES:

The records in the complaint file are classified in three categories: Correspondence, investigative, and transcripts. Records that are relevant and necessary may be disclosed:

1. To the responding official (RO) consistent with the instructions in EEOC's Complaint Processing Manual which provides that during the investigative process the responding official shall have access to documents in the correspondence file and the investigative file in which the official is identified and charged with discrimination or other wrong-doing. Names of and identifying information on persons other than the complainant and the RO should be deleted from copies of the documents shown to the RO. If the Department issues a final decision on the complaint rejecting the complainant's allegations against the RO, the RO does not have access to the entire complaint file. If the Department's decision concludes or implies impropriety on the part of the RO, the entire complaint file, with names and identifying information deleted where appropriate, must be made available to the RO. If the Department takes or proposes adverse action or other disciplinary action against the RO, only the records upon which the decision is based, without deletions, must be made available for his or her review.

2. To Federal agencies with jurisdiction over a complaint, including the Equal Employment Opportunity Commission, the Office of Personnel Management, the Merit Systems Protection Board, the Office of Special Counsel, and the Federal Labor Relations Authority, for investigatory, conciliation or enforcement purposes.

3. To a physician or medical official for the purpose of evaluating medical documents in complaints of discrimination on the basis of disability.

DISCLOSURE TO CONSUMER REPORTING AGENCIES:

None.

POLICIES AND PRACTICES FOR STORING, RETRIEVING, ACCESSING, RETAINING, AND DISPOSING OF RECORDS IN THE SYSTEM:

STORAGE:

Records are maintained in manual and automated files.

RETRIEVABILITY:

Manual files are indexed by complainant's name and by the office case number. Automated files are retrieved by: Office case number; complainant's name; fiscal year; current status of complaint; region code; issue code; basis code; agency code; class action; relief code; EOS identification; Investigator identification.

SAFEGUARDS:

Manual records are maintained in secured file cabinets or in restricted areas, access to which is limited to authorized personnel. Automated files are controlled by means of identification numbers and passwords known only to the employees of the Civil Rights Center who are authorized to have access to such files.

RETENTION AND DISPOSAL:

Records are retained for a period of four years after the final disposition of a complaint, and then destroyed. An alphabetical record is kept of open complaints by name of the complainant, giving the basis of the complaint, the matter giving rise to the complaint, and the disposition.

SYSTEM MANAGER(S) AND ADDRESS:

Director, Civil Rights Center, OASAM, U.S. Department of Labor, 200 Constitution Avenue, NW, Washington, DC 20210.

NOTIFICATION PROCEDURE:

Individuals or organizations designated to act on behalf of individuals may write the system manager indicated above regarding the existence of records pertaining to them pursuant to 29 CFR 71.2. The inquirers should provide, as appropriate, their full name, the name of the employing agency and/or the agency in which the situation arose, if different than the employing agency, approximate date of filing complaint, region of complaint, complaint case number, the kind(s) of action(s) taken against them, and a notarized signature, or a notarized letter of consent when a person requests access on behalf of the individual who is the subject of the file.

RECORD ACCESS PROCEDURES:

Individuals or organizations designated to act on behalf of an individual wishing to gain access to records covered by the Privacy Act, shall follow the guidelines prescribed by 29 CFR part 71, summarized here under “Notification procedures.”

CONTESTING RECORD PROCEDURES:

Individuals wishing to contest information in their files may, pursuant to 29 CFR 71.9, shall write the system manager at the specified address above, reasonably identifying the record pertaining to them, the information which is being contested in that record, the corrective action(s) being sought, and the reasons for the correction(s).

RECORD SOURCE CATEGORIES:

Individual to whom the record pertains; official documents relating to the processing of a complaint, the informal and formal allegations, appeals of departmental decisions; and respondent agency officials, employees, and other witnesses.

SYSTEMS EXEMPTED FROM CERTAIN PROVISIONS OF THE ACT:

Under the specific exemption provided by 5 U.S.C. 552a(k) (2), this system of records is exempted from the following provisions of the Privacy Act: (c)(3), (d), (e)(1), (e)(4)(G), (H), and (I) and (f). Information from the complaint file may be denied in anticipation of a civil action or proceeding, in instances where premature release of documents could hamper the decision-making process, where the release of personal information about another employee may result in an invasion of personal privacy, and where release of confidential statements could lead to intimidation or harassment of witnesses and impair future investigations by making it more difficult to collect similar information. Personal information about other employees that are contained in the complainant's file because of its use as comparative data such as: Medical records, place and date of birth, age, martial status, home address and telephone numbers, the substance of promotion recommendations, supervisory assessments of professional conduct and ability, may be denied to the subject when it could cause embarrassment and/or harassment to the other employees.

DOL/OASAM-19

SYSTEM NAME:

Negotiated Grievance Procedure and Unfair Labor Practice Files.

SECURITY CLASSIFICATION:

None.

SYSTEM LOCATION:

A. Offices in Washington, DC: Labor Management Relations Center, Human Resources Center (OASAM) and;

B. OASAM Regional Personnel Offices.

CATEGORIES OF INDIVIDUALS COVERED BY THE SYSTEM:

DOL employees who have filed grievances under negotiated grievance procedures, and DOL employees who have filed unfair labor practices charges against the Department.

CATEGORIES OF RECORDS IN THE SYSTEM:

This system contains a variety of records relating to an employee grievance filed under procedures established by labor-management negotiations and unfair labor practice charges filed under the Federal Service Labor-Management Relations Statute. The Records may include information such as: Employee's name, grade, job title, employment history, arbitrator's decision or report, record of appeal to the Federal Labor Relations Authority, and a variety of employment and personnel records associated with the grievance or charge.

AUTHORITY FOR MAINTENANCE OF THE SYSTEM:

5 U.S.C. 7121 for grievances, 5 U.S. 7116 for unfair labor practices, Federal Service Labor-Management Relations Statute and related amendments of 5 U.S.C. 5596(b) for back pay.

PURPOSE(s):

These records are used to process an employee's grievance filed under a negotiated grievance procedure or an unfair labor practice charge filed by an employee or union.

ROUTINE USE OF RECORDS MAINTAINED IN THE SYSTEM, INCLUDING CATEGORIES OF USERS AND THE PURPOSES OF SUCH USES:

These records and information in these records that are relevant and necessary may be used:

a. To disclose information to officials of the Merit System Protection Board or the Office of Special Counsel, when requested in connection with appeals, special studies of the civil service and other merit systems, review of DOL rules and regulations, investigations or alleged or possible prohibited personnel practices, and such other functions as may be authorized by law.

b. To disclose information to the Equal Employment Opportunity Commission when requested in connection with investigations into alleged or possible discrimination practices or examination of affirmative employment programs.

c. To disclose information to the Federal Labor Relations Authority or its General Counsel when requested in connection with investigations of allegations of unfair labor practices or matters before the Federal Service Impasses Panel.

d. To disclose information to the union when requested in connection with the union's representation of the DOL employee who has filed the grievance or unfair labor practice.

POLICIES AND PRACTICES FOR STORING, RETRIEVING, ACCESSING, RETAINING, AND DISPOSING OF RECORDS IN THE SYSTEM:

STORAGE:

Manual file.

RETRIEVABILITY:

By name and/or case file number.

SAFEGUARDS:

Locked room.

RETENTION AND DISPOSAL:

Records are destroyed 4 years after the closing of the case.

SYSTEM MANAGER(S) AND ADDRESS:

Director, Labor-Management Relations, Human Resources Center, U.S. Department of Labor, 200 Constitution Ave., NW, Washington, DC 20210.

NOTIFICATION PROCEDURES:

Contact system manager at above address.

RECORD ACCESS PROCEDURE:

Contact system manager at above address.

CONTESTING RECORD PROCEDURE:

Contact system manager at above address.

RECORD SOURCE CATEGORIES:

Individual employees who have filed grievances and charges, employee/supervisor interviews, investigative and employment records, and findings of arbitrators and other tribunals.

SYSTEMS EXEMPTED FROM CERTAIN PROVISIONS OF THE ACT:

Under the specific exemption provided by 5 U.S.C. 552a(k)(2), this system of records is exempted from the following provisions of the Privacy Act: 5 U.S.C. 552a(c)(3), (d), (e)(1), and (e) (4)(G), (H), (I) & (f). Information from the case file may be denied in anticipation of a civil action or proceeding, in instances where premature release of documents could hamper the decision-making process, where the release of personal information about another employee may result in an invasion of personal privacy, and where release of confidential statements could lead to intimidation or harassment of witnesses and impair future investigations by making it more difficult to collect similar information. Personal information about other employees that is contained in the grievant's or charging party's file because of its use as comparative data such as: medical records, place and date of birth, age, marital status, home address and telephone numbers, the substance of promotion recommendations, supervisory assessments of professional conduct and ability, may be denied to the subject when it could cause embarrassment and/or harassment to the other employees.

DOL/OASAM-20

SYSTEM NAME:

Personnel Investigation Records.

SECURITY CLASSIFICATION:

None for the system. However, items or records within the system may have national defense/foreign policy classifications up through secret.

SYSTEM LOCATION:

Assistant Director, Executive Resources and Personnel Security Team (OASAM), U.S. Department of Labor, 200 Constitution Avenue, NW, Washington, DC 20210.

CATEGORIES OF INDIVIDUALS COVERED BY THE SYSTEM:

a. Current and former employees or applicants for employment in the Department.

b. Individuals considered for access to classified information or restricted areas and/or security determinations as contractors, experts, instructors, and consultants to Departmental programs.

CATEGORIES OF RECORDS IN THE SYSTEM:

Investigative files and investigative index card files which pertain to clearance investigations for Federal employment. These records contain investigative information regarding an individual's character, conduct, and behavior in the community where he or she lives or lived; arrests and convictions for violations against the law; reports of interviews with present and former supervisors, coworkers, associates, educators, etc; reports about the qualifications of an individual for a specific position and files and index cards relating to adjudication matters; reports of inquiries with law enforcement agencies, employers, educational institutions attended; reports or action after OPM or FBI Section 8(d) Full Field Investigation; Notices of Security Investigation; and other information developed from above.

Note: This system does not apply to records of a personnel investigative nature that are part of the Office of Personnel Management's (OPM) Privacy Act System OPM/CENTRAL-9, Personnel Investigation Records. Access to or amendment of such records must be obtained from OPM.

AUTHORITY FOR MAINTENANCE OF THE SYSTEM:

Executive Order 10450.

PURPOSE(S):

The purposes of this systems are:

a. To provide investigatory information for determination concerning compliance with Federal personnel regulations and for individual personnel determinations including suitability and fitness for Federal employment, access and security clearances, evaluations of qualifications, loyalty to the U.S. and evaluations of qualifications and suitability for performance of contractual services for the U.S. Government.

b. To document such determinations;

c. To provide information necessary for the scheduling and conduct of the required investigations;

d. To otherwise comply with mandates and Executive Order; and

These records may also be used to locate individuals for personnel research.

ROUTINE USES OF RECORDS MAINTAINED IN THE SYSTEM, INCLUDING CATEGORIES OF USERS AND THE PURPOSES OF SUCH USES:

These records and information in these records may be used in disclosing relevant and necessary information:

a. To designated officers and employees of agencies, offices, and other establishments in the executive, legislative, and judicial branches of the Federal Government, and the District of Columbia Government, when such agency, office, or establishment conducts an investigation of the individual for the purpose of granting a security clearance, or for the purpose of making a determination of qualifications, suitability, or loyalty to the United States Government, or access to classified information or restricted areas.

b. To designated officers and employees of agencies, offices, and other establishments in the executive, legislative, and judicial branches of the Federal Government, and the District of Columbia Government, having the responsibility to grant clearances to make a determination regarding access to classified information or restricted areas, or to evaluate qualifications, suitability, or loyalty to the United States Government, in connection with performance of a service to the Federal Government under a contract or other agreement.

c. To the intelligence agencies of the Department of Defense, the National Security Agency, the Central Intelligence Agency, and the Federal Bureau of Investigation for use in intelligence activities.

d. To Federal agencies as a data source for management information through the production of summary descriptive statistics and analytical studies in support of the functions for maintained or for related studies.

e. To disclose information to officials of the Merit Systems Protection Board, including the Office of the Special Counsel, when requested in connection with appeals, special studies of the civil service and other merit systems, review of office rules and regulations, investigations of alleged or possible prohibited personnel practices, and such other functions, e.g., as promulgated in 5 U.S.C. 1205 and 1206, or as may be authorized by law.

f. To disclose information to the Equal Employment Opportunity Commission when requested in connection with investigations into alleged or possible discrimination practices in the Federal sector, examination of Federal affirmative employment programs, compliance by Federal agencies with the Uniform Guideline Employee Selection Procedures, or other functions vested in the Commission by the President's Reorganization Plan No. 1 of 1978.

g. To disclose information to the Federal Labor Relations Authority or its General Counsel when requested in connection with investigations of allegations of unfair labor practices or matters before the Federal Service Impasses Panel.

DISCLOSURE TO CONSUMER REPORTING AGENCIES:

Not applicable.

POLICIES AND PRACTICES FOR STORING, RETRIEVING, ASSESSING, RETAINING, AND DISPOSING OF RECORDS IN THE SYSTEM:

STORAGE:

Records are maintained in file folders and on index cards.

RETRIEVABILITY:

Records are retrieved by the name of the individual on whom they are maintained.

SAFEGUARDS:

Folders are maintained in file cabinets secured by three position combination locks. The index to the system and those records which are maintained on index cards are contained in covered and locked Wheeldex machines. All employees are required to have an appropriate security clearance before they are allowed access to the records.

RETENTION AND DISPOSAL:

a. Index cards which show the scheduling or completion of an investigation, and investigative files, if any, are retained for 2 years, plus the current year from the date of the most recent investigative activity. Other index cards which show no investigative record other than the completion of a clear National Agency Check or a clear National Agency Check Inquiry, and where no investigative file folder exists, are retained for two years plus the current year.

b. Reports of action after OPM or FBI section 8(d) background investigation are retained for the life of the investigative file.

c. Notices of Security Investigations are retained for 20 years.

All records are destroyed by burning.

SYSTEM MANAGER(S) AND ADDRESS:

Director, Human Resources Services Center, OASAM, U.S. Department of Labor, 200 Constitution Avenue, NW, Washington, DC 20210.

NOTIFICATION PROCEDURE:

Individuals wishing to inquire whether this system contains information about them should contact the system manager in writing. Individuals must furnish the following information for their records to be located and identified:

a. Full name

b. Date of birth

c. Signature

d. Any available information regarding the type of record involved.

e. The category of covered individuals under which the requester believes he or she fits.

RECORD ACCESS PROCEDURES:

Individuals wishing to request access to their records should contact the system manager in writing. Individuals must furnish the following information for their records to be located and identified:

a. Full name

b. Date of birth

c. Signature

d. Any available information regarding the type of record involved.

e. The category of covered individuals under which the requester believes he or she fits.

CONTESTING RECORD PROCEDURES:

Individuals wishing to request amendment to their non-exempt records should contact the system manager in writing. Individuals must furnish the following information for their records to be located and identified:

a. Full name

b. Date of birth

c. Signature

d. Any available information regarding the type of record involved.

e. The category of covered individuals under which the requester believes he or she fits.

RECORD SOURCE CATEGORIES:

Information contained in the system was obtained from the following categories of sources:

a. Applications and other personnel and security forms furnished by the individual;

b. Investigative and other record material furnished by Federal agencies;

c. Notices of personnel actions furnished by Federal agencies;

d. By personal investigation or written inquiry from sources such as employers, educational institutions, references, neighbors, associates, police departments, courts, credit bureaus, medical records, probation officials, prison officials, newspapers, magazines, periodicals, and other publications.

SYSTEMS EXEMPTED FROM CERTAIN PROVISIONS OF THE ACT:

This system may contain the following types of information:

a. Investigatory material compiled solely for the purpose of determining suitability, eligibility, or qualifications for Federal civilian employment. The Privacy Act, at 5 U.S.C. 552a(k)(5), permits an agency to exempt such material from certain provisions of the Act. Materials may be exempted to the extent that release of the material to the individual whom the information is about would:

1. Reveal the identity of a source who furnished information to the Government under an express promise (granted on or after September 27, 1975) that the identity of the source would be in confidence; or

2. Reveal the identity of a source who, prior to September 27, 1975, furnished information to the Government under an implied promise that the identity of the source would be held in confidence.

b. For all the above reasons the Department hereby exempts this system from the following provisions of the Privacy Act: 5 U.S.C. 552a (c)(3), (d), (e)(1), (e)(4)(G), (H) and (I) and (f).

DOL/OASAM-22

SYSTEM NAME:

Civil Rights Center Discrimination Complaint Case Files.

SECURITY CLASSIFICATION:

None.

SYSTEM LOCATION:

Civil Rights Center, OASAM, U.S. Department of Labor, Constitution Avenue, NW., Washington, DC 20210.

CATEGORIES OF INDIVIDUALS COVERED BY THE SYSTEM:

Individuals, classes of individuals, or representatives designated to act on behave of individuals filing complaints against recipients of DOL financial assistance, DOL conducted programs, or State or local governments that exercise responsibilities, regulate, or administer services, programs, or activities in all programs, services, and regulatory activities relating to labor and the workforce alleging discrimination on the basis of race, color, national origin, age, disability, sex, religion, citizenship, political affiliation or belief, citizenship, participation in a Workforce Investment Act (WIA) Title-I program or activity, and/or any basis covered by Executive Order 13160, or retaliation for having filed a discrimination complaint, furnishing information, or assisting or participating in any manner in an investigation, hearing or any other activity related to the administration of Federal law requiring equal opportunity.

CATEGORIES OF RECORDS IN THE SYSTEM:

Complainants' statements of alleged discrimination, respondents' statements, witnesses' statements, names and addresses of complainants and respondents, personal, employment or program participation information, medical records, conciliation and settlement agreements, related correspondence, initial and final determinations, other records related to investigations of discrimination complaints.

AUTHORITY FOR MAINTENANCE OF THE SYSTEM:

Title VI of the Civil Rights Act of 1964, as amended, 42 U.S.C. 2000d to 2000d-4; secs. 504 and 508(d) of the Rehabilitation Act of 1973, as amended, 29 U.S.C. 794(a) and 794(d); the Age Discrimination Act of 1975, as amended, 42 U.S.C. 6102; Title IX of the Education Amendments of 1972, as amended, 20 U.S.C. 1681; sec. 645-255 of the Social Security Act, 42 U.S.C. 603(a)(5); sec. 167 of the Job Training Partnership Act, as amended, 29 U.S.C. 1577; sec. 188 of the Workforce Investment Act of 1998; 29 U.S.C. 2938, the Americans with Disabilities Act of 1990, 42 U.S.C. 12101 et seq.; Executive Order 13160; Secretary's Order 4-2000; 29 CFR parts 31, 32, 33, 34, 36 and 37, and 28 CFR part 35.

PURPOSE(S):

To maintain records on individuals who have filed a complaint with, or to investigate and resolve discrimination complaints filed with the Department of Labor against (1) recipients of financial assistance from the Department, (2) Department of Labor conducted programs or activities and (3) components of State and local governments that exercise responsibilities, regulate, or administer services, programs, or activities in all programs, services, and regulatory activities relating to labor and the workforce.

ROUTINE USES OF RECORDS MAINTAINED IN THE SYSTEM, INCLUDING CATEGORIES OF USERS AND THE PURPOSES OF SUCH USES:

Records that are relevant and necessary may be disclosed:

a. To the Equal Employment Opportunity Commission, Department of Justice, Federal Mediation and Conciliation Service, when relevant to matters within the jurisdiction of those agencies over a complaint, for investigatory, conciliation, enforcement, or litigation purposes.

b. To organizations which are recipients of Federal financial assistance and against whom complaints in an administrative or judicial proceeding are filed to the extent necessary to effectively represent themselves, provided that the privacy of persons not a party to the dispute is protected.

c. To the Equal Employment Opportunity Commission, the Department of Justice, the Department of Health and Human Services, and other Federal entities having responsibility for processing and resolving complaints, coordinating civil rights activities and/or preparing reports to Congress under authorities indicated in this particular notice.

DISCLOSURE TO CONSUMER REPORTING AGENCIES:

None.

POLICIES AND PRACTICES FOR STORING, RETRIEVING, ACCESSING, RETAINING, AND DISPOSING OF RECORDS IN THE SYSTEM:

STORAGE:

These records are maintained in manual and automated files.

RETRIEVABILITY:

These records are retrieved by various combinations of office case numbers, complainant's name, fiscal year, current status of complaint, state, basis code, and program code.

SAFEGUARDS:

Manual records are maintained in secured file cabinets or in restricted areas, access to which is limited to authorized personnel. Automated files are controlled by means of identification numbers and passwords.

RETENTION AND DISPOSAL:

Manual records are retained for a period of three years after the final disposition of a complaint. They are then retired to the Federal Records Center for two additional years, and then destroyed. Complaints are maintained in the automated file for two years, after which they are stored on disc or tape for three additional years and then destroyed by shredding.

SYSTEM MANAGER(S) AND ADDRESS:

Civil Rights Center, OASAM, U.S. Department of Labor, 200 Constitution Avenue, NW., Washington, DC 20210.

NOTIFICATION PROCEDURE:

Pursuant to 29 CFR part 71 individuals requesting information or assistance, or making inquiries regarding the existence of records pertaining to them should write the system manager at the address above. Inquiries should include the name of the inquirer, complaint case number, approximate date of filing, if the case number is unknown, name of respondent, last known status of the complaint, and signature. When a request is submitted by mail, the signature of the requester shall be notarized.

RECORD ACCESS PROCEDURES:

An individual or organization representing an individual(s), wishing to gain access to these records shall follow the guidelines set forth under notification procedures summarized above and Departmental regulations at 29 CFR part 71.

CONTESTING RECORD PROCEDURES:

Individuals wishing to contest information in their files may, pursuant to 29 CFR part 71, write the system manager at the specified address above, reasonably identifying the record pertaining to them, the information which is being contested in that record, the corrective action(s) being sought, and the reason(s) for the correction(s).

RECORD SOURCE CATEGORIES:

Individual complainants; respondent officials, employees, and witnesses; interrogatories; recipient files and records; and physicians' and other medical service providers' records.

SYSTEMS EXEMPTED FROM CERTAIN PROVISION OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/OASAM-23

SYSTEM NAME:

Travel Management Center.

SECURITY CLASSIFICATION:

Unclassified.

SYSTEM LOCATION:

This system of records is located in the travel agency under contract with this Department and in the administrative offices of Department of Labor component agencies.

CATEGORIES OF INDIVIDUALS COVERED BY THE SYSTEM:

Individuals for whom travel is being arranged by the contractor.

CATEGORIES OF RECORDS IN THE SYSTEM:

Records include traveler's profile which contains name of individual, social security number, home and office telephones, agency's name, address, and telephone number, air travel preference, rental car identification number and preference of car, hotel preference, current passport and/or visa number, personal credit card numbers, and additional information; travel authorization and monthly reports from travel agent(s) showing charges to individuals, balances, and other types of account analyses.

AUTHORITY FOR MAINTENANCE OF THE SYSTEM:

31 U.S.C. 711; interpret or apply 31 U.S.C. 3511, 3512, and 3523.

PURPOSE(S):

To assemble in one system information to enable travel agents who are under contract to the Federal Government to issue and account for travel provided to individuals.

ROUTINE USES OF RECORDS MAINTAINED IN THE SYSTEM, INCLUDING CATEGORIES OF USERS AND THE PURPOSES OF SUCH USES:

In addition to the routine uses listed in the general prefatory statement:

a. To disclose information to a credit card company for billing purposes.

b. To disclose information to a Federal agency for accumulating reporting data and monitoring the system.

c. To disclose information to the agency by the contractor in the form of itemized statements of invoices, and reports of all transactions including refunds and adjustments to enable audits of charges to the Government.

d. To disclose credit card information, phone numbers, addresses, etc., to airlines, hotels, car rentals companies and other travel affiliated companies for the purpose of serving the client.

e. To disclose personal credit card information to hotels and car rental companies for the purpose of guaranteeing reservations.

DISCLOSURE TO CONSUMER REPORTING AGENCIES:

None.

POLICIES AND PRACTICES FOR STORING, RETRIEVING, ACCESSING, RETAINING, AND DISPOSING OF RECORDS IN THE SYSTEM:

STORAGE:

Paper records in file cabinets. Computer records within a computer and attached equipment.

RETRIEVABILITY:

By name and/or social security number of traveler.

SAFEGUARDS:

Records stored in lockable file cabinets or secured rooms. Computerized records protected by password system and electronic signaturing. Information released only to authorized officials on a need-to-know basis.

RETENTION AND DISPOSAL:

Records kept by the Department and/or the travel agency are held for 3 years and then destroyed.

SYSTEM MANAGER(S) AND ADDRESS:

Director, Office of Budget, Office of the Assistant Secretary for Administration and Management, Department of Labor, 200 Constitution Avenue NW, Washington, DC 20210.

NOTIFICATION PROCEDURE:

Inquiries should be mailed or presented to the system manager noted at the address listed above.

RECORD ACCESS PROCEDURES:

A request for access shall be addressed to the system manager at the address listed above.

CONTESTING RECORD PROCEDURES:

A petition for amendment shall be addressed to the System Manager.

RECORD SOURCE CATEGORIES:

Individual, employees, travel authorization, credit card companies.

EXEMPTION FROM CERTAIN PROVISIONS OF THE ACT:

None.

DOL/OASAM-24

SYSTEM NAME:

Privacy Act/Freedom of Information Act Requests File System.

SECURITY CLASSIFICATION:

None.

SYSTEM LOCATION:

A. Departmental Offices in Washington, DC

B. Regional offices of the Department.

CATEGORIES OF INDIVIDUALS COVERED BY THE SYSTEM:

Individuals who have submitted Privacy Act and Freedom Of Information Act requests under (5 U.S.C. 552a and 552).

CATEGORIES OF RECORDS IN THE SYSTEM:

This system contains initial requests under the Acts, responses, and related documents.

AUTHORITY FOR MAINTENANCE OF THE SYSTEM:

The Privacy Act of 1974 (5 U.S.C. 552a); the Freedom of Information Act (5 U.S.C. 552); and 5 U.S.C. 301).

PURPOSE(S):

This system of records is maintained for various reasons as follows:

a. To process individuals' requests made under the Privacy Act and the Freedom of Information Act.

b. To provide a record of communications between the requester and the agency.

c. To ensure that all relevant, necessary and accurate data are available to support any process for appeal.

d. To provide a legal document to support any process for appeal.

e. To prepare the annual reports to OMB and Congress as required by the Privacy and Freedom of Information Acts.

ROUTINE USES OF RECORDS MAINTAINED IN THE SYSTEM, INCLUDING CATEGORIES OF USERS AND THE PURPOSES OF SUCH USES:

These records, and information in these records, may be used:

a. To disclose information to the Office of Management and Budget at any stage in the legislative coordination and clearance process in connection with private relief legislation as set forth in OMB Circular No. A-19.

b. To disclose information to Federal agencies (e.g., Department of Justice) in order to obtain advice and recommendation concerning matters on which the agency has specialized experience or particular competence, for use in making required determinations under the Freedom of Information Act or the Privacy Act of 1974.

c. To disclose information to any source from which additional information is requested (to the extent necessary to identify the individual, inform the source of the purpose of the request, and to identify the type of information requested), where necessary to obtain information relevant to a decision concerning a Privacy Act, Freedom of Information Act request.

d. To disclose information to another Federal agency, to a court, or a party in litigation before a court or in an administrative proceeding being conducted by a Federal agency, either when the Government is a party to a judicial proceeding or in order to comply with the issuance of a subpoena.

e. To disclose, in response to a request for discovery or for appearance of a witness, information that is relevant to the subject matter involved in a pending judicial or administrative proceeding.

f. To disclose information to officials of the Merit Systems Protection Board, including the Office of the Special Counsel, when requested in connection with appeals, special studies of the civil service and other merit systems, review of Office rules and regulation, investigations of alleged or possible prohibited personnel practices, and such other functions, e.g., as prescribed in 5 U.S.C. 1205 and 1206, or as may be authorized by law.

g. To disclose information to the Equal Employment Opportunity Commission when requested in connection with investigations into alleged or possible discrimination complaints in the Federal sector, examination of Federal Affirmative employment programs, compliance by Federal agencies with the Uniform Guidelines on Employee Selection Procedures, or other functions vested in the Commission by the President's Reorganization Plan No. l of 1978.

h. To disclose information to the Federal Labor Relations Authority or its General Counsel when requested in connection with investigations of allegations of unfair labor practices or matters before the Federal Service Impasses Panel.

DISCLOSURE TO CONSUMER REPORTING AGENCIES:

None.

POLICIES AND PRACTICES FOR STORING, RETRIEVING, ACCESSING, RETAINING, AND DISPOSING OF RECORDS IN THE SYSTEM:

STORAGE:

These records are maintained in file folders.

RETRIEVABILITY:

These records are retrieved by name of individual making request and by date of request.

SAFEGUARDS:

These records are located in lockable metal filing cabinets with access limited to personnel whose duties require access.

RETENTION AND DISPOSAL:

Destroyed two years after response date if no denial was involved. Destroyed five years after response date if denial of records was involved. If there is an appeal to the Solicitor of Labor, the records are destroyed six years after final agency determination or 3 years after final court adjudication, whichever is later.

SYSTEM MANAGER(S) AND ADDRESS:

Head of agencies or component units within the Department who have custody of the records. (See the appropriate Agency Official in the listing in the Appendix to this document.

NOTIFICATION PROCEDURE:

Individuals wishing to inquire whether this system of records contains information about them should contact the system manager at the appropriate office or region where their original Privacy Act or Freedom of Information Act request was sent, or where they received responses to such requests.

RECORD ACCESS PROCEDURE:

A request for access shall be addressed to each facility to which the requester has submitted a Freedom of Information Act or Privacy Act request.

Note: Individuals must furnish the following information for their records to be located and identified:

a. Name

b. Approximate dates of Privacy Act/FOIA Act correspondence between the Department of Labor and the individual.

CONTESTING RECORD PROCEDURES:

A petition for amendment shall be addressed to the System Manager listed above.

RECORD SOURCE CATEGORIES:

Information in this system of records comes from: The individual requester; official documents, agency officials, and other Federal agencies.

SYSTEMS EXEMPTED FROM CERTAIN PROVISIONS OF THE ACT:

The Department of Labor has claimed exemptions from several of its other systems of records under 5 U.S.C. 552a(k) (1), (2), (3), (5), and (6). During the course of a PA/FOIA action, exempt materials from those other systems may become part of the case record in this system. To the extent that copies of exempt records from those other systems are entered into these PA/FOIA case records, the Department has claimed the same exemptions for the records as they have in the original primary system of records of which they are a part.

DOL/OASAM-25

SYSTEM NAME:

Intergovernmental Personnel Act Assignment Records.

SECURITY CLASSIFICATION:

None.

SYSTEM LOCATION:

A. In Washington, DC: OASAM, Human Resources Center

B. OASAM Regional Personnel Offices.

CATEGORIES OF INDIVIDUALS COVERED BY THE SYSTEM:

Current or former State or local government agency or educational institution employees, employees of Indian tribal governments, or other organizations who have completed or are presently on an assignment in a DOL agency under the provisions of IPA.

CATEGORIES OF RECORDS IN THE SYSTEM:

These records consist of a copy of the individual's IPA agreement between a DOL agency and a State or local government, educational institution, Indian tribal government, or other organization; biographical and background information about the assignees.

AUTHORITY FOR MAINTENANCE OF THE SYSTEM:

The Intergovernmental Personnel Act of 1970. (5 U.S.C. 3371 through 3376).

PURPOSE(S):

These records are maintained to document and track mobility assignments under IPA.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

Not applicable.

POLICIES AND PRACTICES FOR STORING, RETRIEVING, ACCESSING, RETAINING AND DISPOSING OF RECORDS IN THE SYSTEM:

STORAGE:

Records are maintained in file folders.

RETRIEVABILITY:

By the name of the individual.

SAFEGUARDS:

Files are maintained in an area with limited access.

RETENTION AND DISPOSAL:

Records are retained for a period of three years following the completion of the assignment.

SYSTEM MANAGER(S) AND ADDRESS:

Director, Human Resource Services Center, U.S. Department of Labor, 200 Constitution Avenue, NW, Washington, DC 20210.

NOTIFICATION PROCEDURE:

Individuals wanting to inquire whether this system contains information about them should contact the servicing personnel office.

RECORD ACCESS PROCEDURES:

Contact the servicing personnel office.

CONTESTING RECORD PROCEDURES:

Contact the servicing personnel office.

RECORDS SOURCE CATEGORIES:

Information provided by the assignee and by officials in DOL agencies, State and local governments, educational institutions, Indian tribal governments and other organizations where the assignee is employed.

SYSTEMS EXEMPTED FROM CERTAIN PROVISIONS OF THE ACT:

Not applicable.

DOL/OASAM-26

SYSTEM NAME:

Frances Perkins Building Parking Management System.

SECURITY CLASSIFICATION:

None.

SYSTEM LOCATION:

Office of Facilities Management, Frances Perkins Building, 200 Constitution Avenue, NW, Washington, DC 20210.

CATEGORIES OF INDIVIDUALS COVERED BY THE SYSTEM:

All individuals assigned or applying for assignment of parking privileges in the Frances Perkins Building, Washington, DC.

CATEGORIES OF RECORDS IN THE SYSTEM:

This system includes: name, office building and room number, office telephone number, employing agency, home address, federal service computation date, handicap certification, automobile license number, make and year of car, permit numbers (if assigned parking privileges), category of assignment, and office location in/out of zone of special consideration.

AUTHORITY FOR MAINTENANCE OF THE SYSTEM:

5 U.S.C. 301.

PURPOSE(S):

To maintain records on individuals who are assigned or applying for assignment of parking privileges in the Frances Perkins Building.

ROUTINE USES OF RECORDS MAINTAINED IN THE SYSTEM, INCLUDING CATEGORIES OF USERS AND THE PURPOSES OF SUCH USES:

Disclosure of information may be made to other government agencies to compare names of car pool members. (For verification, the names of car pool members, their office telephone number and permit numbers will be displayed within the Frances Perkins Building.) Applications for disabled parking shall be disclosed to the PHS for medical review and approval. The names of car pool members, permit number, agency and office telephone numbers will be provided to the management contractor for the sale of permits.

DISCLOSURE TO CONSUMER REPORTING AGENCIES:

None.

POLICIES AND PRACTICES FOR STORING, RETRIEVING, ACCESSING, RETAINING, AND DISPOSING OF RECORDS IN THE SYSTEM:

STORAGE:

Manual files are stored in a local, three drawer file cabinet. Computer records are stored in a personal computer with a password control.

RETRIEVABILITY:

Records are filed and retrieved by name or permit number.

SAFEGUARDS:

Access to and use of these records is limited to personnel whose official duties require access. Automated data in personal computer are password protected. Written application data are placed in file cabinets.

RETENTION AND DISPOSAL:

Records are retained while the assignments are current and are destroyed after the completion of each parking reallocation cycle.

SYSTEM MANAGER(S) AND ADDRESS:

Director, Office of Facilities Management, U.S. Department of Labor, 200 Constitution Avenue, NW, Washington, DC 20210.

NOTIFICATION PROCEDURE:

Access to these records may be obtained by request in writing to: Director, Office of Facilities Management, 200 Constitution Avenue, NW, Washington, DC 20210.

RECORD ACCESS PROCEDURE:

Individuals wishing to request access to records should contact the appropriate office listed in the notification procedure section. Individuals must furnish the name or permit number for the record they wish to access.

CONTESTING RECORDS PROCEDURES:

Individuals wishing to request amendment of the records should contact the official at the address specified under notification procedures above, and reasonably identify the record and specify the information to be contested.

RECORDS SOURCE CATEGORIES:

Information comes from the individuals to whom the information pertains. Also, other government agencies may provide information to the Department.

SYSTEMS EXEMPTED FROM CERTAIN PROVISIONS OF THE ACT:

None.

DOL/OASAM-27

SYSTEM NAME:

Employee/Contractor Identification Program.

SECURITY CLASSIFICATION:

None.

SYSTEM LOCATION:

U.S. Department of Labor, Office of the Assistant Secretary for Administration and Management (OASAM), Business Operations Center (BOC), Administrative Services Center (ASC), Customer Service, 200 Constitution Avenue, NW, Washington, DC 20210.

CATEGORIES OF INDIVIDUALS COVERED BY THE SYSTEM:

Individual DOL employees and individual employees of contractors doing business with DOL.

CATEGORIES OF RECORDS IN THE SYSTEM:

Records which contain individual identifiers plus a photographic image of DOL employees and DOL contract employees.

AUTHORITY OF MAINTENANCE OF THE SYSTEM:

5 U.S.C. 301.

PURPOSE(S):

To maintain records on the identification of persons to be rightfully admitted to DOL facilities.

ROUTINE USES OF RECORDS MAINTAINED IN THE SYSTEM, INCLUDING CATEGORIES OF USERS AND PURPOSE OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS:

STORAGE:

Automated records are stored on the hard drive of a computer and manual records are stored in a secure file cabinet.

RETENTION AND DISPOSAL:

Records are maintained indefinitely.

RETRIEVABILITY:

Records are retrieved by the employee's or contractor's last name or social security number and agency.

SYSTEM MANAGER(S) AND ADDRESS:

Director, Customer Service, OASAM, U.S. Department of Labor, 200 Constitution Avenue, NW, Washington, DC 20210.

NOTIFICATION PROCEDURE:

Individuals wishing to inquire whether this system of records contains information about them should contact the system manager indicated above.

RECORD ACCESS PROCEDURE:

Individuals requesting access must comply with Privacy Act regulations on verification of identity and access to records. (See 29 CFR part 71.)

CONTESTING RECORD PROCEDURE:

Same as notification procedure above, except individuals desiring to contest or amend information maintained in the system should direct their written request to the system manager listed above, and state clearly and concisely what information is being contested, the reasons for contesting it, and the proposed amendment to the information sought.

RECORD SOURCE CATEGORIES:

Individual DOL employees and individual employees of contractors doing business with DOL.

SYSTEMS EXEMPTED FROM CERTAIN PROVISIONS OF THE ACT:

None.

DOL/OASAM-28

SYSTEM NAME:

Incident Report/Restriction Notice.

SECURITY CLASSIFICATION:

None.

SYSTEM LOCATION:

U.S. Department of Labor, Office of the Assistant Secretary for Administration and Management (OASAM), Business Operations Center (BOC), Office of Facilities Management (OFM), Division of Security, 200 Constitution Avenue NW, Washington, DC 20210.

CATEGORIES OF INDIVIDUALS COVERED BY THE SYSTEM:

Complainants, Witnesses and Suspects.

CATEGORIES OF RECORDS IN THE SYSTEM:

Records which contain information on incidents that occurred in the Frances Perkins Building. Information includes name, agency and date of incident.

AUTHORITY OF MAINTENANCE OF THE SYSTEM:

5 U.S.C. 301.

PURPOSE(S):

Records provide a means of identifying security problems thereby making it possible to better utilize security resources.

ROUTINE USES OF RECORDS MAINTAINED IN THE SYSTEM, INCLUDING CATEGORIES OF USERS AND PURPOSE OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS:

STORAGE:

Manual files in a cabinet housed in a secured room.

RETENTION AND DISPOSAL:

Records are maintained seven years, at which time they are destroyed.

RETRIEVABILITY:

Records are filed and retrieved by names.

SYSTEM MANAGER(S) AND ADDRESS:

Chief, Division of Security and Emergency Preparedness, U.S. Department of Labor, OASAM/ BOC/OFM, 200 constitution Avenue, NW, Washington, DC 20210.

NOTIFICATION PROCEDURE:

Individuals wishing to inquire whether this system of records contains information about them should contact the system manager indicated above.

RECORD ACCESS PROCEDURE:

Individuals wishing to request access to information about them should contact the system manager indicated above.

CONTESTING RECORD PROCEDURE:

Same as notification procedure above, except individuals desiring to contest or amend information maintained in the system should direct their written request to the system manager listed above, and state clearly and concisely what information is being contested, the reasons for contesting it, and the proposed amendment to the information sought.

RECORD SOURCE CATEGORIES:

Sources of information contained in this system are from individuals, DOL records, Federal Protective Service records and FBI records.

SYSTEMS EXEMPTED FROM CERTAIN PROVISIONS OF THE ACT:

None.

DOL/OASAM-29

SYSTEM NAME:

OASAM Employee Administrative Investigation File.

SECURITY CLASSIFICATION:

None.

SYSTEM LOCATION:

Offices within the Office of the Assistant Secretary for Administration and Management at the National Office and in each of the Regional Offices in addition to all OASAM client agencies in the National Office and in the regions.

CATEGORIES OF INDIVIDUALS COVERED BY THE SYSTEM:

OASAM employees and the Business Operations Center client agency personnel against whom allegations of misconduct have been made.

CATEGORIES OF RECORDS IN THE SYSTEM:

Investigative report(s), sworn affidavits, written statements, time and attendance records, earnings and leave statements, applications for leave, notifications of personnel actions, travel vouchers, 171's, certificates of eligible, performance appraisals, interviews and other data gathered from involved parties and organizations which are associated with the case.

AUTHORITY FOR MAINTENANCE OF THE SYSTEM:

5 U.S.C. 301.

PURPOSE(s):

To maintain records on investigations of allegations of misconduct.

ROUTINE USE OF RECORDS MAINTAINED IN THE SYSTEM, INCLUDING CATEGORIES OF USERS AND THE PURPOSE OF SUCH USERS:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Records are stored in file cabinets.

RETRIEVABILITY:

By name or case file number.

SAFEGUARDS:

Files are maintained in locked file cabinets with access only to those with a need to know the information to perform their duties.

RETENTION AND DISPOSAL:

Records are retained for four years following the date either: (a) They are referred to the OIG; (b) they are transferred to OPM/GOVT-3 Records of Adverse Actions and Actions Based on Unacceptable Performance; or (c) it is determined that the allegation was without sufficient merit to warrant further action, after which they are destroyed by burning.

SYSTEM MANAGER(S) AND ADDRESS:

Director, Human Resources Services Center, 200 Constitution Avenue, NW., Washington, DC 20210, and appropriate Regional Personnel Officers.

NOTIFICATION PROCEDURE:

Inquiries should be mailed or presented to the system manager noted at the address listed above.

RECORDS ACCESS PROCEDURES:

A request for access shall be addressed to the system manager at the address listed above. Individuals must furnish the following information for their records to be located and identified: Name; approximate date of the investigation.

CONTESTING RECORD PROCEDURES:

A petition for amendment shall be addressed to the System Manager and must meet the requirements of 29 CFR Part 71.

RECORD SOURCE CATEGORIES:

Hotline complaints through the Office of the Inspector General's hotline or through the General Accounting Office; incident reports submitted by employees or members of the general public; statements by subject and fellow employees; and other investigative reports.

SYSTEM EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/OASAM-30

SYSTEM NAME:

Injury Compensation System (ICS).

SECURITY CLASSIFICATION:

None.

SYSTEM LOCATION:

A. Offices in Washington, DC: Safety and Health Center, OASAM, and

B. OASAM Regional Personnel Offices.

CATEGORIES OF INDIVIDUALS COVERED BY THE SYSTEM:

Current/former employees of the Department of Labor and current/former Job Corps Center students who file, or who have filed on their behalf, workers' compensation claims for traumatic injury, occupational disease, recurrence of disability, and death.

CATEGORIES OF RECORDS IN THE SYSTEM:

This system contains information relating to a DOL employee's/Job Corps Center student's claim for compensation filed under procedures established by the Office of Worker's Compensation Programs.

AUTHORITY FOR MAINTENANCE OF THE SYSTEM:

Federal Employees' Compensation Act, as amended (codified in 5 U.S.C. 8101 et seq.), and to related regulations in Title 20, Code of Federal Regulations (CFR), part 10; The Occupational Safety and Health Act of 1970 (Pub. L. 91-596), Executive Order 12196; Occupational Safety and Health Programs for Federal Employees, and 29 CFR part 1960.

Purpose(s):

The records are used as a reference, by agency officials, to track and monitor DOL employees and/or Job Corps Center students who receive continuation of pay and/or FECA compensation benefits.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Records are maintained in manual and automated files.

RETRIEVABILITY:

Manual files are indexed by agency/region. Automated files are retrieved by: Agency/region code, case number, claimant's name, fiscal year.

SAFEGUARDS:

Manual files are maintained in locked file cabinets under supervision of Office of Safety and Health personnel. Confidential passwords are required for access to automated records.

RETENTION AND DISPOSAL:

Records are maintained in the ICS system for 5 years.

System Manager(s) Address:

Director, Office of Safety and Health, U.S. Department of Labor, 200 Constitution Avenue, NW., Washington, DC 20210.

Notification Procedure:

Requests, including name, date of injury, agency name, and case file number, if known, should be addressed to the system manager listed above, at the office where the record is located.

Record Access Procedures:

A request for access shall be addressed to the system manager at the address listed above. Individuals must furnish the following information for their records to be located and identified:

a. Name and address.

CONTESTING RECORD PROCEDURES:

Not applicable.

RECORD SOURCE CATEGORIES:

Records in this system contain information extracted from OWCP/payroll data files/tapes.

SYSTEM EXEMPTED FROM CERTAIN PROVISIONS OF THE ACT:

None.

DOL/OASAM-31

SYSTEM NAME:

DOL Flexible Workplace (Flexiplace) Programs Evaluation and Files.

SECURITY CLASSIFICATION:

None.

SYSTEM LOCATION:

DOL/OASAM/Office of Human Resources, Office of Human Resource Systems and with each employee's supervisor.

CATEGORIES OF INDIVIDUALS COVERED BY THE SYSTEM:

DOL participants in Flexiplace Programs.

CATEGORIES OF RECORDS IN THE SYSTEM:

Records in the system include program participants, position title and grade, office location, and address of alternate work site. Records, also include survey information obtained during the individual's participation.

AUTHORITY FOR MAINTENANCE OF THE SYSTEM:

5 U.S.C. 301.

PURPOSE(S):

These records are used for statistical reporting and evaluation of the DOL Flexiplace Program, and are not used in any way for making any determination about an identifiable individual.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Records are maintained in manual files and on computer disks.

RETRIEVABILITY:

Records are retrieved by individual(s) name(s).

SAFEGUARDS:

Records are maintained on secure computer systems and can only be retrieved with the proper access code. Access to the manual files is limited to authorized users.

RETENTION AND DISPOSAL:

The database will be retained without individual identifiers (which will be deleted from the files) for statistical purposes only.

SYSTEM MANAGER(S) AND ADDRESS:

U.S. Department of Labor, Office of the Assistant Secretary for Administration and Management, Office of Human Resources, Office of Human Resource Systems, Frances Perkins Building, 200 Constitution Avenue, NW., Washington, DC 20210.

NOTIFICATION PROCEDURE:

Individuals wishing to inquire whether this system of records contains information about them should contact the systems manager listed above. Individuals must furnish the following information for their records to be located and identified: Name, GS grade and series, organizational unit.

RECORDS ACCESS PROCEDURES:

Individuals wishing to request access to records pertaining to them should contact the systems manager. Individuals must furnish the following information for their records to be located and identified: Name, GS grade and series, organizational unit.

CONTESTING RECORD PROCEDURE:

Individuals wishing to contest information in their files may write to the system manager at the specified address above, reasonably identify the records pertaining to them, the information which is being contested in those records, the corrective action(s) being sought, and the reasons for the correction(s).

RECORD SOURCE CATEGORIES:

Individual participants and their supervisors.

SYSTEMS EXEMPTED FROM CERTAIN PROVISIONS OF THE ACT:

Not applicable.

DOL/OASAM-32

SYSTEM NAME:

Transit Subsidy Management System.

SECURITY CLASSIFICATION:

None.

SYSTEM LOCATION:

U.S. Department of Labor, Financial Management Services Center, Office of the Assistant Secretary for Administration and Management (OASAM), 200 Constitution Avenue, NW, Washington, DC 20210.

CATEGORIES OF INDIVIDUALS COVERED BY THE SYSTEM:

All DOL employees who apply for Transit Subsidy benefits.

CATEGORIES OF RECORDS IN THE SYSTEM:

Records contain information on DOL employees, such as name, social security number, organization (code), office location, and employment status.

AUTHORITY FOR MAINTENANCE OF THE SYSTEM:

5 U.S.C. 301.

PURPOSE(S):

To maintain records on the Transit Subsidy Program.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files are retained by the Financial Management Services Center, in a file cabinet. Computer records are stored in a database server located in a secure area accessible only by encoded security cards.Machine readable version of the records is kept in a secure microcomputer (server) database.

RETRIEVABILITY:

Records are filed and retrieved by name or Social Security Number.

SAFEGUARDS:

Records can be accessed only through the use of passwords given to authorized DOL employees by the Database Administrator on a need to know basis.

RETENTION AND DISPOSAL:

Records are retained for three years and then destroyed.

SYSTEM MANAGER(S) AND ADDRESS:

Director, Business Operations Center, OASAM, U.S. Department of Labor, 200 Constitution Avenue, NW., Washington DC, 20210.

NOTIFICATION PROCEDURES:

Inquiries should be mailed or presented to the system manager noted at the address listed above.

RECORD ACCESS PROCEDURES

A request for access shall be addressed to the system manager at the address listed above.

CONTESTING RECORDS PROCEDURES:

A petition for amendments shall be addressed to the System Manager and must meet the requirements of the DOL Privacy Act regulations at 29 CFR 71.

RECORD SOURCE CATEGORIES:

Information contained in this system is from the DOL Payroll System and the applicant.

SYSTEMS EXEMPTED FROM CERTAIN PROVISIONS OF THE ACT:

None.

DOL/OASAM-33

SYSTEM NAME:

Entity Database.

SECURITY CLASSIFICATION:

None.

SYSTEM LOCATION:

U.S. Department of Labor, Office of the Assistant Secretary for Administration and Management (OASAM), Information Technology Center (ITC), 200 Constitution Avenue, NW., Washington, DC 20210.

CATEGORIES OF INDIVIDUALS COVERED BY THE SYSTEM:

DOL employees and contract employees.

CATEGORIES OF RECORDS IN THE SYSTEM:

Records contain information on DOL employees, such as name, social security number, organization (code), pay plan, series, title, address, badge number, agency, cost center, phone number.

AUTHORITY FOR MAINTENANCE OF THE SYSTEM:

5 U.S.C. 301.

PURPOSE(S):

The data is used to complete applications, personnel and administrative forms, and provide input to various small systems used in administration and management of DOL employees.

ROUTINE USES OF RECORDS MAINTAINED IN THE SYSTEM, INCLUDING CATEGORIES OF USERS AND PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Computer records are stored in a database server located in a secure area accessible only by encoded security cards. Access to records, forms, applications, processes, and information is controlled by System Managers. The Entity database is not accessible by any individual user. Machine readable version of the records are kept in a secure microcomputer (server) database.

RETRIEVABILITY:

Specific records may be retrieved by name, SSN, organization, grade.

SAFEGUARDS:

Records are protected at both the machine (server) level and data level. Records can be accessed only through the use of passwords given to authorized DOL employees by the Database Administrator on a need to know basis. Access to specific data elements is further controlled by a need to know basis.

RETENTION AND DISPOSAL:

The data is updated daily or on an as required basis. Earlier data are overwritten.

SYSTEM MANAGER(S) AND ADDRESS:

Director, Information Technology Center, OASAM, U.S. Department of Labor, 200 Constitution Avenue, NW., Washington DC 20210.

NOTIFICATION PROCEDURES:

Inquiries should be mailed or presented to the system manager noted at the address listed above.

RECORD ACCESS PROCEDURES

A request for access shall be addressed to the appropriate system manager listed above.

CONTESTING RECORDS PROCEDURES:

A petition for amendments shall be addressed to the System Manager and must meet the requirements of the DOL Privacy Act regulation at 29 CFR part 71.

RECORD SOURCE CATEGORIES:

Information contained in this system is obtained from the DOL Payroll System and information supplied by the applicant.

SYSTEMS EXEMPTED FROM CERTAIN PROVISIONS OF THE ACT:

None.

DOL/OASAM-34

SYSTEM NAME:

DOL Fitness Association (DOLFA) Membership Files.

SECURITY CLASSIFICATION:

None.

SYSTEM LOCATION:

Fitness Center, U.S. Department of Labor, 200 Constitution Avenue, NW, Washington, DC 20210.

CATEGORIES OF INDIVIDUALS COVERED BY THE SYSTEM:

DOLFA members.

CATEGORIES OF RECORDS IN THE SYSTEM:

Records contain information on members, such as name, medical information required with a membership application, and attendance records.

AUTHORITY FOR MAINTENANCE OF THE SYSTEM:

5 U.S.C. 301.

PURPOSE(S):

Records are used to determine eligibility for membership, emergency contact numbers, and statistical utilization of the Fitness Center.

ROUTINE USES OF RECORDS MAINTAINED IN THE SYSTEM, INCLUDING CATEGORIES OF USERS AND PURPOSE OF SUCH USES:

Non-medical information collected from applicants for DOLFA membership shall be subject to those universal routine uses listed in the General Prefatory Statement to this document. In addition, relevant and necessary non-medical information may be disclosed to the current members of the DOLFA Board of Directors, and to the professional fitness specialists employed by DOLFA in the performance of their responsibilities. Medical information collected from applicants for DOLFA membership may be disclosed to the professional fitness specialists employed by DOLFA in the performance of their responsibilities.

DISCLOSURE TO CONSUMER REPORTING AGENCIES:

None.

POLICIES AND PRACTICES FOR STORING, RETRIEVING, ACCESSING, RETAINING, AND DISPOSING OF RECORDS IN THE SYSTEM:

STORAGE:

Records are maintained in locking file cabinets, and in computer files.

RETRIEVABILITY:

Records may be retrieved by name.

SAFEGUARDS:

Records can be accessed only during normal business hours and are maintained in a locked room at all other times. Access is limited to personnel (including current members of the DOLFA Board of Directors) who are directly responsible for the management and/or operation of the Frances Perkins Building Fitness Center. Such access and use must be in accordance with the provisions of the Privacy Act.

RETENTION AND DISPOSAL:

Records are destroyed five years after a member terminates membership in DOLFA.

SYSTEM MANAGER(S) AND ADDRESS:

Team Leader, Health and Fitness Team, Safety and Health Center, U.S. Department of Labor, 200 Constitution Avenue, NW., Washington DC 20210.

NOTIFICATION PROCEDURES:

An individual wishing to inquire whether this system of records contains information about him/her should submit a written request to the system manager, stating that the request is being made pursuant to the Privacy Act, and including: His/her full name, any former name, if applicable, home address, and approximate dates of membership in DOLFA, and DOLFA membership number, date and place of birth, and signature.

RECORD ACCESS PROCEDURES:

Follow the steps described above.

CONTESTING RECORDS PROCEDURES:

The written request for an amendment should include the following: The precise identification of the records to be amended; the identification of the specific material to be deleted, added, or changed; and a statement of reasons for the request, including all available material substantiating the request. Requests for amendment of records should include the words “Privacy Act Amendment Request” on both the envelope and at the top of the request letter.

RECORD SOURCE CATEGORIES:

Members.

SYSTEMS EXEMPTED FROM CERTAIN PROVISIONS OF THE ACT:

None.

DOL/OASAM-35

SYSTEM NAME:

DOL Child Care Subsidy Program Records.

SECURITY CLASSIFICATION:

None.

SYSTEM LOCATION:

DOL/OASAM/Worklife Center.

CATEGORIES OF INDIVIDUALS COVERED BY THE SYSTEM:

Employees of the Department of Labor who apply for child care subsidies.

CATEGORIES OF RECORDS IN THE SYSTEM:

Application forms for the child care subsidy containing personal information, including employee (parent) name, grade, home and work addresses, telephone numbers, total family income, sources and amounts of State/County/Local subsidies, names of children on whose behalf the parent is applying for the child care subsidy, children's Social Security Numbers, children's dates of birth; information on child care providers used, including name, address, provider license number and State where issued, tuition cost, and provider tax identification number; and copies of earnings and leave statements and IRS Form 1040 and 1040A for verification purposes.

AUTHORITY FOR MAINTENANCE OF THE SYSTEM:

Pub. L. 106-58, sec. 643 and E.O. 9397.

PURPOSE(S):

To establish and verify DOL employees' eligibility for child care subsidies in order for DOL to provide monetary assistance to its employees.

ROUTINE USES OF RECORDS MAINTAINED IN THE SYSTEM, INCLUDING CATEGORIES OF USERS AND THE PURPOSES OF SUCH USES:

None, except for those universal routine uses set forth in the General Prefatory Statement to this document.

POLICIES AND PRACTICES FOR STORING, RETRIEVING, ACCESSING, RETAINING, AND DISPOSING OF RECORDS IN THE SYSTEM:

STORAGE:

Information may be collected on paper or electronically and may be stored as paper forms or on computers.

RETRIEVABILITY:

By name.

SAFEGUARDS:

When not in use by an authorized person, paper records are stored in lockable file cabinets or secured rooms. Electronic records are protected by the use of passwords.

RETENTION AND DISPOSAL:

Records are destroyed after three years.

SYSTEM MANAGER(S) AND ADDRESS:

U.S. Department of Labor, Office of the Assistant Secretary for Administration and Management, Human Resources Center, Worklife Center, Frances Perkins Building, 200 Constitution Avenue, NW, Washington, DC 20210.

NOTIFICATION PROCEDURE:

Individuals wishing to inquire whether this system of records contains information about them should contact the system manager listed above. Individuals must furnish their full name and address.

RECORDS ACCESS PROCEDURE:

Individuals wishing to request access to records pertaining to them should contact the system manager.

CONTESTING RECORD PROCEDURE:

Individuals wishing to contest information in their files may write to the system manager at the address above, reasonably identify the records pertaining to them, the information that is being contested in those records, the corrective action(s) being sought, and the reasons for the correction(s).

RECORD SOURCE CATEGORIES:

DOL employees who apply for the child care subsidy program.

SYSTEMS EXEMPTED FROM CERTAIN PROVISIONS OF THE ACT:

None.

DOL/OASAM-36

SYSTEM NAME:

PeoplePower.

SECURITY CLASSIFICATION:

None.

SYSTEM LOCATION:

U.S. Department of Labor, Office of the Assistant Secretary for Administration and Management (OASAM), People Power Team, 200 Constitution Avenue, NW., Washington, DC 20210.

CATEGORIES OF INDIVIDUALS COVERED BY THE SYSTEM:

DOL employees.

CATEGORIES OF RECORDS IN THE SYSTEM:

Records contain information on DOL employees, such as name, social security number, organization (code), pay plan, series, title, address, badge number, agency, cost center, phone number, and benefits data, and information necessary to produce reports required by OPM and DOL. Also, it contains records of training received by individual employees for cost or no cost training. In addition, the records contain internal reports submitted to prepare Departmental budget and employment reports. These reports include information such as job title, grade, location, name and social security number.

AUTHORITY FOR MAINTENANCE OF THE SYSTEM:

5 U.S.C. 301.

PURPOSE(S):

The data is used to produce official personnel actions notifications (SF-50, SF-52), and to store and provide access to current and historical human resource information for all of the Department's employees. A further purpose is to administer training, to manage budgets with regard to employee positions, to produce analytical reports, and to automate workflow within the human resources offices.

ROUTINE USES OF RECORDS MAINTAINED IN THE SYSTEM, INCLUDING CATEGORIES OF USERS AND PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Computer records are stored in a database server located in a secure area accessible only by encoded security cards. Access to records, forms, applications, processes, and information is controlled by System Manager. Machine readable version of the records are kept in a secure microcomputer (server) database.

RETRIEVABILITY:

Specific records may be retrieved by name, organization, grade.

SAFEGUARDS:

Records are protected at both the machine (server) level and data level. Records can be accessed only through the use of passwords given to authorized DOL employees by the Database Administrator on a need to know basis. Access to specific data elements is further controlled by a need to know basis. Each component's database is only accessible by that component's responsible personnel office in either the national or regional office. Likewise, the 9 DOL budget offices in the national office, in conjunction with the 14 nationwide human resources offices, can access their own component agency's database.

RETENTION AND DISPOSAL:

Records may be retained indefinitely as a basis for longitudinal work history statistical studies. Other records are retained for varying periods of time in accordance with the National Archives and Records Administration records schedule.

SYSTEM MANAGER(S) AND ADDRESS:

Project Director, People Power Team, OASAM, U.S. Department of Labor, 200 Constitution Avenue, NW., Washington DC, 20210.

NOTIFICATION PROCEDURES:

Inquiries should be mailed or presented to the system manager noted at the address listed above.

RECORD ACCESS PROCEDURES:

A request for access shall be addressed to the system manager listed above.

CONTESTING RECORDS PROCEDURES:

A petition for amendments shall be addressed to the System Manager and must meet the requirements of the DOL Privacy Act regulation at 29 CFR part 71.

RECORD SOURCE CATEGORIES:

Information contained in this system is obtained from the DOL Payroll System and information supplied by the applicant.

SYSTEMS EXEMPTED FROM CERTAIN PROVISIONS OF THE ACT:

None.

DOL/OALJ-1

SYSTEM NAME:

Office of Administrative Law Judges Case Tracking System (CTS).

SECURITY CLASSIFICATION:

None.

SYSTEM LOCATION:

U.S. Department of Labor, Office of Administrative Law Judges (OALJ), 800 K St., NW., Washington, DC 20001.

CATEGORIES OF INDIVIDUALS COVERED BY THE SYSTEM:

Claimants, complainants, respondents, and other party litigants in cases before the OALJ for hearing and decision.

CATEGORIES OF RECORDS IN THE SYSTEM:

Records that contain information and pertinent data gathered from case files and court filings, necessary to hear and decide cases.

AUTHORITY FOR MAINTENANCE OF THE SYSTEM:

Administrative Procedure Act, 5 U.S.C. 553, 554, 556, 557, 571 et seq.; Age Discrimination Act of 1975, 42 U.S.C. 6103; 29 CFR part 34; Americans with Disabilities Act of 1990, 42 U.S.C. 12101 et seq.; 29 CFR part 34; Title VI of the Civil Rights Act of 1964, 42 U.S.C. 2000d-1; 29 CFR part 31; Clean Air Act, 42 U.S.C. 7622; 29 CFR part 24; Comprehensive Employment and Training Act, 29 U.S.C. 801-999 (Supp. V 1981); 20 CFR part 676 (1990); Comprehensive Environmental Response, Compensation and Liability Act of 1980, 42 U.S.C. 9610; 29 CFR part 24; Contract Disputes Act, 41 U.S.C. 601 et seq.; 41 CFR part 29-60; 48 CFR 2933.203.70; Contract Work Hours and Safety Standards Act, 40 U.S.C. 327 et seq.; 29 CFR part 6; Copeland Act, 40 U.S.C. 276c; 29 CFR part 6; Davis-Bacon Act, as amended, 40 U.S.C. 276a-276a-7; 29 CFR part 6; Debt Collection Act of 1982, 31 U.S.C. 3711(f); 29 CFR part 20; Title IX of the Education Amendments of 1972, 20 U.S.C. 1682; 29 CFR part 34; Employee Polygraph Protection Act of 1988, 29 U.S.C. 2005; 29 CFR part 801, subpart E; Employee Retirement Income Security Act of 1974, 29 U.S.C. 1132 and 1135; 29 CFR parts 2560 and 2570; Energy Reorganization Act of 1974, as amended, 42 U.S.C. 5851; 29 CFR part 24; Equal Access to Justice Act, 5 U.S.C. 504; 29 CFR part 16; Executive Order No. 11,246, as amended, 3 CFR 339 (1964-1965 Comp.); reprinted in 42 U.S.C. 2000e app.; 41 CFR parts 60-1 and 60-30; Fair Labor Standards Act of 1938, as amended, 29 U.S.C. 211(d); 29 CFR part 530, subpart E; Fair Labor Standards Act of 1938, as amended, 29 U.S.C. 214(c); 29 CFR part 525; Fair Labor Standards Act of 1938, as amended, 29 U.S.C. 216(e); 29 CFR part 580; Title IV of the Federal Mine Safety and Health Act of 1977, as amended, 33 U.S.C. 901 et seq.; 20 CFR parts 410, 718, 725 and 727; Federal Unemployment Tax Act, 26 U.S.C. 3303(b)(3), 3304(c); Federal Unemployment Tax Act (addressing agreements under the Trade Act of 1974, as amended), 26 U.S.C. 3302(c)(3); 20 CFR part 617; Federal Water Pollution Control Act, 33 U.S.C. 1367; 29 CFR part 24; Immigration and Nationality Act, as amended, 8 U.S.C. 1101(a)(15)(H), 1184 and 1186; 29 CFR part 501, subpart C; Immigration and Nationality Act, as amended, 8 U.S.C. 1101(a)(15)(H), 1182, 1184, 1188, 1288(c); 20 CFR part 655; Immigration and Nationality Act, as amended, 8 U.S.C. 1182(a)(5)(A); 20 CFR part 656; Job Training Partnership Act, 29 U.S.C. 1576; 20 CFR part 627; Labor-Management Reporting & Disclosure Act of 1959, 5 U.S.C. 7120; 29 CFR part 458; Longshore and Harbor Workers' Compensation Act, 33 U.S.C. 901 et seq. (and its extensions Defense Base Act, Outer Continental Shelf Lands Act, District of Columbia Workmen's Compensation Act, 36 DC Code 501 et seq.; Nonappropriated Fund Instrumentalities Act); 20 CFR parts 701, 702 and 704; McNamara-O'Hara Service Contract Act, as amended, 41 U.S.C. 351 et seq.; 29 CFR part 6; Migrant and Seasonal Agricultural Worker Protection Act, 29 U.S.C. 1813, 1853; 29 CFR part 500, subpart F; National Apprenticeship Act, 29 U.S.C. 50; 29 CFR parts 29 and 30; Program Fraud Civil Remedies Act of 1986, 31 U.S.C. 3803; 29 CFR part 22; sec. 503 of the Rehabilitation Act of 1973, as amended, 29 U.S.C. 793; 41 CFR part 60-741, subpart B; sec. 504 of the Rehabilitation Act of 1973, as amended, 29 U.S.C. 794; 29 CFR part 32; Reorganization Plan No. 14 of 1950; and 29 CFR part 6; Rules of Practice and Procedure for Administrative Hearings Before the Office of Administrative Law Judges, 29 CFR part 18; Safe Drinking Water Act, 42 U.S.C. 300j-9(i); 29 CFR part 24; Single Audit Act of 1984, 31 U.S.C. 7505; OMB Circular Nos. A-128 and A-110; 29 CFR part 96, subpart 96.6; Social Security Act, 42 U.S.C. 503; 20 CFR part 601; Solid Waste Disposal Act, 42 U.S.C. 6971; 29 CFR part 24; Surface Transportation Assistance Act, 49 U.S.C. 31105; 29 CFR part 1978; Toxic Substances Control Act, 15 U.S.C. 2622; 29 CFR part 24; Vietnam Era Veterans Readjustment Assistance Act, as amended, 38 U.S.C. 4211, 4212; 41 CFR part 60-250, subpart B; Wagner-Peyser Act, as amended, 29 U.S.C. 49 et seq.; 20 CFR part 658; Walsh-Healey Public Contracts Act, as amended, 41 U.S.C. 38; 41 CFR part 50-203; Workforce Investment Act of 1998, 29 U.S.C. 2801 et seq.; other statutes, executive orders and regulations providing for an administrative law judge hearing as they may become applicable in the future.

PURPOSE(S):

To maintain the court docket for administrative law judge adjudications. The records and information in the case tracking system are used as the court docket system in administrative law judge hearings conducted pursuant to 5 U.S.C. 552, 553, 554, 556 and 557 and/or a variety of particular statutes and Executive Orders. The purpose of the system is to facilitate the processing of cases and determination of issues in hearings and appeals proceedings.

ROUTINE USES OF RECORDS MAINTAINED IN THE SYSTEM, INCLUDING CATEGORIES OF USERS AND THE PURPOSES OF SUCH USES:

In addition to those universal routine uses listed in the General Prefatory Statement to this document, information may be disclosed to contractors and other Federal agencies, as necessary, for the purpose of assisting this agency in further development and continuing maintenance of the system, or hearing-related functions.

Since the administrative law judges proceedings conducted by the Office of Administrative Law Judges are public, court docket records are available for public inspection.

DISCLOSURE TO CONSUMER REPORTING AGENCIES:

None.

POLICIES AND PRACTICES FOR STORING, RETRIEVING, ACCESSING, RETAINING, AND DISPOSING OF RECORDS IN THE SYSTEM:

STORAGE:

Computer system.

RETRIEVABILITY:

Retrieval by Case Number. Other searchable fields such as name of party, are available.

SAFEGUARDS:

Access is limited to authorized users.

RETENTION AND DISPOSAL:

Records are deleted fifty years after the appeal process has been completed.

SYSTEM MANAGER(S) AND ADDRESS:

Director of Program Operations, U.S. Department of Labor, Office of Administrative Law Judges (OALJ), 800 K St., NW., Washington, DC 20001.

NOTIFICATION PROCEDURES:

Inquiries regarding the existence of records should be in the form of a written, signed request to the above address.

RECORD ACCESS PROCEDURES:

As in notification procedures.

CONTESTING RECORD PROCEDURES:

As in notification procedures.

RECORD SOURCE CATEGORIES:

Office of Administrative Law Judge Case Files.

SYSTEM EXEMPTED FROM CERTAIN PROVISIONS OF THE ACT:

None.

DOL/OALJ-2

SYSTEM NAME:

Office of Administrative Law Judge Case Files.

SECURITY CLASSIFICATION:

None.

SYSTEM LOCATION:

Unassigned case files are maintained by the Chief Administrative Law Judge or a District Chief Administrative Law Judge. Assigned case files are maintained by the presiding administrative law judge. Files may be located in the National Office, U.S. Department of Labor, Office of Administrative Law Judges (OALJ), 800 K St., NW, Washington, DC 20001, or in District offices.

CATEGORIES OF INDIVIDUALS COVERED BY THE SYSTEM:

Claimants, complainants, respondents, and other party litigants in cases referred to OALJ for hearing and decision.

CATEGORIES OF RECORDS IN THE SYSTEM:

Records may contain claim files, determinations and referral letters from the agency with initial claim development or investigatory responsibility; documents proffered as evidence; pleadings, motions and other submissions by litigants; administrative law judge orders, and decisions and orders; the hearing transcript; and other documents and information necessary to hear and decide cases.

AUTHORITY FOR MAINTENANCE OF THE SYSTEM:

Administrative Procedure Act, 5 U.S.C. 553, 554, 556, 557, 571 et seq.; Age Discrimination Act of 1975, 42 U.S.C. 6103; 29 CFR part 34; Americans with Disabilities Act of 1990, 42 U.S.C. 12101 et seq.; 29 CFR part 34; Title VI of the Civil Rights Act of 1964, 42 U.S.C. 2000d-1; 29 CFR part 31; Clean Air Act, 42 U.S.C. 7622; 29 CFR part 24; Comprehensive Employment and Training Act, 29 U.S.C. 801-999 (Supp. V 1981); 20 CFR part 676 (1990); Comprehensive Environmental Response, Compensation and Liability Act of 1980, 42 U.S.C. 9610; 29 CFR part 24; Contract Disputes Act, 41 U.S.C. 601 et seq.; 41 CFR part 29-60; 48 CFR 2933.203.70; Contract Work Hours and Safety Standards Act, 40 U.S.C. 327 et seq.; 29 CFR part 6; Copeland Act, 40 U.S.C. 276c; 29 CFR part 6; Davis-Bacon Act, as amended, 40 U.S.C. 276a-276a-7; 29 CFR part 6; Debt Collection Act of 1982, 31 U.S.C. 3711(f); 29 CFR part 20; Title IX of the Education Amendments of 1972, 20 U.S.C. 1682; 29 CFR part 34; Employee Polygraph Protection Act of 1988, 29 U.S.C. 2005; 29 CFR part 801, subpart E; Employee Retirement Income Security Act of 1974, 29 U.S.C. 1132 and 1135; 29 CFR parts 2560 and 2570; Energy Reorganization Act of 1974, as amended, 42 U.S.C. 5851; 29 CFR part 24; Equal Access to Justice Act, 5 U.S.C. 504; 29 CFR part 16; Executive Order No. 11,246, as amended, 3 CFR 339 (1964-1965 Comp.); reprinted in 42 U.S.C. 2000e app.; 41 CFR parts 60-1 and 60-30; Fair Labor Standards Act of 1938, as amended, 29 U.S.C. 211(d); 29 CFR part 530, subpart E; Fair Labor Standards Act of 1938, as amended, 29 U.S.C. 214(c); 29 CFR part 525; Fair Labor Standards Act of 1938, as amended, 29 U.S.C. 216(e); 29 CFR part 580; Title IV of the Federal Mine Safety and Health Act of 1977, as amended, 33 U.S.C. 901 et seq.; 20 CFR parts 410, 718, 725 and 727; Federal Unemployment Tax Act, 26 U.S.C. 3303(b)(3), 3304(c); Federal Unemployment Tax Act (addressing agreements under the Trade Act of 1974, as amended), 26 U.S.C. 3302(c)(3); 20 CFR part 617; Federal Water Pollution Control Act, 33 U.S.C. 1367; 29 CFR part 24; Immigration and Nationality Act, as amended, 8 U.S.C. 1101(a)(15)(H), 1184 and 1186; 29 CFR part 501, subpart C; Immigration and Nationality Act, as amended, 8 U.S.C. 1101(a)(15)(H), 1182, 1184, 1188, 1288(c); 20 CFR part 655; Immigration and Nationality Act, as amended, 8 U.S.C. 1182(a)(5)(A); 20 CFR part 656; Job Training Partnership Act, 29 U.S.C. 1576; 20 CFR part 627; Labor-Management Reporting & Disclosure Act of 1959, 5 U.S.C. 7120; 29 CFR part 458; Longshore and Harbor Workers' Compensation Act, 33 U.S.C. 901 et seq. (and its extensions Defense Base Act, Outer Continental Shelf Lands Act, District of Columbia Workmen's Compensation Act, 36 DC Code 501 et seq.; Nonappropriated Fund Instrumentalities Act); 20 CFR parts 701, 702 and 704; McNamara-O'Hara Service Contract Act, as amended, 41 U.S.C. 351 et seq.; 29 CFR part 6; Migrant and Seasonal Agricultural Worker Protection Act, 29 U.S.C. 1813, 1853; 29 CFR part 500, subpart F; National Apprenticeship Act, 29 U.S.C. 50; 29 CFR parts 29 and 30; Program Fraud Civil Remedies Act of 1986, 31 U.S.C. 3803; 29 CFR part 22; Section 503 of the Rehabilitation Act of 1973, as amended, 29 U.S.C. 793; 41 CFR part 60-741, subpart B; sec. 504 of the Rehabilitation Act of 1973, as amended, 29 U.S.C. 794; 29 CFR part 32; Reorganization Plan No. 14 of 1950; and 29 CFR part 6; Rules of Practice and Procedure for Administrative Hearings Before the Office of Administrative Law Judges, 29 CFR part 18; Safe Drinking Water Act, 42 U.S.C. 300j-9(i); 29 CFR part 24; Single Audit Act of 1984, 31 U.S.C. 7505; OMB Circular Nos. A-128 and A-110; 29 CFR part 96, subpart 96.6; Social Security Act, 42 U.S.C. 503; 20 CFR part 601; Solid Waste Disposal Act, 42 U.S.C. 6971; 29 CFR part 24; Surface Transportation Assistance Act, 49 U.S.C. 31105; 29 CFR part 1978; Toxic Substances Control Act, 15 U.S.C. 2622; 29 CFR part 24; Vietnam Era Veterans Readjustment Assistance Act, as amended, 38 U.S.C. 4211, 4212; 41 CFR part 60-250, subpart B; Wagner-Peyser Act, as amended, 29 U.S.C. 49 et seq.; 20 CFR part 658; Walsh-Healey Public Contracts Act, as amended, 41 U.S.C. 38; 41 CFR part 50-203; Workforce Investment Act of 1998, 29 U.S.C. 2801 et seq.; other statutes, executive orders and regulations providing for an administrative law judge hearing as they may become applicable in the future.

PURPOSE(S):

To maintain the court records for public administrative-adjudicative hearings. These records and information in these records are used as the court record in administrative law judge hearings conducted pursuant to 5 U.S.C. 552, 553, 554, 556 and 557 and/or a variety of particular statutes and Executive Orders. The purpose of the system is the adjudication of cases and determination of issues in hearings and appeals proceedings.

ROUTINE USES OF RECORDS MAINTAINED IN THE SYSTEM, INCLUDING CATEGORIES OF USERS AND THE PURPOSES OF SUCH USES:

When necessary, information from the case files may be disclosed to individuals in other matters pending before the Office of Administrative Law Judges. Information may be disclosed to contractors for hearing-related functions.

Since the administrative law judges proceedings conducted by the Office of Administrative Law Judges are public, case files are available for public inspection under the Freedom of Information Act, 5 U.S.C. 552. Administrative law judge and Administrative Review Board decisions are posted on the Internet at www.oalj.dol.gov, see 5 U.S.C. 552(a)(2)(A) and (E), and may be distributed to publishers.

See also routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Paper records are maintained in file folders. Electronic versions of ALJ orders and decisions are also stored in electronic media.

RETRIEVABILITY:

Retrieval By Case Number.

SAFEGUARDS:

Paper records are maintained in filing cabinets to which only authorized personnel have access. Computer records have security limiting access to authorized users. Most records, however, are public court documents available for inspection under the Freedom of Information Act, 5 U.S.C. 552.

RETENTION AND DISPOSAL:

In cases where OALJ is the official custodian, inactive case files are retained for three years before being sent to a Federal Records Center. The Federal Records Center retains the files for an additional fifteen years before they are authorized for destruction, except for certain cases designated as precedent setting, which become permanent records. In cases where OALJ is not the official custodian, for example matters relating to Black Lung and Longshore (and extensions) cases, the official file is transferred to the appropriate federal custodial agency. When a case is appealed, the case file is forwarded to the appropriate administrative appellate agency, such as the Benefits Review Board, or the Administrative Review Board.

SYSTEM MANAGER(S) AND ADDRESS:

Director of Program Operations, U.S. Department of Labor, Office of Administrative Law Judges (OALJ), 800 K St., NW, Washington, DC 20001.

NOTIFICATION PROCEDURES:

Inquiries regarding the existence of records should be in the form of a written, signed request to the above address.

RECORD ACCESS PROCEDURES:

As in notification procedures.

CONTESTING RECORD PROCEDURES:

As in notification procedures.

RECORD SOURCE CATEGORIES:

Records may include information submitted by the agency with initial claims development or investigatory responsibility, claimants, complainants, respondents, and other parties to the case, amicus curiae, administrative law judges involved in case, the court reporter, and in the case of remanded cases, the administrative-appellate body or federal court.

SYSTEM EXEMPTED FROM CERTAIN PROVISIONS OF THE ACT:

None.

DOL/OALJ-3

SYSTEM NAME:

Contract list.

SECURITY CLASSIFICATION:

Unclassified.

SYSTEM LOCATION:

U.S. Department of Labor, Office of Administrative Law Judges (OALJ), 800 K St., NW, Washington, DC 20001.

CATEGORIES OF INDIVIDUALS COVERED BY THE SYSTEM:

Contractors.

CATEGORIES OF RECORDS IN THE SYSTEM:

Names, addresses and other contact information regarding contractors.

AUTHORITY FOR MAINTENANCE OF THE SYSTEM:

Administrative Procedure Act, 5 U.S.C. 553, 554, 556, 557, 571 et seq.; Department of Labor Acquisition Regulation, 48 CFR Chapter 29; Department of Labor Manual Series, Chapter 2-800.

PURPOSE(S):

To maintain a contractor list to assist in managing agency contracts with contractors.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files and computer disk.

RETRIEVABILITY:

By contractor's name.

SAFEGUARDS:

Access limited to agency personnel who manage the contractors. Routine computer precautions limiting access to authorized users.

RETENTION AND DISPOSAL:

Records are maintained for three years after the contract relationship between the contractor and the Office of Administrative Law Judges has ended, and then destroyed.

SYSTEM MANAGER(S) AND ADDRESS:

Director of Program Operations, U.S. Department of Labor, Office of Administrative Law Judges (OALJ), 800 K St., NW, Washington, DC 20001.

NOTIFICATION PROCEDURES:

Inquiries regarding the existence of records should be in the form of a written, signed request to the above address.

RECORD ACCESS PROCEDURES:

As in notification procedures.

CONTESTING RECORD PROCEDURES:

As in notification procedures.

RECORD SOURCE CATEGORIES:

Contract applications.

SYSTEM EXEMPTED FROM CERTAIN PROVISIONS OF THE ACT:

None

DOL/OALJ-4

SYSTEM NAME:

Notification List.

SECURITY CLASSIFICATION:

Unclassified.

SYSTEM LOCATION:

U.S. Department of Labor, Office of Administrative Law Judges (OALJ), 800 K St., NW, Washington, DC 20001.

CATEGORIES OF INDIVIDUALS COVERED BY THE SYSTEM:

Registrants for e-mail notifications of web site updates.

CATEGORIES OF RECORDS IN THE SYSTEM:

Names and e-mail addresses of registrants.

AUTHORITY FOR MAINTENANCE OF THE SYSTEM:

Administrative Procedure Act, 5 U.S.C. 553, 554, 556, 557, 571 et seq.

PURPOSE(S):

To provide e-mail notifications of web site updates to registrants.

ROUTINE USES OF RECORDS MAINTAINED IN THE SYSTEM, INCLUDING CATEGORIES OF USERS AND THE PURPOSES OF SUCH USES:

None, except for those uses listed in the General Prefatory Statement to this document.

DISCLOSURE TO CONSUMER REPORTING AGENCIES:

None.

POLICIES AND PRACTICES FOR STORING, RETRIEVING, ACCESSING , RETAINING, AND DISPOSING OF RECORDS IN THE SYSTEM:

STORAGE:

Computer disk.

RETRIEVABILITY:

By name or e-mail address.

SAFEGUARDS:

Access limited to agency personnel who manage the web site. Routine computer precautions limiting access to authorized users.

RETENTION AND DISPOSAL:

Records are maintained until the registrant asks to be removed from the notification list, or the e-mail address expires, and then destroyed.

SYSTEM MANAGER(S) AND ADDRESS:

Director of Program Operations, U.S. Department of Labor, Office of Administrative Law Judges (OALJ), 800 K St., NW, Washington, DC 20001.

NOTIFICATION PROCEDURES:

Inquiries regarding the existence of records should be in the form of a written, signed request to the above address.

RECORD ACCESS PROCEDURES:

As in notification procedures.

CONTESTING RECORD PROCEDURES:

As in notification procedures.

RECORD SOURCE CATEGORIES:

Web site users.

SYSTEM EXEMPTED FROM CERTAIN PROVISIONS OF THE ACT:

None

DOL/ARB-1

SYSTEM NAME:

Administrative Review Board Appeals Files-DOL ARB-1.

SECURITY CLASSIFICATION:

None.

SYSTEM LOCATION:

Administrative Review Board, U.S. Department of Labor, 200 Constitution Ave., NW, Washington, DC 20210.

CATEGORIES OF INDIVIDUALS COVERED BY THE SYSTEM:

Parties in cases which are before the Secretary, Deputy Secretary or other deciding officials of the Department and for which ARB is assigned responsibility.

CATEGORIES OF RECORDS IN THE SYSTEM:

Information and decisions assembled in case files pertaining to proceedings relating to administrative adjudications of orders and decisions issued by Departmental officials and Administrative Law Judges.

AUTHORITY FOR MAINTENANCE OF THE SYSTEM:

Surface Transportation Assistance Act of 1982, 49 U.S.C. app. 2305 (1988); Energy Reorganization Act of 1974, as amended, 42 U.S.C. 5851 (1988); Clean Air Act, 42 U.S.C. 7622 (1988); Water Pollution Control Act, 33 U.S.C. 1367 (1988); Solid Waste Disposal Act, 42 U.S.C. 6971(a) (1988); Safe Drinking Water Act, 42 U.S.C. 300j-9(I) (1988); Toxic Substances Control Act, 15 U.S.C. 2622 (1988); Comprehensive Environmental Response Compensation and Liability Act, 42 U.S.C. 9610 (1988); Comprehensive Employment and Training Act, as amended, 29 U.S.C. 801-999 (Supp. V 1981); Job Training Partnership Act, 29 U.S.C. 1501-1781 (1988); The Workforce Investment Act of 1998, 29 U.S.C. 2801 et seq., Davis-Bacon Act, 40 U.S.C. 270a (1994); McNamara-O'Hara Service Contract Act of 1965, as amended, 41 U.S.C. 351-358 (1988); Migrant and Seasonal Agricultural Worker Protection Act, 29 U.S.C. 1813(b), 1853(b) (1988); Longshore and Harbor Workers' Compensation Act, 33 U.S.C. 907(j) (1988); Walsh-Healey Public Contracts Act, as amended, 41 U.S.C. 35-45 (1988); Age Discrimination Act of 1975, 42 U.S.C. 6101-6107 (1988); Title VI of the Civil Rights Act of 1964, as amended, 42 U.S.C. 601-605 (1988); Contract Work Hours and Safety Standards Act, 40 U.S.C. 327-332 (1988); Title IX of the Education Amendments of 1972, 20 U.S.C. 1681-1686 (1988); Employee Polygraph Protection Act of 1988, 29 U.S.C. 2001-2009 (1988); Equal Access to Justice Act, 5 U.S.C. 504 (1988); Executive Order No. 11,246, as amended, 3 CFR 339 (1964-1965 Comp.) reprinted in 42 U.S.C. 2000e app. at 28-31 (1988); Fair Labor Standards Act of 1938, as amended, 29 U.S.C. 203(m) and (t), 211(d), 214(c) (1988); Federal Unemployment Tax Act, 26 U.S.C. 3304; Immigration Reform and Control Act of 1986, 8 U.S.C. 1101(a)(15)(H)(ii)(a), 1184(c), 1188 (1988); National Apprenticeship Act, 29 U.S.C. 50 (1988); Program Fraud Civil Remedies Act of 1986, 31 U.S.C. 3801-3812 (1988); Sections 503 and 504 of the Rehabilitation Act of 1973, as amended, 29 U.S.C. 793, 794 (1988); Social Security Act, 42 U.S.C. 503 (Supp. V 1987); Single Audit Act of 1984, 31 U.S.C. 7500-7507 (1988); Trade Act of 1974, as amended, 26 U.S.C. 3302; Vietnam Era Veterans Readjustment Assistance Act, as amended, 38 U.S.C. 4212 (1988); and any laws enacted after May 3,1996, which by statute, law or regulation provide for final decisions by the Secretary of Labor upon appeal or review of decisions or recommended decisions of ALJs.

PURPOSE(S):

The records are maintained for use in adjudication of cases before the ARB.

ROUTINE USES OF RECORDS MAINTAINED IN THE SYSTEM, INCLUDING CATEGORIES OF USERS AND THE PURPOSES OF SUCH USES:

Disclosures may be made to District Courts or Courts of Appeals that are relevant to appeals from ARB decisions. ARB decisions are published on the ARB web-site by using a link to the Internet web-site maintained by the Office of Administrative Law Judges (ALJs) where the decisions are published.

DISCLOSURE TO CONSUMER REPORTING AGENCIES:

None.

POLICIES AND PRACTICES FOR STORING, RETRIEVING, ACCESSING, REMAINING AND DISPOSING OF RECORDS IN THE SYSTEM:

STORAGE:

Maintained in manual form in file folders and containers, and with case tracking information in a computer system.

RETRIEVABILITY:

Indexed by name of complainant, respondent, and docket number.

SAFEGUARD

Kept in offices which are locked during non-work hours. Computer data are protected by use of a password.

RETENTION AND DISPOSAL:

After the ARB function is completed, case records are returned to Office of Administrative Law Judges or to the other originating office, except for Davis-Bacon or Service Contract Act cases which are retained at the Board. A file containing copies of decisions, orders and ARB correspondence related to the case is retained in the office files for ten years, and thereafter sent to the National Archives and Records Administration (NARA) for permanent retention.

SYSTEM MANAGER(S) AND ADDRESS:

Chairman, Administrative Review Board, 200 Constitution Avenue, NW, Washington, DC 20210.

NOTIFICATION PROCEDURE:

Inquiries regarding records should be in the form of a written, signed request to the above address.

RECORD ACCESS PROCEDURES:

As in notification procedure.

CONTESTING RECORD PROCEDURES:

As in notification procedure.

RECORD SOURCE CATEGORIES:

Records include information submitted by claimants, respondents, other parties in the case, Administrative Law Judges, government representatives and the deciding official.

SYSTEMS EXEMPTED FROM CERTAIN PROVISIONS OF THE ACT:

None.

DOL/ASP-1

SYSTEM NAME:

National Agricultural Workers Survey (NAWS) Research File.

SECURITY CLASSIFICATION:

Unclassified.

SYSTEM LOCATION:

The NAWS Sponsor, Office of the Assistant Secretary for Policy, U.S. Department of Labor, 200 Constitution Avenue, NW, Washington, DC 20210; the office of the System Manager, currently Aguirre International, 480 East 4th Avenue, Unit A, San Mateo, CA 94401-3349; and in two locations of the NAWS Co-Sponsor, the National Institute for Occupational Safety and Health (NIOSH): (1) The Division of Surveillance, Health Hazard Evaluations, and Field Studies, NIOSH, 4676 Columbia Drive, Cincinnati, Ohio 45226, and (2) The Division of Safety Research, NIOSH, 1095 Willowdale Road—mail stop 180-p, Morgantown, West Virginia 26505.

CATEGORIES OF INDIVIDUAL COVERED BY THE SYSTEM:

The respondents in the National Agricultural Workers Survey. These will be randomly selected individuals who are engaged in crop activities. There will be approximately 4,000 individuals per year included in the file.

CATEGORIES OF RECORDS IN THE SYSTEM:

The system will contain records of the employment history and living conditions of crop workers and their families. It will also contain information about the wages, working conditions and recruitment procedures, and health and occupational injury experienced by crop workers. The records will contain the names, and addresses of the respondents in the NAWS. All of this data will have been obtained in a personal interview with the respondents.

AUTHORITY FOR MAINTENANCE OF THE SYSTEM:

5 U.S.C. 301.

PURPOSE(S):

To gather and analyze farm worker data on all demographic, employment, wage and working conditions, health, safety, educational, social service, and housing issues. The demographic characteristics of farmworkers have been gathered by the federal government continuously throughout the postwar period. Until 1987 they were gathered by the Current Population Survey through a supplement and then elaborated by USDA's Economic Research Service (ERS). In 1987, the OASP/DOL assumed the responsibility to carry out this national survey, initially to accomplish the mandate of the Immigration Reform and Control Act of 1986 to measure the supply of the farm labor during fiscal years 1990 through 1993. Along with the task of carrying out the labor supply estimate assigned to OASP came the responsibility and the associated resources of the traditional survey on farmworkers.

ROUTINE USES OF RECORDS MAINTAINED IN THE SYSTEM, INCLUDING CATEGORIES OF USERS AND THE PURPOSES OF SUCH USES:

None, except for those universal routine uses listed in the General Prefatory Statement to this document with the following limitations: The Routine Uses listed at paragraphs 3, 4, 7, 8, 9, and 11 in the General Prefatory Statement to this document are not applicable to this system of records. The records also may be disclosed where required by law.

DISCLOSURE TO CONSUMER REPORTING AGENCIES:

None.

POLICIES AND PRACTICES FOR STORING, RETRIEVING, ACCESSING, RETAINING, AND DISPOSING OF RECORDS IN THE SYSTEM:

STORAGE:

In the initial stages the information will be stored on interview questionnaires which will be handled by Aguirre International of San Mateo California. This company will transfer the questionnaires as quickly as possible to their San Mateo Offices where they will be kept in locked filing cabinets. The information will be entered onto computer and stored on computer tape by the System Manager, currently Aguirre International, the System Sponsor OASP/DOL and by the System Co-Sponsor NIOSH.

RETRIEVABILITY:

By names of respondents.

SAFEGUARDS:

The practice and procedure of the Assistant Secretary for Policy prohibits the transfer of any record filed with a personal identifier to any location outside of the contractors' (currently Aguirre International) premises. At all the other system locations, including OASP/DOL, only files without personal identifiers will be stored. At all locations, files will be maintained with secure password protection.

RETENTION AND DISPOSAL:

Names will be removed from the records and destroyed not later than four years after the collection of the data.

SYSTEM MANAGER(S) AND ADDRESS:

The NAWS Sponsor, Office of the Assistant Secretary for Policy, U.S. Department of Labor, 200 Constitution Avenue, NW, Washington, DC 20210; the System Manager, currently Aguirre International, 480 East 4th Avenue, Unit A, San Mateo, CA, 94401-3349; and the NAWS Co-Sponsor, the National Institute for Occupational Safety and Health (NIOSH): (1) The Division of Surveillance, Health Hazard Evaluations, and Field Studies, NIOSH, 4676 Columbia Drive, Cincinnati, Ohio 45226, and (2) The Division of Safety Research, NIOSH, 1095 Willowdale Road—mail stop 180-p, Morgantown, West Virginia 26505.

NOTIFICATION PROCEDURE:

Individuals wishing to inquire whether this system of records contains information about them should contact OASP/DOL. Individuals must furnish the following information for their records to be located and identified:

a. Full name

b. Year of interview

RECORD ACCESS PROCEDURES:

Individuals wishing to request access to their own records should contact OASP/DOL and comply with the requirements of the DOL regulation at 29 CFR part 71.2.

CONTESTING RECORD PROCEDURES:

To seek amendment of record procedures individuals should direct their requests to OASP/DOL.

RECORD SOURCE CATEGORIES:

The information in this system will be received from respondents.

SYSTEMS EXEMPTED FROM CERTAIN PROVISION OF THE ACT:

None.

DOL/BRB-1

SYSTEM NAME:

Appeals Files—Benefits Review Board (BRB).

SYSTEM LOCATION:

Benefits Review Board, 200 Constitution Avenue, NW, Washington, DC 20210.

CATEGORIES OF INDIVIDUALS COVERED BY THE SYSTEM:

Parties involved in appeals proceedings before the Benefits Review Board.

CATEGORIES OF RECORDS IN THE SYSTEM:

Information assembled in case files pertaining to appeals to the Benefits Review Board with respect to claims of employees for benefits under the Longshoremen's and Harbor Workers Compensation Act as amended, and its extensions and the Federal Coal Mine Health and Safety Act, as amended.

AUTHORITY FOR MAINTENANCE OF THE SYSTEM:

(a) 30 U.S.C. 901-62 (1982) (b) 33 U.S.C. 901-50 (1982) (c) 42 U.S.C. 1651-54 (1982) (d) 36 DC Code 501-04 (1973) (e) 43 U.S.C. 1331-43 (1982) (f) 5 U.S.C. 8171-73 (1982) (g) 42 U.S.C. 1701-17 (1982)

PURPOSE(S):

Records are maintained for use in adjudication of appeals.

ROUTINE USES OF RECORDS MAINTAINED IN THE SYSTEM, INCLUDING CATEGORIES OF USERS AND THE PURPOSES OF SUCH USES:

Disclosure outside the Department of Labor may be made to federal courts. BRB decisions are sent to commercial publishing companies for publication, and are also placed on the BRB's Internet Web site.

DISCLOSURE TO CONSUMER REPORTING AGENCIES:

None.

POLICIES AND PRACTICES FOR STORING, RETRIEVING, ACCESSING, RETAINING, AND DISPOSING OF RECORDS IN THE SYSTEM:

STORAGE:

Maintained in manual form in file folders with data maintained in a computerized case tracking system.

RETRIEVABILITY:

By Benefits Review Board docket number, ALJ number, and claimant's name.

SAFEGUARDS:

Maintained in offices which are locked after normal work hours.

RETENTION AND DISPOSAL:

Case materials returned to the Office of Workers' Compensation Programs, Employment Standards Administration, Department of Labor after completion of Benefits Review Board functions. Copies of the case decision are retained permanently.

SYSTEM MANAGER(S) AND ADDRESS:

Clerk of the Board, Benefits Review Board, U.S. Department of Labor, 200 Constitution Avenue, NW., Washington, DC 20210.

NOTIFICATION PROCEDURE:

A written and signed request to the System Manager stating that the requester seeks information concerning records pertaining to him is required.

RECORD ACCESS PROCEDURES:

A request for access may be addressed to the System Manager. The request must be in writing and be signed by the requester.

CONTESTING RECORD PROCEDURES:

A petition for amendment shall be addressed to the System Manager.

RECORD SOURCE CATEGORIES:

Records in the system include information submitted by the claimants, employers, carriers, and other persons involved in the appeals proceedings, as well as by the Government.

SYSTEMS EXEMPTED FROM CERTAIN PROVISIONS OF THE ACT:

None.

DOL/BLS-3

SYSTEM NAME:

Regional Office Staff Utilization File.

SECURITY CLASSIFICATION:

None.

SYSTEM LOCATION:

Records stored on computer at The National Institutes of Health, Bethesda, MD. Access and maintenance is generally by remote terminal in the Postal Square Building, 2 Massachusetts Ave. NE, Washington, DC 20212.

CATEGORIES OF INDIVIDUALS COVERED BY THE SYSTEM:

All Regional Office (R.O.) BLS employees.

CATEGORIES OF RECORDS IN THE SYSTEM:

Staff utilization and travel expenditures data: Name, Social Security Number, pay period, hours worked and units accomplished by PAS code for functions such as personal visit, telephone collection, training, and costs for transportation and subsistence.

AUTHORITY FOR MAINTENANCE OF THE SYSTEM:

5 U.S.C. 301.

PURPOSE(S):

To capture and electronically enter time distribution data into the DOL Time Distribution and Accounting Systems. To provide BLS managers a means of monitoring regional staff hours worked per unit and travel expenditures on assigned functions and tasks.

ROUTINE USES OF RECORDS MAINTAINED IN THE SYSTEM, INCLUDING CATEGORIES OF USERS AND THE PURPOSES OF SUCH USES:

None, except for those universal routine uses listed in the General Prefatory Statement to this document.

POLICIES AND PRACTICES FOR STORING, RETRIEVING, ACCESSING, RETAINING, AND DISPOSING OF RECORDS IN THE SYSTEM:

STORAGE:

Magnetic tapes and disks.

RETRIEVABILITY:

Retrievable by a data field, including name and Social Security Number.

SAFEGUARDS:

Only authorized employees have access to tapes/disks, to the programs, and to the Regions' backup documents.

RETENTION AND DISPOSAL:

Cumulative file is retained by fiscal year. Original input documents are retained for 4 years and then destroyed.

SYSTEM MANAGER(S) AND ADDRESS:

Chief, Division of Field Collection Activities, Postal Square Building, 2 Massachusetts Ave. NE, Washington, DC 20212.

NOTIFICATION PROCEDURE:

Mail all inquiries or present in writing to System Manager at above address. Give name, and dates of employment.

RECORD ACCESS PROCEDURES:

As above.

CONTESTING RECORD PROCEDURES:

As above.

RECORD SOURCE CATEGORIES:

The “Staff Utilization Report” (Form SO-1) from each individual R.O. employee who fills it out each pay period, (in place of the DL 1-291, “Project Reporting Form”) and SF-1012 (Travel Voucher).

SYSTEMS EXEMPTED FROM CERTAIN PROVISIONS OF THE ACT:

None.

DOL/BLS-6

SYSTEM NAME:

Applicant Race and National Origin (ARNO) System. Form E 618.

SECURITY CLASSIFICATION:

None.

SYSTEM LOCATION:

Bureau of Labor Statistics, Postal Square Building, 2 Massachusetts Ave. N.E., Washington, DC 20212.

CATEGORIES OF INDIVIDUALS COVERED BY THE SYSTEM:

Job applicants.

CATEGORIES OF RECORDS IN THE SYSTEM:

DOL Form E 618, Applicant race and National origin data. Records contain: Name, SSN, grade, title of position, location of position, race, occupational code, date received, ARNO Code, title of announcement, number of announcement, authorization number.

AUTHORITY FOR MAINTENANCE OF THE SYSTEM:

5 U.S.C. 301.

PURPOSE(S):

To comply with the data collection requirements of the Luevano V. Devine decree (November 19, 1981) for applicants. See Civil Service Action Number 79-0271, 93 Federal Rules Decisions 68.

ROUTINE USES OF RECORDS MAINTAINED IN THE SYSTEM, INCLUDING CATEGORIES OF USERS AND THE PURPOSES OF SUCH USES:

The reports are sent to the Office of Personnel Management (OPM) to develop statistical reports on the number and race of applicants.

DISCLOSURE TO CONSUMER REPORTING AGENCIES:

None.

POLICIES AND PRACTICES FOR STORING, RETRIEVING, ACCESSING, RETAINING, AND DISPOSING OF RECORDS IN THE SYSTEM:

STORAGE:

Magnetic disk packs.

RETRIEVABILITY:

Retrievable by any element, including name and SSN.

SAFEGUARDS:

Only authorized employees have access.

RETENTION AND DISPOSAL:

Cumulative file is retained by fiscal year until all analysis is completed, then it is destroyed.

SYSTEM MANAGER(S) AND ADDRESS:

Personnel Officer, Division of Human Resources and Organization Management, Postal Square Building, 2 Massachusetts Ave. N.E., Washington, DC 20212.

NOTIFICATION PROCEDURE:

Requests should be submitted to above address.

RECORD ACCESS PROCEDURES:

As in notification procedure.

CONTESTING RECORD PROCEDURES:

As in notification procedure.

RECORD SOURCE CATEGORIES:

Individual job applicants who complete Form E 618, Applicant Race and National Origin Questionnaire.

SYSTEMS EXEMPTED FROM CERTAIN PROVISIONS OF THE ACT:

None.

DOL/BLS-7

SYSTEM NAME:

BLS Employee Conduct Investigation.

SECURITY CLASSIFICATION:

None.

SYSTEM LOCATION:

Bureau of Labor Statistics, National Office and eight Regional Offices.

CATEGORIES OF INDIVIDUALS COVERED BY THE SYSTEM:

BLS employee(s) against whom any allegations of misconduct, illegal acts, conflicts of interest, etc., have been made.

CATEGORIES OF RECORDS IN THE SYSTEM:

Name, organization and other information relating to the individual involved. It also contains investigative report(s) associated with the case, including interviews and other data gathered.

AUTHORITY FOR MAINTENANCE OF THE SYSTEM:

5 U.S.C. 301.

PURPOSE(S):

To investigate allegations of problems, misconduct, illegal acts, and conflicts of interest.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

The records are stored in file folders in metal cabinets.

RETRIEVABILITY:

By name or case file number.

SAFEGUARDS:

The files are maintained in locked file cabinets with access only to those with a need to know the information to perform their duties.

RETENTION AND DISPOSAL:

Records are retained for four years following the date either: (a) They are referred to the OIG; (b) they are transferred to OPM/GOVT-3 Records of Adverse Actions and Actions Based on Unacceptable Performance; or (c) it is determined that the allegation was without sufficient merit to warrant further action, after which they are destroyed by burning.

SYSTEM MANAGER(S) AND ADDRESS:

Personnel Officer, Division of Human Resources and Organization Management, Postal Square Building, 2 Massachusetts Ave. NE, Washington, DC 20212, and appropriate Regional Offices.

NOTIFICATION PROCEDURE:

Inquiries should be mailed or presented to the system manager noted at the address listed above.

RECORD ACCESS PROCEDURES:

As noted in notification procedure.

CONTESTING RECORD PROCEDURES:

As noted in notification procedure.

RECORD SOURCE CATEGORIES:

Individuals, supervisors, hotline complaints through the Office of the Inspector General's hotline; hotline complaints through the General Accounting Office's hotline system; incident reports submitted by employees; interview reports and investigative reports.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/BLS-8

SYSTEM NAME:

BLS Employee ADP Training History.

SECURITY CLASSIFICATION:

None.

SYSTEM LOCATION:

Bureau of Labor Statistics, National Office.

CATEGORIES OF INDIVIDUALS COVERED BY THE SYSTEM:

BLS employees who take training under BLS's ADP training contract.

CATEGORIES OF RECORDS IN THE SYSTEM:

Employee name, employee Social Security Number, employee organization, course taken, course start date, course end date, total hours for course, indication whether or not the course was completed, and cost of the course for this student to the student's organization.

AUTHORITY FOR MAINTENANCE OF THE SYSTEM:

5 U.S.C. 301.

PURPOSE(S):

The records are maintained to enable BLS to allocate costs of training to appropriate organization within BLS and to enable employees' managers and employees to determine what courses employees have taken.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

The paper records are stored in file folders in metal cabinets. Machine-readable versions of the records are kept in a microcomputer database.

RETRIEVABILITY:

Filed and retrieved by course title or other identifying codes such as course number. Also, filed and retrieved by the name or Social Security Number of employee attending course.

SAFEGUARDS:

The files are maintained in locked file cabinets with access only to those with a need to know the information to perform their duties. Access to machine readable data will be limited to those with a need to know.

RETENTION AND DISPOSAL:

Destroy when 5 years old or when superseded or obsolete, whichever is sooner.

SYSTEM MANAGER(S) AND ADDRESS:

Chief, Division of Technology Measurement and Strategic Initiatives, Room 5110, Postal Square Building, 2 Massachusetts Ave. NE, Washington, DC 20212.

NOTIFICATION PROCEDURE:

Inquiries should be mailed or presented to the system manager noted at the address noted above.

RECORD ACCESS PROCEDURES:

As noted in notification procedure.

CONTESTING RECORD PROCEDURES:

As noted in notification procedure.

RECORD SOURCE CATEGORIES:

Application for Training forms such as DL-101 or other application forms BLS may designate. Certificates of course completion and BLS management information system records.

SYSTEMS EXEMPTED FROM CERTAIN PROVISIONS OF THE ACT:

None.

DOL/BLS-9

SYSTEM NAMES:

Routine Administrative Files.

SECURITY CLASSIFICATION:

None.

SYSTEM LOCATION:

Bureau of Labor Statistics, Postal Square Building, 2 Massachusetts Ave. NE, Washington, DC 20212.

CATEGORIES OF INDIVIDUALS COVERED BY THE SYSTEM:

BLS employees, BLS contractors, and visitors for longer than 30 days.

CATEGORIES OF RECORDS IN THE SYSTEM:

Several groups of records exist: records containing tuition information, contractor ID card records, cardkey security records, Polaroid ID card records, DAS separations database records, imprest fund records, visitor control records, PSB Phone system records, facility service requests records, Sprint telephone card records transit subsidy records, government credit card records, and printing and duplications records.

AUTHORITY FOR MAINTENANCE OF THE SYSTEM:

5 U.S.C. 301.

PURPOSE(S):

To record and track routine administrative data, to maintain security, to manage the facility, to plan expenditures, to maintain an employee locator system, and to process fund reimbursement vouchers.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Stored on file server with tape backup capabilities and on personal computer hard drives with floppy disk backup. Manual files are stored in a secured area in locked file cabinets.

RETRIEVABILITY:

By individual's name and Social Security Number.

SAFEGUARDS:

Authorized personnel only. File servers and personal computers are located in secured rooms. Passwords are necessary to access records. Access levels are created within automated systems to restrict unauthorized access to system utilities.

RETENTION AND DISPOSAL:

All records are temporary, usually one to four years, and disposal is based on BLS records disposition schedule N1-257-88-1 and the National Archives and Records Administration (NARA) General Records Schedule (GRS) Numbers 1-4, 6, 11-13, and 18.

SYSTEM MANAGER(S) AND ADDRESS:

Chief, Branch of Records Management and General Services, Division of Administrative Services, Postal Square Building, 2 Massachusetts Ave. NE, Washington, DC 20212.

NOTIFICATION PROCEDURE:

Mail all inquiries or present in writing to System Manager at above address.

RECORD ACCESS PROCEDURES:

As in notification procedure.

CONTESTING RECORD PROCEDURES:

As in notification procedure.

RECORD SOURCE CATEGORIES:

BLS Form OA-189, OA-193, DL 1-101, DL 1-107, OAM-165, OA-185, SO-68, and from individuals concerned.

SYSTEMS EXEMPTED FROM CERTAIN PROVISIONS OF THE ACT:

None.

DOL/BLS-10

SYSTEM NAME:

Commissioner's Correspondence Control System.

SECURITY CLASSIFICATION:

None.

SYSTEM LOCATION:

Bureau of Labor Statistics, Postal Square Building, 2 Massachusetts Ave. NE, Washington, DC 20212.

CATEGORIES OF INDIVIDUALS COVERED BY THE SYSTEM:

Individuals from whom correspondence is received in the Commissioner's Office of the Bureau of Labor Statistics.

CATEGORIES OF RECORDS IN THE SYSTEM:

Information about correspondence and the originators including the name of the sender, the subject of the correspondence, the name of the individual and office instructed to prepare a response, a control number, dates, and related information.

AUTHORITY FOR MAINTENANCE OF THE SYSTEM:

5 U.S.C. 301.

PURPOSE(S):

To record the receipt of correspondence, to monitor the handling of correspondence, and to facilitate a timely response to correspondence.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Electronic file server with backup tapes.

RETRIEVABILITY:

Name, control number, office assigned response, dates.

SAFEGUARDS:

Access by authorized personnel only. Passwords are used.

RETENTION AND DISPOSAL:

Dispose when 5 years old.

SYSTEM MANAGER(S) AND ADDRESS:

Chief, Division of Management Systems, Postal Square Building, 2 Massachusetts Ave. NE, Washington, DC 20212.

NOTIFICATION PROCEDURE:

Inquiries should be mailed or presented to the system manager noted at the address listed above.

RECORD ACCESS PROCEDURES:

As noted in notification procedure.

CONTESTING RECORD PROCEDURES:

As noted in notification procedure.

RECORD SOURCE CATEGORIES:

Correspondents and correspondence received in the Commissioner's Office.

SYSTEMS EXEMPTED FROM CERTAIN PROVISIONS OF THE ACT:

None.

DOL/BLS-11

SYSTEM NAME:

Mainframe User ID Database.

SECURITY CLASSIFICATION:

None.

SYSTEM LOCATION:

Electronic records stored on computer at SunGard Computer Center, Voorhees, NJ and the National Institutes of Health, Bethesda, MD. Access and maintenance occur by remote terminal in the Postal Square Building, 2 Massachusetts Ave. NE, Washington, DC 20212. Paper copy kept at above address.

CATEGORIES OF INDIVIDUALS COVERED BY THE SYSTEM:

BLS employees, BLS contractors, state agencies employees.

CATEGORIES OF RECORDS IN THE SYSTEM:

Records include name, ID to access system, office address and phone number, and account number.

AUTHORITY FOR MAINTENANCE OF THE SYSTEM:

5 U.S.C. 301

PURPOSE(S):

To assign and maintain ID numbers to use NIH and Boeing mainframe computers, to locate mainframe users and to run an accounting program.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Online in mainframe computer and paper copies.

RETRIEVABILITY:

By any of the fields listed under Categories of Records in the System.

SAFEGUARDS:

Access by authorized personnel only. Passwords are necessary for electronic retrieval. Paper files maintained in locked office.

RETENTION AND DISPOSAL:

Reviewed at the beginning of each fiscal year to delete inactive IDs from the previous year. Data files identified for transfer to the National Archives will be transferred as specified.

SYSTEM MANAGER(S) AND ADDRESS:

Chief, Division of Technology and Network Management, Postal Square Building, 2 Massachusetts Ave. NE, Washington, DC 20212.

NOTIFICATION PROCEDURE:

Mail all inquiries or present in writing to System Manager at above address.

RECORD ACCESS PROCEDURES:

As in notification process.

CONTESTING RECORD PROCEDURES:

As in notification process.

RECORD SOURCE CATEGORIES:

Individuals concerned.

SYSTEMS EXEMPTED FROM CERTAIN PROVISIONS OF THE ACT:

None.

DOL/BLS-12

SYSTEM NAME:

Employee Acknowledgement Letter Control System.

SECURITY CLASSIFICATION:

None.

SYSTEM LOCATION:

Bureau of Labor Statistics, Postal Square Building, 2 Massachusetts Ave. NE, Washington, DC 20212.

CATEGORIES OF INDIVIDUALS COVERED BY THE SYSTEM:

BLS employees.

CATEGORIES OF RECORDS IN THE SYSTEM:

Records include name, office address, telephone number, supervisor's name, last day of individual's first pay period, region, cost center, date acknowledgement was signed.

AUTHORITY FOR MAINTENANCE OF THE SYSTEM:

5 U.S.C. 301.

PURPOSE(S):

Used by BLS to monitor whether employees have signed the acknowledgement letter regarding the safeguarding of confidential information.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Electronic file server with backup tapes. Paper files of the signed letters are also maintained.

RETRIEVABILITY:

Name, date signed, Social Security Number, regional office.

SAFEGUARDS:

Access by authorized personnel only. Passwords are used for electronic system. Paper files are kept in an office which is locked after working hours.

RETENTION AND DISPOSAL:

Destroy 3 years after employee is transferred or released from government service.

SYSTEM MANAGER(S) AND ADDRESS:

Chief, Division of Management Systems, Postal Square Building, 2 Massachusetts Ave. NE, Washington, DC 20212.

NOTIFICATION PROCEDURE:

Inquiries should be mailed or presented to the system manager noted at the address noted above.

RECORD ACCESS PROCEDURES:

As noted in notification procedure.

CONTESTING RECORD PROCEDURES:

As noted in notification procedure.

RECORD SOURCE CATEGORIES:

Employees who signed acknowledgement letters.

SYSTEMS EXEMPTED FROM CERTAIN PROVISIONS OF THE ACT:

None.

DOL/BLS-13

SYSTEM NAME:

National Longitudinal Survey of Youth 1979 (NLSY79) Database.

SECURITY CLASSIFICATION:

None.

SYSTEM LOCATION:

National Opinion Research Center (NORC), University of Chicago, 1155 E. 60th Street, Chicago, IL 60637.

CATEGORIES OF INDIVIDUALS COVERED BY THE SYSTEM:

A sample of the general population who were ages 14-21 on December 31, 1978 (referred to as respondents), with over representation of blacks, Hispanics, poor whites, and persons serving in the military.

CATEGORIES OF RECORDS IN THE SYSTEM:

Records include, but are not limited to, name, Social Security Number, control number, marital history, education, job history, unemployment history, military service, training history, fertility/family planning, child health history, alcohol use, drug use, reported police contacts, anti-social behavior, assets and income, school records, Government assistance program participation, childhood residence, child development outcomes, expectations, history of parent/child relationship, time use, time spent on child care and household chores, immigration history, and Armed Services Vocational Aptitude Battery scores.

AUTHORITY FOR MAINTENANCE OF THE SYSTEM:

29 U.S.C. Sec. 2.

PURPOSE(S):

To serve a variety of policy-related research interests concerning the labor market problems of youth. Data are used for studies such as (but not limited to): Diffusion of useful information on labor, examination of employment and training programs, understanding labor markets, guiding military manpower and measuring the effect of military service, analysis of social indicators and measuring parental and child inputs and outcomes.

ROUTINE USES OF RECORDS MAINTAINED IN THE SYSTEM, INCLUDING CATEGORIES OF USERS AND THE PURPOSE OF SUCH USES:

The Bureau of Labor Statistics may release records to the National Opinion Research Center (NORC) and/or Ohio State University to compile data which are not individually identifiable for use by the general public and Federal agencies who are conducting labor force research. Under written agreement to protect the confidentiality and security of identifying information, BLS may provide potentially identifying geographic information to researchers to conduct specific research projects which further the mission and functions of BLS. The records also may be disclosed where required by law. Items 3, 4, 7, 8, 9, 10, and 11 listed in the General Prefatory Statement to this document are not applicable to this system of records.

DISCLOSURE TO CONSUMER REPORTING AGENCIES:

None.

POLICIES AND PRACTICES FOR STORING, RETRIEVING, ACCESSING, RETAINING, AND DISPOSING OF RECORDS IN THE SYSTEM:

STORAGE:

Files are stored electronically and on paper.

RETRIEVABILITY:

Name or Control Number.

SAFEGUARDS:

Access by authorized personnel only. Computer security safeguards are used for electronically stored data and locked locations for paper files.

RETENTION AND DISPOSAL:

Permanent. Transfer a copy of the data files, together with the documentation, to the National Archives when the data are made available to the public.

SYSTEM MANAGER(S) AND ADDRESS:

Program Manager, NLS Youth 1979 Cohort Study, Office of Employment and Unemployment Statistics, Room 4945, Postal Square Building, 2 Massachusetts Ave., NE, Washington, DC 20212.

NOTIFICATION PROCEDURE:

Mail, or present in writing, all inquiries to the System Manager at the above address.

RECORD ACCESS PROCEDURES:

As in notification procedure.

CONTESTING RECORD PROCEDURES:

As in notification procedure.

RECORD SOURCE CATEGORIES:

Individuals concerned.

SYSTEMS EXEMPTED FROM CERTAIN PROVISIONS OF THE ACT:

None.

DOL/BLS-14

SYSTEM NAME:

BLS Behavioral Science Research Laboratory Project Files.

SECURITY CLASSIFICATION:

None.

SYSTEM LOCATION:

Bureau of Labor Statistics, National Office.

CATEGORIES OF INDIVIDUALS COVERED BY THE SYSTEM:

Individual respondents who participate in studies.

CATEGORIES OF RECORDS IN THE SYSTEM:

Records include respondent's name, name of study, biographic/personal information on the respondent, and test results and observations.

AUTHORITY FOR MAINTENANCE OF THE SYSTEM:

29 U.S.C. 2.

PURPOSE(S):

Biographic/personal information is used by BLS to select participants for studies. Test results and observations are used by BLS to better understand the behavioral and psychological processes of individuals, as they reflect on the accuracy of BLS information collections.

ROUTINE USES OF RECORDS MAINTAINED IN THE SYSTEM, INCLUDING CATEGORIES OF USERS AND THE PURPOSE OF SUCH USES:

None, except for those universal routine uses listed in the General Prefatory Statement to this document with the following limitations: The Routine Uses listed at paragraphs 3, 4, 7, 8, 9, and 11 in the General Prefatory Statement to this document are not applicable to this system of records. The records also may be disclosed where required by law.

DISCLOSURE TO CONSUMER REPORTING AGENCIES:

None.

POLICIES AND PRACTICES FOR STORING, RETRIEVING, ACCESSING, RETAINING, AND DISPOSING OF RECORDS IN THE SYSTEM:

STORAGE:

Paper files, and some electronic files stored on magnetic disks and/or video tapes.

RETRIEVABILITY:

Respondent name and study title.

SAFEGUARDS:

Available to authorized personnel only. Files are kept in locked offices.

RETENTION AND DISPOSAL:

One to three years.

SYSTEM MANAGER(S) AND ADDRESS:

Director, Behavioral Sciences Research Center, Office of Research and Evaluation, Postal Square Building, 2 Massachusetts Ave., NE, Washington, DC 20212.

NOTIFICATION PROCEDURE:

Mail all inquiries or present in writing to System Manager at above address.

RECORD ACCESS PROCEDURES:

As in notification procedure.

CONTESTING RECORD PROCEDURES:

As in notification procedure.

RECORD SOURCE CATEGORIES:

Individual respondents.

SYSTEMS EXEMPTED FROM CERTAIN PROVISIONS OF THE ACT:

None.

DOL/BLS-17

SYSTEM NAME:

National Longitudinal Survey of Youth 1997 (NLSY97) Database.

SECURITY CLASSIFICATION:

None.

SYSTEM LOCATION:

National Opinion Research Center (NORC), University of Chicago, 1155 E. 60th Street, Chicago, IL 60637.

CATEGORIES OF INDIVIDUALS COVERED BY THE SYSTEM:

A sample of the general population who were ages 12-16 on December 31, 1996 (referred to as respondents), with over representation of blacks, Hispanics, and disabled students.

CATEGORIES OF RECORDS IN THE SYSTEM:

Records include, but are not limited to, name, Social Security Number, control number, marital history, education, job history, unemployment history, military service, training history, fertility/family planning, child health history, alcohol use, drug use, reported police contacts, anti-social behavior, assets and income, school records, Government assistance program participation, childhood residence, child development outcomes, expectations, history of parent/child relationship, time use, time spent on child care and household chores, immigration history, and Armed Services Vocational Aptitude Battery scores.

AUTHORITY FOR MAINTENANCE OF THE SYSTEM:

29 U.S.C. Sec. 2.

PURPOSE(S):

To serve a variety of policy-related research interests concerning the school-to-work transition and the labor market problems of youth. Data are used for studies such as (but not limited to): diffusion of useful information on labor, examination of employment and training programs, understanding labor markets, analysis of social indicators, measuring parental and child input and outcomes, norming the Department of Defense Armed Services Vocational Aptitude Battery in its computerized adaptive form, and creation of norms for the Department of Defense Interest Measure.

ROUTINE USES OF RECORDS MAINTAINED IN THE SYSTEM, INCLUDING CATEGORIES OF USERS AND THE PURPOSE OF SUCH USES:

The Bureau of Labor Statistics may release records to the National Opinion Research Center (NORC) and/or Ohio State University to compile data which are not individually identifiable for use by the general public and Federal agencies who are conducting labor force research. Under written agreement to protect the confidentiality and security of identifying information, BLS may provide potentially identifying geographic information to researchers to conduct specific research projects which further the mission and functions of BLS. The records also may be disclosed where required by law. Items 3, 4, 7, 8, 9, 10, and 11 listed in the General Prefatory Statement to this document are not applicable to this system of records.

DISCLOSURE TO CONSUMER REPORTING AGENCIES:

None.

POLICIES AND PRACTICES FOR STORING, RETRIEVING, ACCESSING, RETAINING, AND DISPOSING OF RECORDS IN THE SYSTEM:

STORAGE:

Files are stored electronically and on paper.

RETRIEVABILITY:

Name or Control Number.

SAFEGUARDS:

Access by authorized personnel only. Computer security safeguards are used for electronically stored data, and locked locations for paper files.

RETENTION AND DISPOSAL:

Permanent. Transfer a copy of the data files, together with the documentation, to the National Archives when the data are made available to the public.

SYSTEM MANAGER(S) AND ADDRESS:

Program Manager, NLS Youth 1997 Cohort Study, Office of Employment and Unemployment Statistics, Postal Square Building, 2 Massachusetts Ave., NE, Washington, DC 20212.

NOTIFICATION PROCEDURE:

Mail, or present in writing, all inquiries to the System Manager at the above address.

RECORD ACCESS PROCEDURES:

As in notification procedure.

CONTESTING RECORD PROCEDURES:

As in notification procedure.

RECORD SOURCE CATEGORIES:

Individuals concerned.

SYSTEMS EXEMPTED FROM CERTAIN PROVISIONS OF THE ACT:

None.

DOL/BLS-18

SYSTEM NAME:

Postal Square Building Parking Management Records.

SECURITY CLASSIFICATION:

None.

SYSTEM LOCATION:

Bureau of Labor Statistics, Postal Square Building, 2 Massachusetts, Ave. NE, Washington, DC 20212.

CATEGORIES OF INDIVIDUALS COVERED BY THE SYSTEM:

All individuals assigned or applying for assignment of parking privileges in the Postal Square Building, Washington, DC.

CATEGORIES OF RECORDS IN THE SYSTEM:

This system includes the following information on all individuals assigned or applying for parking privileges in the Postal Square Building: Name of driver and rider(s); office building and room number; office telephone number; employing agency home address including city, State and zip code; federal service computation date; handicap certification; automobile license numbers, make and year of car, permit number (if assigned parking privileges); category of assignments, and estimated times of arrival and departure, office location; and whether the applicant is in or out of the zone of special consideration.

AUTHORITY FOR MAINTENANCE OF THE SYSTEM:

5 U.S.C. 301.

PURPOSE(S):

The information is used by the Bureau of Labor Statistics in the administration of the Postal Square Building parking and car pool programs.

ROUTINE USES OF RECORDS MAINTAINED IN THE SYSTEM, INCLUDING CATEGORIES OF USERS AND THE PURPOSE OF SUCH USES:

Disclosure of information may be made to other government agencies to compare names of car pool members. For verification and, as a service to car pool seekers, the name of each driver and rider and permit number; his or her office telephone number and address; and his or her home city, state and zip code, will be displayed within BLS facilities and on automated information systems including the Intranet. Information may be provided to other applicants or listed members of the carpool, their supervisors, or their administrative personnel/timekeepers in order to confirm information provided on the application.

DISCLOSURE TO CONSUMER REPORTING AGENCIES:

None.

POLICIES AND PRACTICES FOR STORING, RETRIEVING, ACCESSING, RETAINING, AND DISPOSING OF RECORDS IN THE SYSTEM:

STORAGE:

Manual files are stored in a locked file cabinet. Computer records are stored on diskettes, on personal computer hard drives, and on the BLS wide-area network.

RETRIEVABILITY:

Records may be filed and retrieved by name or permit number or other information in the System as needed.

SAFEGUARDS:

Access to and use of these records is limited to personnel whose official duties require access. The information in automated systems is protected from unauthorized access. Written application data are placed in locked file cabinets.

RETENTION AND DISPOSAL:

Paper records and the database are destroyed three (3) months after the return of the credentials to the issuing office.

SYSTEM MANAGER(S) AND ADDRESS:

Chief, Division of Administrative Services, 2 Massachusetts Ave., NE., Washington, DC 20212.

NOTIFICATION PROCEDURE:

Access to these records may be obtained by request in writing to: Chief, Division of Administrative Services, 2 Massachusetts Ave., NE., Washington, DC 20212.

RECORD ACCESS PROCEDURES:

Individuals wishing to request access to records should contact the appropriate office listed in the notification procedure section. Individuals must furnish the name for the record they wish to access.

CONTESTING RECORD PROCEDURES:

Individuals wishing to request amendment of the records should contact the official at the address specified under notification procedures above and reasonably identify the record and specify the information to be contested.

RECORD SOURCE CATEGORIES:

Individuals concerned and from information provided by parking applicants on Form DL 1-127, Application for Parking Assignment and OA-205 BLS Application for Parking Permit.

SYSTEMS EXEMPTED FROM CERTAIN PROVISIONS OF THE ACT

None.

DOL/BLS-19

SYSTEM NAME:

Customer Information Files.

SECURITY CLASSIFICATION:

None.

SYSTEM LOCATION:

Offices in the Bureau of Labor Statistics (BLS) at the National Office and in each of the BLS Regional Offices.

CATEGORIES OF INDIVIDUALS COVERED BY THE SYSTEM:

Individuals (customers) requesting BLS information.

CATEGORIES OF RECORDS IN THE SYSTEM:

Information necessary to satisfy customer requests and enhance service to customers. Depending on the nature of the request, may include (but is not limited to) name, title, occupation, mailing address, telephone and fax numbers, Internet Protocol (I.P.) addresses, material requested, consent forms, E-Mail addresses and dates.

AUTHORITY FOR MAINTENANCE OF THE SYSTEM:

5 U.S.C. 301.

PURPOSE(S):

To enhance customer service by improving the availability of BLS information on automated systems; to facilitate sending information about new data products to customers with corresponding interests; to provide usage statistics associated with the BLS public access Internet site, and to provide a frame from which to select an unbiased sample of customers for customer service surveys. Maintaining the names, addresses, etc. of customers requesting BLS data/publications will enable BLS to streamline the process for handling subsequent customer inquiries and requests by eliminating duplicative gathering of mailing information. Internet Protocol (IP) addresses will be used only to calculate general usage statistics; the addresses themselves will be discarded.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and/or on paper.

RETRIEVABILITY:

By name, telephone or fax number (including the telephone number from which the customer dials), or other identifying information in the System.

SAFEGUARDS:

Access by authorized personnel only. Computer security safeguards are used for electronically stored data and locked locations for paper files.

RETENTION AND DISPOSAL:

Current customer information service files are updated as required and are destroyed when three (3) months old or when no longer needed.

SYSTEM MANAGER(S) AND ADDRESS:

Associate Commissioner for Publications and Special Studies, Postal Square Building, 2 Massachusetts Ave., NE, Washington, DC 20212.

Associate Commissioner for Field Operations, Postal Square Building, 2 Massachusetts Ave., NE, Washington, DC 20212.

Chief, Division of Data Dissemination Systems, Postal Square Building, 2 Massachusetts Ave., NE., Washington, DC 20212.

NOTIFICATION PROCEDURE:

Mail, or present in writing, all inquiries to the System Managers at the above addresses.

RECORD ACCESS PROCEDURES:

As in notification procedure.

CONTESTING RECORD PROCEDURES:

As in notification procedure.

RECORD SOURCE CATEGORIES:

Individuals concerned.

SYSTEMS EXEMPTED FROM CERTAIN PROVISIONS OF THE ACT:

None.

DOL/BLS-20

SYSTEM NAME:

Fellowship Applicants and Recipients Files.

SECURITY CLASSIFICATION:

Unclassified.

SYSTEM LOCATION:

Offices in the Bureau of Labor Statistics (BLS) National Office.

CATEGORIES OF INDIVIDUALS COVERED BY THE SYSTEM:

Applicants and recipients of fellowship awards (e.g., Fellows in the American Statistical Association/National Science Foundation/BLS Fellowship Program), who are not Federal employees but are assigned to work with BLS staff and/or BLS non-public data files.

CATEGORIES OF RECORDS IN THE SYSTEM:

Records include the individual's name, Social Security Number, school transcripts, work address and telephone number, home address and telephone number, and biographical information; applications, research proposals, and related papers; test results, and other documents such as correspondence with the individual.

AUTHORITY FOR MAINTENANCE OF THE SYSTEM:

5 U.S.C. 301.

PURPOSE(S):

To assure that the appropriate records on fellowship awards are maintained and are available for official use.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Files are stored electronically and on paper.

RETRIEVABILITY:

By name.

SAFEGUARDS:

Access by authorized personnel only. Computer security safeguards are used for electronically stored data, and locked locations for paper files.

RETENTION AND DISPOSAL:

These records are permanent. Records are transferred to the Federal Records Center when five (5) years old. They are offered to NARA in ten (10) year blocks, when the most recent record is twenty (20) years old.

SYSTEM MANAGER(S) AND ADDRESS:

Associate Commissioner for Survey Methods Research, Postal Square Building, 2 Massachusetts Ave. NE, Washington, DC 20212.

NOTIFICATION PROCEDURE:

Mail, or present in writing, all inquiries to the System Manager at the above address.

RECORD ACCESS PROCEDURES:

As in notification procedure.

CONTESTING RECORD PROCEDURES:

As in notification procedure.

RECORD SOURCE CATEGORIES:

Individuals concerned; from references, the Education Testing Service, educational institutions supplying transcripts, review records; and administrative data developed during the selection process and/or award tenure.

SYSTEMS EXEMPTED FROM CERTAIN PROVISIONS OF THE ACT:

None.

DOL/OCFO-1

SYSTEM NAME:

Attendance, Leave, and Payroll File.

SECURITY CLASSIFICATION:

None.

SYSTEM LOCATION:

A. All Departmental component offices in Washington DC.

B. All Departmental component offices in the Regions and Areas.

C. Timekeepers.

D. Offices of the Chief Financial Officer.

CATEGORIES OF INDIVIDUALS COVERED BY THE SYSTEM:

Department of Labor employees.

CATEGORIES OF RECORDS IN THE SYSTEM:

Name, social security number and employee number, grade, step, and salary, transit subsidies, organization (code), retirement or FICA data as applicable. Federal, State, and local tax deductions, as appropriate. IRS tax lien data, commercial garnishment, child support, authorization forms for savings bond and charity deductions; authorization forms for regular and optional government life insurance deduction(s), health insurance deduction and plan or code; cash award data; jury duty data, military leave data, pay differentials, authorization forms for labor union dues deductions, allotments by type and amount, Thrift Savings Plan contributions, financial institution code and employee account number, leave status and leave data of all types (including annual, compensatory, jury duty, maternity, military, retirement, disability, sick, transferred, donated, and without pay), time and attendance records, including flexitime log sheets indicating number of regular, overtime, holiday, Sunday, and other hours worked, pay period number and ending date, cost of living allowances, co-owner and/or beneficiary of bonds, marital status, number of dependents, mailing address, “Notification of Personnel Action”, and claims by the employee for overtime, for back wages and for waivers. Consumer credit reports of individuals indebted to the United States, correspondence to and from the debtor, information or records relating to the debtor's current whereabouts, assets, liabilities, income and expenses, debtor's personal financial statements and other information such as the nature, amount and history of a debt owed by an individual covered by this system, and other records and reports relating to the implementation of the Debt Collection Act of 1982, as amended by the Debt Collection Improvement Act of 1996, including any investigative reports or administrative review matters. The individual records listed herein are included only as pertinent or applicable to the individual employee.

Note: Sign-in and sign-out records are filed chronologically and are not part of this system.

AUTHORITY FOR MAINTENANCE OF THE SYSTEM:

31 U.S.C. 66(A).

PURPOSE(S):

In compliance with principles and standards prescribed by the Comptroller General, this system manages the Department of Labor's compensation and benefits processing, accounting, and reporting. The system provides control procedures and systems to assure the complete and timely processing of input documents and output reports necessary to update and maintain the Department's Interactive Payroll System.

ROUTINE USES OF RECORDS MAINTAINED IN THE SYSTEM, INCLUDING CATEGORIES OF USERS AND THE PURPOSES OF SUCH USES:

A. In addition to the general prefatory routine uses, transmittal of data to the U.S. Treasury to effect issuance of paychecks or electronic fund transfers (EFT) to employees and distribution of pay according to employee directions for savings bonds, allotments to financial institutions, and other authorized purposes. Transmittal of Thrift Savings Plan data to the Thrift Savings Board to effect contributions to the Thrift Savings Plan. Tax withholding data sent to the Internal Revenue Service and appropriate State and local taxing authorities, FICA deductions to the Social Security Administration, information concerning dues deductions to labor unions, withholdings for health insurance to insurance carriers and the Office of Personnel Management, charity deductions to agents of charitable institutions, annual W-2 statements to taxing authorities and the individual, and transmittal of computer tape data to appropriate State and local governments for their benefits matching projects. Transmittal of employee's name, social security number, salary history to state unemployment insurance agencies in order to facilitate the processing of state unemployment insurance claims for DOL employees.

B. Pursuant to section 13 of the Debt Collection Act of 1982, as amended by the Debt Collection Improvement Act of 1996, the name, Social Security Number, address(es), telephone number(s), and nature, amount and history of the debt of a current or former employee may be disclosed to private collection agencies for the purpose of collecting or compromising a debt existing in this system.

C. Department of Justice and General Accounting Office: Information may be forwarded to the General Accounting Office and/or the Department of Justice as prescribed in the Joint Federal Claims Collection Standards (4 CFR Chapter II). When debtors fail to make payment through normal collection routines, the files are analyzed to determine the feasibility of enforced collection by referring the cases to the Department of Justice for litigation.

D. Other Federal Agencies:

Pursuant to sections 5 and 10 of the Debt Collection Act of 1982, as amended by the Debt Collection Improvement Act of 1996, information relating to the implementation of the Debt Collection Act of 1982 may be disclosed to other Federal Agencies to effect salary or administrative offsets, or for other purposes connected with the collection of debts owed to the United States.

E. Internal Revenue Service:

(1) Information contained in the system of records may be disclosed to the Internal Revenue Service to obtain taxpayer mailing addresses for the purpose of locating such taxpayer to collect, compromise, or write-off a Federal claim against the taxpayer.

(2) Records from this system of records may be disclosed to the Internal Revenue Service for the purpose of offsetting a Federal claim from any income tax refund that may be due to the debtor.

(3) Information may be disclosed to the Internal Revenue Service concerning the discharge of an indebtedness owed by an individual.

F. Records from this system of records may be disclosed to the Defense Manpower Data Center—Department of Defense and the United States Postal Service to conduct computer matching programs for the purpose of identifying and locating individuals who are receiving Federal salaries or benefit payments and are delinquent in their repayment of debts owed to the United States Government under certain programs administered by the United States Department of Labor in order to collect debts under the provisions of the Debt Collection Act of 1982 (Pub. L. 97-365) by voluntary repayment, or by salary or administrative offset procedures.

G. The names, social security numbers, home addresses, dates of birth, dates of hire, quarterly earnings, employer identifying information, and State of hire of employees may be disclosed to the Office of Child Support Enforcement, Administration for Children and Families, Department of Health and Human Services for the purpose of locating individuals to establish paternity, establishing and modifying orders of child support, identifying sources of income, and for other child support enforcement actions as required by the Personal Responsibility and Work Opportunity Reconciliation Act (Welfare Reform law, Pub. L. 104-193).

H. A record from this system of records, reflecting the employee's transit subsidy, may be disclosed to other governmental agencies for purposes of comparing transit subsidy recipients and car pool applicants.

DISCLOSURE TO CONSUMER REPORTING AGENCIES:

The amount, status, and history of overdue debts; the name and address, taxpayer identification number (SSN), and other information necessary to establish the identity of a debtor, the agency and program under which the claim arose, are disclosed pursuant to 5 U.S.C. 552a(b)(12) to consumer reporting agencies as defined by section 603(f) of the Fair Credit Reporting Act (15 U.S.C. 1681a(f)), in accordance with section 3(d)(4)(A)(ii) of the Federal Claims Collection Act of 1966, as amended (31 U.S.C. 3711(f)) for the purpose of encouraging the repayment of an overdue debt.

POLICIES AND PRACTICES FOR STORING, RETRIEVING, ACCESSING, RETAINING, AND DISPOSING OF RECORDS IN THE SYSTEM:

STORAGE:

Manual and machine-readable files.

RETRIEVABILITY:

By name and SSN.

SAFEGUARDS:

Personnel screening and locked storage equipment.

RETENTION AND DISPOSAL:

Retained for fifty-six (56) years.

SYSTEM MANAGER(S) AND ADDRESS:

Director, Office of Accounting and Payment Services, Office of the Chief Financial Officer, Department of Labor, 200 Constitution Ave, NW, Washington, DC 20210.

NOTIFICATION PROCEDURE:

Inquiries should be mailed or presented to the system manager noted at the addresses listed above.

RECORD ACCESS PROCEDURES:

A request for access shall be addressed to the system manager at the address listed above. Individuals must furnish their name and address for their records to be located and identified:

a. Name and address.

CONTESTING RECORD PROCEDURES:

A petition for amendment shall be addressed to the System Manager.

RECORD SOURCE CATEGORIES:

Employees, supervisors, timekeepers, official personnel records, the IRS, consumer credit reports, personal financial statements, correspondence with the debtor, records relating to hearings on the debt, and from other DOL systems of records.

SYSTEMS EXEMPTED FROM CERTAIN PROVISIONS OF THE ACT:

None.

DOL/OCFO-2

SYSTEM NAME:

Department of Labor Accounting and Related Systems.

SECURITY CLASSIFICATION:

None.

SYSTEM LOCATION:

A. All Departmental component offices in Washington DC:

B. All Departmental component offices in the Regions and the Areas.

CATEGORIES OF INDIVIDUALS COVERED BY THE SYSTEM:

All persons who receive or who owe a payment from agency/regional financial offices. Persons receiving payments include, but are not limited to: Employees, vendors, travelers on official business, grantees, contractors, consultants, and recipients of loans and scholarships. Persons owing monies include, but are not limited, to persons who have been overpaid and who owe DOL a refund and persons who have received from DOL goods or services for which there is a charge or fee (e.g., Freedom of Information Act requesters).

CATEGORIES OF RECORDS IN THE SYSTEM:

Name, identification number (Taxpayer Identification Number or other identifying number), address, purpose of payment, accounting classification, amount to be paid, and amount paid.

AUTHORITY FOR MAINTENANCE OF THE SYSTEM:

5 U.S.C. 301.

PURPOSE(S):

These records are an integral part of the accounting systems at principal operating components, agency regional offices and specific area locations. The records are used to keep track of all payments to individuals, exclusive of salaries and wages, based upon prior entry into the systems of the official commitment and obligation of government funds. When an individual is to repay funds advanced as a loan or scholarship, etc., the records will be used to establish a receivable record and to track repayment status. In event of an overpayment to an individual, the record is used to establish a receivable record for recovery of the amount claimed. The records are also used internally to develop reports to the Internal Revenue Service and applicable state and local taxing officials of taxable income. This is a Department-wide notice of payment and collection activities at all locations listed under system locations.

ROUTINE USES OF RECORDS MAINTAINED IN THE SYSTEM, INCLUDING CATEGORIES OF USERS AND THE PURPOSES OF SUCH USES:

A. Transmittal of the records to the U.S. Treasury to effect issuance of payments to payees.

B. Pursuant to section 13 of the Debt Collection Act of 1982, the name, address(es), telephone number(s), social security number, and nature, amount and history of debts of an individual may be disclosed to private debt collection agencies for the purpose of collecting or compromising a debt existing in this system.

C. Information may be forwarded to the Department of Justice as prescribed in the Joint Federal Claims Collection Standards (4 CFR Chapter II) for the purpose of determining the feasibility of enforced collection, by referring the cases to the Department of Justice for litigation.

D. Pursuant to sections 5 and 10 of the Debt Collection Act of 1982, information relating to the implementation of the Debt Collection Act of 1982 may be disclosed to other Federal Agencies to effect salary or administrative offsets.

E. Information contained in the system of records may be disclosed to the Internal Revenue Service to obtain taxpayer mailing addresses for the purpose of locating such taxpayer to collect, compromise, or write off a Federal claim against the taxpayer.

F. Information may be disclosed to the Internal Revenue Service concerning the discharge of an indebtedness owed by an individual.

H. Information will be disclosed:

1. To credit card companies for billing purposes;

2. To other Federal agencies for travel management purposes;

3. To airlines, hotels, car rental companies and other travel related companies for the purpose of serving the traveler. This information will generally include the name, phone number, addresses, charge card information and itineraries.

4. To state and local taxing officials informing them of taxable income.

DISCLOSURE TO CONSUMER REPORTING AGENCIES:

The amount, status, and history of overdue debts; the name and address, taxpayer identification number (SSN), and other information necessary to establish the identity of a debtor, the agency and program under which the claim arose, are disclosed pursuant to 5 U.S.C. 552a(b)(12) to consumer reporting agencies as defined by section 603(f) of the Fair Credit Reporting Act (15 U.S.C. 1681a(f)), in accordance with section 3(d)(4)(A)(ii) of the Federal Claims Collection Act of 1966, as amended (31 U.S.C. 3711(f)) for the purpose of encouraging the repayment of an overdue debt.

Note: Debts incurred by use of the official travel charge card are personal and the charge card company may report account information to credit collection and reporting agencies.

POLICIES AND PRACTICES FOR STORING, RETRIEVING, ACCESSING, RETAINING, AND DISPOSING OF RECORDS IN THE SYSTEM:

STORAGE:

Paper records in file cabinets. Computer records within a computer, its attached equipment or some magnetic form.

RETRIEVABILITY:

This varies according to the particular operating accounting system within the Operating Division, Agency and Regional Office. Usually the hard copy document is retrieved by name within accounting classification. Computer records may be retrieved by social security number and voucher number or on any field in the record.

SAFEGUARDS:

Records stored in lockable file cabinets or secured rooms. Computerized records protected by password system.

RETENTION AND DISPOSAL:

Records are purged from automated files once the accounting purpose has been served; printed copy and manual documents are retained and disposed of after six years and three months. Generally, on the accounting side, information is kept until at least the employee has left the Department, and perhaps longer, until all existing activity for the employee is closed out. Generally, on the payroll side, the information stays on the Master Employee Record until the retirement has been reconciled for the year in which the employee has left.

SYSTEM MANAGER(S) AND ADDRESS:

Director, Office of Accounting and Payment Services, Office of the Chief Financial Officer, Department of Labor, 200 Constitution Avenue, NW, Washington, DC 20210.

NOTIFICATION PROCEDURE:

Inquiries should be mailed or presented to the system manager noted at the address listed above.

RECORD ACCESS PROCEDURES:

A request for access shall be addressed to the system manager at the address listed above.

CONTESTING RECORD PROCEDURES:

A petition for amendment shall be addressed to the System Manager.

RECORD SOURCE CATEGORIES:

Individuals, employees, other DOL systems, other Federal agencies, consumer reporting agencies, credit card companies, government contractors, state and local law enforcement.

SYSTEMS EXEMPTED FROM CERTAIN PROVISIONS OF THE ACT:

None.

DOL/OCFO-3

SYSTEM NAME:

Travel and Transportation System

SECURITY CLASSIFICATION:

None.

SYSTEM LOCATION:

A. All component offices in Washington DC

B. Regional and area offices of the components.

CATEGORIES OF INDIVIDUALS COVERED BY THE SYSTEM:

All individuals who travel in an official capacity for the Department of Labor.

CATEGORIES OF RECORDS IN THE SYSTEM:

Various records are created and maintained in support of official travel. The forms or succeeding forms may include the following:

DL 1-33 Travel Authorization

SF 1038 Advance of Funds Application and Account

SF 1012 Travel Voucher

DL 1-2024 Request and Authorization for Exception From Standard Contract Terms for City-Pair Service

DL 1-289 Request for Approval of GSA Vehicle Option or Exemption

DL 1-473 Employment Agreement for Transfers Within the Continental U.S.

DL 1-474 Employment Agreement for Persons Assigned to Posts Outside the Continental U.S.

DL-1-2030 Estimated PCS Travel and Transportation Data for Travel Authorization DL-1-2031 Claim Form for Payment of Relocation Income Tax Allowance

DL-1-2032 Covered Taxable Reimbursements

DL-1-2033R Withholding Tax Allowance, Summary of Transactions, Withholding of Taxes, and W-2 Reporting

DL 1-472 Employee Application for Reimbursement of Expenses Incurred in Sale or Purchase (or both) of Residence Upon Change of Official Station

SF 1164 Claim for Reimbursement for Expenditures on Official Business

DL 1-101 Training Authorization and Evaluation Form

DL 1-478 Administrative Exception to Travel Claim

DL 1-423 Expense Record for Temporary Quarters

SF 1169 Government Transportation Request (will be phased out within next 5 years)

Telephone charge cards.

As a result of travel, individuals may become indebted to the Government. Records used to cure these claims include: consumer credit reports, information or records relating to the debtor's current whereabouts, assets, liabilities, income and expenses, debtor's personal financial statements, and other information such as the nature, amount and history of the debt, and other records and reports relating to the implementation of the Debt Collection Act of 1982, including any investigative reports or administrative review matters.

Individuals expecting to travel at least two times per year are required to have charge cards provided by Government contract. Besides the application for such cards, records created include transaction, payment and account status data.

Travel arrangement services are also available by Government contract. Records include traveler's profile containing name of individual, social security number, home and office telephones, agency's name, address, and telephone number, air travel preference, rental car identification number and preference of car, hotel preference, current passport and/or visa number, personal credit card numbers, and additional information; travel authorization; and monthly reports from travel agent(s) showing charges to individuals, balances, and other types of account analyses. Permanent change of station travel arrangements may include information about real estate and movement of household goods. To provide more efficient processing of travel documents, travel document processing software will be used by employees to record travel planning information, expenses incurred, traveler/employer identification information (SSN, and other identifying information used in conjunction with the purposes of the software), user ID's, passwords, electronic signatures, routing lists and other information used by the system to track and process travel documentation.

Vendors and contractors provide to the Department itemized statements of invoices, and reports of transactions including refunds and adjustments to enable audits of charges to the Government.

AUTHORITY FOR MAINTENANCE OF THE SYSTEM:

41 CFR part 101-7 (Federal Travel Regulations); interpret or apply 31 U.S.C. 3511, 3512, and 3523; 31 U.S.C. 3711 et seq. (Debt Collection Act of 1982); section 206 of Executive Order 11222 (May 8, 1965); 5 CFR 735.207 (Office of Personnel Management Regulations).

PURPOSE(S):

To facilitate performance of official Government travel by documenting the authorization of travel; payment of advances; payment of claims, invoices, vouchers, judgments; debts created by advance payments and overpayments; provision and use of government contractor-issued charge cards; and to make travel arrangements.

Data received from a charge card company under government contract will be used to perform responsibilities under section 206 of Executive Order 11222 (May 8, 1965) and 5 CFR 735.207 (Office of Personnel Management Regulations) concerning requirements for employees to pay their just financial obligations in a proper and timely manner. Reports will also be monitored to insure that the charge cards are used only in the course of official travel as required by the contract. Data will also be analyzed to permit more efficient and cost effective travel planning and management, including negotiated costs of transportation, lodging, subsistence and related services.

ROUTINE USES OF RECORDS MAINTAINED IN THE SYSTEM, INCLUDING CATEGORIES OF USERS AND THE PURPOSES OF SUCH USES:

A. Transmittal of data to the U.S. Treasury to effect issuance of checks and Electronic Funds Transfer (EFT) payments to payees.

B. Information may be forwarded to the Department of Justice as prescribed in the Joint Federal Claims Collection Standards (4 CFR Chapter II). When debtors fail to make payment through normal collection routines, the files are analyzed to determine the feasibility of enforced collection by referring the cases to the Department of Justice for litigation.

C. Pursuant to sections 5 and 10 of the Debt Collection Act of 1982, information relating to the implementation of the Debt Collection Act of 1982 may be disclosed to other Federal Agencies to effect salary or administrative offsets, or for other purposes connected with the collection of debts owed to the United States.

D. Information contained in the system of records may be disclosed to the Internal Revenue Service to obtain taxpayer mailing addresses for the purpose of locating such taxpayer to collect, compromise, or write off a Federal claim against the taxpayer.

E. Information may be disclosed to the Internal Revenue Service concerning the discharge of an indebtedness owed by an individual, or other taxable benefits received by the employee.

F. Information will be disclosed:

1. To credit card companies for billing purposes.

2. To Departmental and other Federal agencies such as GSA for travel management purposes.

3. To airlines, hotels, car rental companies, travel management centers and other travel related companies for the purpose of serving the traveler. This information will generally include the name, phone number, addresses, charge card information and itineraries.

DISCLOSURE TO CONSUMER REPORTING AGENCIES:

The amount, status, and history of overdue debts; the name and address, taxpayer identification number (SSN), and other information necessary to establish the identity of a debtor, the agency and program under which the claim arose, are disclosed pursuant to 5 U.S.C. 552a(b)(12) to consumer reporting agencies as defined by section 603(f) of the Fair Credit Reporting Act (15 U.S.C. 1681a(f)), in accordance with section 3(d)(4)(A)(ii) of the Federal Claims Collection Act of 1966, as amended (31 U.S.C. 3711(f)) for the purpose of encouraging the repayment of an overdue debt.

Note: Debts incurred by use of the official travel charge card are personal and the charge card company may report account information to credit collection and reporting agencies.

POLICIES AND PRACTICES FOR STORING, RETRIEVING, ACCESSING, RETAINING, AND DISPOSING OF RECORDS IN THE SYSTEM:

STORAGE:

Paper records in file cabinets. Computer records within a computer and attached equipment.

RETRIEVABILITY:

Filed by name and/or social security number of traveler or by travel document number at each location.

SAFEGUARDS:

Records stored in lockable file cabinets or secured rooms. Computerized records protected by password system. Information released only to authorized officials on a need-to-know basis.

RETENTION AND DISPOSAL:

Records are held for 6 years or until audit whichever is sooner and then destroyed.

SYSTEM MANAGER(S) AND ADDRESS:

Office of the Chief Financial Officer, Division of Planning and Internal Control, Department of Labor, 200 Constitution Avenue, NW, Washington, DC 20210.

NOTIFICATION PROCEDURE:

Inquiries from individuals should be addressed to the appropriate agency's administrative office for which they traveled.

RECORDS ACCESS PROCEDURES:

Requests from individuals should be addressed to the appropriate Department of Labor agency's administrative office for which they traveled. Individuals must furnish their full name and the authorizing agency component for their records to be located and identified.

CONTESTING RECORD PROCEDURES:

Individuals wishing to request amendment of their records should contact the appropriate Department of Labor administrative office of which they traveled. Individuals must furnish their full name and the name of the authorizing agency, including duty station where they were employed when traveling if applicable.

RECORD SOURCE CATEGORIES:

Individuals, employees, other Federal agencies, consumer reporting agencies, credit card companies, government contractors, state and local law enforcement.

SYSTEMS EXEMPTED FROM CERTAIN PROVISIONS OF THE ACT:

None.

DOL/ODEP-1

SYSTEM NAME:

Job Accommodation Network (JAN) Files.

SECURITY CLASSIFICATION:

None.

SYSTEM LOCATION:

Job Accommodation Network, West Virginia University, P.O. Box 6080, Morgantown, West Virginia, 26505-6080.

CATEGORIES OF INDIVIDUALS COVERED BY THE SYSTEM:

Individuals with disabilities, employers and the general public who request information through the JAN system.

CATEGORIES OF RECORDS IN THE SYSTEM:

Caller's name, address, telephone number, type of disability, functional limitations caused by the disability, accommodations discussed, type of firm or organization for whom the caller works, and anecdotal information recorded by the human factors consultant.

AUTHORITY FOR MAINTENANCE OF THE SYSTEM:

5 U.S.C. 301

PURPOSE(S):

This system provides technical assistance to businesses and to individuals for the purpose of making job accommodations for individuals with disabilities. It also makes possible the sharing of information about job accommodations. The JAN system compiles a comprehensive resource data bank for job accommodations currently available. Finally, the system provides technical assistance to employers on how to comply with the Americans with Disabilities Act (ADA).

ROUTINE USES OF RECORDS MAINTAINED IN THE SYSTEM, INCLUDING CATEGORIES OF USERS AND THE PURPOSE OF SUCH USES:

In addition to those universal routine uses listed in the General Prefatory Statement to this document, relevant information may be disclosed to employers for the purpose of hiring individuals with disabilities and/or for enabling the employers to accommodate employees with disabilities.

DISCLOSURE TO CONSUMER REPORTING AGENCIES:

None.

POLICIES AND PRACTICES FOR STORING, RETRIEVING, ACCESSING, RETAINING, AND DISPOSING OF RECORDS IN THE SYSTEM:

STORAGE:

Computer disks.

SAFEGUARDS:

The data is stored on computer disk, stored in a secure central file server.

RETRIEVABILITY:

Records are retrieved by caller's name, state, and job interest category.

RETENTION AND DISPOSAL:

Data is maintained permanently on the file server with access by program personnel only.

SYSTEM MANAGER(S) AND ADDRESS:

The systems manager is the Project Director of the Job Accommodations Network, West Virginia University, P.O. Box 6080, Morgantown, WV 26506-6080.

NOTIFICATION PROCEDURE:

Mail all inquiries or present in writing to the Office of Disability Employment Policy, 1331 F Street, NW, DC 20004 or to the Freedom of Information Act/Privacy Act Coordinator, at U.S. Department of Labor/Office of Disability Employment Policy, 200 Constitution Avenue., NW, Washington, DC 20210.

RECORDS ACCESS PROCEDURES:

Individuals wishing to gain access shall write to Assistant Secretary for Disability Employment Policy at the above addresses.

CONTESTING RECORD PROCEDURES:

Individuals wishing to contest information in their files may write to the system manager at the specified address above, reasonably identify the records pertaining to them, the information which is being contested in those records, the corrective action(s) being sought, and the reasons for the correction(s).

RECORD SOURCE CATEGORIES:

Individual participants in the JAN system.

SYSTEM EXEMPTED FROM CERTAIN PROVISIONS OF THE ACT:

None.

DOL/ODEP-2

SYSTEM NAME:

Workforce Recruitment Program (WRP) Database.

SECURITY CLASSIFICATION:

None.

SYSTEM LOCATION:

Office of Disability Employment Policy, U.S. Department of Labor, 1331 F Street, NW, Third Floor, Washington, DC 20004.

CATEGORIES OF INDIVIDUALS COVERED BY THE SYSTEM:

College students with disabilities who have interviewed with a WRP recruiter on a college campus.

CATEGORIES OF RECORDS IN THE SYSTEM:

Student's name, address, telephone number, e-mail address, college, major, credits earned, degree sought, job preference categories, job location preference, type of disability, job accommodation information, recruiter's summary of student's interview.

AUTHORITY FOR MAINTENANCE OF THE SYSTEM:

5 U.S.C. 301.

PURPOSE(S):

To provide federal and private sector employers a database resource of college students with disabilities from which to identify qualified temporary and permanent employees in a variety of fields.

ROUTINE USES OF RECORDS MAINTAINED IN THE SYSTEM, INCLUDING CATEGORIES OF USERS AND THE PURPOSE OF SUCH USES:

In addition to those universal routine uses, listed in the General Prefatory Statement to this document, relevant information concerning student interviewees may be disclosed to interested federal and private sector employers. Disability information concerning interviewees is disclosed to interested federal employers but not to private sector employers.

DISCLOSURE TO CONSUMER REPORTING AGENCIES:

None.

POLICIES AND PRACTICES FOR STORING, RETRIEVING, ACCESSING, RETAINING, AND DISPOSING OF RECORDS IN THE SYSTEM:

STORAGE:

CD-ROMs.

SAFEGUARDS:

The data is stored on CD-ROMs and stored on program manager's hard drive.

RETRIEVABILITY:

Records are retrieved by student's name, state, or job interest category.

RETENTION AND DISPOSAL:

Data is maintained indefinitely on CD-ROMs and on the project manager's hard drive. Paper files are maintained by the project manager and destroyed after one year.

SYSTEM MANAGER(S) AND ADDRESS:

The system manager is the WRP Project Manager, Office of Disability Employment Policy, 1331 F Street, NW, Third Floor, Washington, DC 20004.

NOTIFICATION PROCEDURE:

Mail all inquiries or present in writing to the Office of Disability Employment Policy, 1331 F Street, NW, Third Floor, Washington, DC, 20004.

RECORDS ACCESS PROCEDURES:

Individuals wishing to gain access shall write to the Office of Disability Employment Policy at the above address.

CONTESTING RECORD PROCEDURES:

A petition for amendment shall be addressed to the System Manager.

RECORD SOURCE CATEGORIES:

College students with disabilities who have participated in an interview with a WRP recruiter.

SYSTEM EXEMPTED FROM CERTAIN PROVISIONS OF THE ACT:

None.

DOL/ECAB-01

SYSTEM NAME:

Employees' Compensation Appeals Board Docket Records.

SECURITY CLASSIFICATION:

None.

SYSTEM LOCATION:

U.S. Department of Labor, Employees' Compensation Appeals Board, 200 Constitution Avenue, NW, Washington, DC 20210.

CATEGORIES OF INDIVIDUALS COVERED BY THE SYSTEM:

Former or current Federal employees appealing final decisions of the Office of Workers' Compensation Programs.

CATEGORIES OF RECORDS IN THE SYSTEM:

Documents pertaining to appeals of final decisions rendered by the Office of Workers' Compensation Programs arising under the Federal Employees Compensation Act, including incoming and outgoing correspondence, a summary of processing transactions, pleadings, motions, orders, and final disposition.

AUTHORITY FOR MAINTENANCE OF THE SYSTEM:

5 U.S.C. 8101 et seq.

PURPOSE(S):

To maintain records of appeals and track appeals through processing and disposition operations.

ROUTINE USES OF RECORDS MAINTAINED IN THE SYSTEM, INCLUDING CATEGORIES OF USERS AND THE PURPOSES OF SUCH USES:

In addition to those universal routine uses listed in the General Prefatory Statement to this document, ECAB decisions are sent for publication to the U.S. Government Printing Office (GPO) and are available on ECAB's Internet web-site.

DISCLOSURE TO CONSUMER REPORTING AGENCIES:

None.

POLICIES AND PRACTICES FOR STORING, RETRIEVING, ACCESSING, RETAINING AND DISPOSING OF RECORDS IN THE SYSTEM:

STORAGE:

Maintained in manual hard copy form in file folders; summary data maintained in computer based case tracking system.

RETRIEVABILITY:

Indexed by ECAB Docket case number, can be cross-referenced to individual's name.

SAFEGUARDS:

Manual Docket records are maintained in a separate file room with access restricted to ECAB employees and which is locked during non-work hours.

RETENTION AND DISPOSAL:

Manual Docket records are retired to the National Records Center after three years; they are destroyed after 20 years. Historical computer records are stored permanently on diskette in a locked cabinet.

SYSTEM MANAGER(S) AND ADDRESS:

Chairman, Employees' Compensation Appeals Board, 200 Constitution Avenue, NW, Washington, DC 20210.

NOTIFICATION PROCEDURE:

Inquiries regarding records should be in the form of a written, signed request to the System Manager at the above address and should specify the ECAB Docket number.

RECORD ACCESS PROCEDURES:

Information or assistance regarding access to ECAB Docket records may be obtained by contacting the Clerk of the Board, Employees' Compensation Appeals Board, 200 Constitution Avenue, NW, Washington, DC 20210.

CONTESTING RECORD PROCEDURES:

Individuals who wish to contest their records should notify the System Manager in writing.

RECORD SOURCE CATEGORIES:

Records in this system contain information supplied by the appellant and Government officials involved in the appeals proceedings.

SYSTEMS EXEMPTED FROM CERTAIN PROVISIONS OF THE ACT:

Not applicable.

DOL/ECAB-02

SYSTEM NAME:

Employees' Compensation Appeals Board Disposition Records.

SECURITY CLASSIFICATION:

None.

SYSTEM LOCATION:

U.S. Department of Labor, Employees' Compensation Appeals Board, 200 Constitution Avenue, NW, Washington, DC 20210.

CATEGORIES OF INDIVIDUALS COVERED BY THE SYSTEM:

Former or current Federal employees who appealed final decisions of the Office of Workers' Compensation Programs.

CATEGORIES OF RECORDS IN THE SYSTEM:

Final decisions and/or orders determining appeals of benefits claims under the Federal Employees' Compensation Act.

AUTHORITY FOR MAINTENANCE OF THE SYSTEM:

5 U.S.C. 8101 et seq.

PURPOSE(S):

To maintain formal records of appeal dispositions determined by the Employees' Compensation Appeals Board.

ROUTINE USES OF RECORDS MAINTAINED IN THE SYSTEM, INCLUDING CATEGORIES OF USERS AND THE PURPOSES OF SUCH USES:

Board final decisions and/or orders are public documents and are accessible to interested persons. Precedent setting decisions are sent to the U.S. Government Printing Office (GPO) for publication in an annual Volume, which is available for sale from the GPO, and deposited in over 500 Federal Depository Libraries throughout the country.

DISCLOSURE TO CONSUMER REPORTING AGENCIES:

None.

POLICIES AND PRACTICES FOR STORING, RETRIEVING, ACCESSING, RETAINING AND DISPOSING OF RECORDS IN THE SYSTEM:

STORAGE:

Recent decisions are maintained in hard copy form in binders in the ECAB library; older decisions are published in bound volumes. Published volumes are also on deposit in designated Federal Depository Libraries, and on the ECAB'S Internet Website.

RETRIEVABILITY:

Published decisions are indexed by appellant's last name, by category of medical condition and legal issue, by ECAB Docket number and by ECAB Volume number and page. Unpublished decisions are indexed by ECAB Docket number, and can be cross-referenced to appellant's name.

SAFEGUARDS:

Access to ECAB Library and Decision Files is by request and available during regular office hours.

RETENTION AND DISPOSAL:

Records are retained permanently.

SYSTEM MANAGER(S) AND ADDRESS:

Chairman, Employees' Compensation Appeals Board, 200 Constitution Avenue, NW, Washington, DC 20210.

NOTIFICATION PROCEDURE:

Inquiries should be in the form of a written, signed request to the System Manager at the above address and should specify the ECAB Docket number, name of appellant and approximate date of disposition. Alternatively, if disposition is known to be a published decision, inquiry should specify the Volume and page number.

RECORD ACCESS PROCEDURES:

Information or assistance regarding access to ECAB Disposition Records may be obtained by contacting the Clerk of the Board, Employees' Compensation Appeals Board, 200 Constitution Avenue, NW, Washington, DC.

CONTESTING RECORD PROCEDURES:

Appellants who wish to contest their Disposition Records should notify the System Manager in writing.

RECORD SOURCE CATEGORIES:

Records in this system are composed of formal, final decisions and/or orders of the Employees' Compensation Appeals Board.

SYSTEMS EXEMPTED FROM CERTAIN PROVISIONS OF THE ACT:

None.

DOL/ESA-2

SYSTEM NAME:

Office of Federal Contract Compliance Programs Complaint Case Files.

SECURITY CLASSIFICATION:

Unclassified.

SYSTEM LOCATION:

Office of Federal Contract Compliance Programs (OFFCP), 200 Constitution Avenue, NW, Washington, DC 20210, and OFCCP Regional and District Offices (see the Appendix to this document for addresses).

CATEGORIES OF INDIVIDUALS COVERED BY THE SYSTEM:

Individuals, classes of individuals or representatives authorized to act on behalf of individuals or classes of individuals who have filed complaints of discrimination.

CATEGORIES OF RECORDS IN THE SYSTEM:

Medical records, investigative reports and materials, complaints, contract coverage information, employment applications, time and attendance records.

AUTHORITY FOR MAINTENANCE OF THE SYSTEM:

Executive Order 11246, as amended; the Vietnam Era Veterans' Readjustment Assistance Act of 1974, as amended, 38 U.S.C. 4212, section 503 of the Rehabilitation Act of 1973, as amended, 29 U.S.C. 793.

PURPOSE(S):

To maintain information that is used to investigate and to resolve complaints of discrimination filed by individuals under Executive Order 11246, as amended; the Veteran Era Veterans' Readjustment Assistance Act of 1974, amended, 38 U.S.C. 4212; and section 503 of the Rehabilitation Act of 1973, as amended, 29 U.S.C. 793.

ROUTINE USES OF RECORDS MAINTAINED IN THE SYSTEM INCLUDING CATEGORIES OR USERS AND THE PURPOSES OF SUCH USES:

These records and information in these records may be disclosed to:

(1) The Equal Employment Opportunity Commission, Department of Justice, or other Federal, State or local agencies with jurisdiction over a complaint, when relevant and necessary for investigatory, conciliation or enforcement purposes;

(2) To Federal contractors and subcontractors against whom a complaint is filed, including providing a copy of the complaint or a summary for purposes of notice;

(3) A physician or medical provider records or information for the purpose of evaluating the complaint or medical records in cases involving complaints of discrimination on the basis of disability;

DISCLOSURE TO CONSUMER REPORTING AGENCIES:

None.

POLICIES AND PRACTICES FOR STORING, RETRIEVING, ACCESSING, RETAINING, AND DISPOSING OF RECORDS IN THE SYSTEM:

STORAGE:

Power files/Magnetic tape/Manual files.

RETRIEVABILITY:

By name or OFCCP control number.

SAFEGUARDS:

Locked files and computer access codes.

RETENTION AND DISPOSAL:

Active files retained 2-3 years from date of closure, referred to a Federal Records Center for an additional 4 years then they are destroyed.

SYSTEM MANAGER(S) AND ADDRESS:

Deputy Assistant Secretary for Federal Contract Compliance, 200 Constitution Avenue, NW, Washington, DC 20210; Regional Directors for OFCCP, see The Appendix to this document for addresses.

NOTIFICATION PROCEDURE:

Individuals, wishing to inquire whether this system of records contains information about them, should contact the appropriate system manager. Such person should provide his or her full name, date of birth, and signature.

RECORD ACCESS PROCEDURES:

An individual or organization representing an individual wishing to gain access to records shall follow guidelines set forth under the notification procedures summarized above.

CONTESTING RECORD PROCEDURES:

Individuals wishing to contest information in their files may write the appropriate system manager at the specified address, reasonably identifying the record pertaining to them, the information which is being contested in that record, the corrective action(s) being sought, and the reason for the correction(s).

RECORD SOURCE CATEGORIES:

Individual and class action complainants, employers, co-workers, witnesses, State rehabilitation agencies, physicians, and other health care providers.

SYSTEMS EXEMPTED FROM CERTAIN PROVISIONS OF THE ACT:

This system contains complaints and investigative files compiled during the course of complaint investigations and compliance reviews. In accordance with paragraph (k)(2) of the Privacy Act, 5 U.S.C. 552a(k)(2), these files have been exempted from subsections (c)(3),(d),(e)(1), (e)(4)(G),(H), and (I) and (f) of the Act. The disclosure of information contained in these files may in some circumstances discourage non-management persons who have knowledge of facts and circumstances pertinent to charges from giving statements or cooperating in investigations. In addition, disclosure of medical records contained in these files may adversely affect the health of individuals without guidance of a responsible physician.

DOL/ESA-5

SYSTEM NAME:

Office of Workers' Compensation Programs, Black Lung Antidiscrimination Files.

SECURITY CLASSIFICATION:

None.

SYSTEM LOCATION:

Office of Workers' Compensation Programs, Division of Coal Mine Workers' Compensation, Department of Labor Building, 200 Constitution Avenue, NW, Washington, DC 20210.

CATEGORIES OF INDIVIDUALS COVERED BY THE SYSTEM:

Individuals filing complaints against employers on account of discharge or other acts of discrimination by reason of pneumoconiosis disease.

CATEGORIES OF RECORDS IN THE SYSTEM:

Individual correspondence, investigative records, employment records, payroll records, medical reports, any other documents or reports pertaining to an individual's work history, education, medical condition or hiring practices of the employer.

AUTHORITY FOR MAINTENANCE OF THE SYSTEM:

30 U.S.C. 938.

PURPOSE(S):

To maintain records that are used to process complaints against employers who discharge or otherwise discriminate against individuals because they suffer from pneumoconiosis disease.

ROUTINE USES OF RECORDS MAINTAINED IN THE SYSTEM, INCLUDING CATEGORIES OF USERS AND THE PURPOSES OF SUCH USES:

Disclosure of file content may be made to any party in interest to the complaint, including the coal company, the claimant, medical providers, and legal representatives of any party for purposes related to the complaint.

DISCLOSURE TO CONSUMER REPORTING AGENCIES:

Not applicable.

POLICIES AND PRACTICES FOR STORING, RETRIEVING, ACCESSING, RETAINING, AND DISPOSING OF RECORDS IN THE SYSTEM:

STORAGE:

Manual files.

RETRIEVABILITY:

Coal miner's name and social security number.

SAFEGUARDS:

Files located in restricted area of a Federal building under guard by security officers.

RETENTION AND DISPOSAL:

Files are destroyed 10 years after case is closed.

SYSTEM MANAGER(S) AND ADDRESS:

Director, Division of Coal Mine Workers' Compensation, Department of Labor Building, 200 Constitution Avenue, NW, Washington, DC 20210.

NOTIFICATION PROCEDURE:

Individuals wishing to inquire whether this system of records contains information about them should contact the system manager at the above address. Individuals must furnish their name, address and signature.

RECORD ACCESS PROCEDURES:

Individuals wishing to request access to their records should contact the system manager at the above address. Individuals must furnish their name, address and signature.

CONTESTING RECORD PROCEDURES:

Individuals wishing to request amendment of any record should contact the system manager at the above address. Individuals must furnish their name, address and signature.

RECORD SOURCE CATEGORIES:

Individuals, employers, medical providers and investigators.

SYSTEMS EXEMPTED FROM CERTAIN PROVISIONS OF THE ACT:

Not applicable.

DOL/ESA-6

SYSTEM NAME: Office of Workers' Compensation, Black Lung

Benefits Claim File.

SECURITY CLASSIFICATION:

Unclassified.

SYSTEM LOCATION:

Office of Workers' Compensation Programs, Division of Coal Mine Workers' Compensation, Department of Labor Building, 200 Constitution Avenue, NW, Washington, DC 20210, and district offices (see addresses in the Appendix to this document).

CATEGORIES OF INDIVIDUALS COVERED BY THE SYSTEM:

Individuals filing claims for black lung (pneumoconiosis) benefits under the provisions of Black Lung Benefits Act, as amended, including miners, and their surviving spouses, children, dependent parents and siblings.

CATEGORIES OF RECORDS IN THE SYSTEM:

Personal (name, date of birth, social security number, claim type, miner's date of death), medical, and financial. Information gathered in connection with investigations concerning possible violations of Federal law, whether civil or criminal, under the authorizing legislation and related Acts. This record also contains investigative records and the work product of the Department of Labor and other governmental personnel and consultants involved in the investigations. If the individual has received benefits to which he or she is not entitled, the system may contain consumer credit reports correspondence to and from the debtor, information or records relating to the debtor's current whereabouts, assets, liabilities, income and expenses, debtor's personal financial statements, and other information such as the nature, amount and history of a claim filed by an individual covered by this system, and other records and reports relating to the implementation of the Debt Collection Act of 1982 including any investigative records or administrative review matters. The individual records listed herein are included only as pertinent to the individual claimant.

AUTHORITY FOR MAINTENANCE OF THE SYSTEM:

30 U.S.C. 901 et seq., 20 CFR 715.1 et seq., 20 CFR 720.1 et seq., 20 CFR 725.1 et seq.

PURPOSE(S):

To maintain records that are used to process all aspects of claims for black lung (pneumoconiosis) benefits under the provisions of the Black Lung Benefits Act, as amended, including claims filed by miners and their surviving spouses, children, dependent parents and siblings. These records are also used to process the recoupment of overpayments under the Act.

ROUTINE USES OF RECORDS MAINTAINED IN THE SYSTEM, INCLUDING CATEGORIES OF USERS AND THE PURPOSES OF SUCH USES:

In addition to those universal routine uses listed in the General Prefatory Statement of this document, disclosure of relevant and necessary information may be made to the following:

a. Mine operators (and/or any party providing the operator with benefits insurance) who have been determined potentially liable for the claim at any time after the filing of a claim for Black Lung Benefits for the purpose of determining liability for payment.

b. State workers' compensation agencies and the Social Security Administration for the purpose of determining offsets as specified under the Act.

c. Doctors and medical services providers for the purpose of obtaining medical evaluations, physical rehabilitation or other services.

d. Representatives of the claimant for the purpose of processing the claim, responsible operator and program representation on contested issues.

e. Labor unions and other voluntary employee associations of which the claimant is a member for the purpose of assisting the member.

f. Contractors providing automated data processing services to the Department of Labor, or to any agency or entity to whom release is authorized, where the contractor is providing a service relating to the purpose for which the information can be released.

g. Federal, state or local agencies if necessary to obtain information relevant to a Departmental decision concerning the determination of initial or continuing eligibility for program benefits, including whether benefits have been or are being paid improperly; whether dual benefits prohibited under any federal or state law are being paid; and including salary offset and debt collection procedures, including any action required by the Debt Collection Act of 1982.

h. Debt collection agency that DOL has contracted for collection services to recover indebtedness owed to the United States.

i. Internal Revenue Service for the purpose of obtaining taxpayer mailing addresses in order to locate such taxpayers to collect, compromise, or write-off a Federal claim against the taxpayer; discharging an indebtedness owed by an individual.

j. Credit Bureaus for the purpose of receiving consumer credit reports identifying the assets, liabilities, income and expenses of a debtor to ascertain the debtor's ability to pay a debt and to establish a payment schedule.

Note: Disclosure to a claimant or a person who is duly authorized to act on the claimant's or beneficiary's behalf, of information contained in the file may be made over the telephone. Disclosure over the telephone will only be done where the requestor provides appropriate identifying information to OWCP personnel. Telephonic disclosure of information is essential to allow OWCP to efficiently perform its functions in adjudicating and servicing claims.

DISCLOSURE TO CONSUMER REPORTING AGENCIES:

The amount, status and history of overdue debts; the name and address, taxpayer identification (SSAN), and other information necessary to establish the identity of a debtor, the agency and program under which the claim arose, are disclosed pursuant to 5 U.S.C. 552a(b)(12) to consumer reporting agencies as defined by the Fair Credit Reporting Act (15 U.S.C. 1681a(f), or in accordance with the Federal Claims Collection Act of 1966 as amended (31 U.S.C. 3711(e) for the purpose of encouraging the repayment of an overdue debt.

POLICIES AND PRACTICES FOR STORING, RETRIEVING, ACCESSING, RETAINING, AND DISPOSING OF RECORDS IN THE SYSTEM:

STORAGE:

Case file documents, both original and copies, in manual files.

RETRIEVABILITY:

Coal miner's name, social security number, and claimant's social security number different from miner's.

SAFEGUARDS:

Files are located in the restricted area of a Federal building under guard by security officers.

RETENTION AND DISPOSAL:

Approved claims files are destroyed 10 years after death of last beneficiary. Denied claims are destroyed 30 years after final denial.

SYSTEM MANAGER(S) AND ADDRESS:

Director, Division of Coal Mine Workers' Compensation, Department of Labor Building, Room C-3520, 200 Constitution Avenue, NW, Washington, DC 20210, and district office directors (see addresses in the Appendix to this document).

NOTIFICATION PROCEDURE:

Individuals wishing to inquire whether this system of records contains information about them should contact the system manager at the above address, or district office directors. (See addresses in the Appendix to this document.) Individuals must furnish claimant's name, and signature.

RECORD ACCESS PROCEDURE:

Individuals wishing to request access to non-exempt records should contact the appropriate office listed in the Notification Procedure section. The individual must furnish his or her name, signature and address.

CONTESTING RECORD PROCEDURES:

Specific materials in this system have been exempted from Privacy Act provisions (5 U.S.C. 552a(d)), regarding access to records. The section of this notice titled “Systems Exempted from Certain Provisions of the Act” indicates the kinds of materials exempted from access and the reasons for exempting them from access. Individuals wishing to request amendment of any non-exempt records should contact the appropriate office listed in the Notification Procedure section.

Individuals must furnish their name, address and signature.

RECORD SOURCE CATEGORIES:

Individuals, organizations, and investigators.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/ESA-15

SYSTEM NAME:

Office of Workers' Compensation Programs, Longshore and Harbor Workers' Compensation Act Case Files.

SECURITY CLASSIFICATION:

None.

SYSTEM LOCATION:

Division of Longshore and Harbor Workers' Compensation, Office of Workers' Compensation Programs, Washington, DC 20210, and district offices of the Office of Workers' Compensation Programs set forth in the Appendix to this document.

CATEGORIES OF INDIVIDUALS COVERED BY THE SYSTEM:

Employees injured or killed while working in private industry who are covered by the provisions of the Longshore and Harbor Workers' Compensation Act, the Non-Appropriated Fund Instrumentalities Act, the Defense Base Act, the War Hazards Act, and the DC Workers' Compensation Act, referred to collectively herein as the Longshore and Harbor Workers' Compensation Act (LHWCA).

CATEGORIES OF RECORDS IN THE SYSTEM:

This system may contain the following kinds of records: reports of injury by the employee and/or employing agency; claim forms filed by or on behalf of injured employees covered under the LHWCA or their survivors seeking benefits under the LHWCA; forms authorizing medical care and treatment; other medical records and reports; bills and other payments records; compensation payments records (including section 8(f) payment records); section 8(f) applications filed by the employer; formal orders for or against the payment of benefits; transcripts of hearings conducted; and any other medical employer or personal information submitted or gathered in connection with the claim. The system may also contain information relating to dates of birth, marriage, divorce, and death, notes of telephone conversations conducted in connection with the claim; information relating to vocational and/or medical rehabilitation plans and progress reports; records relating to court proceedings, insurance, banking, and employment; articles from newspapers and insurance, banking and employment; articles from newspapers and other publications; information relating to other benefits (financial and otherwise) the claimant or employer may be entitled to; and information received from various investigative agencies concerning possible violations of Federal civil or criminal law.

AUTHORITY FOR MAINTENANCE OF THE SYSTEM:

33 U.S.C. 901 et seq. (20 CFR parts 701 et seq.); 36 DC Code 501 et seq.; 42 U.S.C. 1651 et seq.; 43 U.S.C. 1331 et seq.; 5 U.S.C. 8171 et seq.

PURPOSE(S):

To maintain records on the actions of insurance carriers, employers, and injured workers with respect to injuries reported under the Longshore and Harbor Workers' Compensation Act and related Acts, to ensure that eligible claimants receive appropriate benefits as provided by the Act.

ROUTINE USES OF RECORDS MAINTAINED IN THE SYSTEM, INCLUDING CATEGORIES OF USERS AND THE PURPOSES OF SUCH USES:

In addition to those universal routine uses listed in the General Prefatory Statement to this document, disclosure of information from this system of records may also be made to the following individuals and entities for the purposes noted when the purpose of the disclosure is compatible with the purpose for which the information was collected:

a. The employer or its representatives, including third-party administrators, and/or any party providing the employer with workers' compensation insurance coverage since the employer and insurance carrier are parties-in-interest to all actions on a case, for the purpose of assisting in the litigation of the claim, at any time after report of the injury or report of the onset of the occupational illness, or the filing of a notice of injury or claim related to such injury or occupational illness.

b. Doctors, pharmacies, and other health care providers for the purpose of treating the claimant, conducting medical examinations, physical rehabilitation or other services or obtaining medical evaluations.

c. Public or private rehabilitation agencies to whom the injured worker has been referred for vocational rehabilitation services so that they may properly evaluate the injured worker's experience, physical limitations and future employment capabilities.

d. Federal, state and local agencies conducting similar or related investigations to verify whether prohibited dual benefits were provided, whether benefits have been or are being paid properly, including whether dual benefits prohibited by federal law are being paid; salary offset and debt collection procedures including those actions required by the Debt Collection Act of 1982.

e. Labor unions and other voluntary associations from which the claimant has requested assistance in connection with the processing of the LHWCA claim.

f. Attorneys or other persons authorized to represent the interests of the LHWCA claimant in connection with a claim for benefits under the LHWCA, and/or a LHWCA beneficiary in connection with a claim for damages filed against a third party.

g. Internal Revenue Service for the purpose of obtaining taxpayer mailing addresses in order to locate a taxpayer to collect, compromise, or write-off a Federal claim against such taxpayer; discharging an indebtedness owed by an individual.

h. Trust funds that have demonstrated to the OWCP a right to a lien under 33 U.S.C. 917, for the purpose of permitting the trust funds to identify potential entitlement to payments upon which the trust funds may execute the lien.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Pursuant to 5 U.S.C. 552a(b)(1), information from this system of records is disclosed to members and staff of the Office of Administrative Law Judges, the Benefits Review Board, the Office of the Solicitor and other components of the Department who have a need for the record in the performance of their duties.

DISCLOSURE TO CONSUMER REPORTING AGENCIES:

None.

POLICIES AND PRACTICES FOR STORING, RETRIEVING, ACCESSING, RETAINING, AND DISPOSING OF RECORDS IN THE SYSTEM:

STORAGE:

Case files are maintained in manual files and magnetic tapes.

RETRIEVABILITY:

Case files are retrieved after identification by coded file number, which is cross-referenced to injured worker by name.

SAFEGUARDS:

Files are maintained under supervision of OWCP personnel during normal working hours. Files and magnetic tapes are maintained in locked offices after normal working hours. Confidential passwords are required for access to automated records.

RETENTION AND DISPOSAL:

Time retained varies by type of case, ranging from lost-time disability cases, in which records are destroyed 20 years after the case is closed, to other cases where the last possible beneficiary has died, in which the records are destroyed 6 years and 3 months after the death of such beneficiary. “No Lost Time” cases are destroyed three years after the end of the fiscal year during which the related report was received.

SYSTEM MANAGER(S) AND ADDRESS:

Director for Longshore and Harbor Workers' Compensation, U.S. Department of Labor, 200 Constitution Avenue, NW, Washington, DC 20210; and District Directors at the district offices set forth in the Appendix.

NOTIFICATION PROCEDURE:

Requests, including name, date of injury, employer at time of injury, and case file number, if known, should be addressed to the system manager listed above, at the office where the case is located.

RECORD ACCESS PROCEDURES:

Individuals wishing to request access to records should contact the system manager indicated above.

CONTESTING RECORD PROCEDURE:

Individuals wishing to contest the contents of a record should contact the appropriate System Manager.

RECORD SOURCE CATEGORIES:

Information is obtained from injured employees, their qualified dependents, employers, insurance carriers, physicians, medical facilities, educational institutions, attorneys, and State, Federal, and private vocational rehabilitation agencies.

SYSTEM EXEMPTED FROM CERTAIN PROVISIONS OF THE ACT:

None.

DOL/ESA-24

SYSTEM NAME:

Office of Workers' Compensation Programs, Longshore and Harbor Workers' Compensation Act Special Fund System.

SECURITY CLASSIFICATION:

None.

SYSTEM LOCATION:

Division of Longshore and Harbor Workers' Compensation, Office of Workers' Compensation Programs, 200 Constitution Avenue, NW, Washington, DC 20210.

CATEGORIES OF INDIVIDUALS COVERED BY THE SYSTEM:

Persons receiving compensation and related benefits under the Longshore and Harbor Workers' Compensation Act, the Non-Appropriated Fund Instrumentalities Act, the Defense Base Act, the War Hazards Act, and the DC Workers' Compensation Act, referred to collectively herein as the Longshore and Harbor Workers' Compensation Act (LHWCA).

CATEGORIES OF RECORDS IN THE SYSTEM:

Medical and vocational rehabilitation reports, bills, vouchers and records of payment for compensation and related benefits, statements of employment status, and formal orders for payment of compensation, and U.S. Treasury Records.

AUTHORITY FOR MAINTENANCE OF THE SYSTEM:

33 U.S.C. 901 et seq. (20 CFR parts 701 et seq.); 36 DC Code 501 et seq.; 42 U.S.C. 1651 et seq.; 43 U.S.C. 1331 et seq.; 5 U.S.C. 8171 et seq.;

PURPOSE(S):

This system provides a record of payments to claimants, their qualified dependents, or providers of services to claimants from the Special Fund established pursuant to Section 44 of the Act.

ROUTINE USES OF RECORDS MAINTAINED IN THE SYSTEM, INCLUDING CATEGORIES OF USERS AND THE PURPOSES OF SUCH USES:

In addition to those universal routine uses listed in the General Prefatory Statement to this document, disclosure of information from this system of records may also be made to the following individuals and entities for the purposes noted when the purpose of the disclosure is compatible with the purpose for which the information was collected:

a. The employer or employer's representatives, including third-party administrators, and/or any party providing the employer with workers' compensation insurance coverage since the employer and insurance carrier are parties-in-interest to all actions on a case, for the purpose of assisting in the litigation of the claim, at any time after report of the injury or report of the onset of the occupational illness, or the filing of a notice of injury or claim related to such injury or occupational illness.

b. Doctors, pharmacies, and other health care providers for the purpose of treating the claimant, conducting medical examinations, physical rehabilitation or other services or obtaining medical evaluations.

c. Public or private rehabilitation agencies to whom the injured worker has been referred for vocational rehabilitation services so that they may properly evaluate the injured worker's experience, physical limitations and future employment capabilities.

d. Federal, state and local agencies conducting similar or related investigations to verify whether prohibited dual benefits were provided, whether benefits have been or are being paid properly, including whether dual benefits prohibited by federal law are being paid; salary offset and debt collection procedures including those actions required by the Debt Collection Act of 1982.

e. Labor unions and other voluntary associations from which the claimant has requested assistance with the processing of the LHWCA claim.

f. Internal Revenue Service for the purpose of obtaining taxpayer mailing addresses in order to locate such taxpayer to collect, compromise, or write-off a Federal claim against the taxpayer; discharging an indebtedness owed by an individual.

g. Trust funds that have demonstrated to the OWCP a right to a lien under 33 U.S.C. 917, for the purpose of permitting the trust funds to identify potential entitlement to payments upon which the trust funds may execute the lien.

h. To individuals, and their attorneys and other representatives, and government agencies, seeking to enforce a legal obligation on behalf of such individual, to pay alimony and/or child support, for the purpose of enforcing such an obligation, pursuant to an order of a state or local court of competent jurisdiction, including Indian tribal courts, within any State, territory or possession of the United States, or the District of Columbia or to an order of a State agency authorized to issue income withholding notices pursuant to State or local law or pursuant to the requirements of section 666(b) of title 42, United States Code, or for the purpose of denying the existence of funds subject to such legal obligation.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Information from this system of records is disclosed to members and staff of the Office of Administrative Law Judges, the Benefits Review Board, the Office of the Solicitor and other components of the Department who have a need for the record in the performance of their duties.

DISCLOSURE TO CONSUMER REPORTING AGENCIES:

None.

POLICIES AND PRACTICES FOR STORING, RETRIEVING, ACCESSING, RETAINING, AND DISPOSING OF RECORDS IN THE SYSTEM:

STORAGE:

Case files are maintained in manual files and magnetic tapes.

RETRIEVABILITY:

Case files are retrieved by social security number, which is cross-referenced to injured worker by name.

SAFEGUARDS:

Files are maintained under supervision of OWCP personnel during normal working hours. Confidential passwords are required for access to automated records. Files and magnetic tapes are in Federal office building.

RETENTION AND DISPOSAL:

Files are destroyed 7 years after last payment is made.

SYSTEM MANAGER(S) AND ADDRESS:

Director for Longshore and Harbor Workers' Compensation, Office of Workers' Compensation Programs, 200 Constitution Avenue, NW, Washington, DC 20210.

NOTIFICATION PROCEDURE:

Requests, including name and case number, if known, should be addressed to the System Manager.

RECORD ACCESS PROCEDURES:

Individuals wishing to request access to records should contact the System Manager indicated above.

CONTESTING RECORD PROCEDURE:

Individuals wishing to contest the contents of a record should contact the System Manager indicated above.

RECORD SOURCE CATEGORIES:

The system obtains information from injured employees, their qualified dependents, employers, insurance carriers, physicians, medical facilities, educational institutions, attorneys, and State, Federal, and private vocational rehabilitation agencies.

SYSTEM EXEMPTED FROM CERTAIN PROVISIONS OF THE ACT:

None.

DOL/ESA-25

SYSTEM NAME:

Office of Federal Contract Compliance Programs, Executive Management Information System (OFCCP/EIS) which includes the Case Management System (CMS), and Time Reporting Information System (TRIS).

SECURITY CLASSIFICATION:

Unclassified.

SYSTEM LOCATION:

OFCCP, Department of Labor, 200 Constitution Avenue, NW, Washington, DC 20210; Ten Regional Offices, see the Appendix to this document for addresses.

CATEGORIES OF INDIVIDUALS COVERED BY THE SYSTEM:

Individuals filing complaints of employment discrimination by Federal Contractors and Compliance Officers.

CATEGORIES OF RECORDS IN THE SYSTEM:

Listing of hours utilized to perform OFCCP program responsibilities. Listing of complaints filed by individuals alleging employment and listing of hours utilized to perform OFCCP program responsibilities.

AUTHORITY FOR MAINTENANCE OF THE SYSTEM:

Executive Order 11246, as amended; the Vietnam Era Veterans' Readjustment Assistance Act of 1974, as amended, 38 U.S.C. 2012; section 503 of the Rehabilitation Act of 1973, as amended, 29 U.S.C. 793.

PURPOSE(S):

The Case Management System is the data entry portion of OFCCP's core case management and management information system. OFCCP Executive Information System (OFEIS) makes up the reporting side of the total system. The Office of Contract Compliance Programs Case Management System (OFCMS) provides the umbrella under which numerous applications can be accessed. The purposes of the systems are: To track and monitor by means of an automated data base complaint investigations of employment discrimination by Federal contractors. To provide OFCCP Managers with a viable means of tracking the number of hours used in performing OFCCP program responsibilities. To track the number of hours utilized by compliance officers in performing their assigned program duties and responsibilities.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN SYSTEM:

STORAGE:

Manual files for working copies of source documents and magnetic tapes and disks for central computer processing.

RETRIEVABILITY:

By the name of the complainant, OFCCP control number, contractor establishment name and number. By identification numbers assigned to each compliance officer.

SAFEGUARDS:

Files are locked except during working hours, and only authorized personnel have access to files. Computer systems are restricted to authorized operators and each subsystem has multiple layers of password protection depending upon sensitivity of data.

RETENTION AND DISPOSAL:

Inactive records retained in system for two years from last date of action on record before being purged to history files where they are stored for three years. Transfer to NARA and destroy five years after transfer.

SYSTEM MANAGER(S) AND ADDRESS:

Director, OFCCP, Room C-3325, 200 Constitution Avenue, NW, Washington, DC 20210; Regional Directors for OFCCP, see Appendix I to this document for Addresses.

NOTIFICATION PROCEDURES:

Individuals wishing to inquire whether this system of records contains information about them should contact the appropriate system manager or the Regional Office servicing the state where they are employed (see list of the Regional Office addresses in Appendix). Such person should provide his or her full name, date of birth, and signature.

RECORD ACCESS PROCEDURES:

A request for access shall be mailed or presented to the appropriate system manager at the address listed above. Individuals must furnish the following information for their records to be identified: (a) Name and (b) verification of identity as required by the regulations implementing the Privacy Act of 1974, at 29 CFR 71.2.

CONTESTING RECORD PROCEDURES:

Individuals wishing to contest information in their files may write the appropriate system manager at the specified address, reasonably identifying the records pertaining to them, the information which is being contested in that record, the corrective action(s) being sought, and the reason for the correction(s). See also 29 CFR 71.9.

RECORD SOURCE CATEGORIES:

OFCCP personnel working in district and regional offices.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of the source would be held in confidence.

DOL/ESA-26

SYSTEM NAME:

Office of Workers' Compensation Programs, Longshore and Harbor Workers' Compensation Act Investigation Files.

SECURITY CLASSIFICATION:

None.

SYSTEM LOCATION:

Division of Longshore and Harbor Workers' Compensation, Office of Workers' Compensation Programs, Washington, DC 20210, and district offices of the Office of Workers' Compensation Programs set forth in the Appendix to this document.

CATEGORIES OF INDIVIDUALS COVERED BY THE SYSTEM:

Individuals filing claims for workers' compensation benefits under the Longshore and Harbor Workers' Compensation Act, the Non-Appropriated Fund Instrumentalities Act, the Defense Base Act, the War Hazards Act, and the DC Workers' Compensation Act, referred to collectively herein as the Longshore and Harbor Workers' Compensation Act (LHWCA); individuals providing medical and other services to the Division; employees of insurance companies and of medical and other services providers to claimants; and other persons suspected of violations of law under the Act, including related civil and criminal provisions.

CATEGORIES OF RECORDS IN THE SYSTEM:

Records which contain information gathered in connection with investigations concerning possible violations of Federal law, whether civil or criminal, under the LHWCA. This system also contains the work product of the Department of Labor and other government personnel and consultants involved in the investigations.

AUTHORITY FOR MAINTENANCE OF SYSTEM:

33 U.S.C. 901 et seq. (20 CFR parts 701 et seq.); 36 DC Code 501 et seq.; 42 U.S.C. 1651 et seq.; 43 U.S.C. 1331 et seq.; 5 U.S.C. 8171 et seq.

PURPOSE(S):

To maintain records for the purpose of assisting in determinations of possible violations of Federal law, whether civil or criminal, in connection with reported injuries under the LHWCA.

ROUTINE USES OF RECORDS MAINTAINED IN THE SYSTEM, INCLUDING CATEGORIES OF USERS AND THE PURPOSES OF SUCH USES:

In addition to those universal routine uses listed in the General Prefatory Statement to this document, disclosure of relevant and necessary information from this system of records may also be made to the following individuals and entities for the purposes noted when the purpose of the disclosure is compatible with the purpose for which the information was collected: Internal Revenue Service, for the purpose of obtaining taxpayer mailing addresses in order to locate a taxpayer to collect, compromise, or write-off a Federal claim against such taxpayer; discharging an indebtedness owed by an individual.

Note: Pursuant to 5 U.S.C. 552a(b)(1), information from this system of records is disclosed to members and staff of the Office of Administrative Law Judges, the Benefits Review Board, the Office of the Solicitor and other components of the Department who have a need for the record in the performance of their duties.

DISCLOSURE TO CONSUMER REPORTING AGENCIES:

None.

POLICIES AND PRACTICES FOR STORING, RETRIEVING, ACCESSING, RETAINING, AND DISPOSING OF RECORDS IN THE SYSTEM:

STORAGE:

Records are maintained in manual files.

RETRIEVABILITY:

Records are retrieved by name of individual being investigated.

SAFEGUARDS:

Files are maintained under the supervision of OWCP personnel and access is provided only to authorized personnel.

RETENTION AND DISPOSAL:

Time retained varies by type of compensation case involved, and the investigative file is retained according to the same schedule as the particular compensation case to which it relates. For example, if the investigative file is about a lost-time case, it is transferred to the Federal Records Center 2 years after the related compensation case is closed, and destroyed 20 years after the case is closed. If the investigative file is about a death case, it is retained in the office as long as there are qualified dependents, and destroyed 6 years, 3 months after final closing. “No Lost Time cases are destroyed three years after the end of the fiscal year during which the related report was received.

SYSTEM MANAGER(S) AND ADDRESS:

Director for Longshore and Harbor Workers' Compensation, Office of Workers' Compensation Programs, 200 Constitution Avenue, NW, Washington, DC 20210, and District Directors in the district offices of the Office of Workers' Compensation Programs set forth in the Appendix to this document.

NOTIFICATION PROCEDURE:

Requests, including name of individual being investigated, should be addressed to the System Manager.

RECORD ACCESS PROCEDURES:

Individuals wishing to request access to records should contact the System Manager indicated above.

CONTESTING RECORD PROCEDURE:

Individuals wishing to contest the contents of a record should contact the System Manager.

RECORD SOURCE CATEGORIES:

Records are from Division claim and payment files (DOL/ESA-15 and DOL/ESA-24) and from employees, insurers, service providers; and information received from parties leading to the opening of an investigation, or from interviews held during the course of an investigation.

SYSTEM EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/ESA-27

SYSTEM NAME:

Office of Workers' Compensation Programs, Longshore and Harbor Workers' Compensation Act Claimant Representatives.

SECURITY CLASSIFICATION:

None.

SYSTEM LOCATION:

Division of Longshore and Harbor Workers' Compensation, Office of Workers' Compensation Programs, Washington, DC 20210, and district offices of the Office of Workers' Compensation Programs set forth in the Appendix to this document.

CATEGORIES OF INDIVIDUALS COVERED BY THE SYSTEM:

Individuals alleged to have violated the provisions of the Longshore and Harbor Workers' Compensation Act and its implementing regulations relating to representation of claimants/beneficiaries before the Department of Labor, those found to have committed such violations and who have been disqualified, and those who are investigated but not disqualified. This system would also cover those persons who have been reinstated as qualified claimant representatives.

CATEGORIES OF RECORDS IN THE SYSTEM:

Records in the system will consist of information such as the representative's name and address, the names and addresses of affected claimants/beneficiaries, copies of relevant documents obtained from claimant/beneficiary files relating to the issue of representation; all documents received or created as a result of the investigation of and/or hearing on the alleged violation of the Longshore Act and/or its regulations relating to representation, including investigations conducted by the DOL Office of Inspector General or other agency; and copies of documents notifying the representative and other interested persons of the disqualification.

AUTHORITY FOR MAINTENANCE OF THE SYSTEM:

Longshore and Harbor Workers' Compensation Act, 33 U.S.C. 931(b)(2)(B).

PURPOSE(S):

These records contain information on activities—including billing— relating to representation of claimants/beneficiaries, including documents relating to the debarment of representatives under other Federal or state programs.

ROUTINE USES OF RECORDS MAINTAINED IN THE SYSTEM, INCLUDING CATEGORIES OF USERS AND THE PURPOSES OF SUCH USES:

In addition to those universal routine uses listed in the General Prefatory Statement to this document, disclosure of relevant and necessary information from this system of records may also be made to the following individuals and entities for the purposes noted when the purpose of the disclosure is compatible with the purpose for which the information was collected:

a. A claimant/beneficiary for the purpose of informing him/her that his/her representative has been disqualified from further representation under the Longshore Act.

b. Employers, insurance carriers, state bar disciplinary authorities, and the general public, for the purpose of providing information concerning the qualification of person(s) to act as a claimant representative under the Act.

c. Federal, state or local agency maintaining pertinent records, if necessary to obtain information relevant to a Departmental decision relating to debarment actions.

Note: Disclosure of information contained in the file of the claimant, a person who is duly authorized to act on his/her behalf, or to others to whom disclosure is authorized by these routine uses, may be made over the telephone. Disclosure over the telephone will only be done where the requestor provides appropriate identifying information. Telephonic disclosure of information is essential to permit efficient administration and adjudication of claims.

Pursuant to 5 U.S.C. 552a(b)(1), information from this system of records is disclosed to members and staff of the Office of Administrative Law Judges, the Benefits Review Board, the Office of the Solicitor and other components of the Department who have a need for the record in the performance of their duties.

DISCLOSURE TO CONSUMER REPORTING AGENCIES:

None.

POLICIES AND PROCEDURES FOR STORING, RETRIEVING, ACCESSING, RETAINING AND DISPOSING OF RECORDS IN THIS SYSTEM:

STORAGE:

The information collected in connection with complaints is kept in manual files.

RETRIEVABILITY:

The records are retrieved by the name of the representative.

SAFEGUARDS:

Records are stored in locked file cabinets.

RETENTION AND DISPOSAL:

File is retained in the office for three years after the debarment action is final and then transferred to the Federal Records Center, and destroyed thirty years after the debarment action is final. Where the period of exclusion is defined as a set period of time, the file will be retained two years after the period of exclusion expires (or the individual is otherwise reinstated), then transferred to the Federal Records Center, and destroyed thirty years after the debarment action is final.

SYSTEM MANAGER(S) AND ADDRESS:

Director for Longshore and Harbor Workers' Compensation Act, Office of Workers' Compensation Programs, 200 Constitution Avenue, NW, Washington, DC 20210, and District Directors in district offices set forth in the Appendix.

NOTIFICATION PROCEDURE:

Requests, including name, date of injury, employer at the time of injury, and case file number, if known, should be addressed to the appropriate system manager indicated above.

RECORD ACCESS PROCEDURES:

Individuals wishing to request access to records should contact the appropriate system manager listed above.

CONTESTING RECORD PROCEDURE:

Individuals wishing to contest the contents of a record should contact the System Manager.

RECORD SOURCE CATEGORIES:

Information in this system is obtained from employees, employers, insurance carriers, members of the public, agency investigative reports, and from other DOL systems of records.

SYSTEM EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/ESA-28

SYSTEM NAME:

Office of Workers' Compensation Programs, Physicians and Health Care Providers Excluded under the Longshore Act.

SECURITY CLASSIFICATION:

None.

SYSTEM LOCATION:

Division of Longshore and Harbor Workers' Compensation, Office of Workers' Compensation Programs, Washington, DC 20210, and district offices of the Office of Workers' Compensation Programs set forth in the Appendix to this document.

CATEGORIES OF INDIVIDUALS COVERED BY THE SYSTEM:

Providers of medical goods and services, including physicians, hospitals, and providers of medical support services or supplies excluded or considered for exclusion from payment under the Longshore Act, 33 U.S.C. 907(c).

CATEGORIES OF RECORDS IN THE SYSTEM:

Copies of letters, lists, and documents from Federal and state agencies concerning the administrative debarment of providers from participation in programs providing benefits similar to those of the Longshore and Harbor Workers' Compensation Act and their reinstatement; materials concerning possible fraud or abuse which could lead to exclusion of a provider; documents relative to reinstatement of providers; materials concerning the conviction of providers for fraudulent activities in connection with any Federal or state program for which payments are made to providers for similar medical services; all letters, memoranda, and other documents regarding the consideration of a provider's exclusion, the actual exclusion, or reinstatement under the provisions of 20 CFR 702.431 et seq.; copies of all documents in a claimant's file relating to medical care and/or treatment, including bills for such services; as well as letters, memoranda, and other documents obtained during investigations, hearings, and other administrative proceedings concerning exclusion for fraud or abuse, as well as reinstatement, and recommendations and decisions; lists of excluded providers released by the OWCP.

AUTHORITY FOR MAINTENANCE OF THE SYSTEM:

Longshore and Harbor Workers' Compensation Act, 33 U.S.C. 901, 907(c).

PURPOSE(S):

To maintain records to determine the propriety of instituting debarment actions under the Longshore Act. These records also provide information on treatment, billing and other aspects of a medical provider's actions, and/or documentation relating to the debarment of the medical care provider under another Federal or state program.

ROUTINE USES OF RECORDS MAINTAINED IN THE SYSTEM, INCLUDING CATEGORIES OF USERS AND THE PURPOSE OF SUCH USES:

In addition to those universal routine uses listed in the General Prefatory Statement to this document, disclosure of information from this system of records may be made to the following individuals and entities for the purposes noted when the purpose of the disclosure is compatible with the purpose for which the information is collected:

a. Federal, state or local government agencies, state licensing boards, professional organizations, claimants, patients, employers, insurance companies, and any other entities or individuals, for the purpose of identifying an excluded or reinstated provider, to ensure that authorization is not issued nor payment made to an excluded provider, and for the purpose of providing notice that a formerly excluded provider has been reinstated.

b. Federal, state or local government agencies, state licensing boards, professional organizations, claimants, patients, employers, insurance companies, and any other entities or individuals, for the purpose of obtaining information necessary to ensure that the list of excluded providers is correct, useful, and updated, as appropriate, and for the purpose of obtaining information relevant to a Departmental decision regarding a debarment action. This routine use encompasses the disclosure of such information which will enable the Department to properly verify the identity of a provider, to identify the nature of a violation, and the penalty imposed for such violation.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Pursuant to 5 U.S.C. 552a(b)(1), information from this system of records is disclosed to members and staff of the Benefits Review Board, the Office of Administrative Law Judges, the Office of the Solicitor and other components of the Department who have a need for the record in the performance of their duties.

DISCLOSURE TO CONSUMER REPORTING AGENCIES:

None.

POLICIES AND PROCEDURES FOR STORING, RETRIEVING, ACCESSING, RETAINING, AND DISPOSING OF RECORDS IN THIS SYSTEM:

STORAGE:

The records are in manual files, magnetic tapes or other computer storage media, or on computer printouts.

RETRIEVABILITY:

Material is maintained by the name of the provider.

SAFEGUARDS:

Material in the possession of the Office of Workers' Compensation Programs and its contractors will be, when not in use, kept in closed file cabinets, appropriate lockers and storage areas, etc.

RETENTION AND DISPOSAL:

File is retained in the office for three years after the debarment action is final and then transferred to the Federal Records Center, and destroyed thirty years after the debarment action is final. Where the period of exclusion is defined as a set period of time, the file will be retained two years after the period of exclusion expires (or the individual is otherwise reinstated), then transferred to the Federal Records Center, and destroyed thirty years after the debarment action is final.

SYSTEM MANAGER(S) AND ADDRESS:

Director for Longshore and Harbor Workers' Compensation Act, Office of Workers' Compensation Programs, 200 Constitution Avenue, NW, Washington, DC 20210, and District Directors in the district offices set forth in the Appendix to this document.

NOTIFICATION PROCEDURE:

An individual wishing to inquire whether this system of records contains information about him/her may write the system manager at the address above. In order for the record to be located, the individual must provide his or her full name, date of birth, and signature.

RECORD ACCESS PROCEDURE:

Any individual seeking access to non-exempt information about a record within this system of records may write the appropriate system manager, and arrangements will be made to provide review of the file. In order for the record to be located, the individual must provide his or her full name, date of birth, and signature.

CONTESTING RECORD PROCEDURE:

Specific materials in this system have been exempted from certain Privacy Act provisions regarding the amendment of records. The section of this notice entitled “Systems Exempted from Certain Provisions of the Act” indicates the kind of materials exempted, and the reasons for exempting them. Any individual requesting amendment of non-exempt records should contact the appropriate system manager. In order for the record to be located, the individual must provide his or her full name, date of birth, and signature. Individuals requesting amendment of records must comply with the Department's Privacy Act regulations at 29 CFR 71.1 and 71.9.

RECORD SOURCE CATEGORIES:

Information in this system is obtained from Federal, state or local government agencies, state licensing boards, professional organizations, claimants, patients, employers, insurance companies, any other entities or individuals, public documents, and newspapers, as well as from other Department of Labor systems of records.

SYSTEM EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/ESA-29

SYSTEM NAME:

Office of Workers' Compensation Programs, Physicians and Health Care Providers Excluded under the Federal Employees' Compensation Act.

SECURITY CLASSIFICATION:

None.

SYSTEM LOCATION:

The Division of Federal Employees' Compensation, Office of Workers' Compensation Programs, Washington, DC 20210, and district offices of the Office of Workers' Compensation Programs set forth in the Appendix to this document.

CATEGORIES OF INDIVIDUALS COVERED BY THE SYSTEM:

Providers of medical goods and services, including physicians, hospitals, and providers of medical support services or supplies excluded or considered for exclusion from payment under the Federal Employees' Compensation Act for fraud or abuse (20 CFR 10.815-826).

CATEGORIES OF RECORDS IN THE SYSTEM:

Copies of letters, lists and documents from Federal and state agencies concerning the administrative debarment of providers from participation in programs providing benefits similar to those of the Federal Employees' Compensation Act and their reinstatement; materials concerning possible fraud or abuse which could lead to exclusion of a provider; documents relative to reinstatement of providers, materials concerning the conviction of providers for fraudulent activities in connection with any Federal or state program for which payments are made to providers for similar medical services; all letters, memoranda, and other documents regarding the consideration of a provider's exclusion, the actual exclusion, or reinstatement under the provisions of 20 CFR 10.815-826; copies of all documents in a claim file relating to medical care and/or treatment including bills for such services, as well as letters, memoranda, and other documents obtained during investigations, hearings and other administrative proceedings concerning exclusion for fraud or abuse, as well as reinstatement, along with recommendations and decisions; lists of excluded providers released by the OWCP.

AUTHORITY FOR MAINTENANCE OF THE SYSTEM:

Federal Employees' Compensation Act (5 U.S.C. 8101 et seq.), and Title 20 CFR part 10.

PURPOSE(S):

To maintain records to determine the propriety of instituting debarment actions under the Federal Employees' Compensation Act. These records also provide information on treatment, billing and other aspects of a medical provider's actions, and/or documentation relating to the debarment of the medical care provider under another Federal or state program.

ROUTINE USES OF RECORDS MAINTAINED IN THE SYSTEM, INCLUDING CATEGORIES OF USERS AND THE PURPOSE OF SUCH USES:

In addition to those universal routine uses listed in the General Prefatory Statement to this document, disclosure of information from this system of records may be made to the following individuals and entities for the purposes noted when the purpose of the disclosure is compatible with the purpose for which the information is collected:

a. Federal, state or local government agencies, state licensing boards, professional organizations, claimants, patients, employers, insurance companies, and any other entities or individuals, for the purpose of identifying an excluded or reinstated provider, to ensure that authorization is not issued nor payment made to an excluded provider, and for the purpose of providing notice that a formerly excluded provider has been reinstated.

b. Federal, state or local government agencies, state licensing boards, professional organizations, claimants, patients, employers, insurance companies, and any other entities or individuals, for the purpose of obtaining information necessary to ensure that the list of excluded providers is correct, useful, and updated, as appropriate, and for the purpose of obtaining information relevant to a Departmental decision regarding a debarment action. This routine use encompasses the disclosure of such information that will enable the Department to properly verify the identity of a provider, to identify the nature of a violation, and the penalty imposed for such violation.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Pursuant to 5 U.S.C. 552a(b)(1), information from this system of records is disclosed to members and staff of the Employees' Compensation Appeals Board, the Office of Administrative Law Judges, the Office of the Solicitor and other components of the Department who have a need for the record in the performance of their duties.

DISCLOSURE TO CONSUMER REPORTING AGENCIES:

None.

POLICIES AND PROCEDURES FOR STORING, RETRIEVING, ACCESSING, RETAINING, AND DISPOSING OF RECORDS IN THIS SYSTEM:

STORAGE:

The records are in manual files, magnetic tapes or other computer storage media, or on computer printouts.

RETRIEVABILITY:

Material is maintained either by the name of the provider, a case citation, or date of release.

SAFEGUARDS:

Material in the possession of the Office of Workers' Compensation Programs and its contractors will be, when not in use, kept in closed file cabinets, appropriate lockers and storage areas, etc.

RETENTION AND DISPOSAL:

File is retained in the office for three years after the debarment action is final and then transferred to the Federal Records Center, and destroyed thirty years after the debarment action is final. Where the period of exclusion is defined as a set period of time, the file will be retained two years after the period of exclusion expires (or the individual is otherwise reinstated), then transferred to the Federal Records Center, and destroyed thirty years after the debarment action is final.

SYSTEM MANAGER(S) AND ADDRESS:

Director for Federal Employees' Compensation, Office of Workers' Compensation Programs, 200 Constitution Avenue, NW, Washington, DC 20210, and the District Directors of the district offices set forth in the Appendix to this document.

NOTIFICATION PROCEDURE:

An individual wishing to inquire whether this system of records contains information about him/her may write the appropriate system manager at the address above. In order for the record to be located, the individual must provide his or her full name, date of birth, and signature.

RECORD ACCESS PROCEDURE:

Any individual seeking access to non-exempt information about a record within this system of records may write the OWCP district office where the case is located, or the system manager, and arrangements will be made to provide review of the file. In order for the record to be located, the individual must provide his or her full name, date of birth, and signature.

CONTESTING RECORD PROCEDURE:

Specific materials in this system have been exempted from certain Privacy Act provisions regarding the amendment of records. The section of this notice Entitled “Systems Exempted from Certain Provisions of the Act” indicates the kind of materials exempted, and the reasons for exempting them. Any individual requesting amendment of non-exempt records should contact the appropriate the system manager. Individuals requesting amendment of records must comply with the Department's Privacy Act regulations at 29 CFR 71.1 and 71.9.

RECORD SOURCE CATEGORIES:

Information in this system is obtained from Federal, state or local government agencies, state licensing boards, professional organizations, claimants, patients, employers, insurance companies, any other entities or individuals, public documents, and newspapers, as well as from other Department of Labor systems of records.

SYSTEM EXEMPTED FROM CERTAIN PROVISIONS OF THE ACT:

In accordance with 5 U.S.C. 552a(k)(2), investigatory material compiled for law enforcement purposes which is maintained in the investigation files of the Office of Workers' Compensation Programs, is exempt from subsections (c)(3), (d), (e)(1), (e)(4)(G), (H), and (I), and (f) of 5 U.S.C. 552a. The disclosure of information contained in civil investigative files, including the names of persons and agencies to whom the information has been transmitted, would substantially compromise the effectiveness of the investigation. Knowledge of such investigations would enable subjects to take such action as is necessary to prevent detection of illegal activities, conceal evidence or otherwise escape civil enforcement action. Disclosure of this information could lead to the intimidation of, or harm to, informants and witnesses, and their respective families, and the well being of investigative personnel and their families.

DOL/ESA-30

SYSTEM NAME:

Office of Workers' Compensation Programs, Black Lung Automated Support Package.

SECURITY CLASSIFICATION:

Unclassified.

SYSTEM LOCATION:

Office of Workers' Compensation Programs, Division of Coal Mine Workers' Compensation, U.S. Department of Labor Building, 200 Constitution Ave., NW, Washington, DC 20210, and district offices (see addresses in the Appendix to this document).

CATEGORIES OF INDIVIDUALS COVERED BY THE SYSTEM:

Individuals filing claims for black lung benefits; claimants receiving benefits; dependents of claimants and beneficiaries; medical providers; attorneys representing claimants; coal mine operators (workers' compensation insurance carriers).

CATEGORIES OF RECORDS IN THE SYSTEM:

Records included are personal (name, date of birth, SSN, claim type, miner's date of death); demographic (state, county, city, congressional district, zip code); mine employment history; medical records; initial determination; conference results; hearing results; medical and disability payment history; accounting information including data on debts owed to the United States; Social Security Administration black lung benefits data; state workers' compensation claim and benefits data; coal mine operator names, addresses, states of operation and histories of insurance coverage; and medical service providers names, addresses, license numbers, medical specialties, tax identifications and payment histories.

AUTHORITY FOR MAINTENANCE OF THE SYSTEM:

30 U.S.C. 901 et seq., 20 CFR 715.1 et seq., 20 CFR 720.1 et seq., 20 CFR 725.1 et seq.

PURPOSE(S):

To maintain data on claimants, beneficiaries and their dependents; attorneys representing claimants; medical service providers; coal mine operators and insurance carriers. Provide means of automated payment of medical and disability benefits. Maintain a history of medical bills submitted by beneficiaries and medical service providers. Maintain a history of disability benefit payments made to beneficiaries and medical benefit payments made to beneficiaries and medical service providers. Maintain program accounting information including information on debts owed to the United States. Provide a means for the automatic recoupment of overpayments made to beneficiaries and medical service providers.

ROUTINE USES OF RECORDS MAINTAINED IN THE SYSTEM, INCLUDING CATEGORIES OF USERS AND THE PURPOSES OF SUCH USES:

In addition to those universal routine uses listed in the General Prefatory Statement to this document , disclosure of relevant and necessary information may be made to the following:

a. Mine operators (and/or any party providing the operator with workers' compensation insurance) who have been determined potentially liable for the claim at any time after the filing of a notice of injury or claim related to such injury or occupational illness, for the purpose of determining liability for payment.

b. State workers' compensation agencies and the Social Security Administration for the purpose of determining offsets as specified under the Act.

c. Doctors and medical services providers for the purpose of obtaining medical evaluations, physical rehabilitation or other services.

d. Other Federal agencies conducting scientific research concerning the incidence and prevention of black lung disease.

e. Legal representatives, or person authorized to act on behalf of the claimant, responsible operator and program representation on contested issues.

f. Labor unions and other voluntary employee associations of which the claimant is a member for the purpose of exercising an interest in claims of members as part of their service to the members.

g. Contractors providing automated data processing services to the Department of Labor, or to any agency or entity to whom release is authorized, where the contractor is providing a service relating to the purpose for which the information can be released.

h. Federal, state or local agencies if necessary to obtain information relevant to a Department decision concerning the determination of initial or continuing eligibility for program benefits, whether benefits have been or are being paid improperly, including whether dual benefits prohibited under any federal or state law are being paid; and salary offset and debt collection procedures, including any action required by the Debt Collection Act of 1982, 31 U.S.C. 3711.

i. Debt collection agency that DOL has contracted for collection services to recover indebtedness owed to the United States.

j. Internal Revenue Service for the purpose of obtaining taxpayer mailing addresses in order to locate taxpayers to collect, compromise, or write-off a Federal claim against the taxpayer; discharging an indebtedness owed by an individual.

k. Credit Bureaus for the purpose of receiving consumer credit reports identifying the assets, liabilities, income and expenses of a debtor to ascertain the debtor's ability to pay a debt and to establish a payment schedule.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

DISCLOSURE TO CONSUMER REPORTING AGENCIES:

The amount, status and history of overdue debts; the name and address, taxpayer identification (SSAN), and other information necessary to establish the identity of a debtor, the agency and program under which the claim arose, are disclosed pursuant to 5 U.S.C. 552a(b)(12) to consumer reporting agencies as defined by section 603(f) of the Fair Credit Reporting Act (15 U.S.C. 1681a(f); or in accordance with section 3(d)(4)(A)(ii) of the Federal Claims Collection Act of 1966 as amended (31 U.S.C. 3711(f) for the purpose of encouraging the repayment of an overdue debt.

POLICIES AND PRACTICES FOR STORING, RETRIEVING, ACCESSING, RETAINING, AND DISPOSING OF RECORDS IN THE SYSTEM:

STORAGE:

Magnetic media. Medical bills and supporting medical reports transferred to microfilm and magnetic media.

RETRIEVABILITY:

Coal miner's name and social security number; medical provider number; coal mine operator number; insurance carrier number.

SAFEGUARDS:

Files secured in a guarded facility; teleprocessing access protected by restrictions on access to equipment and through use of encrypted passwords.

RETENTION AND DISPOSAL:

Electronic file data has permanent retention. Claimant and benefit master file data will be transferred to magnetic tape and transmitted to NARA every ten years. This data (which includes both open and closed cases) will not be made available to the public until 90 years after transfer to NARA due to Privacy Act restrictions.

SYSTEM MANAGER(S) AND ADDRESS:

Director, Division of Coal Mine Workers' Compensation, U.S. Department of Labor, Room C-3520, 200 Constitution Ave., NW, Washington, DC 20210, and district office director (see addresses in The Appendix to this document).

NOTIFICATION PROCEDURE:

Individuals wishing to inquire whether this system of records contains information about them should contact the system manager at the above address or district office director (see addresses in the Appendix to this document). Individuals must furnish their name, address, and signature.

RECORD ACCESS PROCEDURES:

Individuals wishing to access any records should contact the appropriate office listed in the Notification Procedure section. Individuals must furnish their name, address and signature.

CONTESTING RECORD PROCEDURES:

Individuals wishing to request amendment of any non-exempt records should contact the appropriate office listed in the Notification Procedure section. Individuals must furnish their name, address, and signature.

RECORD SOURCE CATEGORIES:

Individuals, and organizations.

SYSTEMS EXEMPTED FROM CERTAIN PROVISIONS OF THE ACT:

Investigatory portion of system exempted from certain provisions of the ACT: In accordance with paragraph 3(k)(2) of the Privacy Act, investigatory material compiled for civil law enforcement purposes, which is maintained in this system's files of the Office of Workers' Compensation Programs of the Employment Standards Administration, is exempt from paragraphs (c)(3), (d), (e)(1), (e)(4)(G), (H), and (I), and paragraph (f) of 5 U.S.C. 552a. The disclosure of civil investigatory information, if any, contained in this system's files, including the names of persons and agencies to whom the information has been transmitted, would substantially compromise the effectiveness of investigations. Knowledge of such investigations would enable subjects to take such action as is necessary to prevent detection of illegal activities, conceal evidence, or otherwise escape civil enforcement action. Disclosure of this information could lead to the intimidation of, or harm to informants, witnesses, and their respective families, and in addition, could jeopardize the safety and well-being of investigative personnel and their families.

DOL/ESA-32

SYSTEM NAME:

ESA, Employee Conduct Investigations.

SECURITY CLASSIFICATION:

None.

SYSTEM LOCATION:

The Employment Standards Administration National Office.

CATEGORIES OF INDIVIDUALS COVERED BY THE SYSTEM:

Subjects of complaints and/or investigations covered under the authority delegated to the Branch of Management Review and Internal Control.

CATEGORIES OF RECORDS IN THE SYSTEM:

Name, organization and other information relating to the individual involved. It also contains investigative report(s) associated with the case, including interviews and other confidential data gathered.

AUTHORITY FOR MAINTENANCE OF THE SYSTEM:

5 U.S.C.301.

PURPOSE(S):

To investigate allegations of misconduct.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ASSESSING, RETAINING, AND DISPOSING OF RECORDS IN THE SYSTEM:

STORAGE:

The records are stored in file folders in metal cabinets.

RETRIEVABILITY:

By name of the subject of the complaint or the case file number.

SAFEGUARDS:

The files are maintained in locked file cabinets with access only to those with a need to know the information to perform their duties.

RETENTION AND DISPOSAL:

Records are retained for four years following the date either: (a) They are referred to the OIG; (b) they are transferred to OPM/GOVT-3 Records of Adverse Actions and Actions Based on Unacceptable Performance; or (c) it is determined that the allegation was without sufficient merit to warrant further action, after which they are destroyed by burning.

SYSTEM MANAGER(S) AND ADDRESS:

Branch of Management Review and Internal Management Control, 200 Constitution Ave., NW, Room N-4414, Washington, DC 20210.

NOTIFICATION PROCEDURE:

Inquires should be mailed or presented to the system manager noted at the address noted above.

RECORD ACCESS PROCEDURE:

A request for access shall be addressed to the system manager at the address listed above. Individuals must furnish the following information for their records to be located and identified: Name; approximate date of the investigation; and individuals requesting access must also comply with the Privacy Act regulations regarding verification of identity to records at 29 CFR 71.2.

CONTESTING RECORD PROCEDURES:

A petition for amendment shall be addressed to the System Manager and must meet the requirements of 29 CFR 71.2.

RECORD SOURCE CATEGORIES:

Hotline complaints through the Office of the Inspector General's hotline; hotline complaints through the General Accounting Office's hotline system, personnel records; incident reports submitted by other employees; investigative reports, and individuals.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/ESA-33

SYSTEM NAME:

“Time Report” Component of the Wage and Hour Investigative Support and Reporting Database (WHISARD)

SECURITY CLASSIFICATION:

None.

SYSTEM LOCATION:

Wage and Hour National Office (NO), Regional Offices (RO), and District Offices (DO). See the Appendix to this document for the addresses.

CATEGORIES OF INDIVIDUALS COVERED BY THE SYSTEM:

Wage and Hour Division Investigators, Assistants, and Supervisors.

CATEGORIES OF RECORDS IN THE SYSTEM:

Listing of hours worked distributed among the various programs Activities; leave records.

AUTHORITY FOR MAINTENANCE OF THE SYSTEM:

5 U.S.C. 301.

PURPOSE(S):

To provide Wage and Hour District Directors a method of monitoring the activities of Investigators by providing a daily record of Investigator activities including expenditure of hours by case, Act, non-case activity, and a record of leave taken.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Printed copies of these records are maintained in file cabinets and in an electronic file database in the NO.

RETRIEVABILITY:

By name of Investigator, assistant, and supervisor.

SAFEGUARDS:

Files are locked except during working hours. Only authorized personnel have access to files. Electronic files are protected by the use of passwords by authorized persons.

RETENTION AND DISPOSAL:

Printed forms generated by the WHISARD system will be retained in Wage and Hour DOs (see Records Disposal Schedule #NN-168-43, items 1a and 1b). Database information will be captured on tape at the end of each fiscal year and retained for 25 years.

SYSTEM MANAGER(S) AND ADDRESS:

Administrator, Wage and Hour Division, Frances Perkins Building, 200 Constitution Avenue, NW, Washington DC 20210; Regional Administrators Wage and Hour Division (see the Appendix of this document for addresses).

NOTIFICATION PROCEDURES:

Individuals wishing to make inquiries regarding this system should contact the system manager, or the regional office servicing the state where they are employed (see the Appendix of this document for addresses).

RECORD ACCESS PROCEDURES:

Individuals wishing to request these records should contact the appropriate system manager listed above.

CONTESTING RECORD PROCEDURES:

Individuals who wish to contest or amend any nonexempt system should direct their request to the system manager listed in the Appendix. In addition, the request should state clearly and concisely what information is being contested, the reason for contesting it, and the proposed amendment sought for the information. See 29 CFR part 71.

RECORD SOURCE CATEGORIES:

Individual investigators, assistants and supervisors, Wage and Hour investigator personnel working in District Offices.

SYSTEMS EXEMPTED FROM CERTAIN PROVISIONS OF THE ACT:

None.

DOL/ESA-34

SYSTEM NAME:

Farm Labor Contractor Registration File.

SECURITY CLASSIFICATION:

None.

SYSTEM LOCATION:

All Wage and Hour Regional Offices and the Florida Department of Labor & Employment Security, Agricultural Programs Section located in Tallahassee, Florida.

CATEGORIES OF INDIVIDUALS COVERED BY THE SYSTEM:

Applicants for and holders of Farm Labor Contractor Certificates of Registration.

CATEGORIES OF RECORDS IN THE SYSTEM:

Records, which contain personal identification, fingerprints, FBI records, insurance records, court and police records.

AUTHORITY FOR MAINTENANCE OF THE SYSTEM:

5 U.S.C. 301; Migrant and Seasonal Agricultural Worker Protection Act, as amended (MSPA), 29 U.S.C. 1801 et seq.

PURPOSE(S):

To maintain a record of applicants for and holders of Farm Labor Contractor Certificates of Registration. Records are used to determine eligibility for issuance of a certificate of registration and for determining compliance with MSPA.

ROUTINE USES OF RECORDS MAINTAINED IN THE SYSTEM, INCLUDING CATEGORIES OF USERS AND THE PURPOSES OF SUCH USES:

In addition to those universal routine uses listed in the General Prefatory Statement to this document, relevant and necessary information may be disclosed to the system manager of DOL/ESA-37, MSPA Public Central Register Records File, for the purpose of preparing its list.

DISCLOSURE TO CONSUMER REPORTING AGENCIES:

Not applicable.

POLICIES AND PRACTICES FOR STORING, RETRIEVING, ACCESSING, RETAINING, AND DISPOSING OF RECORDS IN THE SYSTEM:

STORAGE:

Records are kept in letter size manual files, computer discs and computer printouts. Records are stored in metal file cabinets in Wage and Hour Regional Offices and in the office of the Florida Department of Labor & Employment Security, Agricultural Programs Section, located in Tallahassee, Florida.

RETRIEVABILITY:

Indexed by the name of the applicant/holder.

SAFEGUARDS:

Accessible only to persons engaged in the administration of the program and there is screening to prevent unauthorized disclosure.

RETENTION AND DISPOSAL:

Records must be retained for a period of five years from the date of last certificate of action, and then destroyed when no longer needed.

SYSTEM MANAGER(S) AND ADDRESS:

Administrator, Wage and Hour Division, 200 Constitution Avenue, NW, Washington, DC 20210, and Regional Administrator for Wage and Hour of relevant Regional Offices.

NOTIFICATION PROCEDURE:

To System Manager(s) at above address.

RECORD ACCESS PROCEDURES:

Write to System Manager(s) indicated above.

CONTESTING RECORD PROCEDURES:

Address inquiries to Administrator, Wage and Hour Division, 200 Constitution Avenue, NW, Washington, DC 20210, and Regional Administrator for Wage and Hour of relevant Regional Offices. Such inquiries should include the full name of the requester.

RECORD SOURCE CATEGORIES:

The applicant, insurance companies, FBI, court and police records, and from investigations conducted by DOL.

SYSTEMS EXEMPTED FROM CERTAIN PROVISIONS OF THE ACT:

None.

DOL/ESA-35

SYSTEM NAME:

Farm Labor Contractor Employee Registration File.

SECURITY CLASSIFICATION:

Unclassified.

SYSTEM LOCATION:

All Wage and Hour Regional Offices and the Florida Department of Labor & Employment Security, Agricultural Programs Section located in Tallahassee, Florida.

CATEGORIES OF INDIVIDUALS COVERED BY THE SYSTEM:

Applicants for and holders of Farm Labor Contractor Employee Certificates of Registration.

CATEGORIES OF RECORDS IN THE SYSTEM:

Records which contain personal identification, fingerprints, FBI records, insurance records, court and police records.

AUTHORITY FOR MAINTENANCE OF THE SYSTEM:

5 U.S.C. 301; Migrant and Seasonal Agricultural Worker Protection Act, as amended (MSPA), 29 U.S.C. 1801 et seq.

PURPOSE(S):

To maintain a record of applicants for and holders of Farm Labor Contractor Employee Certificates of Registration. Records are used to determine eligibility for issuance of a certificate of registration and for determining compliance with MSPA.

ROUTINE USES OF RECORDS MAINTAINED IN THE SYSTEM, INCLUDING CATEGORIES OF USERS AND THE PURPOSE OF SUCH USES:

In addition to those universal routine uses listed in the General Prefatory Statement to this document, relevant and necessary information may be disclosed to the system manager of DOL/ESA-37, MSPA Public Central Register Records File, for the purpose of preparing its list.

DISCLOSURE TO CONSUMER REPORTING AGENCIES:

Not applicable.

POLICIES AND PRACTICES FOR STORING, RETRIEVING, ACCESSING, RETAINING, AND DISPOSING OF RECORDS IN THE SYSTEM:

STORAGE:

Records are kept in letter size manual files, computer discs and computer printouts. Records are stored in metal file cabinets in Wage and Hour Regional Offices and in the office of the Florida Department of Labor & Employment Security, Agricultural Programs Section, located in Tallahassee, Florida.

RETRIEVABILITY:

Indexed by the name of the applicant/holder.

SAFEGUARDS:

Accessible only to persons engaged in the administration of the program and there is screening to prevent unauthorized disclosure.

RETENTION AND DISPOSAL:

Records must be retained for a period of five years from the date of last certificate of action, and then destroyed when no longer needed.

SYSTEM MANAGER(S) AND ADDRESS:

Administrator, Wage and Hour Division, 200 Constitution Avenue, NW, Washington, DC 20210, and Regional Administrator for Wage and Hour of relevant Regional Offices.

NOTIFICATION PROCEDURE:

Write to System Manager(s) indicated above.

RECORD ACCESS PROCEDURES:

Write to appropriate System Manager indicated above.

CONTESTING RECORD PROCEDURES:

Address inquiries to Administrator, Wage and Hour Division, 200 Constitution Avenue, NW, Washington, DC 20210, and Regional Administrator for Wage and Hour of relevant Regional Offices. Such inquiries should include the full name of the requester.

RECORD SOURCE CATEGORIES:

The applicant, insurance companies, FBI, court and police records, and from investigations conducted by DOL.

SYSTEMS EXEMPTED FROM CERTAIN PROVISIONS OF THE ACT:

None.

DOL/ESA-36

SYSTEM NAME:

MSPA Civil Money Penalties in the Wage Hour Investigative Support and Reporting Database (WHISARD).

SECURITY CLASSIFICATION:

None.

DOL/ESA-36

SYSTEM NAME:

MSPA Civil Money Penalties in the Wage Hour Investigative Support and Reporting Database (WHISARD).

SECURITY CLASSIFICATION:

None.

SYSTEM LOCATION:

Wage and Hour National Office (NO), Regional Offices (RO) and District Offices (DO), see The Appendix of this document for addresses.

CATEGORIES OF INDIVIDUALS COVERED BY THE SYSTEM:

All persons investigated and assessed civil money penalties (CMPs) under the Migrant and Seasonal Agricultural Worker Protection Act (MSPA).

CATEGORIES OF RECORDS IN THE SYSTEM:

Names, addresses, Social Security numbers, complaint information, employer information, employer/employee interviews, payroll information, housing and/or vehicle inspection reports, outcome of investigation, notification of determination to assess a CMP, hearing requests and/or subsequent legal documents.

AUTHORITY FOR MAINTENANCE OF THE SYSTEM:

5 U.S.C. 301; Migrant and Seasonal Agricultural Worker Protection Act, as amended (MSPA), 29 U.S.C. 1801 et seq.

PURPOSE(S):

To maintain records on persons assessed MSPA CMPs and all actions connected therewith.

ROUTINE USES OF RECORDS MAINTAINED IN THE SYSTEM, INCLUDING CATEGORIES OF USERS AND THE PURPOSES OF SUCH USES:

None, except for those routine uses listed in the General Prefatory Statement to this document.

DISCLOSURE OF CONSUMER REPORT AGENCIES:

Not applicable.

POLICIES AND PRACTICES FOR STORING, RETRIEVING, ACCESSING, RETAINING AND DISPOSING OF RECORDS IN THE SYSTEM

STORAGE:

Original records are stored in Wage and Hour offices. These records and other information are also maintained in an electronic file database in these offices.

RETRIEVABILITY:

Records are retrieved by employer name, Employer Identification Number, case file number or Act violated.

SAFEGUARDS:

Only authorized personnel have access by use of passwords to information stored on the database.

Original records are securely stored in Wage and Hour Regional Offices.

RETENTION AND DISPOSAL:

1. Electronic records are electronically archived; data tapes are retained for 25 years.

2. Printed information generated by this system and retained in a Wage-Hour office will be disposed of as follows: Printed information, concerning cases where violations were found, is disposed of 12 years after the date the case is closed. For cases where no violation were found, printed information is disposed of three years after the closing date.

SYSTEM MANAGER(S) AND ADDRESS:

Administrator, Wage and Hour Division, Room S-3502, Frances Perkins Building, 200 Constitution Avenue, NW, Washington, DC 20210.

NOTIFICATION PROCEDURES:

Individuals wishing to make inquiries regarding this system should contact the system manager, or the regional office that services the state in which they are located (see list of the regional office addresses in the Appendix of this document). Inquiries should include the full name of the requester and the date and amount of assessment.

RECORD ACCESS PROCEDURES:

Individuals wishing to request access to these records should contact the appropriate regional office listed in the Appendix.

CONTESTING RECORD PROCEDURES:

Individuals wishing to contest or amend any records should direct their request to the appropriate regional office listed in the Appendix. Such inquiries should include the full name of the requester and the date and amount of assessment.

RECORD SOURCE CATEGORIES:

The subject of the investigation, employer(s), employee(s) (present and/or former), insurance companies, other government agencies, court documents, and previous investigations (if applicable).

SYSTEMS EXEMPTED FROM CERTAIN PROVISIONS OF THE ACT:

None.

DOL/ESA-37

SYSTEM NAME:

MSPA Public Central Registry Records File.

SECURITY CLASSIFICATION:

None.

SYSTEM LOCATION:

Wage and Hour National Office (NO), Regional Offices (RO) and District Offices (DO), see the Appendix for addresses.

CATEGORIES OF INDIVIDUALS COVERED BY THE SYSTEM:

Holders of Farm Labor Contractor and Farm Labor Contractor Employee Certificates of Registration.

CATEGORIES OF RECORDS IN THE SYSTEM:

Records which contain the name, address, certificate of registration number, authorization to transport, house, or drive (if any), and effective and expiration dates of holders of Farm Labor Contractor and Farm Labor Contractor Employee Certificates of Registration.

AUTHORITY FOR MAINTENANCE OF THE SYSTEM:

5 U.S.C. 301; Migrant and Seasonal Agricultural Worker Protection Act, as amended (MSPA), 29 U.S.C. 1801 et seq.

PURPOSE(S):

To maintain a record of holders of Farm Labor Contractor and Farm Labor Contractor Employee Certificates of Registration.

ROUTINE USES OF RECORDS MAINTAINED IN THE SYSTEM, INCLUDING CATEGORIES OF USERS AND THE PURPOSES OF SUCH USES:

In addition to the routine uses listed in the General Prefatory Statement to this document, a public central registry of all persons issued certificates of registration is maintained by name and address which is available to anyone, upon request, as required by the Migrant and Seasonal Agricultural Worker Protection Act (MSPA), as amended (Section 402). Alternatively, section 500.170 of 29 CFR Part 500 provides that requests for registry information may be made by telephone by calling a toll-free number (listed). This registry is the source for providing that information.

DISCLOSURE OF CONSUMER REPORT AGENCIES:

Not applicable.

POLICIES AND PRACTICES FOR STORING, RETRIEVING, ACCESSING, RETAINING AND DISPOSING OF RECORDS IN THE SYSTEM

STORAGE:

Original records are stored in the Wage and Hour Regional Offices. These records are also maintained in an electronic file Database in the DOL NO.

RETRIEVABILITY:

Records are retrieved by name, Social Security Number (or Employer Identification Number), or Farm Labor Contractor Registration Number.

SAFEGUARDS:

Only authorized personnel have access by use of passwords to information stored on the database.

Original records are securely stored in Wage and Hour Regional Offices.

RETENTION AND DISPOSAL:

1. Electronic records are updated on a real-time basis. Expired certificate records are electronically archived daily. Data tapes are retained for 25 years.

2. Printed information generated by the certificates program and retained in a Wage-Hour office will be disposed of 5 years after the date of last certificate action.

SYSTEM MANAGER(S) AND ADDRESS:

Administrator, Wage and Hour Division, Frances Perkins Building, 200 Constitution Avenue, NW, Washington, DC 20210.

NOTIFICATION PROCEDURES:

Individuals wishing to make inquiries regarding this system should contact the system manager, or the regional office that services the state in which they are located (see list of the regional office addresses in the Appendix).

RECORD ACCESS PROCEDURES:

Individuals wishing to request access to these records should contact the appropriate regional office listed in the Appendix.

CONTESTING RECORD PROCEDURES:

Individuals wishing to contest or amend any records should direct their request to the appropriate regional office listed in the Appendix. Such inquiries should include the full name of the requester and the date and amount of assessment.

RECORD SOURCE CATEGORIES:

Farm labor contractor and farm labor contractor employee applications and certificates of registration.

SYSTEMS EXEMPTED FROM CERTAIN PROVISIONS OF THE ACT:

None.

DOL/ESA-38

SYSTEM NAME:

Wage and Hour Regional Office Clearance List—MSPA Registration

SECURITY CLASSIFICATION:

None.

SYSTEM LOCATION:

Wage and Hour National Office (NO), Regional Offices (RO) and District Offices (DO), see the Appendix for addresses.

CATEGORIES OF INDIVIDUALS COVERED BY THE SYSTEM:

Farm labor contractors and farm labor contractor employees who may not currently meet eligibility requirements, as stated in the Migrant and Seasonal Agricultural Worker Protection Act (MSPA) for issuance of a certificate of registration.

CATEGORIES OF RECORDS IN THE SYSTEM:

Records containing names, addresses, and social security numbers, outstanding unpaid CMPs under MSPA, injunctions, convictions, deportations, and previous actions to deny or revoke a certificate of registration.

AUTHORITY FOR MAINTENANCE OF THE SYSTEM:

5 U.S.C. 301; Migrant and Seasonal Agricultural Worker Protection Act, as amended (MSPA), 29 U.S.C. 1801 et seq.

PURPOSE(S):

To provide a list of persons who may not meet eligibility requirements for issuance of a farm labor contractor or farm labor contractor employee Certificate of Registration to be used as a reference document for screening incoming applications by Wage and Hour Regional Offices and to provide historical and current compliance information to Wage and Hour National, Regional, and District Offices.

ROUTINE USES OF RECORDS MAINTAINED IN THE SYSTEM, INCLUDING CATEGORIES OF USERS AND THE PURPOSES OF SUCH USES:

None except for those universal routine uses listed in the General Prefatory Statement to this document.

DISCLOSURE OF CONSUMER REPORT AGENCIES:

None.

POLICIES AND PRACTICES FOR STORING, RETRIEVING, ACCESSING, RETAINING AND DISPOSING OF RECORDS IN THE SYSTEM

STORAGE:

Original records are stored in the Wage and Hour Regional Offices. These records are also maintained in an electronic file Database in the DOL National Office.

RETRIEVABILITY:

Records are retrieved by name or Social Security number (or Employer Identification Number).

SAFEGUARDS:

Only authorized personnel have access by use of passwords to information stored on the database.

Original records are securely stored in Wage and Hour Regional Offices.

RETENTION AND DISPOSAL:

1. Electronic records are updated on a real-time basis. Data tapes are retained for 25 years.

2. Printed information retained in Wage-Hour offices will be disposed of 5 years after the date of the last certifice action.

SYSTEM MANAGER(S) AND ADDRESS:

Administrator, Wage and Hour Division, Frances Perkins Building, 200 Constitution Avenue, NW, Washington, DC 20210.

NOTIFICATION PROCEDURES:

Individuals wishing to make inquiries regarding this system should write to the system manager, or the regional office that services the state in which they are located (see list of the regional office addresses in the Appendix of this document).

RECORD ACCESS PROCEDURES:

Individuals wishing to request access to these records should write to the appropriate office listed in the Appendix. Accessible only to persons engaged in the administration of the program.

CONTESTING RECORD PROCEDURES:

Individuals wishing to contest or amend any record procedures should write to the system manager listed in the Appendix. The request should state clearly and concisely what information is being contested, the reason for contesting it, and the proposed amendment sought for the information.

RECORD SOURCE CATEGORIES:

Insurance companies, FBI, court and police records, previous actions to deny or revoke certificates of registration, and from investigations conducted by DOL and subsequent legal documents following such investigations.

SYSTEMS EXEMPTED FROM CERTAIN PROVISIONS OF THE ACT:

None.

DOL/ESA-39

SYSTEM NAME:

State Employment Service Clearance List—MSPA Registration

SECURITY CLASSIFICATION:

None.

SYSTEM LOCATION:

The Department of Labor & Employment Security, Tallahassee, Florida; New Jersey Department of Labor, Trenton, New Jersey; Virginia Employment Commission, Richmond, Virginia; Wage and Hour National Office (NO), Regional Offices (RO) and District Offices (DO), see the Appendix of this document for addresses of the Wage and Hour offices.

CATEGORIES OF INDIVIDUALS COVERED BY THE SYSTEM:

Farm labor contractors and farm labor contractor employees who may not currently meet eligibility requirements, as stated in the Migrant and Seasonal Agricultural Worker Protection Act (MSPA), for issuance of a certificate of registration.

CATEGORIES OF RECORDS IN THE SYSTEM:

Records contain names, addresses, and Social Security numbers.

AUTHORITY FOR MAINTENANCE OF THE SYSTEM:

5 U.S.C. 301; Migrant and Seasonal Agricultural Worker Protection Act, as amended (MSPA), 29 U.S.C. 1801 et seq.

PURPOSE(S):

To provide a list of persons who may not meet eligibility requirements for issuance of a farm labor contractor or farm labor contractor employee Certificate of Registration to be used as a reference document for screening incoming applications by the Department of Labor and Employment Security, Tallahassee, Florida; New Jersey Department of Labor, Trenton, New Jersey; and Virginia Employment Commission, Richmond, Virginia.

ROUTINE USES OF RECORDS MAINTAINED IN THE SYSTEM, INCLUDING CATEGORIES OF USERS AND THE PURPOSES OF SUCH USES:

None except for those universal routine uses listed in the General Prefatory Statement to this document.

DISCLOSURE OF CONSUMER REPORT AGENCIES:

None.

POLICIES AND PRACTICES FOR STORING, RETRIEVING, ACCESSING, RETAINING AND DISPOSING OF RECORDS IN THE SYSTEM

STORAGE:

Electronic data is stored on computer disc.

RETRIEVABILITY:

Records are retrieved by name or by Social Security Number.

SAFEGUARDS:

This is accessible only to persons engaged in the administration of the program and there is screening to prevent unauthorized disclosure.

RETENTION AND DISPOSAL:

Electronic records are updated on a monthly basis. Data tapes are retained for 25 years.

SYSTEM MANAGER(S) AND ADDRESS:

Administrator, Wage and Hour Division, Frances Perkins Building, 200 Constitution Avenue, NW, Washington, DC 20210.

NOTIFICATION PROCEDURES:

Write to System Manager(s) indicated above.

RECORD ACCESS PROCEDURES:

Write to System Manager(s) indicated above.

CONTESTING RECORD PROCEDURES:

Write to System Manager(s) indicated above.

RECORD SOURCE CATEGORIES:

Wage and Hour Clearance List—MSPA Registration.

SYSTEMS EXEMPTED FROM CERTAIN PROVISIONS OF THE ACT:

None.

DOL/ESA-40

SYSTEM NAME:

MSPA Tracer List.

SECURITY CLASSIFICATION:

None.

SYSTEM LOCATION:

The Wage and Hour National Office.

CATEGORIES OF INDIVIDUALS COVERED BY THE SYSTEM:

Farm labor contractors, farm labor contractor employees, agricultural employers, and housing providers who have been investigated under the Migrant and Seasonal Agricultural Worker Protection Act (MSPA).

CATEGORIES OF RECORDS IN THE SYSTEM:

Records containing names, addresses, and Certificate of Registration numbers of persons investigated under MSPA; location and scope of investigation, period covered and results of investigations conducted.

AUTHORITY FOR MAINTENANCE OF THE SYSTEM:

5 U.S.C. 301; Migrant and Seasonal Agricultural Worker Protection Act, as amended (MSPA), 29 U.S.C. 1801 et seq.

PURPOSE(S):

To provide a written compliance history of persons who have been investigated under MSPA and the results of those investigations as a reference document for Wage and Hour investigators to determine knowledge of the Act by the person being investigated and whether previous violations are ongoing.

ROUTINE USES OF RECORDS MAINTAINED IN THE SYSTEM, INCLUDING CATEGORIES OF USERS AND THE PURPOSES OF SUCH USES:

None except for those universal routine uses listed in the General Prefatory Statement to this document.

DISCLOSURE OF CONSUMER REPORT AGENCIES:

None.

POLICIES AND PRACTICES FOR STORING, RETRIEVING, ACCESSING, RETAINING AND DISPOSING OF RECORDS IN THE SYSTEM

STORAGE:

Records are stored on computer media at the Wage and Hour National Office.

RETRIEVABILITY:

Records are retrieved by name.

SAFEGUARDS:

Electronic data is stored on computer disc. This is accessible only to persons engaged in the administration of the program and there is screening to prevent unauthorized disclosure.

RETENTION AND DISPOSAL:

Electronic records are updated on a monthly basis. Data tapes are retained for 25 years.

SYSTEM MANAGER(S) AND ADDRESS:

Administrator, Wage and Hour Division, Frances Perkins Building, 200 Constitution Avenue, NW, Washington, DC 20210.

NOTIFICATION PROCEDURES:

Write to System Manager(s) indicated above.

RECORD ACCESS PROCEDURES:

Write to System Manager(s) indicated above.

CONTESTING RECORD PROCEDURES:

Write to System Manager(s) indicated above.

RECORD SOURCE CATEGORIES:

The person investigated, employers, employees, insurance companies, FBI, court and police records, and from investigations conducted by DOL and subsequent legal documents following such investigations.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a provided, however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence.

DOL/ESA-41

SYSTEM NAME:

MSPA Certificate Action Record Files.

SECURITY CLASSIFICATION:

None.

SYSTEM LOCATION:

Wage and Hour National Office and Regional Offices.

CATEGORIES OF INDIVIDUALS COVERED BY THE SYSTEM:

Applicants for and holders of Farm Labor Contractor/Farm Labor Contractor Employee Certificates of Registration.

CATEGORIES OF RECORDS IN THE SYSTEM:

Names, addresses, Social Security numbers, fingerprints, FBI records, insurance records, court and police records.

AUTHORITY FOR MAINTENANCE OF THE SYSTEM:

5 U.S.C. 301; Migrant and Seasonal Agricultural Worker Protection Act, as amended (MSPA), 29 U.S.C. 1801 et seq.

PURPOSE(S):

To maintain a record of persons whose applications for or previously issued Farm Labor Contractor/Farm Labor Contractor Employee Certificates of Registration have been denied or revoked and all subsequent actions connected therewith.

ROUTINE USES OF RECORDS MAINTAINED IN THE SYSTEM, INCLUDING CATEGORIES OF USERS AND THE PURPOSE OF SUCH USES:

None except for these routine uses listed in the General Prefatory Statement to this document.

DISCLOSURE TO CONSUMER REPORTING AGENCIES:

Not applicable.

POLICIES AND PRACTICES FOR STORING, RETRIEVING, ACCESSING, RETAINING, AND DISPOSING OF RECORDS IN THE SYSTEM:

STORAGE:

Records are stored in metal file cabinets and computer media in the Wage and Hour National Office. Computer media are stored in the Wage and Hour National Office and Regional Offices.

RETRIEVABILITY:

By the name of the applicant/holder.

SAFEGUARDS:

Accessible only to persons engaged in the administration of the program and there is screening to prevent unauthorized disclosure.

RETENTION AND DISPOSAL:

Records must be retained for a period of five years from the expiration date of a certificate of registration or from the date an application is received where no certificate has been issued.

SYSTEM MANAGER(S) AND ADDRESS:

Administrator, Wage and Hour Division, 200 Constitution Avenue, NW, Washington, DC 20210.

NOTIFICATION PROCEDURE:

Write to System Manager at above address.

RECORD ACCESS PROCEDURES:

Write to System Manager indicated above.

CONTESTING RECORD PROCEDURES:

Write to Administrator, Wage and Hour Division, 200 Constitution Avenue, NW, Washington, DC 20210. Such inquiries should include the full name of the requester.

RECORD SOURCE CATEGORIES:

Applicants, individuals, insurance companies, FBI, court and police records, and from investigations conducted by DOL.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence.

DOL/ESA-42

SYSTEM NAME:

Case Registration/Investigator Assignment Form; in the Wage and Hour Investigative Support and Reporting Database (WHISARD).

SECURITY CLASSIFICATION:

None.

SYSTEM LOCATION:

Wage and Hour National Office (NO), Regional Offices (RO), and District Offices (DO); see the Appendix of this document for addresses.

CATEGORIES OF INDIVIDUALS COVERED BY THE SYSTEM:

Wage and Hour Investigators.

CATEGORIES OF RECORDS IN THE SYSTEM:

Records containing name and address, case investigation number, investigation program, investigating office, prior history of investigations, and investigating officer.

AUTHORITY FOR MAINTENANCE OF THE SYSTEM:

5 U.S.C. 301.

PURPOSE(S):

To provide Wage and Hour DOs with a record of employers currently undergoing investigation by Wage and Hour within the jurisdiction of that particular DO. Used to record the initial scheduling of an investigation, assignment to an Investigator and subsequent actions.

ROUTINE USES OF RECORDS MAINTAINED IN THE SYSTEM, INCLUDING CATEGORIES OF USERS AND THE PURPOSES OF SUCH USES:

None, except for those universal routine uses listed in the General Prefatory Statement to this document.

DISCLOSURE OF CONSUMER REPORT AGENCIES:

None.

POLICIES AND PRACTICES FOR STORING, RETRIEVING, ACCESSING, RETAINING AND DISPOSING OF RECORDS IN THE SYSTEM:

STORAGE:

Maintained in the DOL NO in electronic file Database.

RETRIEVABILITY:

By name of employer, by North American Industrial Code (NAIC) and/or Employer Identification Number (EIN).

SAFEGUARDS:

Only authorized personnel have access to files. Files locked in office at close of business day. Electronic file protected by password.

RETENTION AND DISPOSAL:

Printed investigation forms generated by the WHISARD system will be retained in the investigative files of Wage and Hour District Offices (see Records Disposal Schedule #NN-168-43, items 1a and 1b.) Database information will be captured on tape at the end of each fiscal year and will be retained for 25 years.

SYSTEM MANAGER(S) AND ADDRESS:

Administrator, Wage and Hour Division, Room S-3502, Frances Perkins Building, 200 Constitution Avenue, NW, Washington, DC 20210.

NOTIFICATION PROCEDURES:

Individuals wishing to make inquiries regarding this system should contact the system manager, or the regional office servicing the state where they are employed (see list of the regional office addresses in the Appendix of this document).

RECORD ACCESS PROCEDURES:

Individuals wishing to request access to these records should contact the appropriate office listed in the Appendix.

CONTESTING RECORD PROCEDURES:

Individuals wishing to contest or amend any nonexempt records should direct their request to the disclosure officer listed in the Appendix. In addition, the request should state clearly and concisely what information is being contested, the reason for contesting it, and the proposed amendment sought for the information.

RECORD SOURCE CATEGORIES:

Complainants, employers, and Wage and Hour personnel.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence.

DOL/ESA-43

SYSTEM NAME:

Office of Workers' Compensation Programs, Federal Employees' Compensation Act and Longshore and Harbor Workers' Compensation Act Rehabilitation Files.

SECURITY CLASSIFICATION:

None.

SYSTEM LOCATION:

Rehabilitation files are located in the Federal Employees' Compensation (FEC) and Longshore and Harbor Workers' Compensation (Longshore) District Offices where the OWCP case file is located. See the Appendix to this document for District Office addresses. Copies of claim forms and other documents arising out of a job-related injury that resulted in the filing of a claim under the FECA may also be maintained by the employing agency (and where the forms were transmitted to the OWCP electronically, the original forms are maintained by the agency).

CATEGORIES OF INDIVIDUALS COVERED BY THE SYSTEM:

The rehabilitation records cover either individuals covered by the Federal Employees' Compensation Act (FECA) for injuries on the job, or individuals covered by the Longshore and Harbor Workers' Compensation Act (LHWCA), and related acts. See DOL/GOVT-1 for further explanation of employees covered by the FECA, and DOL/ESA-15 for those covered by the LHWCA.

CATEGORIES OF RECORDS IN THE SYSTEM:

Records found in the FECA or Longshore case file (see DOL/GOVT-1 and DOL/ESA-15), notes on telephone calls and interviews with rehabilitation counselors, claimants, potential employers, physicians and others who have been contacted as part of the rehabilitation process, notes created by the rehabilitation specialist and the rehabilitation counselor concerning the rehabilitation process relating to the claimant proposed and/or approved rehabilitation plans, and reports submitted in connection with the plans. These records also contain information about covered employees' entitlement to wage-loss compensation benefits and entitlement to medical benefits and treatment, and contain information about medical and vocational testing, rehabilitation plans and the documentation supporting such plans. The records may also include other information relating to the vocational rehabilitation process under the relevant statute.

AUTHORITY FOR MAINTENANCE OF THE SYSTEM:

5 U.S.C. 8101 et seq.; 33 U.S.C. 901, et seq.; 36 DC Code 501 et seq.; 42 U.S.C. 1331 et seq.; 5 U.S.C. 8171 et seq.

PURPOSE(S):

These records are maintained to provide information and verification about the covered employees' work-related injuries and the vocational rehabilitation process.

ROUTINE USES OF RECORDS MAINTAINED IN THE SYSTEM, INCLUDING CATEGORIES OF USERS AND THE PURPOSES OF SUCH USES:

In addition to those universal routine uses listed in the General Prefatory Statement to this document, disclosure of information from this system of records may be made to the following individuals and entities for the purposes noted when the purpose of the disclosure is compatible with the purpose for which the information is collected:

a. Rehabilitation agencies, counselors, screeners, physicians and medical providers, and other persons or entities, for the purpose of providing rehabilitation services to injured workers under the FECA or LHWCA.

b. The worker's former employer or its representatives, including third-party administrators, and where appropriate the employer's insurance carrier, for the purpose of paying compensation benefits, including medical expenses, and the cost of the rehabilitation services provided to the injured worker.

c. Employers, including federal agencies, which may consider returning the worker to employment, or to hiring such worker as a result of the return-to-work effort conducted by OWCP during the rehabilitation process.

d. Labor unions and other voluntary employee associations from whom the claimant has requested assistance with claims processing and adjudication and other services.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Pursuant to 5 U.S.C. 552a(b)(1), information from this system of records is disclosed to members and staff of the Benefits Review Board, the Employees' Compensation Appeals Board, the Office of Administrative Law Judges, the Office of the Solicitor and other components of the Department who have a need for the record in the performance of their duties.

DISCLOSURE TO CONSUMER REPORTING AGENCIES:

None.

POLICIES AND PRACTICES FOR STORING, RETRIEVING, ACCESSING, RETAINING, AND DISPOSING OF RECORDS IN THE SYSTEM:

STORAGE:

Case files are maintained in manual files, security case files in locked cabinets, and FECA or LHWCA management information system information, chargeback file and other automated data are stored on computer discs or magnetic tapes which are stored in cabinets.

RETRIEVABILITY:

Files and automated data are retrieved after identification by coded file number, which is cross-referenced to employee by name.

SAFEGUARDS:

Files and automated data are maintained under supervision of OWCP personnel during normal working hours—only authorized personnel may handle or disclose any information contained therein. Only personnel having security clearance may handle or process security files. After normal working hours, security files are kept in locked cabinets. All files and data are maintained in guarded Federal buildings.

RETENTION AND DISPOSAL:

All rehabilitation files are merged with the FECA or Longshore case file (see DOL/GOVT-1 or DOL/ESA-15) at the conclusion of the rehabilitation effort and are retained consistent with the retention schedule for the case files.

SYSTEM MANAGER(S) AND ADDRESS:

Director, Division of Planning, Policy and Standards, Office of Workers' Compensation Programs, U.S. Department of Labor, 200 Constitution Avenue, NW, Washington, DC 20210.

NOTIFICATION PROCEDURE:

An individual wishing to inquire whether this system of records contains information about him or her may write or telephone the OWCP District Office which services the State in which the individual resided or worked at the time the individual thinks he or she filed a claim, or the system manager. In order for a record to be located, the individual must provide his or her full name, FEC or LHWCA case number (if known), date of injury (if known), and date of birth.

RECORD ACCESS PROCEDURE:

Individuals wishing to request access to records should contact the appropriate office listed in the Notification Procedure section, or the system manager. Individuals must furnish their name, the claim number and signature.

CONTESTING RECORD PROCEDURES:

Individuals wishing to request amendment of any records should contact the appropriate office listed in the Notification Procedure section, or the system manager. Individuals must furnish their name, the claim number and signature. Any individual requesting amendment of records must comply with the Department's Privacy Act regulations at 29 CFR 71.1 and 71.9.

RECORD SOURCE CATEGORIES:

Claimants, claim forms, medical reports, correspondence, investigative reports, employment reports; Federal and state agency records, any other record or document pertaining to a claimant or his dependent as it relates to the claimant's age, education, work history, marital history or medical condition; notes on telephone conversations conducted by the rehabilitation specialist or counselor with employers, medical providers and others.

SYSTEM EXEMPTED FROM CERTAIN PROVISIONS OF THE ACT:

None.

DOL/ESA-44

SYSTEM NAME:

Office of Workers' Compensation Programs, Federal Employees' Compensation Act (FEC) and Longshore and Harbor Workers' Compensation Act Rehabilitation Counselor Case Assignment, Contract Management and Performance Files and FEC Field Nurses.

SECURITY CLASSIFICATION:

None.

SYSTEM LOCATION:

Files concerning rehabilitation counselors are located in the Federal Employees' Compensation (FEC) and Longshore and Harbor Workers' Compensation (Longshore) District Offices where the counselor is certified. Files for FEC field nurses are found in FEC district offices. See the Appendix to this document for District Office addresses. Copies of claim forms and other documents arising out of a job-related injury that resulted in the filing of a claim under the FECA may also be maintained by the employing agency (and where the forms were transmitted to the OWCP electronically, the original forms are maintained by the agency).

CATEGORIES OF INDIVIDUALS COVERED BY THE SYSTEM:

The rehabilitation counselor/nurse files cover individuals who have entered into a contract with the Office of Workers' Compensation Programs to provide rehabilitation counselor or nursing services under the Federal Employees' Compensation Act (FECA) and/or the Longshore and Harbor Workers' Compensation Act (LHWCA).

CATEGORIES OF RECORDS IN THE SYSTEM:

Names, addresses and information on qualifications of rehabilitation counselors/nurses certified by and under contract with OWCP to provide rehabilitation services to injured workers under the FECA and LHWCA or field nurse services under FECA. In addition there are records compiled and maintained by the rehabilitation specialist or the OWCP staff nurse, concerning the assignment of rehabilitation/field nurse cases to the counselor/nurse and the performance of the counselor/nurse in fulfilling the duties under the contract with OWCP.

AUTHORITY FOR MAINTENANCE OF THE SYSTEM:

5 U.S.C. 301.

PURPOSE(S):

These records are maintained to provide information about the rehabilitation counselor or field nurse, including the name, address, telephone number, counselor/nurse status, skill codes, number of referrals, status of referrals and notes. These notes can include evaluation of performance and other matters concerning performance of the contract.

ROUTINE USES OF RECORDS MAINTAINED IN THE SYSTEM, INCLUDING CATEGORIES OF USERS AND THE PURPOSES OF SUCH USES:

None, except for those universal routine uses listed in the General Prefatory Statement to this document.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

Note: Pursuant to 5 U.S.C. 552a(b)(1), information from this system of records may be disclosed to members and staff of the Benefits Review Board, the Employees' Compensation Appeals Board, the Office of Administrative Law Judges, the Office of the Solicitor and other components of the Department who have a need for the record in the performance of their duties.

DISCLOSURE TO CONSUMER REPORTING AGENCIES:

None.

POLICIES AND PRACTICES FOR STORING, RETRIEVING, ACCESSING, RETAINING, AND DISPOSING OF RECORDS IN THE SYSTEM:

STORAGE:

The records are maintained in electronic form within the OWCP rehabilitation data system, or staff nurse monitoring system and in hard copy records maintained in the OWCP district office. Records are principally stored by district office in electronic form, accessed by appropriate codes. Hard copy records may be maintained in the district office in locked cabinets.

RETRIEVABILITY:

Files and automated data are retrieved by the name of the counselor/nurse through the database and/or files maintained in the appropriate OWCP district office.

SAFEGUARDS:

Files and automated data are maintained under supervision of OWCP personnel during normal working hours—only authorized personnel may handle or disclose any information contained therein. Only personnel having appropriate authorization, including security codes, may access the electronic files and only the rehabilitation specialists or staff nurses who monitor contract performance and actions in individual claims, as well as the appropriate supervisors and managers in the district office and the national office, may access the files.

RETENTION AND DISPOSAL:

All case files and automated data pertaining to the OWCP rehabilitation counselors/nurses are maintained for two years following the termination of the contract.

SYSTEM MANAGER(S) AND ADDRESS:

Director, Division of Planning, Policy and Standards, Office of Workers' Compensation Programs, U.S. Department of Labor, 200 Constitution Avenue NW, Washington, DC 20210.

NOTIFICATION PROCEDURE:

An individual wishing to inquire whether this system of records contains information about him or her may write or telephone the appropriate OWCP District Office for the geographic region for which that individual contracted to provide services. In order for a record to be located, the individual must provide his or her full name and date of birth.

RECORD ACCESS PROCEDURE:

Individuals wishing to request access to records should contact the appropriate office listed in the Notification Procedure section, or the system manager. Individuals must furnish their name, the claim number and signature.

CONTESTING RECORD PROCEDURES:

Individuals wishing to request amendment of any records should contact the appropriate office listed in the Notification Procedure section, or the system manager.

RECORD SOURCE CATEGORIES:

Rehabilitation Counselors, Field Nurses, Other Individuals, correspondence, investigative reports, Federal and state agency records, any other record or document pertaining to a contract.

SYSTEM EXEMPTED FROM CERTAIN PROVISIONS OF THE ACT:

None.

DOL/ESA-45

SYSTEM NAME:

Investigative Files of the Office of Labor-Management Standards.

SECURITY CLASSIFICATION:

None.

SYSTEM LOCATION:

The field offices of the Office of Labor-Management Standards.

CATEGORIES OF INDIVIDUALS COVERED BY THE SYSTEM:

Union officials and other individuals investigated or interviewed in connection with investigations carried out pursuant to the Labor-Management Reporting and Disclosure Act, 29 U.S.C. 401 et. seq.

CATEGORIES OF RECORDS IN THE SYSTEM:

Records compiled in connection with investigations conducted under the Labor-Management Reporting and Disclosure Act of 1959, as amended (LMRDA), and under the standards of conduct provisions of the Civil Service Reform Act of 1978 (CSRA) and Foreign Service Act of 1980 (FSA), and the Congressional Accountability Act of 1995 (CAA) and the implementing regulations at 29 CFR part 458.

AUTHORITY FOR MAINTENANCE OF THE SYSTEM:

29 U.S.C. 401 et seq., 5 U.S.C. 7120, 22 U.S.C. 4117, 2 U.S.C. 1351 (a)(1), 29 CFR part 458.

PURPOSE(S):

Records are compiled in connection with enforcement of the LMRDA and the standards of conduct provisions of the CSRA and FSA and CAA and the implementing regulations at 29 CFR part 458.

ROUTINE USE OF RECORDS MAINTAINED IN THE SYSTEMS, INCLUDING CATEGORIES OF USERS AND THE PURPOSES OF SUCH USES:

Records may be disclosed to interested persons or officials as provided for in section 601(a) of the Labor-Management Reporting and Disclosure Act, 29 U.S.C. 521(a). See also, routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files and manual and computer indices.

RETRIEVABILITY:

By name of union, union officials, individuals investigated, business organizations, labor relations consultants, and other individuals and organizations deemed significant.

SAFEGUARDS:

These records are normally maintained in secured file cabinets with access strictly limited to only those employees of the agency who need such information as part of their official duties. A charge-out system is employed to restrict and monitor withdrawal of records from the files.

RETENTION AND DISPOSAL:

Records pertaining to open investigations are retained in the OLMS field offices. Closed files are retained in field offices for two years after which they are retired to Federal Records Centers. FRC will destroy files after eight calendar years of storage (ten years after closure of case).

SYSTEM MANAGER(S) AND ADDRESS:

Deputy Assistant Secretary for Labor-Management Programs, U.S. Department of Labor, 200 Constitution Avenue, NW, Washington, D.C. 20210.

NOTIFICATION PROCEDURE:

Individuals wishing to inquire whether this system of records contains information about them should contact the systems manager. Individuals must furnish the following information for their records to be located and identified: Name, date of birth, union or business affiliation.

RECORDS ACCESS PROCEDURE:

Individuals wishing to request access to records pertaining to them should contact the systems manager. Individuals must furnish the following information for their records to be located or identified: Name, date of birth, and union or business affiliation.

CONTESTING RECORD PROCEDURE

Individuals wishing to contest information in their files may write to the system manager at the specified address above, reasonably identify the records pertaining to them, the information which is being contested in those records, the corrective action(s) being sought, and the reasons for the corrections(s).

RECORD SOURCE CATEGORIES:

Labor unions, union members, union officials and employees, employers, labor relations consultants, and other individuals.

SYSTEMS EXEMPTED FROM CERTAIN PROVISIONS OF THE ACT:

To the extent this system of records is maintained for criminal law enforcement purposes, it is exempt pursuant to 5 U.S.C. 552a (j)(2) from all provisions of the Privacy Act except the following: 5 U.S.C. 552a (b), (c)(1) and (2), (e)(4)(A) through (F), (e)(6), (7), (9), and (11), and (i). In accordance with 5 U.S.C. 552a(k)(2), investigatory material in this system of records compiled for civil law enforcement purposes is exempt for subsections (c)(3); (d); (e)(1), (e)(4)(G), (H), and (I); and (f) of 5 U.S.C. 552a, provided however, that if any individual is denied any right, privilege, or benefit that he or she would otherwise be entitled to by Federal law, or for which he or she would otherwise be eligible, as a result of the maintenance of these records, such material shall be provided to the individuals, except to the extent that the disclosure of such material would reveal the identity of a source who furnished information to the Government under an express promise that the identity of the source would be held in confidence, or prior to January 1, 1975, under an implied promise that the identity of the source would be held in confidence. Exemption under 5 U.S.C. 552a(j)(2) and (k)(2) of information within this system of records is necessary to undertake the investigative and enforcement responsibilities of OLMS, to prevent individuals from frustrating the investigatory process, to prevent subjects of investigation from escaping prosecution or avoiding civil enforcement, to prevent disclosure of investigative techniques, to protect the confidentiality of witnesses and informants, and to protect the safety and well-being of witnesses, informants, and law enforcement personnel, and their families.

DOL/ESA-46

SYSTEM NAME:

Migrant and Seasonal Agricultural Worker Protection Act (MSPA) Ineligible Farm Labor Contractors.

SECURITY CLASSIFICATION:

Unclassified.

SYSTEM LOCATION:

Wage and Hour National Office.

CATEGORIES OF INDIVIDUALS COVERED BY THE SYSTEM:

Persons whose Farm Labor Contractor or Farm Labor Contractor Employee Certificate of Registration has been revoked or whose application for such certificate has been denied and such action has become a final and unappealable Order of the Secretary of Labor.

CATEGORIES OF RECORDS IN THE SYSTEM:

Records containing the names and addresses of persons whose certificates of registration have been revoked or whose application for a certificate of registration have been denied.

AUTHORITY FOR MAINTENANCE OF THE SYSTEM:

Migrant and Seasonal Agricultural Worker Protection Act, as amended (MSPA), 29 U.S.C. 1801 et seq.

PURPOSES:

To provide a written listing of individuals who may not legally engage in any activity as a farm labor contractor or farm labor contractor employee.

ROUTINE USES OF RECORDS MAINTAINED IN THE SYSTEM, INCLUDING CATEGORIES OF USERS AND THE PURPOSE OF SUCH USES:

This listing is mailed upon request to the General Public.

DISCLOSURE TO CONSUMER REPORTING AGENCIES:

Not applicable.

POLICIES AND PRACTICES FOR STORING, RETRIEVING, ACCESSING, RETAINING, AND DISPOSING OF RECORDS IN THE SYSTEM:

STORAGE:

Records are stored in all Wage and Hour Regional Offices, some Wage and Hour District Offices and the Wage and Hour National Office.

RETRIEVABILITY:

Records are retrieved by name.

SAFEGUARDS:

Records are maintained under the supervision of Wage and Hour personnel.

RETENTION AND DISPOSAL:

Record is updated and replaced on a monthly basis. These records are destroyed after they have been replaced and are no longer needed.

SYSTEM MANAGER(S) AND ADDRESS:

Administrator, Wage and Hour Division, 200 Constitution Avenue, NW, Washington, DC 20210, and Regional Administrator for Wage and Hour of relevant Regional Offices.

NOTIFICATION PROCEDURE:

Write to Administrator, Wage and Hour Division, 200 Constitution Avenue, NW, Washington, DC 20210, or appropriate Regional Administrator for Wage and Hour.

RECORD ACCESS PROCEDURES:

Write to Administrator, Wage and Hour Division, 200 Constitution Avenue, NW, Washington, DC 20210, or to the appropriate Regional Administrator for Wage and Hour.

CONTESTING RECORD PROCEDURES:

Write to Administrator, Wage and Hour Division, 200 Constitution Avenue, NW, Washington, DC 20210, or to the appropriate Regional Administrator for Wage and Hour. Such inquiries should include the full name of the requester.

RECORD SOURCE CATEGORIES:

The sources for records in the system include information furnished by the applicant.

SYSTEMS EXEMPTED FROM CERTAIN PROVISIONS OF THE ACT:

None.

DOL/ESA-47

SYSTEM NAME:

Youth Peddler Bulletin Board.

SECURITY CLASSIFICATION:

Unclassified.

SYSTEM LOCATION:

All Wage and Hour Division's Regional and District Offices and the National Office.

CATEGORIES OF INDIVIDUALS COVERED BY THE SYSTEM:

Employers, crew chiefs who recruit minors for door-to-door sales, and/or drivers who transport minors to sell candy or other goods.

CATEGORIES OF RECORDS IN THE SYSTEM:

Records containing the names and addresses of companies and/or individuals subject to state or Federal child labor laws. Information on the location and scope of any current or prior investigations; information concerning criminal investigations—including subpoenas, injunctions or agreements involving crew chiefs or drivers of youth peddlers; synopses of recruiting advertisements, or itineraries of activities; information concerning products being sold and location of manufacturers and/or warehouses used to store these materials; registration of vehicles used to transport youth crews; and State and local licenses.

AUTHORITY FOR MAINTENANCE OF THE SYSTEM:

29 U.S.C. 201 et seq.; and 5 U.S.C. 301.

PURPOSE(S):

To assemble into one system, information concerning the investigative histories of crew chiefs/drivers who may have recruited/transported minor-workers for the purpose of selling materials door-to-door that may result in a violation of Federal or State child labor laws.

ROUTINE USES OF RECORDS MAINTAINED IN THE SYSTEM, INCLUDING CATEGORIES OF USERS AND THE PURPOSE OF SUCH USES:

Pertinent information may be disclosed to the appropriate Federal, State, or local agency for investigating, prosecuting, enforcing, or implementing a statute, rule, regulation, or order, in connection with a potential or actual child labor violation.

DISCLOSURE TO CONSUMER REPORTING AGENCIES:

Not applicable.

POLICIES AND PRACTICES FOR STORING, RETRIEVING, ACCESSING, RETAINING, AND DISPOSING OF RECORDS IN THE SYSTEM:

STORAGE:

Records are stored manually and on computer media in all Wage and Hour Regional and District offices, and the Wage and Hour National Office.

RETRIEVABILITY:

Records are retrieved by the names of door-to-door sales crew chiefs and drivers and/or employers.

SAFEGUARDS:

These records are kept manually and electronically and may only be accessed by entering a password that will be provided to persons engaged in the administration of the program.

RETENTION AND DISPOSAL:

The electronic records will be transferred to the master data base (CD/disc) file after one year. The textual records (which include printouts, correspondence, fax copies, and reports) will be maintained for two years. Both the electronic and textual records will be destroyed when they are no longer needed for program purposes.

SYSTEM MANAGER(S) AND ADDRESS:

Child Labor and Special Employment Team Leader, Wage and Hour Division, 200 Constitution Avenue, NW, Washington, DC 20210.

NOTIFICATION PROCEDURE:

Write to the Child Labor and Special Employment Team Leader, Wage and Hour Division, 200 Constitution Avenue, NW, Washington, DC 20210, and Regional Administrators for Wage and Hour of relevant Regional and District Offices. Such inquiries should include the full name of the requestor and/or the legal name of the company.

RECORDS ACCESS PROCEDURE:

Write to the Child Labor and Special Employment Team Leader, Wage and Hour Division, 200 Constitution Avenue, NW, Washington, DC 20210, or appropriate Regional Administrator for Wage and Hour. Such inquiries should include the full name of the requestor and/or the legal name of the company.

CONTESTING RECORD PROCEDURES:

Write to the Child Labor and Special Employment Team Leader, Wage and Hour Division, 200 Constitution Avenue, NW, Washington, DC 20210, and Regional Administrator for Wage and Hour of relevant Regional and District Offices. Such inquiries should include the full name of the requestor and/or the legal name of the company.

RECORD SOURCE CATEGORIES:

Crew chiefs/drivers, employees, court and police records, and records of investigations conducted by the U.S. Department of Labor and the State Departments of Labor and any subsequent legal documents created following such investigations.

SYSTEM EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/ESA-48

SYSTEM NAME:

“Customer Service component” of the Wage Hour Investigative Support and Reporting Database (WHISARD).

SECURITY CLASSIFICATION:

None.

SYSTEM LOCATION:

Wage and Hour National Office (NO), Regional Offices (RO) and District Offices (DO), see The Appendix of this document for addresses.

CATEGORIES OF INDIVIDUALS COVERED BY THE SYSTEM:

Persons who contact the Wage and Hour Division for technical assistance or to file a complaint.

CATEGORIES OF RECORDS IN THE SYSTEM:

“Browse Customer List” records containing last name, first name, phone number, address, city, complaint status, case identification number, WH employee name, and contact priority.

“Employee Contact Information” records containing home address, phone numbers, fax number, e-mail address and certain information about the individual's complaint.

“Employee Work Information” records containing certain employment and payroll information about the individual's complaint.

AUTHORITY FOR MAINTENANCE OF THE SYSTEM:

5 U.S.C. 301; 29 U.S.C. 201 et seq.

PURPOSE(S):

To provide Wage and Hour NO, ROS and DOs with an index of individuals who contact the Wage and Hour Division. This information may be used to provide assistance or facilitate the processing of a complaint.

ROUTINE USES OF RECORDS MAINTAINED IN THE SYSTEM, INCLUDING CATEGORIES OF USERS AND THE PURPOSES OF SUCH USES:

In addition to the routine uses listed in the General Prefatory Statement to this document, relevant information may be provided to other government agencies for law enforcement purposes.

DISCLOSURE OF CONSUMER REPORT AGENCIES:

None.

POLICIES AND PRACTICES FOR STORING, RETRIEVING, ACCESSING, RETAINING AND DISPOSING OF RECORDS IN THE SYSTEM:

STORAGE:

Maintained in an electronic file Database in the DOL National Office.

RETRIEVABILITY:

By name of the individual.

SAFEGUARDS:

Only authorized personnel have access by use of passwords to this on-line transactional system and its database.

RETENTION AND DISPOSAL:

Printed investigation forms generated by the WHISARD system will be retained in the investigative files of Wage and Hour District Offices (see Records Disposal Schedule #NN-168-43, items 1a and 1b which provides as follows: Printed information, concerning cases where violations were found, is disposed of 12 years after the date the case is closed. For cases where no violation were found, printed information is disposed of three years after the closing date. Database information will be captured on tape at the end of each fiscal year and retained for 25 years.

SYSTEM MANAGER(S) AND ADDRESS:

Administrator, Wage and Hour Division, Room S-3502, Frances Perkins Building, 200 Constitution Avenue, NW, Washington, DC 20210.

NOTIFICATION PROCEDURES:

Individuals wishing to make inquiries regarding this system should contact the system manager, or the regional office servicing the state where they are employed (see list of the regional office addresses in the Appendix of this document).

RECORD ACCESS PROCEDURES:

Individuals wishing to request access to these records should contact the appropriate office listed in the Appendix.

CONTESTING RECORD PROCEDURES:

Individuals wishing to contest or amend any records should direct their request to the appropriate system manager. In addition, the request should state clearly and concisely what information is being contested, the reason for contesting it, and the proposed amendment sought for the information.

RECORD SOURCE CATEGORIES:

Complainants, employers, and Wage and Hour personnel.

SYSTEMS EXEMPTED FROM CERTAIN PROVISIONS OF THE ACT:

None.

DOL/ESA-49

SYSTEM NAME:

Office of Workers' Compensation Programs, Energy Employees Occupational Illness Compensation Program Act File.

SECURITY CLASSIFICATION:

Most files and data are unclassified. Files and data in certain cases have Top Secret classification, but the rules concerning their maintenance and disclosure are determined by the agency that has given the information the security classification of Top Secret.

SYSTEM LOCATION:

U.S. Department of Labor, Employment Standards Administration, Office of Workers' Compensation Programs, Frances Perkins Building, 200 Constitution Ave., NW, Washington, DC 20210, and district offices located throughout the United States.

CATEGORIES OF INDIVIDUALS COVERED BY THE SYSTEM:

Individuals or their survivors who claim benefits under the Energy Employees Occupational Illness Compensation Program Act (EEOICPA). These individuals include, but are not limited to, federal employees or survivors of federal employees; employees or survivors of employees of the Department of Energy, its predecessor agencies, and their contractors and subcontractors; and members of the armed forces.

CATEGORIES OF RECORDS IN THE SYSTEM:

This system may contain the following kinds of records: Claim forms filed by or on behalf of injured individuals or their survivors seeking benefits under the EEOICPA; reports by the employee and/or the U.S. Department of Energy; employment records; exposure records; safety records or other incident reports; dose reconstruction records; workers' or family members contemporaneous diaries, journals, or other notes; forms authorizing medical care and treatment; other medical records and reports; bills and other payment records; compensation payment records; formal orders for or against the payment of benefits; transcripts of hearings conducted; and any other medical, employment, or personal information submitted or gathered in connection with the claim. The system may also contain information relating to dates of birth, marriage, divorce, and death; notes of telephone conversations conducted in connection with the claim; information relating to vocational and/or medical rehabilitation plans and progress reports; records relating to court proceedings, insurance, banking and employment; articles from newspapers and other publications; information relating to other benefits (financial and otherwise) the claimant may be entitled to, including previously filed claims; and information received from various investigative agencies concerning possible violations of Federal civil or criminal law.

The system may also contain consumer credit reports on individuals indebted to the United States, information relating to the debtor's assets, liabilities, income and expenses, personal financial statements, correspondence to and from the debtor, information relating to the location of the debtor, and other records and reports relating to the implementation of the Federal Claims Collection Act (as amended), including investigative reports or administrative review matters. Individual records listed here are included in a claim file only insofar as they may be pertinent or applicable to the individual claiming benefits.

AUTHORITY FOR MAINTENANCE OF THE SYSTEM:

Energy Employees Occupational Illness Compensation Program Act, Title XXXVI of Pub. L. 106-398, October 30, 2000, 114 Stat. 1654.

PURPOSE(S):

To maintain records on individuals who file claims under the Energy Employees Occupational Illness Compensation Program Act, which establishes a program for compensating certain individuals for covered illnesses related to exposure to beryllium, cancers related to exposure to radiation, and chronic silicosis. These records provide information and verification about individual claimants' covered illnesses on which may be based any entitlement to medical treatment, compensation and survivors' benefits, under the EEOICPA and certain other statutes.

ROUTINE USES OF RECORDS MAINTAINED IN THE SYSTEM, INCLUDING CATEGORIES OF USERS AND THE PURPOSE OF SUCH USES:

In addition to those Department-wide routine uses set forth above in the General Prefatory Statement to this document, disclosure of information from this system of records may be made to the following individuals and entities for the purposes noted when the purpose of the disclosure is both relevant and necessary and is compatible with the purpose for which the information was collected:

a. To any attorney or other representative of an EEOICPA beneficiary for the purpose of assisting in a claim or litigation against a third party or parties potentially liable to pay damages as a result of the beneficiary's compensable condition, and for the purpose of administering the provisions of sections 3641-3642 of the EEOICPA. Any such third party, or a representative acting on that third party's behalf, may be provided information or documents concerning the existence of a record and the amount and nature of compensation paid to or on behalf of the beneficiary for the purpose of assisting in the resolution of the claim or litigation against that party or administering the provisions of sections 3641-3642 of the EEOICPA.

b. To the Department of Energy, its contractors and subcontractors, and federal agencies that employed the employee at the time of the alleged exposure of the employee, and to other entities that may possess relevant information, to assist in administering the EEOICPA, to answer questions about the status of the claim, to consider other actions the agency may be required to take with regard to the claim, or to permit the agency to evaluate its safety and health program. Disclosure to federal agencies, including the Department of Justice, may be made where OWCP determines that such disclosure is relevant and necessary for the purpose of providing assistance in regard to asserting a defense based upon the EEOICPA's exclusive remedy provision to an administrative claim or to litigation filed under the Federal Tort Claims Act.

c. To the personnel, contractors, grantees, and cooperative agreement holders of the Department of Energy, the Department of Health and Human Services, the Department of Justice, and other federal agencies designated by the President to implement the federal compensation program established by the EEOICPA, for the purpose of assisting in the adjudication or processing of a claim under that Act.

d. To physicians, pharmacies, and other health care providers for their use in treating the claimant, in conducting an examination or preparing an evaluation on behalf of OWCP and for other purposes relating to the medical management of the claim, including evaluation of and payment for charges for medical and related services and supplies.

e. To medical insurance or health and welfare plans (or their designees) that cover the claimant in instances where OWCP had paid for treatment of a medical condition that is not compensable under the EEOICPA, or where a medical insurance plan or health and welfare plan has paid for treatment of a medical condition that may be compensable under the EEOICPA, for the purpose of resolving the appropriate source of payment in such circumstances.

f. To a federal, state or local agency for the purpose of obtaining information relevant to a determination concerning initial or continuing eligibility for EEOICPA benefits, and for a determination concerning whether benefits have been or are being properly paid, including whether dual benefits that are prohibited under any applicable federal or state statute are being paid; and for the purpose of utilizing salary offset and debt collection procedures, including those actions required by the Debt Collection Act of 1982, to collect debts arising as a result of overpayments of EEOICPA compensation and debts otherwise related to the payment of EEOICPA benefits.

g. To the Internal Revenue Service (IRS) for the purpose of obtaining taxpayer mailing addresses for the purposes of locating a taxpayer to collect, compromise, or write-off a federal claim against such taxpayer; and informing the IRS of the discharge of a debt owed by an individual. Records from this system of records may be disclosed to the IRS for the purpose of offsetting a federal claim from any income tax refund that may be due to the debtor.

h. Where an investigation, settlement of claims, or the preparation and conduct of litigation is undertaken, a record may be disclosed to (1) a person representing the United States or the Department of Labor in the investigation, settlement or litigation, and to individuals assisting in such representation; (2) others involved in the investigation, settlement, and litigation, and their representatives and assistants; and (3) a witness, potential witness, or their representatives and assistants, and to any other person who possesses information pertaining to the matter, when such disclosure is necessary for the conduct of the investigation, settlement, or litigation, or is necessary to obtain information or testimony relevant to the matter.

i. To the Defense Manpower Data Center—Department of Defense and the United States Postal Service to conduct computer matching programs for the purpose of identifying and locating individuals who are receiving Federal salaries or benefit payments and are delinquent in their repayment of debts owed to the United States under programs administered by the DOL in order to collect the debts under the provisions of the Debt Collection Act of 1982 (Pub. L. 97-365) by voluntary repayment, or by salary or administrative offset procedures.

j. To a credit bureau for the purpose of obtaining consumer credit reports identifying the assets, liabilities, expenses, and income of a debtor in order to ascertain the debtor's ability to repay a debt incurred under the FECA, to collect the debt, or to establish a payment schedule.

k. The amount, status and history of overdue debts, the name and address, taxpayer identification (SSN), and other information necessary to establish the identity of a debtor, the agency and program under which the claim arose, may be disclosed pursuant to 5 U.S.C. 552a(b)(12) to consumer reporting agencies as defined by section 603(f) of the Fair Credit Reporting Act (15 U.S.C. 1681a(f)) or in accordance with section 3(d)(4)(A)(ii) of the Federal Claims Collection Act of 1966 as amended (31 U.S.C. 3711(f)) for the purpose of encouraging the repayment of an overdue debt.

l. To individuals, and their attorneys and other representatives, and government agencies, seeking to enforce a legal obligation on behalf of such individual or agency, to pay alimony and/or child support for the purpose of enforcing such an obligation, pursuant to an order of a state or local court of competent jurisdiction, including Indian tribal courts, within any State, territory or possession of the United States, or the District of Columbia or to an order of a State agency authorized to issue income withholding notices pursuant to State or local law or pursuant to the requirements of section 666(b) of title 42, United States Code, or for the purpose of denying the existence of funds subject to such legal obligation.

m. To the spouse, children, parents, grandchildren, or grandparents of deceased employees who may be covered under the EEOICPA to enable them to determine their eligibility for benefits under the EEOICPA, and to inform them of decisions regarding benefit eligibility, so that they have the opportunity to take action to protect any rights they may have as potentially eligible beneficiaries.

Note: Disclosure of information contained in this system of records to the subject of the record, a person who is duly authorized to act on his or her behalf, or to others to whom disclosure is authorized by these routine uses, may be made over the telephone or by electronic means. Disclosure over the telephone or by electronic means will only be done where the requestor provides appropriate identifying information. Telephonic or electronic disclosure of information is essential to permit efficient administration and adjudication of claims under the EEOICPA.

DISCLOSURE TO CONSUMER REPORTING AGENCIES:

The amount, status and history of overdue debts, the name and address, taxpayer identification (SSAN), and other information necessary to establish the identity of a debtor, the agency and program under which the claim arose, may be disclosed pursuant to 5 U.S.C. 552a(b)(12) to consumer reporting agencies as defined by section 603(f) of the Fair Credit Reporting Act (15 U.S.C. 1681a(f)) or in accordance with section 3(d)(4)(A)(ii) of the Federal Claims Collection Act of 1966 as amended (31 U.S.C. 3711(f)) for the purpose of encouraging the repayment of an overdue debt.

POLICIES AND PRACTICES FOR STORING, RETRIEVING, ACCESSING, RETAINING AND DISPOSING OF RECORDS IN THE SYSTEM:

STORAGE:

Paper case files are maintained in filing cabinets. Automated data, including case files that have been transformed into electronic form, are stored in computer discs or magnetic tapes, which are stored in cabinets. Microfiche is stored in cabinets.

RETRIEVABILITY:

Files and automated data are retrieved after identification by coded file number and/or Social Security Number which is cross-referenced to employee by name, employer and/or contractor, and date and nature of injury.

SAFEGUARDS:

Files and automated data are maintained under supervision of OWCP personnel during normal working hours—only authorized personnel, with the appropriate password, may handle, retrieve, or disclose any information contained therein. Access to electronic records is controlled by password or other user identification code.

RETENTION AND DISPOSAL:

All case files and automated data pertaining to a claim are destroyed 15 years after the case file has become inactive. Paper files that have been scanned to create electronic copies are destroyed after the copies are verified. Automated data is retained in its most current form only, however, and as information is updated, outdated information is deleted. Some related financial records are retained only in electronic form, and destroyed 6 years and 3 months after creation or receipt.

SYSTEM MANAGER(S) AND ADDRESS:

Director, Office of Workers' Compensation Programs, 200 Constitution Avenue, NW, Washington, DC 20210.

NOTIFICATION PROCEDURES:

An individual wishing to inquire whether this system of records contains information about him/her may write or telephone the OWCP district office that services the state in which the individual resided or worked at the time he or she believes a claim was filed. In order for the record to be located, the individual must provide his or her full name, OWCP claim number (if known), date of injury (if known), and date of birth.

RECORD ACCESS PROCEDURES:

Any individual seeking access to non-exempt information about a case in which he/she is a party in interest may write or telephone the OWCP district office where the case is located, or the systems manager.

CONTESTING RECORD PROCEDURES:

Any individual requesting amendment of non-exempt records should contact the appropriate OWCP district office, or the system manager. Individuals requesting amendment of records must comply with the Department's Privacy Act regulations at 29 CFR 71.1 and 71.9.

RECORD SOURCE CATEGORIES:

Injured employees who are the subjects of the record, their family members and beneficiaries; employing Federal agencies; State governments, State agencies, and other Federal agencies; State and Federal workers' compensation offices; physicians and other medical professionals; hospitals; clinics; medical laboratories; suppliers of health care products and services and their agents and representatives; educational institutions; attorneys; Members of Congress; OWCP field investigations; consumer credit reports; investigative reports; correspondence with the debtor including personal financial statements; records relating to hearings on the debt; and other DOL systems of records.

SYSTEMS EXEMPTED FROM CERTAIN PROVISIONS OF THE ACT:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government under an express promise that the identity of the source would be held in confidence, or prior to January 1, 1975, under an implied promise that the identity of the source would be held in confidence.

DOL/ESA-50

SYSTEM NAME:

Office of Workers' Compensation Programs, Physicians and Health Care Providers Excluded under the Energy Employees Occupational Illness Compensation Program Act.

SECURITY CLASSIFICATION:

None.

SYSTEM LOCATION:

U.S. Department of Labor, Employment Standards Administration, Office of Workers' Compensation Programs, Frances Perkins Building, 200 Constitution Ave., NW, Washington, DC 20210.

CATEGORIES OF INDIVIDUALS COVERED BY THE SYSTEM:

Providers of medical goods and services, including physicians, hospitals, and providers of medical support services or supplies excluded or considered for exclusion from payment under the Energy Employees Occupational Illness Compensation Program Act for fraud or abuse (20 CFR 30.715-30.726, or as updated).

CATEGORIES OF RECORDS IN THE SYSTEM:

Copies of letters, lists and documents from Federal and state agencies concerning the administrative debarment of providers from participation in programs providing benefits similar to those of the Energy Employees Occupational Illness Compensation Program Act and their reinstatement; materials concerning possible fraud or abuse which could lead to exclusion of a provider; documents relative to reinstatement of providers, materials concerning the conviction of providers for fraudulent activities in connection with any Federal or state program for which payments are made to providers for similar medical services; all letters, memoranda, and other documents regarding the consideration of a provider's exclusion, the actual exclusion, or reinstatement under the provisions of 20 CFR 30.715-30.726 (or as updated); copies of all documents in a claim file relating to medical care and/or treatment including bills for such services, as well as letters, memoranda, and other documents obtained during investigations, hearings and other administrative proceedings concerning exclusion for fraud or abuse, as well as reinstatement, along with recommendations and decisions; lists of excluded providers released by the OWCP.

AUTHORITY FOR MAINTENANCE OF THE SYSTEM:

Energy Employees Occupational Illness Compensation Program Act, Title XXXVI of Pub. L. 106-398, October 30, 2000, 114 Stat. 1654.

PURPOSE(S):

To maintain records in order to determine the propriety of instituting debarment actions under the Energy Employees Occupational Illness Compensation Program Act. These records also provide information on treatment, billing and other aspects of a medical provider's actions, and/or documentation relating to the debarment of the medical care provider under another Federal or state program.

ROUTINE USES OF RECORDS MAINTAINED IN THE SYSTEM, INCLUDING CATEGORIES OF USERS AND THE PURPOSE OF SUCH USES:

In addition to those universal routine uses listed in the General Prefatory Statement to this document, disclosure of information from this system of records may be made to the following individuals and entities for the purposes noted when the purpose of the disclosure is compatible with the purpose for which the information is collected:

a. Federal, state or local government agencies, state licensing boards, professional organizations, claimants, patients, employers, insurance companies, and any other entities or individuals, for the purpose of identifying an excluded or reinstated provider, to ensure that authorization is not issued nor payment made to an excluded provider, and for the purpose of providing notice that a formerly excluded provider has been reinstated.

b. Federal, state or local government agencies, state licensing boards, professional organizations, claimants, patients, employers, insurance companies, and any other entities or individuals, for the purpose of obtaining information necessary to ensure that the list of excluded providers is correct, useful, and updated, as appropriate, and for the purpose of obtaining information relevant to a Departmental decision regarding a debarment action. This routine use encompasses the disclosure of such information that will enable the Department to properly verify the identity of a provider, to identify the nature of a violation, and the penalty imposed for such violation.

Note: Disclosure of information contained in the file to the claimant, a person who is duly authorized to act on his/her behalf, or to others to whom disclosure is authorized by these routine uses, may be made over the telephone. Disclosure over the telephone will only be done where the requestor provides appropriate identifying information. Telephonic disclosure of information is essential to permit efficient administration and adjudication of claims.

DISCLOSURE TO CONSUMER REPORTING AGENCIES:

None.

POLICIES AND PROCEDURES FOR STORING, RETRIEVING, ACCESSING, RETAINING, AND DISPOSING OF RECORDS IN THIS SYSTEM:

STORAGE:

The records are in manual files, magnetic tapes or other computer storage media, or on computer printouts.

RETRIEVABILITY:

Material is retrieved either by the name of the provider, a case citation, or date of release.

SAFEGUARDS:

Files and automated data are maintained under supervision of OWCP personnel during normal working hours—only authorized personnel, with the appropriate password, may handle, retrieve, or disclose any information contained therein. Access to electronic records is controlled by password or other user identification code.

RETENTION AND DISPOSAL:

File is retained in the office for three years after the debarment action is final and then transferred to the Federal Records Center, and destroyed thirty years after the debarment action is final. Where the period of exclusion is defined as a set period of time, the file will be retained two years after the period of exclusion expires (or the individual is otherwise reinstated), then transferred to the Federal Records Center, and destroyed thirty years after the debarment action is final.

SYSTEM MANAGER(S) AND ADDRESS:

Director, Office of Workers' Compensation Programs, 200 Constitution Avenue, NW, Washington, DC 20210.

NOTIFICATION PROCEDURE:

An individual wishing to inquire whether this system of records contains information about him/her may write the system manager at the address above. In order for the record to be located, the individual must provide his or her full name, date of birth, and signature.

RECORD ACCESS PROCEDURE:

Any individual seeking access to non-exempt information about a record within this system of records may write the system manager, and arrangements will be made to provide review of the file. In order for the record to be located, the individual must provide his or her full name, date of birth, and signature.

CONTESTING RECORD PROCEDURE:

Any individual requesting amendment of non-exempt records should contact the system manager. Individuals requesting amendment of records must comply with the Department's Privacy Act regulations at 29 CFR 71.1 and 71.9.

RECORD SOURCE CATEGORIES:

Information in this system is obtained from Federal, state or local government agencies, state licensing boards, professional organizations, claimants, patients, employers, insurance companies, any other entities or individuals, public documents, and newspapers, as well as from other Department of Labor systems of records.

SYSTEM EXEMPTED FROM CERTAIN PROVISIONS OF THE ACT:

In accordance with 5 U.S.C. 552a(k)(2), investigatory material compiled for law enforcement purposes which is maintained in the investigation files of the Office of Workers' Compensation Programs, is exempt from subsections (c)(3), (d), (e)(1), (e)(4)(G), (H), and (I), and (f) of 5 U.S.C. 552a. The disclosure of information contained in civil investigative files, including the names of persons and agencies to whom the information has been transmitted, would substantially compromise the effectiveness of the investigation. Knowledge of such investigations would enable subjects to take such action as is necessary to prevent detection of illegal activities, conceal evidence or otherwise escape civil enforcement action. Disclosure of this information could lead to the intimidation of, or harm to, informants and witnesses, and their respective families, and the well being of investigative personnel and their families.

DOL/ESA-51

SYSTEM NAME:

OLMS Public Disclosure Request Tracking System.

SECURITY CLASSIFICATION:

None.

SYSTEM LOCATION:

U.S. Department of Labor, Employment Standards Administration, Office of Labor-Management Standards, Division of Reports, Disclosure and Audits, U.S. Department of Labor, Washington, DC 20210.

CATEGORIES OF INDIVIDUALS COVERED BY THE SYSTEM:

Individuals who request documents.

CATEGORIES OF RECORDS IN THE SYSTEM:

Data regarding the request for copies of annual financial reports, information reports, and constitution and bylaws filed with the Department of Labor by labor unions in accordance with the public disclosure provisions of the Labor-Management Reporting and Disclosure Act of 1959, as amended (LMRDA). Data includes individual requester's name, title (optional), organization (optional), street address, city, state, zip code, telephone number (optional), fax number (optional), e-mail address (optional), user name, and password; type of request (walk-in, telephone, mail, Internet, or fax); date of request; copying and certification charges; name and amount on requester's check; the name and LM Number of the labor union for which information has been requested; and the documents requested.

AUTHORITY FOR THE MAINTENANCE OF THE SYSTEM:

29 U.S.C. 435.

PURPOSE(S):

These records are used by authorized OLMS disclosure personnel to process requests made to the OLMS Public Disclosure Room, prepare requests for payments, and process payments.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Computer storage.

RETRIEVABILITY:

By individual name, organization name, address, control number, or request date.

SAFEGUARDS:

Computer system is password protected and accessible only to personnel creating and maintaining the database.

RETENTION AND DISPOSAL:

The data is deleted after one year or when no longer needed, whichever is later.

SYSTEM MANAGER(S) AND ADDRESS:

Chief, Division of Reports, Disclosure and Audits, Employment Standards Administration, Office of Labor-Management Standards, 200 Constitution Avenue, NW, Washington, DC 20210.

NOTIFICATION PROCEDURE:

Individuals wishing to inquire whether this system of records contains information about them should contact the system manager indicated above. Individuals must furnish their full names for their records to be located and identified.

RECORD ACCESS PROCEDURES:

Same as notification procedure. Individuals requesting access must also comply with U.S. Department of Labor Privacy Act regulations on verification of identity at 29 CFR 71.2.

CONTESTING RECORD PROCEDURES:

Same as notification procedure above except individuals desiring to contest or amend information maintained in the system should direct their written request to the System Manager listed above, and state clearly and concisely what information is being contested, the reasons for contesting it, and the proposed amendment to the information sought pursuant to 29 CFR 71.9.

RECORD SOURCE CATEGORIES:

Individuals requesting documents from the OLMS Public Disclosure Room, and OLMS employees processing the request.

SYSTEMS EXEMPTED FROM CERTAIN PROVISIONS OF THE ACT:

None.

DOL/ETA-1

SYSTEM NAME:

Office of Apprenticeship Training, Employer and Labor Services (OATELS), Bureau of Apprenticeship and Training, Budget and Position Control File.

SECURITY CLASSIFICATION:

Unclassified.

SYSTEM LOCATION:

Employment and Training Administration (ETA), Office of Apprenticeship Training, Employer and Labor Services (OATELS), Bureau of Apprenticeship and Training (BAT), Frances Perkins Building, 200 Constitution Avenue, NW., Washington, D.C. 20210.

CATEGORIES OF INDIVIDUALS COVERED BY THE SYSTEM:

Federal employees currently employed by OATELS/BAT.

CATEGORIES OF RECORDS IN THE SYSTEM:

Personal records concerning grades and salaries.

AUTHORITY FOR MAINTENANCE OF THE SYSTEMS:

5 U.S.C. 301

PURPOSE(S):

For ready access in preparing management reports as required by the Employment and Training Administration, and controlling OATELS/BAT FTE Ceiling (Full Time Equivalent) employment.

ROUTINE USES OF RECORDS MAINTAINED IN THE SYSTEM, INCLUDING CATEGORIES OF USERS AND THE PURPOSE OF SUCH USES:

None, except for those routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Kardex Files.

RETRIEVABILITY:

By region, budget position number, and name of employee, on a manual basis.

SAFEGUARDS:

Access to and use of these records are limited to those persons whose official duties require such access.

RETENTION AND DISPOSAL:

Retained indefinitely for employment reference requests on former employees.

SYSTEM MANAGER(S) AND ADDRESS:

Administrator, Office of Apprenticeship Training, Employer and Labor Services (OATELS), Bureau of Apprenticeship and Training (BAT), Employment and Training Administration, Frances Perkins Building, 200 Constitution Avenue, NW, Washington DC 20210.

NOTIFICATION PROCEDURE:

Individuals seeking information concerning the existence of records or the contents of records on himself/herself should furnish a written request to the Administrator, Office of Apprenticeship Training, Employer and Labor Services (OATELS), Bureau of Apprenticeship and Training (BAT), Employment and Training Administration, Frances Perkins Building, 200 Constitution Avenue, NW., Washington DC 20210. The following information is needed for the records to be located:

a. Full name

b. Date of birth

RECORD ACCESS PROCEDURES:

See Notification procedure above.

CONTESTING RECORD PROCEDURE:

See Notification procedure above.

RECORD SOURCE CATEGORIES:

Personal records, including SF-Form 50.

SYSTEM EXEMPTED FROM CERTAIN PROVISIONS OF THE ACT:

Not applicable.

DOL/ETA-4

SYSTEM NAME:

Apprenticeship Information Management System (AIMS).

SECURITY CLASSIFICATION:

Unclassified.

SYSTEM LOCATION:

Employment and Training Administration, Office of Apprenticeship Training, Employer and Labor Services (OATELS), Frances Perkins Building, 200 Constitution Avenue, NW, Washington, DC 20210.

CATEGORIES OF INDIVIDUALS COVERED BY THE SYSTEM:

Apprentices/Trainees.

CATEGORIES OF RECORDS IN THE SYSTEM:

The categories of records include the following identifying information on apprentices/trainees: Social security number, ATR Code, program number, State Code, DOT Code, Job Title, name, birth date, sex, ethnic code, Veteran code, accession date, previous experience date, expected completion date, and apprenticeship school link.

AUTHORITY FOR MAINTENANCE OF THE SYSTEM:

The National Apprenticeship Act, also referred to as the Fitzgerald Act, 29 U.S.C. 50.

PURPOSE(S):

Records of individual apprentice/trainee and apprenticeship/trainee program sponsors are used for the operation and management of the apprenticeship system of training.

ROUTINE USES OF RECORDS MAINTAINED IN THE SYSTEM, INCLUDING CATEGORIES OF USERS AND THE PURPOSES OF SUCH USES:

Statistical records may be disclosed to SOICC (State Occupational Information Coordinating Committee) as basis for skill needs projection; to AFL-CIO, Joint Apprenticeship Committees and Nonjoint Apprenticeship Committees, and other apprenticeship sponsors to determine an assessment of skill needs and provide program information; to provide program information for State Apprenticeship Agencies(SACs) and other State/Federal agencies concerned with apprenticeship/training needs; to community organizations such as the Urban League, and the Opportunities Industrialization Centers, to utilize apprenticeship information in planning.

DISCLOSURE TO CONSUMER REPORTING AGENCIES:

None.

POLICIES AND PRACTICES FOR STORING, RETRIEVING, ACCESSING, RETAINING, AND DISPOSING OF RECORDS IN THE SYSTEM:

STORAGE:

Direct Access Storage Devices (DASD); manual files. Magnetic tape is used for archived information.

RETRIEVABILITY:

Records are retrieved by the social security number of the apprentice/trainee by program type.

SAFEGUARDS:

Two levels of individual passwords for entry to the system. Locked computer room. Manual system: Locked file cabinet. During work hours, records are accessible only to authorized personnel.

RETENTION AND DISPOSAL:

Retain for five years and then destroy. Inactive programs are stored on magnetic tape and archived from online AMS file. Inactive and completed apprentices are maintained on tape indefinitely.

SYSTEM MANAGER(S) AND ADDRESS:

Administrator, Office of Apprenticeship Training, Employer and Labor Services (OATELS), Bureau of Apprenticeship and Training, Employment and Training Administration, Frances Perkins Building, 200 Constitution Avenue, NW, Washington, DC 20210.

NOTIFICATION PROCEDURE:

Individuals seeking information concerning the existence of apprenticeship records or the contents of records on himself/herself should furnish a written request to the Administrator, Office of Apprenticeship Training, Employer and Labor Services (OATELS), Bureau of Apprenticeship and Training (BAT), Employment and Training Administration, Frances Perkins Building, 200 Constitution Avenue, NW, Washington, DC 20210. The following information is needed for records to be located:

a. Full Name

b. Date of Birth

RECORD ACCESS PROCEDURES:

Individuals can request access to any record pertaining to himself/herself by mailing a request to the Administrator listed above under “Notification Procedure.”

CONTESTING RECORD PROCEDURE:

Individuals desiring to contest or amend information maintained in this system should direct their written request to the Administrator listed in “Notification Procedure” above. The request to amend should state clearly and concisely what information is being contested, the reasons for contesting, and the proposed amendment to the information sought.

RECORD SOURCE CATEGORIES:

Apprentice/trainee and also Program Sponsor.

SYSTEMS EXEMPTED FROM CERTAIN PROVISIONS OF THE ACT:

None.

DOL/ETA-7

SYSTEM NAME:

Employer Application and Attestation File for Permanent and Temporary Alien Workers.

SECURITY CLASSIFICATION:

None.

SYSTEM LOCATION:

ETA, Office of Workforce Security (OWS), Division of Foreign Labor Certifications, Frances Perkins Building, 200 Constitution Avenue, NW, Washington, DC 20210; ETA Regional Offices.

CATEGORIES OF INDIVIDUALS COVERED BY THE SYSTEM:

Employers who file labor certification applications, labor condition applications, or labor attestations to employ one or more alien workers on a permanent or temporary basis. The alien may be known or unknown.

CATEGORIES OF RECORDS IN THE SYSTEM:

Employers' names, addresses, type and size of businesses, production data, number of workers needed in certain cases, offer of employment terms to known or unknown aliens, and background and qualifications of certain aliens, along with resumes and applications of U.S. workers.

AUTHORITY FOR MAINTENANCE OF THE SYSTEM:

Immigration and Nationality Act, as amended, 8 U.S.C. 1101(a)(15)(H)(i), and (ii), 1184(c),1182(m) and (n), 1182(a)(5)(a), 1188, and 1288. Section 122 of Pub. L. 101-649. 8 CFR 214.2(h).

PURPOSE(S):

To maintain a record of applicants and actions taken by ETA on requests to employ alien workers.

ROUTINE USES OF RECORDS MAINTAINED IN THE SYSTEM, INCLUDING CATEGORIES OF USERS AND THE PURPOSES OF SUCH USES:

Case files developed in processing labor certification applications, labor condition applications, or labor attestations, are released to the employers which filed such applications, their representatives, and to named alien beneficiaries or their representatives, if requested, to review ETA actions in connection with appeals of denials before the Office of Administrative Law Judges and Federal Courts; to participating agencies such as the DOL Office of Inspector General, Employment Standards Administration, INS, and Department of State in connection with administering and enforcing related immigration laws and regulations; and to the Office of Administrative Law Judges and Federal Courts in connection with appeals of denials of labor certification requests, labor condition applications, and labor attestations.

DISCLOSURE TO CONSUMER REPORTING AGENCIES:

None.

POLICIES AND PRACTICES FOR STORING, RETRIEVING, ACCESSING, RETAINING, AND DISPOSING OF RECORDS IN THE SYSTEM:

Manual and/or computerized files are stored in the national office, and each of the ETA Regional Offices.

RETRIEVABILITY:

Records are maintained on all applications for alien employment certification labor condition applications, and labor attestations filed by case number and employer names. Partial data elements from each case file are stored on the computer and may be accessed by employer or in certain cases, by the named alien beneficiary.

SAFEGUARDS:

Access to records provided only to authorized personnel. The computerized data has a double security access: (1) Initial password entry to the local area network; and (2) restricted access to alien certification data is given only to those employees with a need to know the data in performing their official duties.

RETENTION AND DISPOSAL:

Generally retain case file in office for two years, then transfer to a records center for destruction after three additional years.

SYSTEM MANAGER(S) AND ADDRESS:

Chief, Division of Foreign Labor Certifications, U.S. Office of Workforce Security, ETA, 200 Constitution Avenue, NW, Washington, DC 20210, and each Regional Administrator or Associate Regional Administrator of the ETA in the Regional Offices.

NOTIFICATION PROCEDURE:

Inquiries concerning this system can be directed to the System Manager listed above. The appropriate addresses for the Regional Offices are listed under the section “Responsible Officials” included in this notice.

RECORD ACCESS PROCEDURES:

Individuals can request access to any personal record by mailing a request to the appropriate System Manager listed above.

CONTESTING RECORD PROCEDURES:

Individuals wanting to contest or amend information maintained in this system should direct their written request to the appropriate System Manager listed above. The request to amend should state clearly and concisely what information is being contested, the reasons for contesting, and the proposed amendment to the information sought.

RECORD SOURCE CATEGORIES:

Information comes from labor certification applications, labor condition applications, and labor attestations completed by employers. Certain information is furnished by named alien beneficiaries of labor certification applications, State Employment Security agencies, and the resumes and applications of U.S. workers.

SYSTEMS EXEMPTED FROM CERTAIN PROVISIONS OF THE ACT:

None.

DOL/ETA-8

SYSTEM NAME:

Job Corps Student Pay, Allotment and Management Information System (SPAMIS).

SECURITY CLASSIFICATION:

Unclassified.

SYSTEM LOCATION:

Job Corps Data Center (JCDC), Building 5159, 205 6th Street, San Marcos, Texas 78666 (and Job Corps Centers).

CATEGORIES OF INDIVIDUALS COVERED BY THE SYSTEM:

Job Corps students and Job Corps terminees.

CATEGORIES OF RECORDS IN THE SYSTEM:

Personal information about the student: Pre-enrollment status, number of months enrolled in school, home address, family status and income; characteristics, such as age, race/ethnic group, sex; summarization of basic education and vocational training received in Job Corps; and initial Placement status (entry into employment, school, military service, or other status) after separation from the Program.

AUTHORITY FOR MAINTENANCE OF THE SYSTEM:

Subtitle C of Title I of the Workforce Investment Act of 1998, 29 U.S.C. 2882 et seq.

PURPOSE(S):

These records are maintained to pay students and track student academic and vocational outcomes and achievements. This information is used for reporting center/contractor performance that includes enrollment information, performance outcomes while enrolled and placement information after separation.

ROUTINE USES OF RECORDS MAINTAINED IN THE SYSTEM, INCLUDING CATEGORIES OF USERS AND THE PURPOSES OF SUCH USES:

These records and information in these records may be used when relevant, necessary and appropriate:

(1) To disclose photographs and student identities to the news media for the purpose of promoting the merits of the program.

(2) To disclose information of a student's academic and vocational achievement and general biographical information, to placement and welfare agencies, respective employers, school or training institutions to assist in the employment of a student. Categories of users:

(1) Job Corps Center staff and operators/contractors;

(2) Outreach, Admissions and Placement staff and contractors;

(3) Support Contractors;

(4) Federal staff at the regional and national levels; and

Note: Selective Service System to ensure that males over 18 years of age are registered.

DISCLOSURE TO CONSUMER REPORTING AGENCIES:

None.

POLICIES AND PRACTICES FOR STORING, RETRIEVING, ACCESSING, RETAINING, AND DISPOSING OF RECORDS IN THE SYSTEM:

STORAGE:

Magnetic disk and magnetic tape.

RETRIEVABILITY:

Social Security Number or name and center enrolled.

SAFEGUARDS:

Access to files is limited to designated data processing staff (programmers/analysts) and is restricted by User ID and Passwords. Tape backups to these files are temporarily stored in a physically secure vault in a secure building. Later these backup tape files are transferred to a physically secure off site climate controlled records storage area.

RETENTION AND DISPOSAL:

During enrollment, the official record of Job Corps students is maintained in the student record section of the center of enrollment. The official record copy of these documents is filed in the Terminated Students Record folders, which are maintained at the Job Corps Center where a student was enrolled for at least three (3) but no more than four (4) years after termination. After this, the records are retired to the Regional Federal Records Center where they are kept 75 years.

SYSTEM MANAGER(S) AND ADDRESS:

Director, Office of Job Corps U.S. Department of Labor, Employment and Training Administration, 200 Constitution Avenue, NW, Washington, DC 20210.

NOTIFICATION PROCEDURE:

Letter to System Manager in accordance with 29 CFR Part 71, giving the following information about the Job Corps student or terminee:

Full Name, Social Security Number (if available), Job Corps center at which enrolled (if available), dates of enrollment and separation, if known.

RECORD ACCESS PROCEDURES:

Individuals can request access to any record pertaining to himself/herself by mailing a request to the System Manager listed above under “Notification Procedure.”

CONTESTING RECORD PROCEDURES:

Individuals desiring to contest or amend information maintained in this system should direct their written request to the System Manager listed in “Notification Procedure” above. The request to amend should state clearly and concisely what information is being contested, the reasons for contesting, and the proposed amendment to the information sought. Documentation should be provided supporting any requests for amending records.

RECORD SOURCE CATEGORIES:

Job Corps students, Outreach, Admissions and Placement Contractors; Support Contractors, and Job Corps Centers.

SYSTEMS EXEMPTED FROM CERTAIN PROVISIONS OF THE ACT:

None.

DOL/ETA-15

SYSTEM NAME:

DOL/ETA Evaluation, Research, Pilot or Demonstration Contractors' Project Files.

SECURITY CLASSIFICATION:

None.

SYSTEM LOCATION:

Individual contractors' and subcontractors' project worksites and the Office of Policy and Research (OPR), ETA.

CATEGORIES OF INDIVIDUALS COVERED BY THE SYSTEM:

Participants in programs of the Job Training Partnership Act (JTPA), Workforce Investment Act (WIA) and other research, pilot or demonstration projects.

CATEGORIES OF RECORDS IN THE SYSTEM:

Records in the system may include characteristics of program participants, description of program activities, services received by participants, program outcomes and participant follow-up information obtained after the completion of the program.

AUTHORITY FOR MAINTENANCE OF THE SYSTEM:

Job Training Partnership Act, Title IV; Workforce Investment Act of 1998, secs. 156, 171, and 172; Social Security Act, secs. 441 and 908. (29 U.S.C. 1731-1735; 29 U.S.C. 2856, 2916, and 2917; and 42 U.S.C. 841 and 1108; respectively.

PURPOSE(S):

The purpose of this system is to provide necessary information for statutorily-required and other evaluations of Employment and Training Administration (ETA) programs, evaluations of ETA-sponsored pilot and demonstration programs, and other statistical and research studies of employment and training program and policy issues. These records are used solely for statistical research or evaluation and are not used in any way for making any determination about an identifiable individual.

ROUTINE USES OF RECORDS MAINTAINED IN THE SYSTEM, INCLUDING CATEGORIES OF USERS AND THE PURPOSES OF SUCH USES:

Records may be disclosed to other Federal, State and local government agencies in order to facilitate the collection of additional data necessary for statistical and evaluation purposes.

DISCLOSURE TO CONSUMER REPORTING AGENCIES:

None.

POLICIES AND PRACTICES FOR STORING, RETRIEVING, ACCESSING, RETAINING, AND DISPOSING OF RECORDS IN THE SYSTEM:

STORAGE:

Records are maintained on magnetic tape and disks by the U.S. Bureau of the Census and various contractors.

RETRIEVABILITY:

Records are retrieved by name or social security number, and by a variety of other unique identifiers that have been created for a specific study.

SAFEGUARDS:

Records are maintained on secure computer systems and can only be retrieved with the proper access code.

RETENTION AND DISPOSAL:

Records which are individually identified are retained by the contractors for one to five years, then the identifiers are destroyed. After the conclusion of the studies the records are retired to the Federal Records Center and are destroyed after being retained by the Records Center for 20 years.

SYSTEM MANAGER(S) AND ADDRESS:

Administrator, Office of Policy and Research, Employment and Training Administration, Frances Perkins Building, 200 Constitution Ave., NW, Washington, DC 20210.

NOTIFICATION PROCEDURE:

Address inquiries to the Administrator, Office of Policy and Research, Employment and Training Administration, Frances Perkins Building, 200 Constitution Ave., NW, Washington, DC 20210.

RECORD ACCESS PROCEDURES:

Individuals wishing access to a record should contact the System Manager indicated in the notification procedures section above. Individuals requesting access to records must comply with the Department's Privacy Act regulations on verification of identity and access to records.

CONTESTING RECORD PROCEDURES:

Individuals wishing to request amendment to records should contact the System Manager indicated in the notification procedures section.

RECORD SOURCE CATEGORIES:

Individual participants, and Federal, State, and local Government agencies.

SYSTEMS EXEMPTED FROM CERTAIN PROVISIONS OF THE ACT:

None.

DOL/ETA-16

SYSTEM NAME:

Employment and Training Administration Investigatory File.

SECURITY CLASSIFICATION:

None.

SYSTEM LOCATION:

Special Program Services Unit, Employment and Training Administration, Frances Perkins Building, 200 Constitution Ave., NW, Washington, DC 20210, and each of the Employment and Training Administration regional offices.

CATEGORIES OF INDIVIDUALS COVERED BY THE SYSTEM:

Applicants, contractors, subcontractors, grantees, members of the general public, ETA employees, who are alleged violators of ETA laws and regulations.

CATEGORIES OF RECORDS IN THE SYSTEM:

Reports of alleged and confirmed problems, abuses or deficiencies relative to the administration of programs and operations of the agency, and of possible violations of Federal law whether civil or criminal; reports on resolution of criminal or conduct violations, and information relating to investigations and possible violations of ETA administered programs and projects; incident reports, hotline complaints, and investigative memoranda.

AUTHORITY FOR MAINTENANCE OF THE SYSTEM:

5 U.S.C. 301; Job Training Partnership Act (JTPA) (29 U.S.C. 1501 et seq.); Workforce Investment Act, 29 U.S.C. 2801 et seq.

PURPOSE(S):

To ensure that all appropriate records of problems, abuses or deficiencies relative to the administration of programs and operations of the agency are retained and are available to agency, Departmental, or other Federal officials having a need for the information to support actions taken based on the records.

ROUTINE USES OF RECORDS MAINTAINED IN THE SYSTEM, INCLUDING CATEGORIES OF USERS AND THE PURPOSES OF SUCH USES:

The records and information in this system that are relevant and necessary may be used to disclose pertinent information to states, Workforce Investment Boards, and other DOL-funded grantees as necessary to enforce ETA rules and regulations; and other uses noted in the prefatory statement.

DISCLOSURE TO CONSUMER REPORTING AGENCIES:

None.

POLICIES AND PRACTICES FOR STORING, RETRIEVING, ACCESSING, RETAINING, AND DISPOSING OF RECORDS IN THE SYSTEM:

STORAGE:

Case files are maintained in manual files and certain information from those manual files, e.g., case number, names and social security numbers, description of allegations, etc., are maintained in a computerized format on the local area network.

RETRIEVABILITY:

The manual case files are indexed by case number. Automated records are retrieved by case number, case name, or subject.

SAFEGUARDS:

Direct access to the manual case files is restricted to authorized staff members with a need to know the information in the performance of their official duties and responsibilities. Automated records can be accessed only through use of confidential procedures and passwords by authorized staff.

RETENTION AND DISPOSAL:

The records containing information or allegations which do not relate to a specific investigation are retained for 5 years after the case is closed, and are then destroyed by shredding. The records containing information or allegations that do result in a specific investigation are placed in an inactive file when the case is closed and destroyed, by shredding, after 10 years.

SYSTEM MANAGER(S) AND ADDRESS:

Administrator, Office of Financial and Administrative Management, 200 Constitution Ave., NW, Washington, DC 20210; and each Regional Administrator or Associate Regional Administrator of the ETA in the regional offices.

NOTIFICATION PROCEDURE:

Inquiries concerning this system can be directed to: System Manager, U.S. Department of Labor, Employment and Training Administration, Office of Financial and Administrative Management, 200 Constitution Avenue, NW, Washington, DC 20210 or to the appropriate ETA Regional Administrator or Associate Regional Administrator in the regional cities listed in the Appendix to this notice. Such inquiries should include the full name of the requester, name and address of the organization, service delivery area, and the ETA-administered program or project.

RECORD ACCESS PROCEDURES:

Individuals can request access to any record pertaining to himself/herself by mailing a request to the appropriate System Manager listed above under “Notification Procedure.” Such inquiries should include the full name of the requester, name and address of the organization, service delivery area, and the ETA-administered program or project.

CONTESTING RECORD PROCEDURES:

Individuals desiring to contest or amend information maintained in this system should direct their written request, containing specific details of personal and professional data indicated, to the appropriate System Manager listed in “Notification Procedure” above. The request should state clearly and concisely what information is being contested, the reasons for contesting it, and the proposed amendment to the information sought.

RECORD SOURCE CATEGORIES:

Individuals, program sponsors, contractors, grantees, complainants, witnesses, Office of the Inspector General and other Federal, State and local government records.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/ETA-20

SYSTEM NAME:

Federal Bonding Program, Bondee Certification Files.

SECURITY CLASSIFICATION:

None.

SYSTEM LOCATION:

Punch Card Processing Co., 6875 New Hampshire Ave., Takoma Park, MD. 20012, and the McLaughlin Co., Suite 514, 2000 L St., NW, Washington, DC 20038.

CATEGORIES OF INDIVIDUALS COVERED BY THE SYSTEM:

State Employment Service applicants who are eligible and need bonding to get a job.

CATEGORIES OF RECORDS IN THE SYSTEM:

Personal (name, SSN, employer name), employment data (DOT and SIC codes), employer data (address, city, State, ZIP code), amount of bond (expressed in $500 units), cost of bond (expressed in units), effective date of bond, and termination date of bond.

AUTHORITY FOR MAINTENANCE OF THE SYSTEM:

Job Training Partnership Act, Title IV, Part D (29 U.S.C. 1731-1735); and the Workforce Investment Act of 1998(WIA)(29 U.S.C. 2801 et seq.).

PURPOSE(S):

The purpose of these records is to provide information to the DOL project officer on the activities of the contracted project—the Federal Bonding Program. These records are used solely for statistical information and not used in any way for making any determination about an identifiable individual.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Disk Operated System (DOS) and printout.

RETRIEVABILITY:

Retrieved by assigned bond number.

SAFEGUARDS:

Locked in cabinets in offices of Federal, State, and private buildings.

RETENTION AND DISPOSAL:

States and regions dispose of data 3 years and older; The Punch Card Processing Co. keeps master DOS of all bondees prior to 1980.

SYSTEM MANAGER(S) AND ADDRESS:

Administrator, Office of Policy Research, Frances Perkins Building, 200 Constitution Ave. NW, Washington, DC 20210.

NOTIFICATION PROCEDURE:

Address inquiry to the System Manager at 200 Constitution Ave., NW, Washington, DC, 20210 as indicated above.

RECORD ACCESS PROCEDURES:

Individuals can request access to any record pertaining to himself/herself by mailing a request to the System Manager listed above under “Notification Procedure.”

CONTESTING RECORD PROCEDURES:

Individuals wishing to contest or amend information maintained in this system should direct their written request to the System Manager at the address shown in “Notification Procedure” above. The request to amend or contest should state clearly and concisely what information is being contested, the reasons for contesting, and the proposed amendment to the information sought.

RECORD SOURCE CATEGORIES:

State Job Service files, applicants for the bond and bonded employee's employer.

SYSTEMS EXEMPTED FROM CERTAIN PROVISIONS OF THE ACT:

None.

DOL/ETA-22

SYSTEM NAME:

ETA Employee Conduct Investigations.

SECURITY CLASSIFICATION:

None.

SYSTEM LOCATION:

Offices in the Employment and Training Administration at the National Office and in each of the regional offices.

CATEGORIES OF INDIVIDUALS COVERED BY THE SYSTEM:

ETA employee(s) against whom any allegation of misconduct, illegal acts, conflicts of interests, etc., has been made.

CATEGORIES OF RECORDS IN THE SYSTEM:

Name, organization and other information relating to the individual involved; investigative report(s), including interviews and other data gathered.

AUTHORITY FOR MAINTENANCE OF THE SYSTEM:

5 U.S.C. 301, 7301, and Executive Order 11222.

PURPOSE(S):

To ensure that all appropriate records of problems, misconduct, illegal acts, conflicts of interest, etc., are maintained to document actions taken in each case.

ROUTINE USES OF RECORDS MAINTAINED IN THE SYSTEM, INCLUDING CATEGORIES OF USERS AND THE PURPOSES OF SUCH USES:

None, except for the prefatory routine uses.

DISCLOSURE TO CONSUMER REPORTING AGENCIES:

None.

POLICIES AND PRACTICES FOR STORING, RETRIEVING, ACCESSING, RETAINING, AND DISPOSING OF RECORDS IN THE SYSTEM:

STORAGE:

Case files are maintained in manual files and certain information from those manual files, e.g., case number, names and social security numbers, description of allegations, etc., are maintained in a computerized format on the local area network.

RETRIEVABILITY:

The manual case files are indexed by name and case number. Automated records are retrieved by case number, case name, or subject.

SAFEGUARDS:

Direct access to the manual case files is restricted to authorized staff members with a need to know the information in the performance of their official duties and responsibilities. Automated records can be accessed only through use of confidential procedures and passwords by authorized staff.

RETENTION AND DISPOSAL:

Records are retained for four years following the date either: (a) They are referred to the OIG; (b) they are transferred to OPM/GOVT-3 Records of Adverse Actions and Actions Based on Unacceptable Performance; or (c) it is determined that the allegation was without sufficient merit to warrant further action, after which they are destroyed by shredding.

SYSTEM MANAGER(S) AND ADDRESS:

Administrator, Office of Financial and Administrative Management, 200 Constitution Ave., NW, Washington, DC 20210, and each Regional Administrator or Associate Regional Administrator in the Employment and Training Administration regional offices.

NOTIFICATION PROCEDURE:

Inquiries concerning this system can be directed to the Administrator, Office of Financial and Administrative Management, at the address listed above under “System Manager(s) and Address”, or to the appropriate Regional Administrator or Associate Regional Administrator listed under Responsible Officials contained at the end of these notices. Such inquiries should include full name, agency, organization, and office component of the requester.

RECORD ACCESS PROCEDURES:

Individuals can request access to any record pertaining to himself/herself by mailing a request to the System Manager listed above under “Notification Procedure.” Such inquiries should include full name, agency, organization, and office component of the requester.

CONTESTING RECORD PROCEDURES:

Individuals wanting to contest or amend information maintained in this system should direct their written request, containing the data elements listed above, to the System Manager listed above in “Notification Procedure.” The request to amend should state clearly and concisely what information is being contested, the reasons for contesting, and the proposed amendment to the information sought.

RECORD SOURCE CATEGORIES:

Individuals, hotline complaints through the Office of the Inspector General's hotline; hotline complaints through the General Accounting Office's hotline system; incident reports submitted by employees; investigative reports and interviews.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/ETA-24

SYSTEM NAME:

Contracting and Grant Officer Files.

SECURITY CLASSIFICATION:

None.

SYSTEM LOCATION:

Employment and Training Administration, Office of Grants and Contracts Management, Office of Financial and Administrative Services, and Assistant Secretary for Administration and Management, Division of Federal Assistance and Contract Services, 200 Constitution Avenue, NW, Washington, DC 20210.

CATEGORIES OF INDIVIDUALS COVERED BY THE SYSTEM:

Present and former contracting and grant officers.

CATEGORIES OF RECORDS IN THE SYSTEM:

Name, Social Security Number, job title and grade, qualifications, training and experience, request for appointment as Contracting/Grant Officer, Certification of Appointment, copy of Certificate of Appointment, and other correspondence and documents relating to the individual's qualifications therefor.

AUTHORITY FOR MAINTENANCE OF THE SYSTEM:

40 U.S.C. 486; Department of Labor Acquisition Regulations 2901.6; Department of Labor Manual Series 2-800.

PURPOSE(S):

To ascertain an individual's qualifications to be appointed as a contracting/grant officer; to determine if limitations on procurement authority are appropriate; to complete Certificate of Appointment.

ROUTINE USES OF RECORD MAINTAINED IN THE SYSTEMS, INCLUDING CATEGORIES AND USERS AND THE PURPOSES OF SUCH USES:

A. Disclosure to Office of Government Ethics:

A record from a system of records may be disclosed, as a routine use, to the Office of Government Ethics for any purposes consistent with that office's mission, including the compilation of statistical data.

B. Disclosure to a Board of Contract Appeals, GAO or any other entity hearing a contractor's protest or dispute:

A record from a system of records may be disclosed, as a routine use, to the United States General Accounting Office, to a Board of Contract Appeals, or the Claims Court in bid protest cases or contract dispute cases involving procurement.

DISCLOSURE TO CONSUMER REPORTING AGENCIES:

None.

POLICIES FOR STORING, RETRIEVING, ACCESSING, RETAINING, AND DISPOSING OF RECORDS IN THE SYSTEM:

STORAGE:

Paper records in file folders.

RETRIEVABILITY:

Filed by Contracting/Grant Officer Number and Name.

SAFEGUARDS:

Records are maintained in a secured, locked file cabinet accessible to the authorized personnel having need for the information in the performance of their duties.

RETENTION AND DISPOSAL:

All documents relating to and reflecting the designation of Contracting/Grant Officers and terminations of such designations, are destroyed 6 years after termination of appointment.

SYSTEM MANAGER(S) AND ADDRESS:

Chief, Division of Federal Assistance, U.S. Department of Labor, ETA, 200 Constitution Avenue, NW, Washington, DC 20210.

NOTIFICATION PROCEDURE:

Requests for information may be directed to the System Manager.

RECORD ACCESS PROCEDURES:

Requests from individuals should be addressed to System Manager. Written requests should contain the full name, current address and telephone number of the individual.

CONTESTING RECORD PROCEDURES:

Documentation should be provided supporting any requests for amending records.

RECORD SOURCE CATEGORIES:

The contract/grant officer's Certification of Appointment and background information on education, SF-171, and specific information on procurement authorities delegated.

SYSTEMS EXEMPTED FROM CERTAIN PROVISIONS OF THE ACT:

None.

DOL/ETA-25

SYSTEM NAME:

DOL/ETA Evaluation Research Projects of the Unemployment Compensation System.

SECURITY CLASSIFICATION:

None.

SYSTEM LOCATION:

Either in ETA or at an individual contractor's worksite.

CATEGORIES OF INDIVIDUALS COVERED BY THE SYSTEM:

Any employer or employee covered under a State unemployment compensation law.

CATEGORIES OF RECORDS IN THE SYSTEM:

The system contains Claimant (Employee) records, Employer contribution records, and Employee wage records.

AUTHORITY FOR MAINTENANCE OF THE SYSTEM:

Social Security Act, Sections 303(a)(1), 303(a)(6), and 906, (42 U.S.C. 503(a)(1), 503(a)(6), 902, 1106); 5 U.S.C. 8506(b).

PURPOSE(S):

These records are used for researching and evaluating the unemployment compensation and other programs for which ETA is responsible and are not used for any purpose other than that specified under agreement with the State from which the records were obtained. These records are not used in any way for making any determination affecting an identifiable individual's entitlement to unemployment compensation.

ROUTINE USES OF RECORDS MAINTAINED IN THE SYSTEM, INCLUDING CATEGORIES OF USERS AND THE PURPOSE OF SUCH USE:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Records are maintained on magnetic tape and disks by ETA and various contractors.

RETRIEVABILITY:

Records may be retrieved by individual identifiers; specifically, by name, social security account number, or employer identification number.

SAFEGUARDS:

Records are maintained on secure computer systems and can only be retrieved with the proper access code.

RETENTION AND DISPOSAL:

Records are retained by ETA or its contractor until the end of each project. At the conclusion of each project, the records obtained from the State are returned to the State from which they were obtained, or maintained by ETA without potentially identifying information.

SYSTEM MANAGER(S) AND ADDRESSES:

Administrator, Office of Workforce Security (OWS), Employment and Training Administration, Frances Perkins Building, 200 Constitution Avenue, NW, Washington, DC 20210.

NOTIFICATION PROCEDURE:

Address inquiries to the Administrator, Office of Workforce Security, Employment and Training Administration, Frances Perkins Building, 200 Constitution Avenue, NW, Washington, DC 20210.

RECORD ACCESS PROCEDURES:

Individuals wishing access to a record should contact the office indicated in the notification procedure section. Individuals requesting access to records must comply with the Privacy Act regulations on verification of identity and access to records.

CONTESTING RECORD PROCEDURES:

Individuals wishing to request amendment to records should contact the office indicated in the notification procedures section.

RECORD SOURCE CATEGORIES:

State records.

SYSTEMS EXEMPTED FROM CERTAIN PROVISIONS OF THE ACT:

None.

DOL/ETA-26

SYSTEM NAME:

Standardized Program Information Report (SPIR).

SECURITY CLASSIFICATION:

None.

SYSTEM LOCATION:

Database management contractor's work site.

CATEGORIES OF INDIVIDUALS COVERED BY THE SYSTEM:

Terminees from Titles IIA (including Older Workers Set-aside), IIC, and III of the Job Training Partnership Act (JTPA); and enrollees who have completed programs/services under the Workforce Investment Act of 1998, Title I (29 U.S.C. 2801 et seq.).

CATEGORIES OF RECORDS IN THE SYSTEM:

Records in the system include the Social Security number and various characteristics of each participant, the description of program activities and services they received, and program outcome and participant follow-up information obtained after completion of the program.

AUTHORITY FOR MAINTENANCE OF THE SYSTEM:

JTPA Section 165(c)(2)(29 U.S.C. 1575(c)(2)); and the Workforce Investment Act of (29 U.S.C. 2801 et seq.).

PURPOSE(S):

To maintain a management information system designed to facilitate the uniform compilation and analysis of programmatic data necessary for reporting, monitoring and evaluation purposes. These records are not used for making determinations about identifiable individuals.

The system will:

(1) Generate statistical reports that will present detailed information on the characteristics of program participants, program activities and outcomes. These data will be reported at the national, state and local levels; and will allow the Department to respond to a variety of requests for specific information regarding the scope of services and the nature of employment that JTPA is providing to its clients.

(2) Provide information that will enable the Department to evaluate the program at different levels (nationally, or at a regional, State or local level) and to provide feedback to States and localities on such evaluations.

(3) Provide a suitable national database to enable the Department to provide technical guidance to local programs in establishing performance goals for their service providers.

ROUTINE USES OF RECORDS MAINTAINED IN THE SYSTEM, INCLUDING CATEGORIES OF USERS AND THE PURPOSES OF SUCH USES:

Disclosure to State and local JTPA organizations those records that are relevant and necessary to allow for comparative self-analysis of their programs' performance.

Disclosure to researchers and public interest groups those records that are relevant and necessary to evaluate the effectiveness of the overall program and its various training components in serving different subgroups of the eligible population.

DISCLOSURE TO CONSUMER REPORTING AGENCIES:

Not applicable.

POLICIES AND PRACTICES FOR STORING, RETRIEVING, ACCESSING, RETAINING, AND DISPOSING OF RECORDS IN THE SYSTEM:

STORAGE:

Records are maintained on magnetic tape and disks at the database management contractor's work site.

RETRIEVABILITY:

Primarily by name or participant characteristic. Occasionally by Social Security Number.

SAFEGUARDS:

Records are maintained on a secure computer system and can only be retrieved with the proper access code. Public access files and files used for analysis outside the database manager's computer system will be purged of participant identifiers and records will be sufficiently aggregated to prevent identification of any individual.

RETENTION AND DISPOSAL:

Data files will be retained indefinitely.

SYSTEM MANAGER(S) AND ADDRESS:

Administrator, Office of Workforce Security, Employment and Training Administration, 200 Constitution Avenue, NW, Washington, DC 20210.

NOTIFICATION PROCEDURE:

Address inquiries to the Administrator, Office of Workforce Security, Employment and Training Administration, 200 Constitution Avenue, NW, Washington, DC 20210.

RECORD ACCESS PROCEDURES:

Individuals wishing assess to a record should contact the office indicated in the notification procedure above. Individuals requesting access to records must comply with the Department of Labor's Privacy Act regulations on verification of identity and access to records.

CONTESTING RECORD PROCEDURES:

Individuals wishing to request amendment to records should contact the office indicated in the notification procedures section.

RECORD SOURCE CATEGORIES:

Individual participant, State and local JTPA program offices.

SYSTEMS EXEMPT FROM CERTAIN PROVISIONS OF THE ACT:

None.

DOL/ETA-27

SYSTEM NAME:

Youth Opportunity Grant Program Information Files.

SECURITY CLASSIFICATION:

None.

SYSTEM LOCATION:

Database management contractor's work site.

CATEGORIES OF INDIVIDUALS COVERED BY THE SYSTEM:

Enrollees in Youth Opportunity Grant programs funded under Section 169 of the Workforce Investment Act of 1998 (WIA) (29 U.S.C. 2914).

CATEGORIES OF RECORDS IN THE SYSTEM:

Records in the system include the Social Security number and various characteristics of each participant, the description of program activities and services they received, and program outcome and participant follow-up information obtained after completion of the program.

AUTHORITY FOR MAINTENANCE OF THE SYSTEM:

The Workforce Investment Act of 1998 (29 U.S.C. 2801 et seq.)

PURPOSE(S):

To maintain a management information system designed to facilitate the uniform compilation and analysis of programmatic data necessary for reporting, monitoring and evaluation purposes. These records are not used for making determinations about identifiable individuals.

The system will:

(1) Generate statistical reports that will present detailed information on the aggregate characteristics of program participants, program activities and outcomes. These data will be reported at the national and grantee levels; and will allow the Department to respond to a variety of requests for specific information regarding the scope of services and the nature of employment that Youth Opportunity Grants are providing to their enrollees.

(2) Provide information that will enable the Department to monitor the program at different levels (nationally, or at the grantee level) and to provide feedback to localities on their progress in implementing their grants.

(3) Provide a suitable national database to enable the Department to provide technical guidance to local programs in establishing performance goals for their service providers.

ROUTINE USES OF RECORDS MAINTAINED IN THE SYSTEM, INCLUDING CATEGORIES OF USERS AND THE PURPOSES OF SUCH USES:

Disclosure to Youth Opportunity Grantees those records that are relevant and necessary to allow for comparative self-analysis of their programs' performance.

Disclosure to researchers and public interest groups those records that are relevant and necessary to evaluate the effectiveness of the overall program and its various training components in serving different subgroups of the eligible population.

DISCLOSURE TO CONSUMER REPORTING AGENCIES:

Not applicable.

POLICIES AND PRACTICES FOR STORING, RETRIEVING, ACCESSING , RETAINING, AND DISPOSING OF RECORDS IN THE SYSTEM:

STORAGE:

Records are maintained on magnetic tape and disks at the database management contractor's work site.

RETRIEVABILITY:

Primarily by participant characteristics; Social Security Number, and geographic site codes.

SAFEGUARDS:

Records are maintained on a secure computer system and can only be retrieved with the proper access code. Public access files and files used for analysis outside the database manager's computer system will be purged of participant identifiers. Published tables will be sufficiently aggregated to prevent identification of any individual.

RETENTION AND DISPOSAL:

Data files will be retained indefinitely.

SYSTEM MANAGER(S) AND ADDRESS:

Administrator, Office of Youth Services, Employment and Training Administration, 200 Constitution Avenue, NW, Washington, DC 20210.

NOTIFICATION PROCEDURE:

Address inquiries to the Administrator, Office of Youth Services, Employment and Training Administration, 200 Constitution Avenue, NW, Washington, DC 20210.

RECORD ACCESS PROCEDURES:

Individuals wishing assess to information contained in this system should contact the office indicated in the notification procedure above. Individuals requesting access to files must comply with the Department of Labor's Privacy Act regulations on verification of identity and access to records.

CONTESTING RECORD PROCEDURES:

Individuals wishing to request amendment to records should contact the office indicated in the notification procedures section.

RECORD SOURCE CATEGORIES:

Individual participant, Youth Opportunity Grantees.

SYSTEMS EXEMPT FROM CERTAIN PROVISIONS OF THE ACT:

None.

DOL/OIG-1

SYSTEM NAME:

Investigative Files, Case Tracking System, Analysis, Complaints, Inspections, and Evaluation Files, USDOL/OIG.

SECURITY CLASSIFICATION:

Not applicable.

SYSTEM LOCATION:

Office of Inspector General, U.S. Department of Labor, 200 Constitution Avenue, NW, Washington, DC 20210 and in the OIG regional and field offices.

CATEGORIES OF INDIVIDUALS COVERED BY THE SYSTEM:

DOL employees, applicants, contractors, subcontractors, grantees, subgrantees, claimants, complainants, individuals threatening DOL employees or the Secretary of Labor, alleged violators of Labor laws and regulations, union officers, trustees, employers, individuals investigated and interviewed, and individuals filing claims for entitlement or benefits under laws administered by the Department of Labor, individuals providing medical and other services to OWCP, employees of insurance companies and of medical and other services provided to OWCP, and other persons suspected of violations of law and related administrative, civil and criminal provisions.

CATEGORIES OF RECORDS IN THE SYSTEM:

The system contains records related to administrative, civil and criminal investigations, complaints, inspections, and evaluations which include: Statements and other information from subjects, targets, witnesses and complainants; material from governmental investigatory or law enforcement organizations (federal, state, local or international) and intelligence information; information of criminal, civil or administrative referrals and/or results of investigations; investigative notes and investigative reports; summary information for indexing and cross referencing; reports and associated materials filed with DOL or other government agencies from, for example, medical providers, grantees, contractors, employers or insurance companies; other evidence and background material existing in any form (i.e. audio or video tape, photographs, computer tapes, disks or compact disks).

AUTHORITY FOR MAINTENANCE OF THE SYSTEM:

5 U.S.C. App. 3 (IG Act); 5 U.S.C. 8101 et seq. (FECA); Health Insurance Portability and Accountability Act, Pub. L. 104-191; 5 U.S.C. 8401 et seq. (FERSA); 8 U.S.C. 1101 et seq. (IRCA); 18 U.S.C. 874 (Anti Kickback Act); 29 U.S.C. 49 et seq. (Wagner-Peyser Act); 29 U.S.C. 101 et seq. (LMRA); 29 U.S.C. 201 et seq. (FLSA); 29 U.S.C. 401 et seq. (LMRDA); 29 U.S.C. 651 et seq. (OSHA); 29 U.S.C. 793 et seq. (Rehabilitation Act); 29 U.S.C. 1001 et seq. (ERISA); 29 U.S.C. 1501 et seq. (JTPA); 29 U.S.C. 2801 et seq. (Workforce Investment Act of 1998); 30 U.S.C. 801 et seq. (MSHA); 30 U.S.C. 901 et seq. Black Lung); 31 U.S.C. 3701 et seq. (False Claims Act); 31 U.S.C. 3801 et seq. (Program Fraud Civil Remedies Act); 33 U.S.C. 901 et seq. (Longshore Compensation Act and extension); 40 U.S.C. 276a5 (Davis Bacon); 40 U.S.C. 276c (Copeland Act); 41 U.S.C. 35 et seq. (Walsh-Healey); 41 U.S.C. 351 et seq. (Service Contract Act); Title 18, United States Code (Criminal Code); and Secretary's Order 2-90, dated January 31, 1990 concerning the authorization and organization of the Office of Inspector General in the Department of Labor.

PURPOSE(S):

This system is established and maintained to fulfill the purposes of the Inspector General Act of 1978 and to fulfill the responsibilities assigned by that Act concerning investigative activities and the complaints and other information from which investigations, inspections, and evaluations develop. The OIG initiates investigations and evaluations of individuals, inspections and evaluations of entities and programs, maintains information received and developed in this system during the time the investigation, inspection or evaluation is performed, and after each investigation, inspection or evaluation is completed. This system is the repository of all information developed during the course of investigations, inspections, and evaluations. OIG also receives many complaints via its Hotline and other sources. These complaints are reviewed for investigative merit and can be referred for a full investigation, for program agency action, or no action.

ROUTINE USES OF RECORDS MAINTAINED IN THE SYSTEM, INCLUDING CATEGORIES OF USERS AND THE PURPOSES OF SUCH USES:

A. Referral to federal, state, local and foreign investigative and/or prosecutive authorities. A record from a system of records, which indicates either by itself or in combination with other information within the agency's possession, a violation or potential violation of law, whether civil, criminal or administrative and whether arising by general statute or particular program statute, or by regulation, rule or order issued pursuant thereto, may be disclosed as a routine use, to the appropriate federal, foreign, state or local agency or professional organization charged with the responsibility of investigating or prosecuting such violation or charged with enforcing or implementing or investigating or prosecuting such violation or charged with enforcing or implementing the statute or rule, regulation or order issued pursuant thereto.

B. Introduction to a grand jury. A record from a system of records may be disclosed, as a routine use, to a grand jury agent pursuant either to a federal or state grand jury subpoena or to a prosecution request that such record be released for the purpose of its introduction to a grand jury.

C. Referral to federal, state, local or professional licensing boards. A record from a system of records may be disclosed, as a routine use, to any governmental, professional or licensing authority when such record reflects on qualifications, either moral, educational or vocational, of an individual seeking to be licensed or to maintain a license.

D. Disclosure to contractor, grantee or other direct or indirect recipient of federal funds to allow such entity to effect corrective action in the agency's best interest. A record from a system of records may be disclosed, as a routine use, to any direct or indirect recipient of federal funds where such record reflects inadequacies with a recipient's personnel, and disclosure of the record is made to permit a recipient to take corrective action beneficial to the Government.

E. Disclosure to any source, either private or governmental, to the extent necessary to solicit information relevant to any investigation, audit, or evaluation. A record from a system of records may be disclosed, as a routine use, to any source, either private or governmental, to the extent necessary to secure from such source information relevant to and sought in furtherance of an investigation, audit, or evaluation.

F. Disclosure to any domestic or foreign governmental agencies for personnel or other action. A record from a system of records may be disclosed, as a routine use, to a federal, state, local, foreign or international agency, for their use in connection with such entity's assignment, hiring or retention of an individual, issuance of a security clearance, reporting of an investigation of an individual, letting of a contract or issuance of a license, grant or other benefit, to the extent that the information is relevant and necessary to such agency's decision on the matter.

G. Disclosure to a board of contract appeals, GAO or any other entity hearing a contractor protest or dispute. A record from a system of records may be disclosed, as a routine use, to the United States General Accounting Office, to a board of contract appeals, or to the Court of Federal Claims in bid protest cases or contract dispute cases involving procurement.

H. Disclosure to domestic or foreign governmental law enforcement agency in order to obtain information relevant to an OIG or DOL decision. A record from a system of records may be disclosed, as a routine use, to a domestic or foreign governmental agency maintaining civil, criminal or other relevant information, in order to obtain information relevant to an OIG or DOL decision concerning the assignment, hiring, or retention of an individual, the issuance of a security clearance, the letting of a contract, or the issuance of a license, grant, or other benefit, or which may be relevant to an OIG or DOL investigation, audit, or evaluation.

I. Disclosure to OMB or DOJ regarding Freedom of Information Act and Privacy Act advice. Information from a system of records may be disclosed, as a routine use, to the Office of Management and Budget or the Department of Justice in order to obtain advice regarding statutory and other requirements under the Freedom of Information Act or Privacy Act.

J. Disclosure pursuant to the receipt of a valid subpoena. A record from a system of records may be disclosed, as a routine use, in response to a facially valid subpoena for the record. Disclosure may also be made when a subpoena or order is signed by a judge from a court of competent jurisdiction.

K. Disclosure to Treasury and DOJ in pursuance of an ex parte court order to obtain taxpayer information from the IRS. A record from a system of records may be disclosed, as a routine use, to the Department of Treasury and the Department of Justice when the OIG seeks an ex parte court order to obtain taxpayer information from the Internal Revenue Service.

L. Disclosure to a consumer reporting agency in order to obtain relevant investigatory information. A record from a system of records may be disclosed, as a routine use, to a “consumer reporting agency” as that term is defined in the Fair Credit Reporting Act (15 U.S.C. 1681a(f)) and the Federal Claims Collection Act of 1966 (31 U.S.C. 3701(a)(3)), for the purposes of obtaining information in the course of an investigation, audit, or evaluations.

M. Disclosure in accordance with computer matching guidelines. A record may be disclosed to a federal, state, or local agency for use in computer matching programs to prevent and detect fraud and abuse in benefit programs administered by those agencies, to support civil and criminal law enforcement activities of those agencies and their components, and to collect debts and overpayments owed to the agencies and their components. This routine use does not provide unrestricted access to records for such law enforcement and related anti-fraud activities; each request for disclosure will be considered in light of the applicable legal and administrative requirements for the performance of a computer matching program or procedure.

DISCLOSURE TO CONSUMER REPORTING AGENCIES:

None.

POLICIES AND PRACTICES FOR STORING, RETRIEVING, ACCESSING, RETAINING, AND DISPOSING OF RECORDS IN THE SYSTEM: STORAGE:

The information is maintained in a variety of mediums including paper, magnetic tapes or discs, and optical digital data discs. The records are maintained in limited access areas during duty hours and in locked offices at all other times.

RETRIEVABILITY:

The written case records are indexed by case number. Automated records are retrieved by case number, case name, subject, cross referenced item or, batch retrieval applications.

SAFEGUARDS:

Direct access is restricted to authorized staff members of the OIG, their attorneys, or contractor employees on a need-to-know basis. Automated records can be accessed only through use of confidential procedures and passwords.

RETENTION AND DISPOSAL:

Closed files relating to a specific investigation are destroyed after ten years. Closed files containing information of an investigative nature but not relating to a specific investigation are destroyed after five years. Closed inspection and evaluation case files are destroyed after five years.

SYSTEM MANAGER(S) AND ADDRESS:

Assistant Inspector General for Investigations and the Assistant Inspector General for Communications, Inspections, and Evaluations, Office of Inspector General, U.S. Department of Labor, 200 Constitution Avenue, NW, Washington, DC 20210.

NOTIFICATION PROCEDURE:

Inquiries concerning this system of records can be directed to: Disclosure Officer, Office of Inspector General, U.S. Department of Labor, Room S1303, 200 Constitution Avenue, NW, Washington, DC 20210. Inquiries must comply with the requirements in 29 CFR part 71.

RECORD ACCESS PROCEDURE:

Individuals can request access to any record pertaining to him/her by mailing a request to the Disclosure Officer listed above and in accordance with 29 CFR part 71.

CONTESTING RECORD PROCEDURES:

Individuals desiring to contest or amend information maintained in the system should direct their request to the Disclosure Officer listed in “Notification Procedure,” above.

In addition, the request should state clearly and concisely what information is being contested, the reasons for contesting it, and the proposed amendment to the information sought. See 29 CFR part 71.

RECORD SOURCE CATEGORIES:

The information contained in this system is received from individual complaints, witnesses, interviews conducted during investigations, Federal, state and local government records, individual or company records, claim and payment files, employer medical records, insurance records, court records, articles from publications, published financial data, corporate information, bank information, telephone data, insurers, service providers, other law enforcement organizations, grantees, subgrantees, contractors and subcontractors.

SYSTEMS EXEMPTED FROM CERTAIN PROVISIONS OF THE ACT:

The Secretary of Labor has promulgated regulations which exempt information contained in this system of records from various provisions of the Privacy Act depending upon the purpose for which the information was gathered and for which it will be used. The various law enforcement purposes and the reasons for the exemptions are as follows:

(a) Criminal Law Enforcement: In accordance with 5 U.S.C. 552a(j)(2) information compiled for this purpose is exempt from all of the provisions of the Act except the following sections: (b), (c)(1) and (2), (e)(4) (A) through (F), (e)(6), (7), (9), (10), and (11), and (i). This material is exempt because the disclosure and other requirements of the Act would substantially compromise the efficacy and integrity of OIG operations in a number of ways. Indeed, disclosure of even the existence of these files would be problematic. Disclosure could enable suspects to take action to prevent detection of criminal activities, conceal evidence, or escape prosecution. Required disclosure of information contained in this system could lead to the intimidation of, or harm to, informants, witnesses and their respective families or OIG personnel and their families. Disclosure could invade the privacy of individuals other than subjects and disclose their identity when confidentiality was promised or impliedly promised to them. Disclosure could interfere with the integrity of information which would otherwise be privileged, (see, e.g., 5 U.S.C. 552(b)(5)), and which could interfere with other important law enforcement concerns: (see, e.g., 5 U.S.C. 552 (b)(7)).

The requirement that only relevant and necessary information be included in a criminal investigative file is contrary to investigative practice which requires a full and complete inquiry and exhaustion of all potential sources of information. See, 5 U.S.C. 552a(e)(1).

Similarly, maintaining only those records which are accurate, relevant, timely and complete and which assure fairness in a determination is contrary to established investigative techniques. See, 5 U.S.C. 552a(e)(5). Requiring investigators to obtain information to the greatest extent practicable directly from the subject individual would be counterproductive to performance of clandestine criminal investigation. See, U.S.C. 552a(e)(2). Finally, providing notice to an individual interviewed of the authority of the interviewer, the purpose to which the information provided may be used, the routine uses of that information and the effect upon the individual should he/she choose not to provide the information sought could discourage the free flow of information in a criminal law enforcement inquiry. 5 U.S.C. 552a(e)(3).

(b) Other Law Enforcement: In accordance with 5 U.S.C. 552a(k)(2), investigatory material compiled for law enforcement purposes (to the extent it is not already exempted by 5 U.S.C. 552a(j)(2)), is exempted from the following provisions of the ACT: (c)(3), (d), (e)(1), (e)(4)(G), (H) and (I), and (f). This material is exempt because the disclosure and other requirements of the Act could substantially compromise the efficacy and integrity of OIG operations. Disclosure could invade the privacy of other individuals and disclose their identity when they were expressly promised confidentiality. Disclosure could interfere with the integrity of information which would otherwise be subject to privileges, see, e.g., 5 U.S.C. 552(b)(5), and which could interfere with other important law enforcement concerns. See, e.g., 5 U.S.C. 552(b)(7).

(c) Protective Services: In accordance with 5 U.S.C. 552(k)(3) investigatory material maintained in connection with assisting the U.S. Secret Service to provide protective services to the President of the United States or other individuals pursuant to 18 U.S.C. 3056 is exempt from the following sections of the ACT: (c)(3), (d), (e)(1), (e)(4)(G), (H) and (I), and (f). This material is exempt in order to enable the OIG to continue its support of the Secret Service without compromising the effectiveness of either agency's activities.

(d) Contract Investigations: In accordance with 5 U.S.C. 552a(k)(5), investigatory material compiled solely for the purpose of determining integrity, suitability, eligibility, qualifications, or employment for a DOL contract is exempt from the following sections of the ACT: (c)(3), (d), (e)(1), (e)(4)(G), (H), (I) and (f). This exemption was obtained in order to protect from disclosure the identity of a confidential source when an express promise of confidentiality has been given in order to obtain information from sources who would otherwise be unwilling to provide necessary information.

DOL/OIG-2

SYSTEM NAME:

Freedom of Information/Privacy Act Records.

SECURITY CLASSIFICATION:

Not applicable.

SYSTEM LOCATION:

Freedom of Information/Privacy Acts Disclosure Office, Office of Inspector General, U. S. Department of Labor, 200 Constitution Avenue, NW, Washington, DC 20210.

CATEGORIES OF INDIVIDUALS COVERED BY THE SYSTEM:

Persons who request disclosure of records pursuant to the Freedom of Information Act, persons who request access to or correction of records pertaining to themselves contained in the Office of Inspector General's systems of records pursuant to the Privacy Act; where applicable, persons about whom records have been requested or about whom information is contained in requested records; and persons representing those identified above.

CATEGORIES OF RECORDS IN THE SYSTEM:

The system contains (a) copies of all correspondence and internal memorandums related to the Freedom of Information Act and Privacy Act requests, and related records necessary to the processing of such requests; (b) copies of all documents relevant to appeals and lawsuits under the Freedom of Information and Privacy Acts.

AUTHORITY FOR MAINTENANCE OF THE SYSTEM:

Freedom of Information Act, 5 U.S.C. 552, the Privacy Act, 5 U.S.C. 552a and 29 CFR parts 70 and 71.

PURPOSE(S):

This system of records is maintained in order to reflect, accurately, the identity of requesters, the substance of each request, the responses made by the OIG and in order to comply with the reporting and accounting requirements of the Freedom of Information and Privacy Acts. Materials within this system also reflect the reasons for the disclosure and/or denial of requests or portions of requests and any further action on requests which may be appealed and/or litigated.

ROUTINE USES OF RECORDS MAINTAINED IN THE SYSTEM INCLUDING CATEGORIES OF USERS AND THE PURPOSES OF SUCH USES:

A. Referral to federal, state, local and foreign investigative and/or prosecutive authorities. A record from a system of records, which indicates either by itself or in combination with other information within the agency's possession a violation or potential violation of law, whether civil, criminal or regulatory and whether arising by general statute or particular program statute, or by regulation, rule or order issued pursuant thereto, may be disclosed as a routine use to the appropriate federal, foreign, state or local agency or professional organization charged with the responsibility of investigating or prosecuting such violation or charged with enforcing or implementing or investigating or prosecuting such violation or charged with enforcing or implementing the statute or rule, regulation or order issued pursuant thereto.

B. Introduction to a grand jury. A record from a system of records may be disclosed, as a routine use, to a grand jury agent pursuant either to a federal or state grand jury subpoena or to a prosecution request that such record be released for the purpose of its introduction to a grand jury.

C. Referral to federal, state, local or professional licensing boards. A record from a system of records may be disclosed, as a routine use, to any governmental, professional or licensing authority when such record reflects on qualifications, either moral, educational or vocational, of an individual seeking to be licensed or to maintain a license.

D. Disclosure to contractor, grantee or other direct recipient of federal funds to allow such entity to effect corrective action in agency's best interest. A record from a system of records may be disclosed, as a routine use, to any direct or indirect recipient of federal funds where such record reflects serious inadequacies with a recipient's personnel, and disclosure of the record is made to permit a recipient to take corrective action beneficial to the Government.

E. Disclosure to any source, either private or governmental, to the extent necessary to solicit information relevant to any investigation, audit or inspection. A record from a system of records may be disclosed, as a routine use, to any source, either private or governmental, to the extent necessary to secure from such source information relevant to and sought in furtherance of an investigation, audit, or evaluation.

F. Disclosure to any domestic or foreign governmental agencies for personnel or other action. A record from a system of records may be disclosed, as a routine use, to a federal, state, local, foreign or international agency, for their use in connection with such entity's assignment, hiring or retention of an individual, issuance of a security clearance, reporting of an investigation of an individual, letting of a contract or issuance of a license, grant or other benefit, to the extent that the information is relevant and necessary to such agency's decision on the matter.

G. Disclosure to a board of contract appeals, GAO or any other entity hearing a contractor protest or dispute. A record from a system of records may be disclosed, as a routine use, to the United States General Accounting Office, to a board of contract appeals, or to the claims court in bid protest cases or contract dispute cases involving procurement.

H. Disclosure to domestic or foreign governmental law enforcement agency in order to obtain information relevant to an OIG or DOL decision. A record from a system of records may be disclosed, as a routine use, to a domestic or foreign governmental agency maintaining civil, criminal or other relevant information, in order to obtain information relevant to a OIG or DOL decision concerning the assignment, hiring, or retention of an individual, the issuance of a security clearance, the letting of a contract, or the issuance of a license, grant, or other benefit, or which may be relevant to an OIG or DOL investigation, audit, or evaluation.

I. Disclosure to OMB or DOJ regarding Freedom of Information Act and Privacy Act advice. Information from a system of records may be disclosed, as a routine use, to the Office of Management and Budget or the Department of Justice in order to obtain advice regarding statutory and other requirements under the Freedom of Information Act or Privacy Act.

J. Disclosure pursuant to the receipt of a valid subpoena. A record from a system of records may be disclosed, as a routine use, in response to a facially valid subpoena for the record. Disclosure may also be made when a subpoena or order is signed by a judge from a court of competent jurisdiction.

K. Disclosure to Treasury and DOJ in pursuance of an ex parte court order to obtain taxpayer information from the IRS. A record from a system of records may be disclosed, as a routine use, to the Department of Treasury and the Department of Justice when the OIG seeks an ex parte court order to obtain taxpayer information from the Internal Revenue Service.

L. Disclosure to a consumer reporting agency in order to obtain relevant investigatory information. A record from a system of records may be disclosed, as a routine use, to a “consumer reporting agency” as that term is defined in the Fair Credit Reporting Act (15 U.S.C. 1681a(f)) and the Federal Claims Collection Act of 1966 (31 U.S.C. 3701(a)(3)), for the purposes of obtaining information in the course of an investigation, audit, or evaluation.

M. Disclosure in accordance with computer matching laws, regulations and/or guidelines. A record may be disclosed to a federal, state, or local agency for use in computer matching programs to prevent and detect fraud and abuse in benefit programs administered by those agencies, to support civil and criminal law enforcement activities of those agencies and their components, and to collect debts and overpayments owed to the agencies and their components. This routine use does not provide unrestricted access to records for such law enforcement and related anti-fraud activities; each request for disclosure will be considered in light the applicable legal and administrative requirements for the performance of a computer matching program or procedure.

DISCLOSURE TO CONSUMER REPORTING AGENCIES:

None.

POLICIES AND PRACTICES FOR STORING, RETRIEVING, ACCESSING, RETAINING, AND DISPOSING OF RECORDS IN THE SYSTEM:

STORAGE:

The records in this system are maintained in a variety of mediums including paper, magnetic tapes or discs, and optical digital data discs.

RETRIEVABILITY:

A record is retrieved by the name of the individual, the case file numbers or by other subject matter covered by the request.

SAFEGUARDS:

This system of records is maintained at OIG Headquarters which is located in a building protected by twenty-four hour guard service. The system is kept in locked storage when not in use and is accessible only on a need to know basis. Offices containing records are restricted to authorized personnel only. Automated data can only be accessed with a password by authorized users.

RETENTION AND DISPOSAL:

These records are destroyed six years after final agency determination or 3 years after final court adjudication, whichever is later.

SYSTEM MANAGER(S) AND ADDRESS:

Disclosure Officer, Office of Inspector General, U.S. Department of Labor, Room S1303, 200 Constitution Avenue, NW., Washington, DC 20210.

NOTIFICATION PROCEDURE:

Inquiries concerning this system can be directed to: Disclosure Officer, Office of Inspector General, 200 Constitution Avenue, NW., Washington, DC 20210. Inquiries must comply with the requirements in 29 CFR part 71.

RECORD ACCESS PROCEDURES:

Individuals can request access to any record pertaining to him/her by mailing a request to the Disclosure Officer listed above under 29 CFR 71.2.

CONTESTING RECORD PROCEDURES:

Individuals desiring to contest or amend information maintained in the system should direct their written request to the Disclosure Officer listed in “Notification Procedure” above. In addition, the request should state clearly and concisely what information is being contested, the reasons for contesting it, and the proposed amendment to the information sought. See 29 CFR 71.9.

RECORD SOURCE CATEGORIES:

The information contained in this system is received from the persons or entities making requests, the systems of records searched to respond to requests, and other agencies referring requests for access or correction of records originating in the Office of Inspector General.

SYSTEM EXEMPTED FROM CERTAIN PROVISIONS OF THE ACT:

Some records obtained and stored in this system originate from other systems of records and have been exempted under the provisions of the Freedom of Information/Privacy Acts to the same extent as the systems of records from which they were obtained.

DOL/OIG-3

SYSTEM NAME:

Investigative Case Files, Case Development and Intelligence Records.

SECURITY CLASSIFICATION:

Not applicable.

SYSTEM LOCATION:

Office of Inspector General, U.S. Department of Labor, 200 Constitution Avenue, NW, Washington, DC 20210 and in the OIG regional and field offices.

CATEGORIES OF INDIVIDUALS COVERED BY THE SYSTEM:

Individuals or entities known or suspected of being involved in or associated with criminal activity, labor racketeering, or other violation of law or regulation and associates of those individuals.

CATEGORIES OF RECORDS IN THE SYSTEM:

The system of records contains materials related to criminal and civil investigations, intelligence and other background information based on reasonable suspicion of criminal activity; statements and other material from subjects and witnesses; information from government investigatory or law enforcement organizations and projects (federal, state, local or international); investigative notes and reports; summary information for indexing and cross-referencing; other evidence and background materials existing in any form (e.g. audio or video tape, photographs, computer tapes or disks).

AUTHORITY FOR MAINTENANCE OF THE SYSTEM:

5 U.S.C. App 3; the Act of March 4, 1913 (37 Stat. 736) 29 U.S.C. 551; Secretary's Order 2-90, dated January 31, 1990 concerning the authorization and organization of the Office of Inspector General at the Department; and the Omnibus Crime Control Act of 1984; and 28 CFR 23.1.

PURPOSE(S):

This system of records is maintained as a repository for: (1) Records created as a result of targeting, surveys and projects for the development of cases and investigations for the Office of Investigations and for the Office of Labor Racketeering; (2) intelligence information concerning individuals identified as potential violators of criminal, labor and labor-related laws and other individuals associated with them; and (3) for other research and analysis to share with other law enforcement organizations if in compliance with 28 CFR 23.1.

ROUTINE USES OF RECORDS MAINTAINED IN THE SYSTEM INCLUDING CATEGORIES OF USERS AND THE PURPOSES OF SUCH USES:

A. Referral to federal, state, local and foreign investigative and/or prosecutive authorities. A record from a system of records, which indicates either by itself or in combination with other information within the agency's possession a violation or potential violation of law, whether civil, criminal or regulatory and whether arising by general statute or particular program statute, or by regulation, rule or order issued pursuant thereto, may be disclosed as a routine use, to the appropriate federal, foreign, state or local agency or professional organization charged with the responsibility of investigating or prosecuting such violation or charged with enforcing or implementing or investigating or prosecuting such violation or charged with enforcing or implementing the statute or rule, regulation or order issued pursuant thereto.

B. Introduction to a grand jury. A record from a system of records may be disclosed, as a routine use, to a grand jury agent pursuant either to a federal or state grand jury subpoena or to a prosecution request that such record be released for the purpose of its introduction to a grand jury.

C. Referral to federal, state, local or professional licensing boards. A record from a system of records may be disclosed, as a routine use, to any governmental, professional or licensing authority when such record reflects on qualifications, either moral, educational or vocational, of an individual seeking to be licensed or to maintain a license.

D. Disclosure to contractor, grantee or other indirect recipient of federal funds to allow such entity to effect corrective action in agency's best interest. A record from a system of records may be disclosed, as a routine use, to any direct or indirect recipient of federal funds where such record reflects serious inadequacies with a recipient's personnel, and disclosure of the record is made to permit a recipient to take corrective action beneficial to the Government.

E. Disclosure to any source, either private or governmental, to the extent necessary to solicit information relevant to any investigation, audit or inspection. A record from a system of records may be disclosed, as a routine use, to any source, either private or governmental, to the extent necessary to secure from such source information relevant to and sought in furtherance of an investigation, audit, or evaluation.

F. Disclosure to any domestic or foreign governmental agencies for personnel or other action. A record from a system of records may be disclosed, as a routine use, to a federal, state, local, foreign or international agency, for their use in connection with such entity's assignment, hiring or retention of an individual, issuance of a security clearance, reporting of an investigation of an individual, letting of a contract or issuance of a license, grant or other benefit, to the extent that the information is relevant and necessary to such agency's decision on the matter.

G. Disclosure to a board of contract appeals, GAO or any other entity hearing a contractor protest or dispute. A record from a system of records may be disclosed, as a routine use, to the United States General Accounting Office, to a board of contract appeals, or to the claims court in bid protest cases or contract dispute cases involving procurement.

H. Disclosure to domestic or foreign governmental law enforcement agency in order to obtain information relevant to an OIG or DOL decision. A record from a system of records may be disclosed, as a routine use, to a domestic or foreign governmental agency maintaining civil, criminal or other relevant enforcement information, or other pertinent information, in order to obtain information relevant to an OIG or DOL decision concerning the assignment, hiring, or retention of an individual, the issuance of a security clearance, the letting of a contract, or the issuance of a license, grant, or other benefit, or which may be relevant to an OIG or DOL investigation, audit, or evaluation.

I. Disclosure to OMB or DOJ regarding Freedom of Information Act and Privacy Act advice. Information from a system of records may be disclosed, as a routine use, to the Office of Management and Budget or the Department of Justice in order to obtain advice regarding statutory or other requirements under the Freedom of Information Act or Privacy Act.

J. Disclosure pursuant to the receipt of a valid subpoena. A record from a system of records may be disclosed, as a routine use, in response to a facially valid subpoena for the record. Disclosure may also be made when a subpoena or order is signed by a judge from a court of competent jurisdiction.

K. Disclosure to Treasury and DOJ in pursuance of an ex parte court order to obtain taxpayer information from the IRS. A record from a system of records may be disclosed, as a routine use, to the Department of Treasury and the Department of Justice when the OIG seeks an ex parte court order to obtain taxpayer information from the Internal Revenue Service.

L. Disclosure to a consumer reporting agency in order to obtain relevant investigatory information. A record from a system of records may be disclosed, as a routine use, to a “consumer reporting agency” as that term is defined in the Fair Credit Reporting Act (15 U.S.C. 1681a(f)) and the Federal Claims Collection Act of 1966 (31 U.S.C. 3701(a)(3)), for the purposes of obtaining information in the course of an investigation, audit, or evaluation.

M. Disclosure in accordance with computer matching laws, regulations and/or guidelines. A record may be disclosed to a federal, state, or local agency for use in computer matching programs to prevent and detect fraud and abuse in benefit programs administered by those agencies, to support civil and criminal law enforcement activities of those agencies and their components, and to collect debts and overpayments owed to the agencies and their components. This routine use does not provide unrestricted access to records for such law enforcement and related anti-fraud activities; each request for disclosure will be considered in light of the applicable legal and administrative requirements for the performance of a computer matching program or procedure.

DISCLOSURE TO CONSUMER REPORTING AGENCIES:

None.

POLICIES AND PRACTICES FOR STORING, RETRIEVING, ACCESSING, AND DISPOSING OF RECORDS IN THE SYSTEM:

STORAGE:

The records are stored on a variety of mediums including paper, magnetic tapes or discs, and/or optical digital data discs.

RETRIEVABILITY:

Retrievable by name of individual subject, other personal identifiers and other non-personal elements.

SAFEGUARDS:

Available on an official need-to-know basis and kept in locked storage when not in use. Offices containing records are restricted to authorized personnel only. Any automated data can only be accessed by a password from a authorized user. Computer terminals with access are away from general staff and housed in locked offices.

RETENTION AND DISPOSAL:

Closed Labor Racketeering case files are retired to the Federal Records Center and retained for 20 years. All other cases are destroyed 10 years after the files are closed. Intelligence information maintained in electronic files are reviewed every 5 years for relevance and importance. Information deemed obsolete or otherwise unreliable is deleted after 5 years. Electronic information for which accuracy of information and reliability of source cannot be confirmed is deleted after 1 year. Electronic Information collected for which reliability of source and reasonable suspicion of criminal activity has been confirmed and linked to long term, known organized crime activity can be kept in excess of 5 years. All records are destroyed 20 years after cut off date.

SYSTEM MANAGER(S) AND ADDRESS:

Assistant Inspector General for Investigations, OIG/DOL, 200 Constitution Avenue, NW., Washington, DC 20210.

NOTIFICATION PROCEDURE:

Inquiries concerning this system can be directed to: Disclosure Officer, OIG, 200 Constitution Avenue, NW., Washington, DC 20210. Inquiries must comply with the requirements in 29 CFR part 71.

RECORD ACCESS PROCEDURE:

Individuals can request access to any record pertaining to him/her by mailing a request to the Disclosure Officer listed above and in accordance with 29 CFR 71.2.

CONTESTING RECORD PROCEDURES:

Individuals desiring to contest or amend information maintained in the system should direct their request to the Disclosure Officer listed in 29 CFR part 71. In addition, the request should state clearly and concisely what information is being contested, the reasons for contesting it, and the proposed amendment sought for the information. See 29 CFR part 71.

SYSTEMS EXEMPTED FROM CERTAIN PROVISIONS OF THE ACT:

The Secretary of Labor has promulgated regulations which exempt information contained in this system of records from various provisions of the Privacy Act depending upon the purpose for which the information was gathered and for which it will be used. The various law enforcement purposes and the reasons for the exemptions are as follow:

(a) Criminal Law Enforcement: Information compiled for this purpose is exempt from all of the provisions of the Act except the following sections: (b), (c)(1) and (2), (e)(4)(A) through (F), (e)(6), (7), (9), (10), and (11), and (i). This material is exempt because the disclosure and other requirements of the Act would substantially compromise the efficacy and integrity of OIG operations in a number of ways. Indeed, disclosure of even the existence of these files would be problematic.

Disclosure could enable suspects to take action to prevent detection of criminal activities, conceal evidence, or escape prosecution. Required disclosure of information contained in this system could lead to the intimidation of, or harm to, informants, witnesses and their respective families or OIG personnel and their families.

Disclosure could invade the privacy of individuals other than subjects and disclose their identity when confidentiality was promised to them. Disclosures from these files could interfere with the integrity of other information which would otherwise be privileged, see, e.g., 5 U.S.C. 552(b)(5) and which could interfere with other important law enforcement concerns, see, e.g., 5 U.S.C. 552(b)(7).

The requirement that only relevant and necessary information be included in a criminal investigative file is contrary to good investigative practices which require a full and complete inquiry and exhaustion of all potential sources of information. 5 U.S.C. 552a(e)(1). Similarly, maintaining only those records which are accurate, relevant, timely and complete and which assure fairness in a determination is contrary to established investigative techniques. 5 U.S.C. 552a(e)(5). Requiring investigators to obtain information to the greatest extent practicable directly from the subject individual would be counterproductive to performance of a clandestine criminal investigation. 5 U.S.C. 552a(e)(2). Finally, providing notice to an individual interviewed of the authority of the interviewer, the purpose to which the information provided may be used, the routine uses of that information and the effect upon the individual should he choose not to provide the information sought could discourage the free flow of information in a criminal law enforcement inquiry. 5 U.S.C. 552a(e)(3).

(b) Other Law Enforcement: In accordance with 5 U.S.C. 552a(k)(2), investigatory material compiled for law enforcement purposes (to the extent it is not already exempted by 5 U.S.C. 552a(j)(2)), is exempted from the following provisions of the Act: (c)(3), (d), (e)(1), (e)(4)(G), (H), (I) and (f). This material is exempt because the disclosure and other requirements of the act could substantially compromise the efficacy and integrity of OIG operations. Disclosure could invade the privacy of other individuals and disclose their identity when they were expressly promised confidentiality.

Disclosure could interfere with the integrity of information which would otherwise be subject to privileges, see, e.g., 5 U.S.C. 552(b)(5), and which could interfere with other important law enforcement concerns. See, e.g., 5 U.S.C. 552(b)(7).

DOL/OIG-5

SYSTEM NAME:

Audit Information, Tracking and Reporting System US DOL/OIG.

SECURITY CLASSIFICATION:

Not applicable.

SYSTEM LOCATION:

Office of Inspector General, U.S. Department of Labor, Frances Perkins Building, 200 Constitution Avenue, NW, Washington, DC 20210 and the OIG regional and field offices.

CATEGORIES OF INDIVIDUALS COVERED BY THE SYSTEM:

Auditors, certain administrative support staff, and contractors of the Office of Inspector General.

CATEGORIES OF RECORDS IN THE SYSTEM:

Records or information contained in the system may include: (1) Employee or OIG contractor; (2) social security number; (3) grade/step; (4) training; (5) audit and investigative case tracking data (e.g. audit/project/report number, program, findings, results, etc.); (6) other statistical information.

AUTHORITY FOR MAINTENANCE OF THE SYSTEM:

Pub. L. 95-452, 5 U.S.C. App. 3, Inspector General Act of 1978. Secretary's Order 2-90 dated January 31, 1990 establishing the Office of Inspector General at the Department of Labor.

PURPOSE(S):

This system is maintained in order to act as a management information system for OIG audit projects and personnel and to assist in the accurate and timely maintenance of information.

ROUTINE USES OF RECORDS MAINTAINED IN THE SYSTEM, INCLUDING CATEGORIES OF USERS AND THE PURPOSES OF SUCH USES:

A. Referral to federal, state, local and foreign investigative and/or prosecutive authorities. A record from a system of records, which indicates either by itself or in combination with other information within the agency's possession a violation or potential violation of law, whether civil, criminal or regulatory and whether arising by general statute or particular program statute, or by regulation, rule or order issued pursuant thereto, may be disclosed as a routine use, to the appropriate federal, foreign, state or local agency or professional organization charged with the responsibility of investigating or prosecuting such violation or charged with enforcing or implementing or investigating or prosecuting such violation or charged with enforcing or implementing the statute or rule, regulation or order issued pursuant thereto.

B. Introduction to a grand jury. A record from a system of records may be disclosed, as a routine use, to a grand jury agent pursuant either to a federal or state grand jury subpoena or to a prosecution request that such record be released for the purpose of its introduction to a grand jury.

C. Referral to federal, state, local or professional licensing boards. A record from a system of records may be disclosed, as a routine use, to any governmental, professional or licensing authority when such record reflects on qualifications, either moral, educational or vocational, of an individual seeking to be licensed or to maintain a license.

D. Disclosure to contractor, grantee or other direct recipient of federal funds to allow such entity to effect corrective action in the agency's best interest. A record from a system of records may be disclosed, as a routine use, to any direct or indirect recipient of federal funds where such record reflects inadequacies with a recipient's personnel, and disclosure of the record is made to permit a recipient to take corrective action beneficial to the Government.

E. Disclosure to any source, either private or governmental, to the extent necessary to solicit information relevant to any investigation, audit or evaluation. A record from a system of records may be disclosed, as a routine use, to any source, either private or governmental, to the extent necessary to secure from such source information relevant to and sought in furtherance of an investigation, audit, or evaluation.

F. Disclosure to any domestic or foreign governmental agencies for personnel or other action. A record from a system of records may be disclosed, as a routine use, to a federal, state, local, foreign or international agency, for their use in connection with such entity's assignment, hiring or retention of an individual, issuance of a security clearance, reporting of an investigation of an individual, letting of a contract or issuance of a license, grant or other benefit, to the extent that the information is relevant and necessary to such agency's decision on the matter.

G. Disclosure to a board of contract appeals, GAO or any other entity hearing a contractor protest or dispute. A record from a system of records may be disclosed, as a routine use, to the United States General Accounting Office, to a board of contract appeals, or to the claims court in bid protest cases or contract dispute cases involving procurement.

H. Disclosure to domestic or foreign governmental law enforcement agency in order to obtain information relevant to an OIG or DOL decision. A record from a system of records may be disclosed, as a routine use, to a domestic or foreign governmental agency maintaining civil, criminal or other relevant information, in order to obtain information relevant to a OIG or DOL decision concerning the assignment, hiring, or retention of an individual, the issuance of a security clearance, the letting of a contract, or the issuance of a license, grant, or other benefit, or which may be relevant to an OIG or DOL investigation, audit, or evaluation.

I. Disclosure to OMB or DOJ regarding Freedom of Information Act and Privacy Act advice. Information from a system of records may be disclosed, as a routine use, to the Office of Management and Budget or the Department of Justice in order to obtain advice regarding statutory and other requirements under the Freedom of Information Act or Privacy Act.

J. Disclosure pursuant to the receipt of a valid subpoena. A record from a system of records may be disclosed, as a routine use, in response to a facially valid subpoena for the record. Disclosure may also be made when a subpoena or order is signed by a judge from a court of competent jurisdiction.

K. Disclosure to Treasury and DOJ in pursuance of an ex parte court order to obtain taxpayer information from the IRS. A record from a system of records may be disclosed, as a routine use, to the Department of Treasury and the Department of Justice when the OIG seeks an ex parte court order to obtain taxpayer information from the Internal Revenue Service.

L. Disclosure to a consumer reporting agency in order to obtain relevant investigatory information. A record from a system of records may be disclosed, as a routine use, to a “consumer reporting agency” as that term is defined in the Fair Credit Reporting Act (15 U.S.C. 1681a(f)) and the Federal Claims Collection Act of 1966 (31 U.S.C. 3701(a)(3)), for the purposes of obtaining information in the course of an investigation, audit, or evaluation.

M. Disclosure in accordance with computer matching laws, regulations and/or guidelines. A record may be disclosed to a federal, state, or local agency for use in computer matching programs to prevent and detect fraud and abuse in benefit programs administered by those agencies, to support civil and criminal law enforcement activities of those agencies and their components, and to collect debts and overpayments owed to the agencies and their components. This routine use does not provide unrestricted access to records for such law enforcement and related anti-fraud activities; each request for disclosure will be considered in light of the applicable legal and administrative requirements for the performance of a computer matching program or procedure.

DISCLOSURE TO CONSUMER REPORTING AGENCIES:

None.

POLICIES AND PRACTICES FOR STORING, RETRIEVING, ACCESSING, RETAINING, AND DISPOSING OF RECORDS IN THE SYSTEM:

STORAGE:

The records are stored on a variety of mediums including paper, magnetic tapes or discs, and optical digital data discs.

RETRIEVABILITY:

Records are retrieved by computer using individual name(s) or project/case name.

SAFEGUARDS:

Direct access is restricted to authorized staff members and contractors of the OIG. Automated records can be accessed only through use of confidential procedures and passwords by authorized personnel in both OIG Headquarters and regional and field offices.

RETENTION AND DISPOSAL:

Closed files are destroyed after three years.

SYSTEM MANAGER(S) AND ADDRESS:

Assistant Inspector General for Audit, 200 Constitution Avenue, NW., Washington, DC 20210.

NOTIFICATION PROCEDURE:

Inquiries concerning this system can be directed to: Disclosure Officer, Office of Inspector General, 200 constitution Avenue, NW., Washington, DC 20210. Inquiries must comply with the requirements in 29 CFR part 71.

RECORDS SOURCE CATEGORIES:

Official personnel folders; other personnel documents, activity supervisors, audit/investigation report standard forms.

SYSTEMS EXEMPTED FROM CERTAIN PROVISIONS OF THE ACT:

The Secretary of Labor has promulgated regulations which exempt information contained in this system of records from various provisions of the Privacy Act depending upon the purpose for which the information was gathered and for which it will be used.

The various law enforcement purposes and the reasons for the exemptions are as follow:

(a) Criminal Law Enforcement: Information compiled for this purpose is exempt from all of the provisions of the Act except the following sections: (b), (c)(1) and (2), (e)(4)(A) through (F), (e)(6), (7), (9), (10), and (11), and (i). This material is exempt because the disclosure and other requirements of the Act would substantially compromise the efficacy and integrity of OIG operations in a number of ways. Indeed, disclosure of even the existence of these files would be problematic. Disclosure could enable suspects to take action to prevent detection of criminal activities, conceal evidence, or escape prosecution.

Required disclosure of information contained in this system could lead to the intimidation of, or harm to, informants, witnesses and their respective families or OIG personnel and their families.

Disclosure could invade the privacy of individuals other than subjects and disclose their identity when confidentiality was promised to them. Disclosures from these files could interfere with the integrity of other information which would otherwise be privileged, see, e.g., 5 U.S.C. 552(b)(5), and which could interfere with other important law enforcement concerns, see, e.g., 5 U.S.C. 552(b)(7).

The requirement that only relevant and necessary information be included in a criminal investigative file is contrary to good investigative practices which require a full and complete inquiry and exhaustion of all potential sources of information. 5 U.S.C. 552a(e)(1). Similarly, maintaining only those records which are accurate, relevant, timely and complete and which assure fairness in a determination is contrary to established investigative techniques.

5 U.S.C. 552a(e)(5). Requiring investigators to obtain information to the greatest extent practicable directly from the subject individual would be counterproductive to performance of a clandestine criminal investigation. 5 U.S.C. 552a(e)(2). Finally providing notice to an individual interviewed of: The authority of the interviewer, the purpose to which the information provided may be used, the routine uses of that information and the effect upon the individual should he choose not to provide the information sought could discourage the free flow of information in a criminal law enforcement inquiry. 5 U.S.C. 552a(e)(3).

(b) Other Law Enforcement: In accordance with 5 U.S.C. 552a(k)(2), investigatory material compiled for law enforcement purposes (to the extent it is not already exempted by 5 U.S.C. 552a(j)(2)), is exempted from the following provisions of the ACT: (c)(3), (d), (e)(1), (e)(4)(G), (H), and (I), and (f). This material is exempt because the disclosure and other requirements of the Act could substantially compromise the efficacy and integrity of OIG operations. Disclosure could invade the privacy of other individuals and disclose their identity when they were expressly promised confidentiality. Disclosure could interfere with the integrity of information which would otherwise be subject to privileges, see, e.g., 5 U.S.C. 552(b)(5), and which could interfere with other important law enforcement concerns. See, e.g., 5 U.S.C. 552(b)(7).

(c) Protective Services: In accordance with 5 U.S.C. 552a(k)(3) investigatory material maintained in connection with assisting the U.S. Secret Service to provide protective services to the President of the United States or other individuals pursuant to 18 U.S.C. 3056 is exempt from the following section of the ACT: (c)(3), (d), (e)(1), (e)(4)(G), (H), and (I), and (f). This material is exempt in order to enable the OIG to continue its support of the Secret Service without compromising the effectiveness of either agency's activities.

(d) Contract Investigations: In accordance with 5 U.S.C. 552a(k)(5), investigatory material compiled solely for the purpose of determining integrity, suitability, eligibility, or qualifications for a DOL contract is exempt from the following sections of the ACT: (c)(3), (d), (e)(1), (e)(4)(G), (H), and (I) and (f). This exemption was obtained in order to protect from disclosure the identity of a confidential source when an express promise of confidentiality has been given in order to obtain information from sources who would otherwise be unwilling to provide necessary information.

DOL/ILAB-1

SYSTEM NAME:

Arbitrators/Experts/Consultant Candidates' Biographies.

SECURITY CLASSIFICATION:

None.

SYSTEM LOCATION:

U.S. National Administrative Office, U.S. Department of Labor, Bureau of International Labor Affairs, 200 Constitution Avenue, NW, Washington, DC 20210.

CATEGORIES OF INDIVIDUALS COVERED BY THE SYSTEM:

Individuals who applied, are nominated or are selected to serve as arbitrators, experts, advisors, consultants, contractors or similar positions for the U.S. National Administrative Office or the Secretariat for the North American Agreement on Labor Cooperation (NAALC), the supplemental agreement on labor issues to the North American Free Trade Agreement (NAFTA).

CATEGORIES OF RECORDS IN THE SYSTEM:

Application and nomination letters; resumes, biographical sketches, curriculum vitae, and other related documents.

AUTHORITY FOR MAINTENANCE OF THE SYSTEM:

North American Agreement on Labor Cooperation Articles 23, 28, and 30; 58 FR 69410; and 5 U.S.C. 301.

PURPOSE(S):

These records are established when individuals nominate themselves or are recommended for appointments as arbitrators, experts, consultants, contractors, advisory committee members or similar positions with the U.S. National Administrative Office or the Secretariat for the NAALC. The records are used by the Deputy Under Secretary of Labor for International Affairs to make selections or recommendations as appropriate to the Secretary of Labor or Executive Director of the Secretariat for appointment.

ROUTINE USES OF RECORDS MAINTAINED IN THE SYSTEM, INCLUDING CATEGORIES OF USERS AND THE PURPOSES OF SUCH USES:

None, except for those uses listed in the General Prefatory Statement to this document.

DISCLOSURES TO CONSUMER REPORTING AGENCIES:

None.

POLICIES AND PRACTICES FOR STORING, RETRIEVING, ACCESSING, RETAINING AND DISPOSING OF RECORDS IN THE SYSTEM:

STORAGE:

Manual files and computer disk.

RETRIEVABILITY:

By Nominee's name and by selected skills categories.

SAFEGUARDS:

Locked storage equipment and personnel screening.

RETENTION AND DISPOSAL:

a. Advisory committee members, arbitrators, contractors, consultants, and experts: Permanent transfer to National Archives three (3) years after expiration of term of service.

b. Nominees not selected: destroy files when five (5) years old.

SYSTEM MANAGER(S) AND ADDRESS:

Secretary, U.S. National Administrative Office, U.S. Department of Labor, Bureau of International Labor Affairs, Washington, DC 20210.

NOTIFICATION PROCEDURES:

Individuals wishing to gain access to records should contact the system manager at the SYSTEM LOCATION above.

RECORD ACCESS PROCEDURES:

A request for access shall be addressed to the system manager at the address listed above. Individuals must furnish the following information for their records to be located and identified:

a. Name;

b. Approximate date for investigation;

c. Individuals requesting access must also comply with the Privacy Act regulations regarding verification of the identity to records at 29 CFR 71.2.

CONTESTING RECORDS PROCEDURES:

A petition for amendments shall be addressed to the System Manager and must meet the requirements of 29 CFR 71.9.

RECORD SOURCE CATEGORIES:

Nominations submitted by individuals within the system, other individuals and organizations and by government agencies.

SYSTEMS EXEMPTED FROM CERTAIN PROVISIONS OF THE ACT:

Not applicable.

DOL/MSHA-1

SYSTEM NAME:

Coal and Metal and Nonmetal Mine Accident, Injury, and Illness.

SECURITY CLASSIFICATION:

Unclassified.

SYSTEM LOCATION:

Department of Labor, Mine Safety and Health Administration, Program Evaluation and Information Resources, PO Box 25367, Denver CO 80225-0367.

CATEGORIES OF INDIVIDUALS COVERED BY THE SYSTEM:

Individual workers in the coal and metal and nonmetal mining industries.

CATEGORIES OF RECORDS IN THE SYSTEM:

These records contain accident, injury, and occupational illness data which includes the mine name and identification number; date, time, and place of occurrence; type and description of accident; and name and social security number of injured miner. For 1978 and subsequent years, only the last four digits of the social security number are in the records.

AUTHORITY FOR MAINTENANCE OF THE SYSTEM:

30 U.S.C. 813.

PURPOSE(S):

To maintain data to provide MSHA timely information for making decisions on improving safety and health programs, improving education and training efforts, and establishing priorities in technical assistance activities in the mining industry. The primary uses of the records are (a) to determine probable cause of accidents, injuries, and illnesses and (b) to provide a statistical analytic data base for allocation of MSHA and other resources to reduce occupational injuries and illnesses.

ROUTINE USES OF RECORDS MAINTAINED IN THE SYSTEM, INCLUDING CATEGORIES OF USERS AND THE PURPOSES OF SUCH USES:

In addition to those universal routine uses listed in the general prefatory statement, disclosures may be made to a federal agency which has requested information relevant or necessary to research for mine safety and health under appropriate security procedures.

DISCLOSURE TO CONSUMER REPORTING AGENCIES:

None.

POLICIES AND PRACTICES FOR STORING, RETRIEVING, ACCESSING, RETAINING, AND DISPOSING OF RECORDS IN THE SYSTEM:

STORAGE:

Manual—file folders; Computer—magnetic media.

RETRIEVABILITY:

Indexed and filed by mine identification number and date of accident and injury occurrence or illness diagnosis. Accessed by mine identification, date of accident and the last four digits of the social security number of individual(s) involved.

SAFEGUARDS:

Computer safeguards and procedures developed by MSHA under GSA Circular E-34. Appropriate reports are marked with the Privacy Act warning. Only authorized personnel have access to files.

RETENTION AND DISPOSAL:

MSHA Forms 7000-1, Mine Accident, Injury, and Illness Report, are retained for 6 years after year of record and then destroyed. Microfiche copies of these documents are retained by the Office of Injury and Employment Information permanently. Records in magnetic media are transferred to NARA as permanent records immediately after each annual close-out.

SYSTEM MANAGER(S) AND ADDRESS:

Chief, Office of Injury and Employment Information, Program Evaluation and Information Resources, PO Box 25367, Denver, CO 80225-0367.

NOTIFICATION PROCEDURE:

Inquiries regarding the existence of records should be addressed to the System Manager. A written, signed request stating that the requester seeks information concerning records pertaining to him/her is required.

RECORD ACCESS PROCEDURES:

To see your records, write the System Manager and describe specifically as possible the records sought and furnish the following information:

a. Full name

b. Date of birth

c. Signature

CONTESTING RECORD PROCEDURES:

Individuals requesting amendment to the record should contact the System Manager and furnish the following information:

a. Full name

b. Date of birth

c. Signature

RECORD SOURCE CATEGORIES:

Mine operators including independent contractors.

SYSTEMS EXEMPTED FROM CERTAIN PROVISIONS OF THE ACT:

None.

DOL/MSHA-3

SYSTEM NAME:

Metal and Nonmetal Mine Safety and Health Management Information System.

SECURITY CLASSIFICATION:

Unclassified.

SYSTEM LOCATION:

(1) Office of the Administrator for Metal and Nonmetal Mine Safety and Health, U.S. Department of Labor, 4015 Wilson Blvd., Arlington, Virginia 22203.

(2) Substantially all Metal and Nonmetal Mine Safety and Health Offices listed in the appendix. (See the Appendix for addresses.)

CATEGORIES OF INDIVIDUALS COVERED BY THE SYSTEM:

Metal and Nonmetal enforcement personnel and key officials who conduct inspection/investigation activities at surface and underground mines.

CATEGORIES OF RECORDS IN THE SYSTEM:

Contains records on metal and nonmetal mine safety and health activities which include mine and mill locations, metal and nonmetal mine inspection personnel time and activity, inspections, citations and orders against operators, sampling data on personal exposure of non-identified miners and MSHA personnel to radiation, dust, noise and other contaminants, and comprehensive health surveys on individual operations.

AUTHORITY FOR MAINTENANCE OF THE SYSTEM:

29 U.S.C. 557a, 668; 30 U.S.C. 811, 813, 814.

PURPOSE(S):

Records are maintained in order to (a) determine workload, work scheduling and performance of mine inspection personnel; (b) maintain records on violations of health and safety standards and regulations; (c) determine contaminant exposure level; and (d) maintain employment data at metal and nonmetal mines, e.g. number or workers, etc.

ROUTINE USES OF RECORDS MAINTAINED IN THE SYSTEM, INCLUDING CATEGORIES OF USERS AND THE PURPOSES OF SUCH USES:

In addition to those universal routine uses listed in the General Prefatory Statement to this document, disclosure may be made (a) to the National Institute of Occupational Safety and Health and the Environmental Protection Agency to determine contaminant exposure levels; (b) to state agencies to maintain records on violations of health and safety standards and regulations, as well as to determine contaminant exposure levels; (c) to unions and company officials to determine contaminant exposure levels; (d) to individuals requesting information on mines or mine exposure.

DISCLOSURE TO CONSUMER REPORTING AGENCIES:

None.

POLICIES AND PRACTICES FOR STORING, RETRIEVING, ACCESSING, RETAINING, AND DISPOSING OF RECORDS IN THE SYSTEM:

STORAGE:

Computer-Information from source documents to remote disk storage to host disk storage, with final storage on magnetic tape. Manual—8 × 10½ inch reports and forms in standard file cabinets.

RETRIEVABILITY:

Computerized and manual records are indexed by mine identification number for operator and by Authorized Representative and Right of Entry number for MSHA personnel.

SAFEGUARDS:

Computer safeguards and procedures developed by MSHA under GSA Circular E-34. Manual-Locked file cabinets. During working hours records are accessible only to authorized personnel.

RETENTION AND DISPOSAL:

Computer databases are updated from source documents daily, weekly and monthly. The active computer database contains data for the most recent 5 years. This data is transferred to the historical database when it is 5 years old. The historical database is retained indefinitely.

SYSTEM MANAGER(S) AND ADDRESS:

Administrative Officer, Metal and Nonmetal Mine Safety and Health, 4015 Wilson Blvd., Arlington, Virginia 22203.

NOTIFICATION PROCEDURE:

Inquiries regarding the existence of records should be addressed to the System Manager. A written, signed request stating that the requester seeks information concerning records pertaining to him/her is required.

RECORD ACCESS PROCEDURES:

To see your records, write the System Manager and describe as specifically as possible the records sought and furnish the following information:

a. Full name

b. Date of birth

c. Signature

CONTESTING RECORD PROCEDURES:

Individuals requesting amendment to the record should contact the System Manager and furnish the following information:

a. Full name

b. Date of birth

c. Signature

RECORD SOURCE CATEGORIES:

MSHA inspection personnel and individual mine operators.

SYSTEMS EXEMPTED FROM CERTAIN PROVISIONS OF THE ACT

None.

DOL/MSHA-10

SYSTEM NAME:

Discrimination Investigations.

SECURITY CLASSIFICATION:

Unclassified.

SYSTEM LOCATION:

Office of the Administrator for Coal Mine Safety and Health and Office of the Administrator for Metal and Nonmetal Mine Safety and Health, Mine Safety and Health Administration, U.S. Department of Labor, 4015 Wilson Boulevard, Arlington, Virginia 22203 and all Coal and Metal and Nonmetal Mine Safety and Health district offices (see the Appendix for addresses).

CATEGORIES OF INDIVIDUALS COVERED BY THE SYSTEM:

Individuals alleged to have been discriminated against in violation of the Federal Mine Safety and Health Act of 1977 and the Coal Mine Health and Safety Act of 1969.

CATEGORIES OF RECORDS IN THE SYSTEM:

Name, address, telephone number, social security number, occupation, place of employment, other identifying data, and allegation information concerning complainants, mine operators, witnesses, and third party sources. This material includes interviews and other data gathered by the investigator.

AUTHORITY FOR MAINTENANCE OF THE SYSTEM:

30 U.S.C. 815(c).

PURPOSE(S):

Records are maintained to determine validity and gravity of allegations and the amount of civil penalty assessment.

ROUTINE USE OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, ACCESSING, RETAINING, AND DISPOSING OF RECORDS IN THE SYSTEM:

STORAGE:

In manila file folders and computerized tracking system.

RETRIEVABILITY:

Records are retrieved by case number; complainant's/respondent's name; company name; mine name, identification number (I.D.), or address.

SAFEGUARDS:

Maintained in locked file cabinets and secured computer system.

RETENTION AND DISPOSAL:

Retained for 3 years, then transferred to a Federal Records Center where they are retained for 15 years, then destroyed except for cases involving health issues. For those cases involving health issues retain for 3 years, then transferred to a Federal Records Center where they are retained for 27 years, then destroyed.

SYSTEM MANAGER(S) AND ADDRESS:

Administrator for Coal Mine Safety Health, Ballston Towers No. 3, 4015 Wilson Boulevard, Arlington, Virginia 22203; Administrator for Metal and Nonmetal Mine Safety and Health, same address as above.

NOTIFICATION PROCEDURE:

Inquiries regarding the existence of records should be addressed to the appropriate System Manager. A written, signed request stating that the requester seeks information concerning records pertaining to him/her is required.

RECORDS ACCESS PROCEDURES:

To see your records, write the appropriate System Manager and describe as specifically as possible the records being sought and furnish the following information:

a. Full name.

b. Date of birth.

c. Signature.

CONTESTING RECORD PROCEDURES:

Individuals requesting amendment to the record should contact the appropriate System Manager and furnish the following information:

a. Full name.

b. Date of birth.

c. Signature.

RECORD SOURCE CATEGORIES:

Individuals alleging discrimination, mine operators, witnesses, and third party sources.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/MSHA-13

SYSTEM NAME:

Coal Mine Respirable Dust Program.

SECURITY CLASSIFICATION:

Unclassified.

SYSTEM LOCATION:

Coal Mine Safety and Health, MSHA, U.S. Department of Labor, 4015 Wilson Blvd., Arlington, Virginia 22203, and substantially all Coal Mine Safety and Health Offices listed in the Appendix.

CATEGORIES OF INDIVIDUALS COVERED BY THE SYSTEM:

Individual coal miners for whom personal dust samples have been submitted for analysis prior to 1981, miners with evidence of the development of coal workers' pneumoconiosis (black lung disease) as defined under 30 CFR part 90 after 1981.

CATEGORIES OF RECORDS IN THE SYSTEM:

These records contain data such as the mine identification, including mine name and company name, mine entity number (specific location in the mine where samples were taken), occupation and social security number of individual sampled (pre 1981 date) and of 30 CFR part 90 miner (after 1980), date sampled, concentration of respirable dust measured in the miner's work environment, tons of material produced during sampling shift, and sampling time, and social security number of the certified person taking the sample.

AUTHORITY FOR MAINTENANCE OF THE SYSTEM:

30 U.S.C. 813(a), 842.

PURPOSE(S):

To maintain records to determine compliance with the mandatory respirable coal mine dust standards.

ROUTINE USES OF RECORDS MAINTAINED IN THE SYSTEM, INCLUDING CATEGORIES OF USERS AND THE PURPOSE OF SUCH USES:

In addition to those universal routine uses listed in the General Prefatory Statement to this document, disclosure of relevant records may be made (1) to the U.S. Department of Health and Human Services in accordance with provisions of Pub. L. 91-173 as amended by Pub. L. 95-164; (2) to mine operators to furnish information relevant to the respirable dust program as it applies to their operations as required by the law; (3) to appropriate Federal, State, local or foreign agency for research purposes, for enforcing or implementing a statute, rule, regulation, order or license; (4) to labor, industry and academic organizations to monitor dust concentration and compliance trends.

DISCLOSURE TO CONSUMER REPORTING AGENCIES:

None.

POLICIES AND PRACTICES FOR STORING, RETRIEVING, ACCESSING, RETAINING, AND DISPOSING OF RECORDS IN THE SYSTEM:

STORAGE:

Historical data on magnetic tape and current data on computer disk.

RETRIEVABILITY:

Indexed by mine identification number, and social security number for individual coal miners sampled prior to 1981 and for all 30 CFR part 90 miners after 1980. This information is available on computer printouts.

SAFEGUARDS:

Access limited to authorized personnel in regard to computerized data. Sampling data and other manual records for part 90 miners are stored in locked steel cabinets with access being granted only to duly authorized personnel. Sample results for other than 30 CFR part 90 miners are kept in regular file cabinets. No other manual records are identifiable.

RETENTION AND DISPOSAL:

Maintain magnetic tapes indefinitely. Transfer to FARC operator/inspector dust data cards when 3 years old and destroy when 10 years old.

SYSTEM MANAGER(S) AND ADDRESS:

Chief, Division of Health, Coal Mine Safety and Health, MSHA, 4015 Wilson Blvd., Arlington, Virginia 22203.

NOTIFICATION PROCEDURE:

Inquiries regarding the existence of records should be addressed to the System Manager. A written, signed request stating that the requester seeks information concerning records pertaining to him/her is required.

RECORDS ACCESS PROCEDURES:

To see your records, for samples collected prior to 1981 and for 30 CFR part 90 miners after 1980 write the System Manager and describe specifically as possible the records sought and furnish the following information:

a. Full name

b. Date of birth

c. Social Security number

d. Signature

CONTESTING RECORD PROCEDURES:

To see your records, write the System Manager and describe specifically as possible the records sought and furnish the following information:

a. Full name

b. Date of birth

c. Social Security number

d. Signature

RECORD SOURCE CATEGORIES:

Mine operators.

SYSTEMS EXEMPTED FROM CERTAIN PROVISIONS OF THE ACT:

None.

DOL/MSHA-15

SYSTEM NAME:

Health and Safety Training and Examination Records.

SECURITY CLASSIFICATION:

Unclassified.

SYSTEM LOCATION:

Qualification and Certification Unit, Educational Policy and Development, Mine Safety and Health Administration, PO Box 25367 (DFC), Denver, Colorado 80225.

CATEGORIES OF INDIVIDUALS COVERED BY THE SYSTEM:

Miners, mining industry personnel, State and Federal employees who have taken MSHA approved training courses to attain skills to become qualified and certified to complete mining tasks.

CATEGORIES OF RECORDS IN THE SYSTEM:

These records contain mine ID number, training course codes, instructor's name, date of training, name and social security number of persons who have taken training and examinations to become qualified and/or certified.

AUTHORITY FOR MAINTENANCE OF THE SYSTEM:

30 U.S.C. 825, 877(i), 952.

PURPOSE(S):

The primary uses of the records are to (a) maintain records of training and examination of individual miners, mining industry personnel, and State and Federal employees who have taken MSHA approved training courses; (b) issue qualification and/or certification cards to individuals who become qualified or certified under the law, as appropriate; (c) issue qualification cards to instructors authorized to teach MSHA approved training courses; (d) provide information to monitor and expand safety training programs; (e) verify that individuals have completed required training; (f) report training data in various formats for a variety of uses, particularly, reporting to Congress, publication.

ROUTINE USES OF RECORDS MAINTAINED IN THE SYSTEM, INCLUDING CATEGORIES OF USERS AND THE PURPOSES OF SUCH USES:

Disclosures may be made (a) to mine operators requesting information to verify training required by law; (b) to labor organizations requesting information on training status of its members; (c) to mine operators' associations which require training for policy and programming utilization; (d) to appropriate Federal, State, tribal governments, local or foreign agencies responsible for investigating or prosecuting the violation of, or for enforcing or implementing, a statute, rule, regulation, order or license.

DISCLOSURE TO CONSUMER REPORTING AGENCIES:

None.

POLICIES AND PRACTICES FOR STORING, RETRIEVING, ACCESSING, RETAINING, AND DISPOSING OF RECORDS IN THE SYSTEM:

STORAGE:

Training documents are microfilmed; then, they are entered into computer files.

RETRIEVABILITY:

Computerized records are indexed and accessed by mine identification and individual social security numbers. Microfilm records are retrieved on basis of cycle number, social security number, mine identification numbers, date and course examination. (Note: Records have the individual names but do not contain addresses. The social security number is used by MSHA for retrievals because the file contains many individuals with the same names, and there is no way to know which records belong to which individual by using name only.)

SAFEGUARDS:

Computer safeguards and procedures developed by MSHA under GSA Circular E-34. Reports are marked with the appropriate Privacy Act warning. During working hours only authorized personnel have access to files.

RETENTION AND DISPOSAL:

Training documents are destroyed when 3 years old. Microfilm is destroyed when 50 years old.

Computer files are updated as changes occur and used to verify information.

SYSTEM MANAGER(S) AND ADDRESS:

Chief, Qualification and Certification Unit, Educational Policy and Development, PO Box 25367 (DFC), Denver, Colorado 80225.

NOTIFICATION PROCEDURE:

Inquiries regarding the existence of records should be addressed to the System Manager. A written, signed request stating that the requester seeks information concerning records pertaining to him/her is required.

RECORD ACCESS PROCEDURES:

To see your records, write the System Manager and describe specifically as possible the records sought and furnish the following information:

a. Full name

b. Social Security number

c. Signature

d. Address

CONTESTING RECORD PROCEDURES:

Individuals requesting amendment to the record should contact the System Manager and furnish the following information:

a. Full name

b. Social Security number

c. Signature

d. Type of Record to be amended

e. Address

RECORD SOURCE CATEGORIES:

Training records are received from instructors, mining industry, and MSHA training personnel.

SYSTEM EXEMPTED FROM CERTAIN PROVISIONS OF THE ACT:

None.

DOL/MSHA-18

SYSTEM NAME:

Coal Mine Safety and Health Management Information System.

SECURITY CLASSIFICATION:

Unclassified.

SYSTEM LOCATION:

(1) Office of the Administrator for Coal Mine Safety and Health, U.S. Department of Labor, 4015 Wilson Boulevard, Arlington, Virginia 22203; (2) Coal Mine Safety and Health district and field offices.

CATEGORIES OF INDIVIDUALS COVERED BY THE SYSTEM:

Coal Mine Safety and Health enforcement personnel and key officials at surface and underground installations.

CATEGORIES OF RECORDS IN THE SYSTEM:

Information on mine status and characteristics; key mine officials; inspections; violations; sampling information; Coal Mine Safety and Health enforcement personnel; and time utilization for Coal Mine Safety and Health enforcement personnel.

AUTHORITY FOR MAINTENANCE OF THE SYSTEM:

29 U.S.C. 557a, 668; 30 U.S.C. 811, 813, 814.

PURPOSE(S):

To maintain information on (a) status of mining operations; (b) identification of key mine officials; (c) inspections of mines; (d) citations and orders issued for violation of the Mine Act and 30 CFR; (e) information on samples taken by inspectors; and (f) time utilization for Coal Mine Safety and Health enforcement personnel. Disclosure outside the Department of Labor may be made to appropriate Federal, State, local or foreign agencies responsible for investigating or prosecuting the violation of, or for enforcing or implementing, a statute, rule, regulation, order or license.

ROUTINE USES OF RECORDS MAINTAINED IN THE SYSTEM, INCLUDING CATEGORIES OF USERS AND THE PURPOSES OF SUCH USES:

None except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files: Magnetic tape and disk units.

RETENTION AND DISPOSAL:

Inspection reports and related documents are destroyed after 10 years. Other source documents are destroyed when no longer needed. Active database is retained for 2 complete fiscal years; then moved to the historical database or magnetic tape. Historical database and magnetic tapes are retained indefinitely.

RETRIEVABILITY:

By mine identification number for key mine officials; by Authorized Representative number, organization number, inspection event number, and violation number for enforcement personnel.

SAFEGUARDS:

Access limited to authorized personnel in regard to computerized data. Manual records on Coal Mine Safety and Health enforcement personnel are kept in locked file cabinets. Manual records on mine status and characteristics, key mine officials, inspections, violations, and time utilization for Coal Mine Safety and Health enforcement personnel are kept in regular file cabinets.

SYSTEM MANAGER(S) AND ADDRESS:

Administrator for Coal Mine Safety and Health, MSHA, Department of Labor, 4015 Wilson Boulevard, Arlington, Virginia 22203.

NOTIFICATION PROCEDURE:

Inquiries regarding the existence of records should be addressed to the System Manager. A written, signed request stating that the requester seeks information concerning records pertaining to him/her is required.

RECORD ACCESS PROCEDURES:

To see your records, write the System Manager and describe specifically as possible the records sought and furnish the following information:

a. Full name

b. Date of birth

c. Social Security number

d. Signature

CONTESTING RECORD PROCEDURES:

Individuals requesting amendment to the record should contact the System Manager and furnish the following information:

a. Full name

b. Date of birth

c. Social Security number

d. Signature

RECORDS SOURCE CATEGORIES:

Coal Mine Safety and Health personnel submit inspection, time utilization, violation, sampling, and other enforcement information in accordance with prescribed procedures.

SYSTEMS EXEMPTED FROM CERTAIN PROVISIONS OF THE ACT:

None.

DOL/MSHA-19

SYSTEM NAME:

Employee Conduct Investigations.

SECURITY CLASSIFICATION:

Unclassified.

SYSTEM LOCATION:

Mine Safety and Health Administration, Administration and Management, U.S. Department of Labor, 4015 Wilson Blvd., Arlington, Virginia 22203.

CATEGORIES OF INDIVIDUALS COVERED BY THE SYSTEM:

Any MSHA employee against whom any allegation of serious misconduct, illegal acts, conflict of interest, etc. has been made.

CATEGORIES OF RECORDS IN THE SYSTEM:

Name, organization, allegation and other pertinent information relating to the individual involved, as well as the investigative report associated with the case, including interviews and other data.

AUTHORITY FOR MAINTENANCE OF THE SYSTEM:

5 U.S.C. 301, 7301, Executive Order 11222.

PURPOSE(S):

The primary use of the records is to determine facts and circumstances relative to allegations.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual records are maintained in manila folders which are stored in locked file cabinets. Computer records are maintained in a password controlled, computerized tracking system.

RETRIEVABILITY:

By name or by file number.

SAFEGUARDS:

Maintained in locked file cabinets and password controlled computer system.

RETENTION AND DISPOSAL:

Records are retained for four years following the date either: (a) They are referred to the OIG; (b) they are transferred to OPM/GOVT-3 Records of Adverse Actions and Actions Based on Unacceptable Performance; or (c) it is determined that the allegation was without sufficient merit to warrant further action, after which they are destroyed by burning.

SYSTEM MANAGER(S) AND ADDRESS:

Director of Administration and Management, MSHA, 4015 Wilson Blvd. Arlington, Virginia 22203.

NOTIFICATION PROCEDURE:

Inquiries regarding the existence of records should be addressed to the System Manager. A written, signed request stating that the requestor seeks information concerning records pertaining to him/her is required.

RECORD ACCESS PROCEDURES:

To see records, an individual must provide the request in writing to the System Manager. It must be as specific as possible and the following information must be furnished:

a. Full name.

b. Date of birth.

c. Signature.

CONTESTING RECORD PROCEDURES:

Individuals requesting amendment to the record should contact the System Manager and furnish the following information:

a. Full name.

b. Date of birth.

c. Signature.

RECORD SOURCE CATEGORIES:

Individual employees and officials of MSHA and any others alleging misconduct.

SYSTEMS EXEMPTED FROM CERTAIN PROVISIONS OF THE ACT:

In accordance with 5 U.S.C. 552a(k)(2), investigatory material in this system of records compiled for law enforcement purposes is exempt from subsections (c)(3); (d); (e)(1); (e)(4)(g), (h), and (i); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/MSHA-20

SYSTEM NAME:

Civil/Criminal Investigations.

SECURITY CLASSIFICATION:

Unclassified.

SYSTEM LOCATION:

Office of the Administrator for Coal Mine Safety and Health and Office of the Administrator for Metal and Nonmetal Mine Safety and Health, Mine Safety and Health Administration, U.S. Department of Labor, 4015 Wilson Boulevard, Arlington, Virginia 22203 and all Coal and Metal and Nonmetal Mine Safety and Health district offices (see the Appendix for addresses).

CATEGORIES OF INDIVIDUALS COVERED BY THE SYSTEM:

Individuals who allegedly, knowingly or willfully, committed violations of the Federal Mine Safety and Health Act of 1977 (Mine Act) and the Coal Mine Health and Safety Act of 1969 (Coal Act); individuals who have been criminally prosecuted for such violations; and individuals who have been civilly assessed a monetary penalty for violations of the 1977 Mine Act or 1969 Coal Act.

CATEGORIES OF RECORDS IN THE SYSTEM:

Name, address, telephone number, social security number, occupation, place of employment, and other identifying data along with allegation information of miners, mine operators, and other individuals. Interviews and other data gathered by the investigator.

AUTHORITY FOR MAINTENANCE OF THE SYSTEM:

30 U.S.C. 820.

PURPOSE(S):

Records are maintained to determine validity and gravity of allegations and the amount of civil penalty assessment or referral for possible criminal prosecution.

ROUTINE USE OF RECORDS MAINTAINED IN THE SYSTEM, INCLUDING CATEGORIES OF USERS AND THE PURPOSES OF SUCH USES:

None, except for those universal routine uses listed in the General Prefatory Statement of this document.

DISCLOSURE TO CONSUMER REPORTING AGENCIES:

None.

POLICIES AND PRACTICES FOR STORING, ACCESSING, RETAINING, AND DISPOSING OF RECORDS IN THE SYSTEM:

STORAGE:

In manila file folders and computerized tracking system.

RETRIEVABILITY:

Records are filed by case number; agent's name; company name; mine name, identification number (I.D.) or address.

SAFEGUARDS:

Maintained in locked file cabinets and secured computer system.

RETENTION AND DISPOSAL:

Retained for 3 years, then transferred to a Federal Records Center where they are retained for 15 years, then destroyed except for cases involving health issues. For those cases involving health issues retain for 3 years, then transferred to a Federal Records Center where they are retained for 27 years, then destroyed.

SYSTEM MANAGER(S) AND ADDRESS:

Administrator for Coal Mine Safety Health, Ballston Towers No. 3, 4015 Wilson Boulevard, Arlington, Virginia 22203; Administrator for Metal and Nonmetal Mine Safety and Health, same address as above.

NOTIFICATION PROCEDURE:

Inquiries regarding the existence of records should be addressed to the System Manager. A written, signed request stating that the requester seeks information concerning records pertaining to him/her is required.

RECORDS ACCESS PROCEDURES:

To see your records, write the System Manager and describe as specifically as possible the records being sought and furnish the following information:

a. Full name

b. Date of birth

c. Signature

CONTESTING RECORD PROCEDURES:

Individuals requesting amendment to the record should contact the System Manager and furnish the following information:

a. Full name

b. Date of birth

c. Signature

RECORD SOURCE CATEGORIES:

Miners and mine operators, MSHA investigators and other individuals.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

In accordance with 5 U.S.C. 552a(j)(2), investigatory material in this system of records compiled for criminal law enforcement purposes is exempt from subsections (c)(3), (c)(4), (d)(1), (d)(2), (d)(3), (d)(4), (e)(1), (e)(2), (e)(3), (e)(4)(G), (e)(4)(H), (e)(4)(I), (e)(5), (e)(8), (f), of 5 U.S.C. 552a.

DOL/MSHA-21

SYSTEM NAME:

Assessments and Civil Penalty Debt Collection Activity and Reporting System

SECURITY CLASSIFICATION:

Unclassified.

SYSTEM LOCATION:

Office of Assessments, Civil Penalty Compliance Office, Mine Safety and Health Administration (MSHA), U.S. Department of Labor, 4015 Wilson Boulevard, Arlington, Virginia 22203.

CATEGORIES OF INDIVIDUALS COVERED BY THE SYSTEM:

Individuals who were cited for committing violations of the Federal Mine Safety and Health Act of 1977 (Mine Act) and mandatory safety and health standards which resulted in their indebtedness to the United States in the form of a civil penalty.

CATEGORIES OF RECORDS IN THE SYSTEM:

Consumer credit reports, Case files, payment installment plans, bankruptcy case files, Employee Identification Numbers file (EIN), Treasury cross-servicing files, Treasury offset files, financial adjustment files, Assessments Management Information System.

AUTHORITY FOR MAINTENANCE OF THE SYSTEM:

31 U.S.C. 3701, 3711-12, 3716-19, 3720A-E, 7701. (Debt Collection Improvement Act of 1996); 30 U.S.C. 815 and 820.

PURPOSE(S):

The system provides information on individuals who are indebted to the Department of Labor, Mine Safety and Health Administration, for the purpose of assessing penalties, determining the collection of debts, and taking appropriate actions to collect or otherwise resolve the debts.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files, computer files on Local Area Network (LAN) and PCS.

RETRIEVABILITY:

By mine identification number; Employee Identification Number, Name, MSHA case number, or Social Security Number (SSN).

SAFEGUARDS:

Access to computerized data is limited to authorized personnel through use of encrypted passwords. Manual records in Office of Assessments are kept in locked file cabinets or restricted areas. During working hours only authorized personnel have access to files.

RETENTION AND DISPOSAL:

Source documents are retained until case is closed and retired to the appropriate Federal Records Center for 10 years and then destroyed.

SYSTEM MANAGER(S) AND ADDRESS:

Director of Assessment, Department of Labor, Mine Safety and Health Administration, Office of Assessments, 4015 Wilson Boulevard, Arlington, Virginia 22203.

NOTIFICATION PROCEDURE:

Inquiries regarding the existence of records should be addressed to the System Manager. A written, signed request stating that the requester seeks information concerning records pertaining to him/her is required.

RECORD ACCESS PROCEDURES:

To see records, write the System Manager and describe specifically as possible the records sought and furnish the following information:

a. Full name

b. Signature

CONTESTING RECORD PROCEDURES:

Individuals requesting amendment to the record should contact the System Manager and furnish the following information:

a. Full name

b. Signature

c. The specific problem

RECORD SOURCE CATEGORIES:

Information is obtained from Office of Assessments, Civil Penalty Compliance Office, Credit Reporting Bureaus, Dun and Bradstreet Reporting, Consumer credit reports, Case files, payment installment plans, bankruptcy case files, Employee Identification Numbers file (EIS), Treasury cross-servicing files, Treasury offset files, financial adjustment files, and the Assessments Management Information System.

SYSTEM EXEMPTED FROM CERTAIN PROVISIONS OF THE ACT:

None.

DOL/MSHA-22

SYSTEM NAME:

Education Policy and Development; National Mine Health and Safety Academy Permanent Record Card.

SECURITY CLASSIFICATION:

Unclassified.

SYSTEM LOCATION:

Office of the Superintendent, National Mine Health and Safety Academy, Mine Safety and Health Administration, U.S. Department of Labor, 1301 Airport Road, Beaver, West Virginia 25813.

CATEGORIES OF INDIVIDUALS COVERED BY THE SYSTEM:

Mine Safety and Health Administration personnel and other students receiving training at the Mine Health and Safety Academy.

CATEGORIES OF RECORDS IN THE SYSTEM:

Student grade transcripts. (Records reflecting courses and grades received)

AUTHORITY FOR MAINTENANCE OF THE SYSTEM:

29 U.S.C. 557(a), 30 U.S.C. 952.

PURPOSE(S):

To maintain records on Mine Safety and Health inspectors to assure that proper training is received as required under the Federal mine Safety and Health Act of 1977, Public Law 91-173, as amended by Public Law 95-164, Sec. 502 c.(1) (2) (3). Records are used by students and supervisors to track training and grades.

ROUTINE USES OF RECORDS MAINTAINED IN THE SYSTEM, INCLUDING CATEGORIES OF USERS AND THE PURPOSES OF SUCH USES:

Disclosures may be made to (1) appropriate Federal, State, local agencies when students transfer from one agency to another; (2) colleges that accept training received at the Academy for transferable credit hours; (3) supervisors of students who request transcripts on employees to assure that proper training has been received or completed.

DISCLOSURE TO CONSUMER REPORTING AGENCIES:

None.

POLICIES AND PRACTICES FOR STORING, RETRIEVING, ACCESSING, RETAINING, AND DISPOSING OF RECORDS IN THE SYSTEM:

STORAGE:

Manual files.

RETRIEVABILITY:

By Social Security Number or name of the student.

SAFEGUARDS:

Manual records on Academy training personnel and students are kept in locked file cabinets.

RETENTION AND DISPOSAL:

Instructor grade sheets are destroyed after 3 years. Academy Permanent Records Cards (Transcripts) are retained for 50 years and then destroyed.

SYSTEM MANAGER(S) AND ADDRESS:

Director for Educational Policy and Development, Mine Safety and Health, Department of Labor, 4015 Wilson Boulevard, Arlington, Virginia 22203.

NOTIFICATION PROCEDURE:

Inquiries regarding the existence of records should be addressed to the System Manager. A written, signed request stating that the requester seeks information concerning records pertaining to him/her is required.

RECORD ACCESS PROCEDURES:

To see records, write the System Manager and describe specifically as possible the records sought and furnish the following information:

a. Full name

b. Address

c. Signature

CONTESTING RECORD PROCEDURES:

Individuals requesting amendment to the record should contact the System Manager and furnish the following information:

a. Full name

b. Address

c. Signature

d. The specific problem

RECORD SOURCE CATEGORIES:

Educational Policy and Development, National Mine Health and Safety instructors and students.

SYSTEM EXEMPTED FROM CERTAIN PROVISIONS OF THE ACT:

None.

DOL/MSHA-23

SYSTEM NAME:

Education Policy and Development; Education Field Services (EFS) Activity Reporting System.

SECURITY CLASSIFICATION:

Unclassified.

SYSTEM LOCATION:

(1) Office of the Director for Educational Policy and Development, Mine Safety and Health, U.S. Department of Labor, 4015 Wilson Boulevard, Arlington, Virginia 22203;

(2) Educational Field Services for Educational Policy and Development, Mine Safety and Health, U.S. Department of Labor, Airport Road, Beaver, West Virginia;

(3) Educational Field Services for Educational Policy and Development, Mine Safety and Health, U.S. Department of Labor, P.O. Box 25367, Denver Federal Center, Denver, Colorado 80225.

CATEGORIES OF INDIVIDUALS COVERED BY THE SYSTEM:

Educational Policy and Development, Educational Field Services training personnel.

CATEGORIES OF RECORDS IN THE SYSTEM:

Information on mine ID's visited; number of personnel contacted; activities conducted; time spent on activities; name; AR/RE Authorized Representative number (AR) or Right of entry number (RE) number; organization code; and information on time utilization for Training Specialists.

AUTHORITY FOR MAINTENANCE OF THE SYSTEM:

29 U.S.C. 557(a)

PURPOSE(S):

(1) To determine the workload and work scheduling; (2) To assist in budgeting and staffing of education and training specialists; (3) To assess training needs of MSHA personnel and industry personnel; and (4) To assist management in the monitoring of training activities conducted by EFS Training Specialists.

ROUTINE USES OF RECORDS MAINTAINED IN THE SYSTEM, INCLUDING CATEGORIES OF USERS AND THE PURPOSES OF SUCH USES:

None except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files, and computer files.

RETRIEVABILITY:

By mine identification number; Authorized Representative/Right of Entry Representative number; organization code.

SAFEGUARDS:

Access limited to authorized personnel in regard to computerized data. Manual records on Education Policy and Development training personnel are kept in locked file cabinets.

Computer safeguards and procedures developed by contractors under GSA Circular E-34. Reports are marked with a Privacy Act warning. During working hours only authorized personnel have access to files.

RETENTION AND DISPOSAL:

Paper records are destroyed when 3 years old. Computer records are maintained permanently for historical purposes.

SYSTEM MANAGER(S) AND ADDRESS:

Director for Educational Policy and Development, Mine Safety and Health, Department of Labor, 4015 Wilson Boulevard, Arlington, Virginia 22203.

NOTIFICATION PROCEDURE:

Inquiries regarding the existence of records should be addressed to the System Manager. A written, signed request stating that the requester seeks information concerning records pertaining to him/her is required.

RECORD ACCESS PROCEDURES:

To see records, write the System Manager and describe as specifically as possible the records sought and furnish the following information:

a. Full name

b. AR/RE number

c. Address

d. Signature

CONTESTING RECORD PROCEDURES:

Individuals requesting amendment to the record should contact the System Manager and furnish the following information:

a. Full name

b. AR/RE number

c. Signature

d. The specific problem.

RECORD SOURCE CATEGORIES:

Educational Policy and Development, Educational Field Services personnel.

SYSTEM EXEMPTED FROM CERTAIN PROVISIONS OF THE ACT:

None.

DOL/MSHA-24

SYSTEM NAME:

Radon Daughter Exposure.

SECURITY CLASSIFICATION:

Unclassified.

SYSTEM LOCATION:

Division of Health, Office of the Administrator for Metal and Nonmetal Mine Safety and Health, Mine Safety and Health Administration, U.S. Department of Labor, 4015 Wilson Boulevard, Arlington, Virginia 22203.

CATEGORIES OF INDIVIDUALS COVERED BY THE SYSTEM:

All individuals for whom mine operators were required to calculate and record radon daughter exposure in the previous calendar year.

CATEGORIES OF RECORDS IN THE SYSTEM:

Mine I.D. number, mine name, section, township, range, county, and state of mine location, operator, and time period, individual's name, social security number, current year's radon daughter exposure and cumulative radon daughter exposure in working level months (WLM).

AUTHORITY FOR MAINTENANCE OF THE SYSTEM:

30 U.S.C. 811, 961

PURPOSE(S):

To document exposure of miners to radon daughters, a form of radiation which has been proven to cause cancer in humans and is well known as a severe hazard for metal and nonmetal miners. The exposure limit is an annual limit which requires careful documentation to ensure that no miner is overexposed.

ROUTINE USES OF RECORDS MAINTAINED IN THE SYSTEM, INCLUDING CATEGORIES OF USERS AND THE PURPOSES OF SUCH USES:

None, except for those routine uses listed in the General Prefatory Statement of this document.

DISCLOSURE TO CONSUMER REPORTING AGENCIES:

None.

POLICIES AND PRACTICES FOR STORING, ACCESSING, RETAINING, AND DISPOSING OF RECORDS IN THE SYSTEM:

STORAGE:

Manual files.

RETRIEVABILITY:

By year, mine name, mine operator, and individual name.

SAFEGUARDS:

Manual records are kept in locked file cabinets. During working hours records are accessible only to authorized personnel.

RETENTION AND DISPOSAL:

Retained until individual would have turned 75 years old or until 10 years after known death of individual.

SYSTEM MANAGER(S) AND ADDRESS:

Chief of Health, Administrator for Metal and Nonmetal Mine Safety and Health, same address as above.

NOTIFICATION PROCEDURE:

Inquiries regarding the existence of records should be addressed to the System Manager. A written, signed request stating that the requester seeks information concerning records pertaining to him/her is required or a letter signed by the individual or his estate authorizing the requester to obtain the information. (As per 30 CFR 57.5040 and ANSI N13.8-1973 “Radiation Protection in Uranium Mines.”)

RECORDS ACCESS PROCEDURES:

To see your records, write the System Manager and describe as specifically as possible the records sought and furnish the following information:

a. Full name

b. Address

c. Signature

CONTESTING RECORD PROCEDURES:

To see your records, write the System Manager and describe as specifically as possible the records sought and furnish the following information:

a. Full name

b. Address

c. Signature

RECORD SOURCE CATEGORIES:

Mine operators.

SYSTEMS EXEMPTED FROM CERTAIN PROVISIONS OF THE ACT:

None.

DOL/OSHA-1

SYSTEM NAME:

Discrimination Complaint File.

SECURITY CLASSIFICATION:

None.

SYSTEM LOCATION:

National and Regional Offices of the Occupational Safety and Health Administration; see the Appendix to this document.

CATEGORIES OF INDIVIDUALS COVERED BY THE SYSTEM:

Individuals who have filed complaints alleging discrimination against them by their employers for exercising safety and health rights. Complainants may file pursuant to section 11(c) of the Occupational Safety and Health Act (29 U.S.C. 651-678), section 405 of the Surface Transportation Assistance Act (49 U.S.C. 31105 et seq.), section 211 of the Asbestos Hazard Emergency Response Act (15 U.S.C. 2601) or section of the International Safe Container Act (46 U.S.C. 1501 et seq.). Complaints are also filed pursuant to those additional statutes listed below under the category entitled Authority for Maintenance of the System. Employees who are covered by the statutes listed below may file complaints alleging discrimination on the basis of protected activity relating to environmental laws.

CATEGORIES OF RECORDS IN THE SYSTEM:

Name, address, telephone number, social security number, occupation, place of employment, and other identifying data along with the type of allegation. This material includes interviews and other data gathered by the investigator.

AUTHORITY FOR MAINTENANCE OF THE SYSTEM:

Section 11(c) of the Occupational Safety and Health Act (29 U.S.C. 651-678); sec. 405 of the Surface Transportation Assistance Act (49 U.S.C. 31105); sec. 211 of the Asbestos Hazard Emergency Response Act (15 U.S.C. 2601 et seq.); sec. 7 of the International Safe Container Act (46 U.S.C. 1501 et seq.); the Safe Drinking Water Act (42 U.S.C. 300j-9(i)); the Water Pollution Control Act (33 U.S.C. 1367); the Toxic Substances Control Act (15 U.S.C. 2622); the Wendell H. Ford Aviation Investment and Reform Act for the 21st Century, 29 U.S.C. 42121; the Solid Waste Disposal Act (42 U.S.C. 6971); the Clean Air Act (42 U.S.C. 7622); the Comprehensive Environmental Response, Compensation and Liability Act of 1980 (42 U.S.C. 9610); and the Energy Reorganization Act of 1974 (42 U.S.C. 5851).

PURPOSE(S):

The records are used to support investigative materials discovered or created during investigation of violations of the health and safety statutes and the environmental statutes listed in the category in this notice for Authority. The records also are used as the basis of statistical reports on such activity by regional administrators, investigators, and their supervisors in the Occupational Safety and Health Administration.

ROUTINE USES OF RECORDS MAINTAINED IN THE SYSTEM, INCLUDING CATEGORIES OF USERS AND THE PURPOSES OF SUCH USES:

A. With respect to the first four statutes listed under the Authority category, disclosure of the gravamen of a complaint, as well as the name of the complainant, may be made to the employer, so that the complaint can proceed to a resolution.

B. With respect to the eight remaining statutes listed under the Authority category, disclosure of a copy of the actual written complaint by the complainant, may be made to the employer so that the complaint can proceed to a resolution.

C. With respect to complaints under the Energy Reorganization Act (ERA), disclosure of a copy of the actual written complaint by the complainant, may be made to the United States Nuclear Regulatory Agency, as mandated by the ERA.

D. With respect to complaints under the environmental statutes, disclosure of a copy of the actual written complaint by the complainant, may be made to the United States Environmental Protection Agency (EPA), as mandated by this Department's regulation, 29 CFR Part 24.

E. With respect to complaints under the Wendell H. Ford Aviation Investment and Reform Act for the 21st Century, disclosure of a copy of the actual written complaint by the complainant, may be made to the Federal Aviation Administration, as is mandated by the Act.

F. All of the above five disclosures are in addition to those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Manual files.

RETRIEVABILITY:

By complainant's name or case identification number.

SAFEGUARDS:

Locked storage equipment and personnel screening.

RETENTION AND DISPOSAL:

Destroy five years after case is closed.

SYSTEM MANAGER(S) AND ADDRESS:

Director of the Office of 11(c) Programs in the National Office and Regional Administrators at addresses in the Appendix.

NOTIFICATION PROCEDURE:

Individuals wishing to inquire whether this system of records contains information about them should contact the system manager at the appropriate system location.

RECORD ACCESS PROCEDURE:

Individuals wishing to gain access to non-exempt records should contact the system manager at the appropriate system location.

CONTESTING RECORD PROCEDURE:

Individuals wishing to request amendment of any non-exempt records should contact the system manager at the system location listed above.

RECORD SOURCE CATEGORIES:

Individual complainants who filed allegation(s) of discrimination by employer(s) against employee(s) who have exercised job safety and health responsibilities; information compiled in connection with investigations. Also employers, employees and witnesses.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/OSHA-6

SYSTEM NAME:

Program Activity File.

SECURITY CLASSIFICATION:

None.

SYSTEM LOCATION:

Office of Management Data Systems, Occupational Safety and Health Administration, Room N-3661, U.S. Department of Labor, 200 Constitution Avenue, NW., Washington, DC 20210.

CATEGORIES OF INDIVIDUALS COVERED BY THE SYSTEM:

Compliance Safety and Health Officers of the Occupational Safety and Health Administration.

CATEGORIES OF RECORDS IN THE SYSTEM:

Time sheets/logs documenting compliance safety and health officers' activities covering inspections, monitoring and other compliance-related data.

AUTHORITY FOR MAINTENANCE OF THE SYSTEM:

Occupational Safety and Health Act of 1970 (29 U.S.C. 651-678).

PURPOSE(S):

These records are maintained to document the amount of time spent by OSHA compliance safety and health officers on their various compliance-related activities. The data compiled from the time sheets are used to analyze program activity by producing such activity measures as time spent on each of various types of compliance-related activities; the data are used by key agency officials to assist in measuring the effectiveness of OSHA's enforcement activities.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Magnetic media.

RETRIEVABILITY:

By compliance safety and health officer identifying number or by inspection/investigation number.

SAFEGUARDS:

Computer file accessible only through password system available only to authorized personnel.

RETENTION AND DISPOSAL:

Data files maintained indefinitely.

SYSTEM MANAGER(S) AND ADDRESS:

Director, Office of Management Data Systems, Occupational Safety and Health Administration, U.S. Department of Labor, 200 Constitution Avenue, NW., Washington, DC 20210.

NOTIFICATION PROCEDURE:

Individuals wishing to inquire whether this system of records contains information about them should contact the system manager at the system location listed above.

RECORD ACCESS PROCEDURE:

Individuals wishing to gain access to records should contact the system manager at the system location listed above.

CONTESTING RECORD PROCEDURE:

Individuals wishing to request amendment of any record should contact the system manager at the system location listed above.

RECORD SOURCE CATEGORIES:

Compliance safety and health officers'/investigators' time logs.

SYSTEMS EXEMPTED FROM CERTAIN PROVISIONS OF THE ACT:

Not applicable.

DOL/OSHA-9

SYSTEM NAME:

OSHA Compliance Safety and Health Officer Training Record.

SECURITY CLASSIFICATION:

None.

SYSTEM LOCATION:

Regional offices of the Occupational Safety and Health Administration; see the Appendix for addresses.

CATEGORIES OF INDIVIDUALS COVERED BY THE SYSTEM:

Compliance Safety and Health Officers of the Occupational Safety and Health Administration.

CATEGORIES OF RECORDS IN THE SYSTEM:

Records reflecting training courses and programs completed by Compliance Safety and Health Officers of the Occupational Safety and Health Administration.

AUTHORITY FOR MAINTENANCE OF THE SYSTEM:

Occupational Safety and Health Act of 1970 (29 U.S.C. 651-678).

PURPOSE(S):

These records are used to determine which Compliance Safety and Health Officers have completed required training and which need added training. They are used to analyze individual training needs and to assess overall needs for training in upcoming periods; used by Regional Administrators for planning and budgetary purposes.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Manual files.

RETRIEVABILITY:

By name of individual Compliance Safety and Health Officer.

SAFEGUARDS:

Locked file cabinets.

RETENTION AND DISPOSAL:

Upon termination of employment of a Compliance Safety and Health Officer, or upon transfer to another job.

SYSTEM MANAGER(S) AND ADDRESS:

Regional Administrator at address in the Appendix where system is located.

NOTIFICATION PROCEDURE:

Individuals wishing to inquire whether this system of records contains information about them should contact the system manager at the appropriate system location listed above.

RECORD ACCESS PROCEDURE:

Individuals wishing to gain access to records should contact the system manager at the system location listed above.

CONTESTING RECORD PROCEDURE:

Individuals wishing to request amendment of any records should contact the system manager at the system location listed above.

RECORD SOURCE CATEGORIES:

Official personnel folders; certificates of training; individuals concerned.

SYSTEMS EXEMPTED FROM CERTAIN PROVISIONS OF THE ACT:

Not applicable.

DOL/OSHA-10

SYSTEM NAME:

OSHA Outreach Training Program.

SECURITY CLASSIFICATION:

None.

SYSTEM LOCATION:

Office of Training and Education, Occupational Safety and Health Administration, U.S. Department of Labor, 1555 Times Drive, Des Plaines, Illinois 60018.

CATEGORIES OF INDIVIDUALS COVERED BY THE SYSTEM:

Authorized OSHA Outreach Training Program trainers.

CATEGORIES OF RECORDS IN THE SYSTEM:

Each trainer's file contains the following information: Trainer's name, title, ID number, company name, address, telephone number, fax number, and the most recent date the individual completed an OSHA construction and/or general industry Outreach course. Files also contain the end date of outreach classes taught by the trainer, the type of training conducted, and the date that OSHA student course completion cards were sent to the trainer by OSHA. Manual files contain documentation submitted by the trainer which includes topics covered, students taught, and a copy of the letter sent to the trainer for that class.

AUTHORITY FOR MAINTENANCE OF THE SYSTEM:

Occupational Safety and Health Act of 1970 (29 U.S.C. 651-678); 5 U.S.C. 501.

PURPOSE(S):

To maintain, efficiently and accurately, information on OSHA authorized outreach trainers.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual and Automated Data Processing (ADP) Files.

RETRIEVABILITY:

Records in the manual system of records are retrieved by the date that the training class was held and by the name of the authorized OSHA outreach trainer.

Records in the ADP system are retrieved by the name of the OSHA authorized outreach trainer or by the trainer's system assigned I.D. number.

SAFEGUARDS:

Locked file cabinets for manual files; computer file accessible through password system available only to authorized OSHA personnel.

RETENTION AND DISPOSAL:

Manual system—retained 5 years, then destroyed; ADP system—retained indefinitely.

SYSTEM MANAGER(S) AND ADDRESS:

Chief, Division of Training and Educational Programs, Occupational Safety and Health Administration, U.S. Department of Labor, 1555 Times Drive, Des Plaines, Illinois 60018.

NOTIFICATION PROCEDURE:

Individuals wishing to inquire whether this system of records contains information about them should contact the system manager at the system location listed above. Name, address, and date authorized as trainer should be provided.

RECORD ACCESS PROCEDURES:

Individuals wishing to gain access should contact the system manager at the system location listed above.

CONTESTING RECORD PROCEDURES:

Individuals wishing to request amendment must contact the system manager at the system location listed above.

RECORD SOURCE CATEGORIES:

Trainers and any individuals attending any of the OSHA outreach trainer courses (500, 501, 502, 503).

SYSTEMS EXEMPTED FROM CERTAIN PROVISIONS OF THE ACT:

None.

DOL/OSHA-12

SYSTEM NAME:

OSHA Employee Conduct Investigations.

SECURITY CLASSIFICATION:

Unclassified.

SYSTEM LOCATION:

Directorate heads, separate office heads, Regional Administrators, Director Cincinnati Laboratory, Director Salt Lake City Laboratory, of the Occupational Safety and Health Administration (OSHA).

CATEGORIES OF INDIVIDUALS COVERED BY THE SYSTEM:

Employees who are the subject of an investigation or a conduct inquiry.

CATEGORIES OF RECORDS IN THE SYSTEM:

Name, organization, and other information relating to the individual involved. The record also contains investigative report(s) associated with the case, including interviews and other information gathered.

AUTHORITY FOR MAINTENANCE OF THE SYSTEM:

5 U.S.C. 301.

PURPOSE(S):

These records are maintained to ensure that all appropriate records of problems, misconduct, illegal acts, conflicts of interest, etc., are retained.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

The records are stored in file folders in metal file cabinets.

RETRIEVABILITY:

By name or case file number.

SAFEGUARDS:

The files are maintained in locked file cabinets with access available only to those with a need to know the information to perform their officially assigned duties.

RETENTION AND DISPOSAL:

Records are retained for four years following the date either: (a) They are referred to the OIG; (b) they are transferred to OPM/GOVT-3 Records of Adverse Actions and Actions Based on Unacceptable Performance; or (c) it is determined that the allegation was without sufficient merit to warrant further action, after which they are destroyed by burning.

SYSTEM MANAGER(S) AND ADDRESS:

Directorate heads, separate Office heads, Regional Administrators, Director Cincinnati Laboratory, Director Salt Lake City Laboratory, of the Occupational Safety and Health Administration at addresses listed in the Appendix.

NOTIFICATION PROCEDURE:

Inquiries should be mailed to system managers listed above at addresses listed in the Appendix.

RECORD ACCESS PROCEDURES:

Individuals wishing to gain access to records should contact the appropriate system manager at the system locations listed in the Appendix.

CONTESTING RECORD PROCEDURE:

Individuals wishing to request amendment of any non-exempt records should contact the system manager at the location listed in the Appendix.

RECORD SOURCE CATEGORIES:

Hotline complaints received through the Office of the Inspector General, or through the General Accounting Office; complaints or incident reports submitted by other employees or members of the public; and other investigative reports.

SYSTEMS EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/OSHA-13

SYSTEM NAME:

OSHA Office of Training and Education Automated Registration System.

SECURITY CLASSIFICATION:

Unclassified.

SYSTEM LOCATION:

Office of Training and Education, Occupational Safety and Health Administration, U.S. Department of Labor, 1555 Times Drive, Des Plaines, Illinois 60018.

CATEGORIES OF INDIVIDUALS COVERED BY THE SYSTEM:

Students from the U.S. Department of Labor, state governments, other Federal agencies and from the private sector. These students are primarily compliance safety and health officers, safety specialists, safety engineers, safety officers, industrial hygienists, instructors, loss control specialists, and others in occupations related to occupational safety and health.

CATEGORIES OF RECORDS IN THE SYSTEM:

Each student's file contains the following information: Student's name, office name, office address, office telephone number, course enrollment history, tuition status, student employment origin, cumulative record of student's continuing educational units (CEU's), and certification maintenance points (CMP's) issued by this office from fiscal year 1989 to the present. Reports are prepared from these records that identify by individual or group of individuals, the students first and last name, office name, and status of class(es) enrollment (i.e., enrolled, waiting, canceled, or completed). This information is reported by region, state, area office, or course.

AUTHORITY FOR MAINTENANCE OF THE SYSTEM:

Occupational Safety and Health Act of 1970 (29 U.S.C. 651-678).

PURPOSE(S):

To maintain needed enrollment information for proper management of course schedules, curricula and determining individual training needs. Records are used by managers and Office of Training Education staff to develop class rosters, student enrollment history, course/class enrollment changes on a weekly basis, training verification, cancellation notices, confirmation letters and certificates of completion for individual students. Reports are used by Office of Training and Education staff, and OSHA National Office and Regional office staff for managing the registration of students in courses.

ROUTINE USES OF RECORDS MAINTAINED IN THE SYSTEM, INCLUDING CATEGORIES OF USERS AND PURPOSES OF SUCH USES:

None, except for those universal routine uses listed in the General Prefatory Statement of this document.

DISCLOSURE TO CONSUMER REPORTING AGENCIES:

None.

POLICIES AND PRACTICES FOR STORING, RETRIEVING, ACCESSING, RETAINING AND DISPOSING OF RECORDS:

STORAGE:

Magnetic media and manual files.

RETRIEVABILITY:

The operators who operate the system can access information by student's name or by course number. The system administrator can access by student's name, course number, date of enrollment, employment origin, company name, address and phone number.

SAFEGUARDS:

Manual files are stored in locked file cabinets. The hard disk in the computer is secured by the use of a system lock to which only authorized staff have access. Backup floppy disks are stored in locked file cabinets. Access to all manual and ADP files is restricted to authorized personnel only.

RETENTION AND DISPOSAL:

Data for the current year and two preceding years will be retained on the computer hard disk. Data pre-dating this time will be backed up on floppy disks and stored in a locked cabinet. In no case will data predate fiscal year 1989. Files will be destroyed when no longer of any administrative use.

SYSTEM MANAGER(S) AND ADDRESS:

Administrative officer, Office of Training and Education, at the system location in Des Plaines, Illinois.

NOTIFICATION PROCEDURE:

Individuals wishing to inquire whether this system of records contains information about them should contact the system manager at the system location listed above.

RECORD ACCESS PROCEDURES:

Individuals wishing to gain access to non-exempt records should contact the system manager at the system location listed above.

CONTESTING RECORD PROCEDURE:

Individuals wishing to request amendment of any non-exempt records should contact the system manager at the system location listed above.

RECORD SOURCE CATEGORIES:

Students.

SYSTEMS EXEMPTED FROM CERTAIN PROVISIONS OF THE ACT:

Not applicable.

DOL/OSHA-14

SYSTEM NAME:

Office of Training and Education Computer-based Acquisition/Financial Records System.

SECURITY CLASSIFICATION:

Unclassified.

SYSTEM LOCATION:

Office of Training and Education, Occupational Safety and Health Administration, U.S. Department of Labor, 1555 Times Drive, Des Plaines, Illinois 60018.

CATEGORIES OF INDIVIDUALS COVERED BY THE SYSTEM:

Staff of the Office of Training and Education, including the Training Institute. Individuals doing business with the Office of Training and Education that involve the payment or receipt of funds.

CATEGORIES OF RECORDS IN THE SYSTEM:

Records include necessary data to prepare a procurement requisition including: The requisition number; the name of the bureau making the procurement request; the specific page number of the requisition; the date of the requisition; the accounting code; the delivery requirement address; the official's name, title, and phone number for information concerning the procurement; an identification if the procurement is for instructional services, or for other supplies/services, if for instructional services—the course number and location of the course; a specific ordering item number and/or stock number; a narrative description of the item or service; the quantity requested; the unit price; the unit issue; the total dollar amount; the narrative justification for making the request; the name, address, and phone number of the suggested vendor; the Office division making the request; and the initials of the staff person(s) making the request. This system of records also contains the necessary data for maintaining a general ledger of accounts. Information will be taken from obligating documents. Records also include necessary data to track the receipt of all receivables.

AUTHORITY FOR MAINTENANCE OF THE SYSTEM:

Occupational Safety and Health Act of 1970 (29 U.S.C. 651-678).

PURPOSE(S):

To provide an acquisition and financial management system which will improve the acquisition process; and provide an efficient means for the accurate recording, tracking, reporting, and control of Office funds and receivables.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

ADP files.

RETRIEVABILITY:

By name of vendor, by name of staff person making a procurement request, by individual travel authorization number, by individual last name, and by any of the data elements identified in the Categories of Records in the System category.

SAFEGUARDS:

Computer disks locked in file cabinets; password system for authorized persons only.

RETENTION AND DISPOSAL:

Dispose of when no longer needed for administrative purposes.

SYSTEM MANAGER(S) AND ADDRESS:

Chief, Division of Administration and Training Information, Occupational Safety and Health Administration, U.S. Department of Labor, 1555 Times Drive, Des Plaines, Illinois 60018.

NOTIFICATION PROCEDURE:

Individuals wishing to inquire whether this system of records contains information about them should contact the system manager at the system location listed above.

RECORD ACCESS PROCEDURES:

Individuals wishing to gain access to non-exempt records should contact the system manager at the system location listed above.

CONTESTING RECORD PROCEDURE:

Individuals wishing to request amendment of any records should contact the system manager at the system location listed above.

RECORD SOURCE CATEGORIES:

Administrative files and procurement files.

SYSTEM EXEMPTED FROM CERTAIN PROVISIONS OF THE ACT:

None.

DOL/OSHA-15

SYSTEM NAME:

Office of Training and Education Resource Center Loan Program.

SECURITY CLASSIFICATION:

Unclassified.

SYSTEM LOCATION:

Office of Training and Education, Occupational Safety and Health Administration, U.S. Department of Labor, 1555 Times Drive, Des Plaines, Illinois 60018.

CATEGORIES OF INDIVIDUAL COVERED BY THE SYSTEM:

Individual borrowers who have become qualified to borrow from the Resource Center Collection of occupational safety and health materials.

CATEGORIES OF RECORDS IN THE SYSTEM:

Records contain borrower name, company name and address or home address, company and home telephone numbers, fax number, application form number, application date, borrower category, audiovisual program title and accession number, audiovisual copyright date, transaction identification number, and transaction date.

AUTHORITY FOR MAINTENANCE OF THE SYSTEM:

Occupational Safety and Health Act of 1970 (29 U.S.C. 651-678) and 5 U.S.C. 301.

PURPOSE(S):

These records are maintained to facilitate the performance of the Resource Center Loan Program which loans occupational safety and health materials to qualified borrowers, for verification of borrower status and authorization to borrow, to track borrower requests for materials through processing and disposition, to maintain material availability and usage information, to track status and history of overdue materials, to maintain records on lost and damaged materials.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files for signed borrower agreement forms, borrower request forms, and program booking forms are maintained in file cabinets. Automated Data Processing (ADP) files for all other records.

RETRIEVABILITY:

By name of borrower for signed borrower agreement forms (manual), by any of the data elements in Categories of Records in the System section (ADP).

SAFEGUARDS:

Manual files and computer disks are locked in file cabinets. Password system access to authorized personnel for ADP files.

RETENTION AND DISPOSAL:

Dispose of when no longer needed for administrative purposes.

SYSTEM MANAGER(S) AND ADDRESS:

Chief, Division of Administration and Training Information, Occupational Safety and Health Administration, U.S. Department of Labor, 1555 Times Drive, Des Plaines, Illinois 60018.

NOTIFICATION PROCEDURE:

Any individual who wishes to be notified if this system of records contains a record pertaining to them may apply in writing to the system manager at the above address.

RECORD ACCESS PROCEDURES:

Any individual wishing to gain access to any records pertaining to them, may apply in writing to the system manager at the system address listed above.

CONTESTING RECORD PROCEDURES:

Individuals wishing to request modification or deletion to any records pertaining to them, may apply in writing to the system manager at the system address listed above.

RECORD SOURCE CATEGORIES:

Individuals and information pertaining to Resource Center materials are taken from Resource Center files.

SYSTEM EXEMPTED FROM CERTAIN PROVISIONS OF THE ACT:

None.

DOL/PWBA-2

SYSTEM NAME:

PWBA Enforcement Management System.

SECURITY CLASSIFICATION:

None.

SYSTEM LOCATION:

Office of Enforcement, PWBA, U.S. Department of Labor, 200 Constitution Ave., NW, Washington, DC 20210, and all PWBA field offices as listed in the Appendix A to this document.

CATEGORIES OF INDIVIDUALS COVERED BY THE SYSTEM:

Plan administrators, trustees, and those individuals who provide advice or services to employee benefit plans, and other individuals (such as the named defendants) involved in investigations and enforcement actions.

CATEGORIES OF RECORDS IN THE SYSTEM:

Information including plan name, plan administrator's name, service provider's name, trustee's name, and names of other individuals (such as the named defendants) involved in investigations and enforcement actions.

AUTHORITY FOR THE MAINTENANCE OF THE SYSTEM:

29 U.S.C. 1134-37.

PURPOSE(S):

This system of records is used to access information related to case files involving investigations instituted by the Department of Labor (DOL) under the Title I of the Employee Retirement Security Act of 1974 (ERISA). The investigative files are used in the prosecution of violations of law, whether civil or criminal in nature.

ROUTINE USES OF RECORDS MAINTAINED IN THE SYSTEM, INCLUDING CATEGORIES OF USERS AND THE PURPOSE OF SUCH USES:

In addition to those universal routine uses listed in the General Prefatory Statement to this document, pursuant to 29 U.S.C. 1134, a record from this system of records may be disclosed, subject to the restrictions imposed by various statutes and rules, such as the Privacy Act, to a department or agency of the United States, or to any person actually affected by any matter which may be the subject of the investigation; except that any information obtained by the Secretary of Labor pursuant to section 6103 of Title 26 shall be made available only in accordance with regulations prescribed by the Secretary of the Treasury.

DISCLOSURE TO CONSUMER REPORTING AGENCIES:

None.

POLICIES AND PRACTICES FOR STORING, RETRIEVING, ACCESSING, RETAINING, AND DISPOSING OF RECORDS IN THE SYSTEM:

STORAGE:

The records in this system are maintained in an electronic database and in paper case files.

RETRIEVABILITY:

Records are retrieved from the electronic database by the name of the plan, service provider name, trustee name, or the name of another individual (such as the named defendant) involved in the investigation or enforcement action. Records are also retrieved by case number, the plan's employer identification number (EIN) and plan number (if known), or service provider or trustee EIN.

SAFEGUARDS:

Direct access to and use of these records is restricted to authorized personnel in the Office of Enforcement and PWBA field offices. In the Office of Enforcement, manual files are maintained in file cabinets with access limited to OE staff. In the field offices, manual files are maintained in file cabinets with access limited to appropriate PWBA staff. In all instances, the electronic database is password protected and limited to use by authorized personnel.

RETENTION AND DISPOSAL:

Investigative case files are retained in the office for one year after completion by voluntary compliance or litigation, or related actions following voluntary compliance or litigation. After one year, the case files are transferred to the Federal Records Center for seven (7) years and then destroyed. The electronic database files are retained permanently.

SYSTEM MANAGER(S) AND ADDRESS:

In the national office: Director of Enforcement, Pension and Welfare Benefits Administration, U.S. Department of Labor, 200 Constitution Avenue, NW., Washington, DC 20210.

In the Regional offices: the Regional Director (as listed in the Appendix to this document).

In the District Offices: the District Supervisor (as listed in the Appendix A to this document).

NOTIFICATION PROCEDURES:

Individuals wishing to inquire whether this system of records contains information about them should contact the appropriate system manager described above. Individuals should furnish their full name, address, and employee benefit plan association and should identify the employee benefit plan by name, address, and EIS (if known).

RECORD ACCESS PROCEDURES:

Request for access to records should follow the Notification procedure described above. Specific materials in the system have been exempted from Privacy Act provisions under 5 U.S.C. 552a(j)(2) and (k)(2). To the extent that this system of records is not subject to exemption, it is subject to access, contest of the content of the record, and appeal of a denial to access. A determination as to exemption shall be made at the time a request for access is received. Access procedures are the same as the Notification procedures described above. Individuals requesting access must also comply with Privacy Act regulations on verification of identity and access to records (29 CFR 71.2).

CONTESTING RECORD PROCEDURES:

Same as the Notification procedure above, except individuals desiring to contest or amend information maintained in the system should direct their written request to the appropriate System Manager listed above, state clearly and concisely what information is being contested, the reasons for contesting it, and the proposed amendment to the information sought pursuant to 29 CFR 71.9.

RECORD SOURCE CATEGORIES:

Individual complaints, witnesses, or interviews conducted during investigations or plan participant or beneficiary information obtained during investigations on cases opened in the Office of Enforcement or in any of the PWBA field offices.

SYSTEMS EXEMPTED FROM CERTAIN PROVISIONS OF THE ACT:

a. Criminal Law Enforcement: In accordance with subsection 552a(j)(2) of the Privacy Act, 5 U.S.C. 552a(j)(2), information maintained for criminal law enforcement purposes in PWBA's Office of Enforcement or its field offices is exempt from subsections (c)(3) and (4), (d), (e)(1), (2), and (3), (e)(4)(G), (H), and (I), (e)(5) and (8), (f), and (g) of 5 U.S.C. 552a.

b. Other Law Enforcement: In accordance with subsection 552a(k)(2) of the Privacy Act, 5 U.S.C. 552a(k)(2), investigatory material in this system of records compiled for civil law enforcement purposes is exempt from subsections (c)(3), (d)(1), (2), (3), and (4), (e)(1), (e)(4)(G) and (I), and (f) of 5 U.S.C. 552a.

DOL/PWBA-3

SYSTEM NAME:

PWBA Correspondence Files.

SECURITY CLASSIFICATION:

None.

SYSTEM LOCATION:

Office of Participant Assistance and Communications

Office of Exemption Determinations

Office of Regulations and Interpretations

Office of Health Plan Standards and Compliance Assistance

U.S. Department of Labor, 200 Constitution Avenue, NW, Washington, DC 20210

Atlanta Regional Office, 61 Forsyth Street, Suite 7B54, Atlanta, GA 30303

Boston Regional Office, J.F.K. Building, Room 575, Boston, MA 02203

San Francisco Regional Office, 71 Stevenson Street, Suite 915, P.O. Box 190250, San Francisco, CA 94119-250

Seattle District Office, 1111 Third Avenue, MIDCOM Tower, Suite 860, Seattle, WA 98101-3212.

CATEGORIES OF INDIVIDUALS COVERED BY THE SYSTEM:

Correspondents.

CATEGORIES OF RECORDS IN THE SYSTEM:

Letters requesting information, advisory opinions, FOIA requests, Privacy Act Requests, or submitting comments, the Department's replies thereto, and related internal memoranda, including notes pertaining to meetings and telephone calls.

AUTHORITY FOR MAINTENANCE OF THE SYSTEM:

5 U.S.C. 1135.

PURPOSE(S):

These records are maintained to take action on or to respond to a complaint, inquiry or comment concerning certain aspects of Title I of ERISA or to respond to requests under FOIA or Privacy Act and to track the progress of such correspondence through the office.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files and electronic tracking system.

RETRIEVABILITY:

Files are retrieved by an individual name or control number.

SAFEGUARDS:

Access to these records is limited to authorized PWBA staff. Computer system is password protected and accessible only to personnel creating the database.

RETENTION AND DISPOSAL:

The retention schedule for FOIA and Privacy Act request files follows General Records Schedule 14 and are retained two years after date of reply or six years after issuance of the appeal determination. If there is litigation in the underlying matter, the file is retained for three years after the litigation is completed. Requests for advisory opinions and the replies thereto are retained indefinitely, requests for information are destroyed one year after completion of project. Electronic index is destroyed six years after date of last entry.

SYSTEM MANAGER(S) AND ADDRESS:

Director of the Office of Participant Assistance and Communications

Director of the Office of Exemption Determinations

Director of the Office of Regulations and Interpretations

Director of the Office of Health Plan Standards and Compliance Assistance

Pension and Welfare Benefits Administration, U.S. Department of Labor, 200 Constitution Avenue, NW, Washington, DC 20210.

Regional Directors in the following offices:

Atlanta Regional Office, 61 Forsyth Street, Suite 7B54, Atlanta, GA 30303

Boston Regional Office, J.F.K. Building, Room 575, Boston, MA 02203

San Francisco Regional Office, 71 Stevenson Street, Suite 915, PO Box 190250, San Francisco, CA 94119-250

District Supervisor, Seattle District Office, 1111 Third Avenue, MIDCOM Tower, Suite 860, Seattle, WA 98101-3212.

NOTIFICATION PROCEDURE:

Individuals wishing to inquire whether this system of records contains information about them should contact the system manager indicated above. All requests must be in writing and mailed or presented in person during the Department's normal business hours.

RECORDS ACCESS PROCEDURES:

Same as notification procedure. Individuals requesting access must also comply with U.S. Department of Labor Privacy Act regulations on verification of identity at 29 CFR 71.2.

CONTESTING RECORD PROCEDURES:

Same as notification procedure above except individuals desiring to contest or amend information maintained in the system should direct their written request to the System Manager listed above, and state clearly and concisely what information is being contested, the reasons for contesting it, and the proposed amendment to the information sought pursuant to 29 CFR 71.9.

RECORD SOURCE CATEGORIES:

Correspondence from individuals and responses thereto.

SYSTEMS EXEMPTED FROM CERTAIN PROVISIONS OF THE ACT:

None.

DOL/PWBA-4

SYSTEM NAME:

Technical Assistance and Inquiries System.

SECURITY CLASSIFICATION:

None.

SYSTEM LOCATION:

Division of Technical Assistance and Inquiries in the National office, all regional and district offices.

CATEGORIES OF INDIVIDUALS COVERED BY THE SYSTEM:

Correspondents and callers requesting information and assistance.

CATEGORIES OF RECORDS IN THE SYSTEM:

General and congressional telephone inquiries and correspondence regarding all aspects of pension and welfare benefit plans and records which provide the status of individuals under these plans.

AUTHORITY FOR THE MAINTENANCE OF THE SYSTEM:

29 U.S.C. 1135.

PURPOSE(S):

These records are used to take action on or respond to inquiries from Members of Congress and private citizens.

ROUTINE USES OF RECORDS MAINTAINED IN THE SYSTEM, INCLUDING CATEGORIES OF USERS AND THE PURPOSE OF SUCH USES:

In addition to those universal routine uses listed in the General Prefatory Statement to this document, records in this system may be disclosed to the relevant employee benefit plan administrator, third party administrator, insurance carrier or other party as necessary to facilitate a resolution to the circumstance presented by the individual seeking assistance from the agency.

DISCLOSURE TO CONSUMER REPORTING AGENCIES:

None.

POLICIES AND PRACTICES FOR STORING, RETRIEVING, ACCESSING, RETAINING, AND DISPOSING OF RECORDS IN THE SYSTEM:

STORAGE:

Records are maintained in file cabinets and on computer system.

RETRIEVABILITY:

By name of individual.

SAFEGUARDS:

In the National office, manual files are maintained in file cabinets with access limited to staff of the Division of Technical Assistance and Inquiries. In the regional and district offices, manual files are maintained in file cabinets with access limited to appropriate PWBA staff. Computer system is password protected and limited to use by authorized personnel.

RETENTION AND DISPOSAL:

Manual records are maintained for one year after closing the file, then destroyed. Computer files are maintained for the same period as the manual records or deleted when no longer needed which ever is later.

SYSTEM MANAGER(S) AND ADDRESS:

In the national office: Director of the Office of Participant Assistance and Communications, Pension and Welfare Benefits Administration, U.S. Department of Labor, 200 Constitution Avenue, NW, Washington, DC 20210.

In the Regional offices: the Regional Director

In the District Offices: the District Supervisor.

NOTIFICATION PROCEDURE:

Individuals wishing to inquire whether this system of records contains information about them should contact a system manager indicated above. Individuals must furnish their full names for their records to be located and identified.

RECORD ACCESS PROCEDURES:

Same as notification procedure. Individuals requesting access must also comply with U. S. Department of Labor Privacy Act regulations on verification of identity at 29 CFR 71.2.

CONTESTING RECORD PROCEDURES:

Same as notification procedure above except individuals desiring to contest or amend information maintained in the system should direct their written request to the System Manager listed above, and state clearly and concisely what information is being contested, the reasons for contesting it, and the proposed amendment to the information sought pursuant to 29 CFR 71.9.

RECORD SOURCE CATEGORIES:

Individuals seeking technical assistance or information.

SYSTEMS EXEMPTED FROM CERTAIN PROVISIONS OF THE ACT:

None.

DOL/PWBA-5

SYSTEM NAME:

Public Disclosure Request Tracking System.

SECURITY CLASSIFICATION:

None.

SYSTEM LOCATION:

U.S. Department of Labor, PWBA, Public Disclosure Room, U.S. Department of Labor, Washington, DC 20210.

CATEGORIES OF INDIVIDUALS COVERED BY THE SYSTEM:

Individuals who request documents.

CATEGORIES OF RECORDS IN THE SYSTEM:

Data regarding the request for copies of plan filings made with the Department of Labor or the Internal Revenue Service. Data includes individual requester's name, street address, city, state, zip code, and telephone number, the Employer Identification Number and Plan Number of the plan for which information has been requested and the documents requested.

AUTHORITY FOR THE MAINTENANCE OF THE SYSTEM:

5 U.S.C. 1021 et seq.

PURPOSE(S):

These records are used by authorized PWBA disclosure personnel to process requests made to the Public Disclosure Room and by PWBA managers to compile statistical reports regarding such requests for management information purposes.

ROUTINE USES OF RECORDS MAINTAINED IN THE SYSTEM, INCLUDING CATEGORIES OF USERS AND THE PURPOSE OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files and computer storage.

RETRIEVABILITY:

By individual name, control number or EIN/PN of requested plan.

SAFEGUARDS:

Manual files are maintained in file cabinets with access limited to authorized personnel. Computer system is password protected and accessible only to personnel creating and maintaining the database.

RETENTION AND DISPOSAL:

Manual files are destroyed after three months, the electronic index is deleted on the same schedule as the manual files or when no longer needed whichever is later.

SYSTEM MANAGER(S) AND ADDRESS:

Director of the Office of Participant Assistance and Communications, Pension and Welfare Benefits Administration, 200 Constitution Avenue, NW., Washington, DC 20210.

NOTIFICATION PROCEDURE:

Individuals wishing to inquire whether this system of records contains information about them should contact the system manager indicated above. Individuals must furnish their full names for their records to be located and identified.

RECORD ACCESS PROCEDURES:

Same as notification procedure. Individuals requesting access must also comply with U. S. Department of Labor Privacy Act regulations on verification of identity at 29 CFR 71.2.

CONTESTING RECORD PROCEDURES:

Same as notification procedure above except individuals desiring to contest or amend information maintained in the system should direct their written request to the System Manager listed above, and state clearly and concisely what information is being contested, the reasons for contesting it, and the proposed amendment to the information sought pursuant to 29 CFR 71.9.

RECORD SOURCE CATEGORIES:

Individuals requesting documents from the Public Disclosure Room.

SYSTEMS EXEMPTED FROM CERTAIN PROVISIONS OF THE ACT:

None.

DOL/PWBA-6

SYSTEM NAME:

PWBA Debt Collection/Management System.

SECURITY CLASSIFICATION:

None.

SYSTEM LOCATION:

Pension and Welfare Benefits Administration, Office of Program Planning, Evaluation and Management, U.S. Department of Labor, 200 Constitution Avenue, NW., Washington, DC 20210.

CATEGORIES OF INDIVIDUALS COVERED BY THE SYSTEM:

Individuals who have been assessed fines or penalties under provisions of ERISA sections 502(c)(2), 502(i) and 502(l).

CATEGORIES OF RECORDS IN THE SYSTEM:

Records containing data regarding the assessment of fines/penalties under provisions of ERISA sections 502(c)(2), 502(i) and 502(l). Data includes individuals (or trade) name, street address, city, state, zip code, telephone number, taxpayer identification number, and transaction information (e.g., correspondence, debt status and payment records).

AUTHORITY FOR MAINTENANCE OF THE SYSTEM:

29 U.S.C. 1132, 31 U.S.C. 3711(a) and 29 CFR Part 20.

PURPOSE(S):

Records are used for maintaining an ongoing Debt Collection/Management Program requiring tracking and accounting for assessed fines/penalties, determination of collection status and assignment of delinquent debts to private collection agencies.

ROUTINE USES OF RECORDS MAINTAINED IN THE SYSTEM, INCLUDING CATEGORIES OF USERS AND PURPOSES OF SUCH USES:

Relevant records may be disclosed to private collection agencies in order for them to collect debts subject to this program.

DISCLOSURE TO CONSUMER REPORTING AGENCIES:

Records may be disclosed for delinquent accounts.

POLICIES AND PRACTICES FOR STORING, RETRIEVING, ACCESSING, RETAINING AND DISPOSING OF RECORDS:

STORAGE:

Manual files and computer storage.

RETRIEVABILITY:

Debt Collection/Management data is sorted numerically by assigned case number. Records in this system are retrieved by computer and manually using the PWBA-assigned case number and a cross-reference debtor taxpayer identification number.

SAFEGUARDS:

Manual files are maintained in file cabinets with access limited to authorized personnel. Computer system is accessible, through password, only to personnel creating and maintaining the database.

RETENTION AND DISPOSAL:

Both, manual and automated records are maintained for two years after the case is closed or until expiration of applicable statute of limitations, whichever occurs first.

SYSTEM MANAGER(S) AND ADDRESS:

Administrative Officer, Pension and Welfare Benefits Administration, U.S. Department of Labor, 200 Constitution Avenue, NW, Washington, DC 20210.

NOTIFICATION PROCEDURE:

Individuals wishing to inquire whether this system of records contains information about them should contact the system manager indicated above. Individuals must furnish their full name and additional personal identifiers for their records to be located and identified.

RECORD ACCESS PROCEDURE:

See notification procedure above. Individuals requesting access must also comply with Privacy Act regulations on verification of identity and access to records. (29 CFR 71.2.).

CONTESTING RECORD PROCEDURE:

Same as notification procedure above, except individuals desiring to contest or amend information maintained in the system should direct their written request to the system manager listed above, and state clearly and concisely what information is being contested, the reasons for contesting it, and the proposed amendment to the information sought pursuant to 29 CFR 71.9.

RECORD SOURCE CATEGORIES:

Investigators and auditors.

SYSTEMS EXEMPTED FROM CERTAIN PROVISIONS OF THE ACT:

None.

DOL/PWBA-7

SYSTEM NAME:

PWBA Employee Conduct Investigations.

SECURITY CLASSIFICATION:

None.

SYSTEM LOCATION:

U.S. Department of Labor, Pension and Welfare Benefits Administration, Office of Program Planning, Evaluation and Management, 200 Constitution Avenue, NW., Washington, DC 20210.

CATEGORIES OF INDIVIDUALS COVERED BY THE SYSTEM:

PWBA employee(s) against whom allegations of misconduct have been made.

CATEGORIES OF RECORDS IN THE SYSTEM:

The file contains investigative report(s) compiled in the course of employee misconduct investigations, including interviews and other data.

AUTHORITY FOR MAINTENANCE OF THE SYSTEM:

5 U.S.C. 301.

PURPOSE(S):

The records are compiled as an adjunct to investigating allegations of employee misconduct, to make determinations on personnel actions and to document agency action in most cases.

ROUTINE USE OF RECORDS MAINTAINED IN THE SYSTEMS, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

The records are stored in file folders in metal cabinets.

RETRIEVABILITY:

Records are retrieved by name.

SAFEGUARDS:

The files are maintained in locked file cabinets with access only to those with a need to know the information to perform their duties. A charge out system is used to monitor and restrict the withdrawal of records from this file.

RETENTION AND DISPOSAL:

Records are retained for four years following the date either: (a) They are referred to the OIG; (b) they are transferred to OPM/GOVT-3 Records of Adverse Actions and Actions Based on Unacceptable Performance; or (c) it is determined that the allegation was without sufficient merit to warrant further action, after which they are destroyed by burning.

SYSTEM MANAGER(S) AND ADDRESS:

Director, Office of Program Planning, Evaluation, and Management, Pension and Welfare Benefits Administration, 200 Constitution Avenue NW., Washington, DC 20210.

NOTIFICATION PROCEDURE:

Inquiries should be mailed or presented to the System Manager noted at the address listed above.

RECORD ACCESS PROCEDURES:

A request for access shall be addressed to the System Manager at the address listed above. Individuals must furnish the following information for their records to be located and identified:

a. Name.

b. Approximate date of the investigation.

Individuals requesting access must also comply with the Privacy Act regulations regarding verification of identity at 29 CFR 71.2.

CONTESTING RECORD PROCEDURES:

Same as notification procedure above except individuals desiring to contest or amend information maintained in the system should direct their written request to the System Manager listed above, and state clearly and concisely what information is being contested, the reasons for contesting it, and the proposed amendment to the information sought pursuant to 29 CFR 71.9.

RECORD SOURCE CATEGORIES:

Complaints through the Office of the Inspector General's and the General Accounting Office's hotline system; allegations and incident reports submitted by employees; statements by the subject, fellow employees or members of the public; and other investigative reports.

SYSTEMS EXEMPTED FROM CERTAIN PROVISIONS OF THE ACT:

In accordance with 5 U.S.C. 552a(k)(2), investigatory material in this system of records compiled for law enforcement purposes is exempt from subsections (c)(3); (d); (e)(1); (e)(4) (G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/PWBA-8

SYSTEM NAME:

PWBA Consolidated Training Record.

SECURITY CLASSIFICATION:

Unclassified.

SYSTEM LOCATION:

Office of Program Planning, Evaluation & Management, Pension and Welfare Benefits Administration, 200 Constitution Avenue, NW., Washington, DC 20210.

CATEGORIES OF INDIVIDUALS COVERED BY THE SYSTEM:

Employees of the Pension and Welfare Benefits Administration.

CATEGORIES OF RECORDS IN THE SYSTEM:

Records reflect educational attainment levels (to include areas of study), professional certifications, date of accession to PWBA, in-house (PWBA) technical training courses and Federal Law Enforcement Training Center programs completed by employees of the Pension and Welfare Benefits Administration.

AUTHORITY FOR MAINTENANCE OF THE SYSTEM:

5 U.S.C. 301.

PURPOSE(S):

These records are used to identify which employees have completed certain of the courses, and the number of employees awaiting training. This information, in the aggregate, helps project the number of courses to schedule for succeeding years. The prior formal education information is used to respond to Congressional and other inquiries regarding the educational attainment level of our workforce. Finally, a combination of the data elements is used to identify employees with specific educational backgrounds and current skill levels who may be considered as Instructors for the several agency-sponsored courses.

ROUTINE USES OF RECORDS MAINTAINED IN THE SYSTEM, INCLUDING CATEGORIES OF USERS AND THE PURPOSES OF SUCH USES;

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Electronic Files.

RETRIEVABILITY:

By name of the individual employee.

SAFEGUARDS:

System is password protected and limited to use by authorized personnel in the Office of Program Planning, Evaluation and Management.

RETENTION AND DISPOSAL:

Destroyed when 5 years old or when no longer needed, whichever is later.

SYSTEM MANAGER(S) AND ADDRESS:

PWBA Training Coordinator, Office of Program Planning, Evaluation and Management, PWBA, U.S. Department of Labor, 200 Constitution Avenue, NW, Washington, DC 20210.

NOTIFICATION PROCEDURE:

Individuals wishing to inquire whether this system of records contains information about them should contact the system manager at the system location listed above.

RECORD ACCESS PROCEDURES:

Same as notification procedure. Individuals requesting access must also comply with U.S. Department of Labor Privacy Act regulations on verification of identity at 29 CFR 71.2.

CONTESTING RECORD PROCEDURES:

Same as notification procedure above except individuals desiring to contest or amend information maintained in the system should direct their written request to the System Manager listed above, and state clearly and concisely what information is being contested, the reasons for contesting it, and the proposed amendment to the information sought pursuant to 29 CFR 71.9.

RECORD SOURCE CATEGORIES:

Individual employees, SF171s, or resume(s) submitted at time of accession to PWBA and individual training course records.

SYSTEMS EXEMPTED FROM CERTAIN PROVISIONS OF THE ACT:

None.

DOL/PWBA-9

SYSTEM NAME:

Office of Enforcement Correspondence Tracking System.

SECURITY CLASSIFICATION:

None.

SYSTEM LOCATION:

Office of Enforcement, PWBA, U.S. Department of Labor, 200 Constitution Ave., NW., Washington, DC 20210.

CATEGORIES OF INDIVIDUALS COVERED BY THE SYSTEM:

Correspondents, such as employee benefit plan professionals, and other individuals involved in investigations and enforcement actions.

CATEGORIES OF RECORDS IN THE SYSTEM:

Information including plan name, plan administrator's name, service provider's name, trustee's name, and names of other individuals (such as the named defendants) involved in investigations and enforcement actions. Letters from the general public requesting information under the Freedom of Information Act or relating to all aspects of pension and welfare benefit plans covered by Title I of the Employee Retirement Income Security Act of 1974 (ERISA), the status of individuals under these plans, the Department's replies to the inquiries, and related internal memoranda, including notes pertaining to meetings and telephone calls.

AUTHORITY FOR THE MAINTENANCE OF THE SYSTEM:

29 U.S.C. 1134-37.

PURPOSE(S):

This system of records is used to track the progress of correspondence through the Office of Enforcement, including a record of action taken on or response to an inquiry received from the general public or others, and to access investigative information related to field office correspondence regarding investigations instituted by the Department of Labor (DOL) under the Title I of the Employee Retirement Security Act of 1974 (ERISA). The investigative files are used in the prosecution of violations of law, whether civil, criminal or regulatory in nature.

ROUTINE USES OF RECORDS MAINTAINED IN THE SYSTEM, INCLUDING CATEGORIES OF USERS AND THE PURPOSE OF SUCH USES:

In addition to those universal routine uses listed in the General Prefatory Statement to this document, pursuant to 29 U.S.C. 1134, a record from this system of records may be disclosed, subject to the restrictions imposed by various statutes and rules, such as the Privacy Act, to a department or agency of the United States, or to any person actually affected by any matter which may be the subject of the investigation; except that any information obtained by the Secretary of Labor pursuant to section 6103(g) of Title 26 shall be made available only in accordance with regulations prescribed by the Secretary of the Treasury.

DISCLOSURE TO CONSUMER REPORTING AGENCIES:

None.

POLICIES AND PRACTICES FOR STORING, RETRIEVING, ACCESSING, RETAINING, AND DISPOSING OF RECORDS IN THE SYSTEM:

STORAGE:

The records in this system are maintained in an electronic database.

RETRIEVABILITY:

Records are retrieved from the electronic database by the name of the plan, service provider name, trustee name, the name of another individual (such as the named defendant) involved in the investigation or enforcement action, or the name of the correspondent. Records are also retrieved by case number, the plan's employer identification number (EIN).

SAFEGUARDS:

Direct access to and use of these records is restricted to authorized personnel in the Office of Enforcement. General correspondence are maintained in file cabinets with access limited to OE staff. The electronic database is password protected and limited to use by authorized personnel.

RETENTION AND DISPOSAL:

General correspondence files are destroyed after three years. The electronic database files are deleted when no longer needed.

SYSTEM MANAGER(S) AND ADDRESS:

Director of Enforcement, Pension and Welfare Benefits Administration, U.S. Department of Labor, 200 Constitution Avenue, NW, Washington, DC 20210.

NOTIFICATION PROCEDURES:

Individuals wishing to inquire whether this system of records contains information about them should contact the System Manager. Individuals should furnish their full name, address, and employee benefit plan association and should identify the employee benefit plan by name, address, and EIN (if known).

RECORD ACCESS PROCEDURES:

Request for access to records should follow the notification procedure described above. Specific materials in the system have been exempted from Privacy Act provisions under 5 U.S.C. 552a (j)(2) and (k)(2). To the extent that this system of records is not subject to exemption, it is subject to access, contest of the content of the record, and appeal of a denial to access. A determination as to exemption shall be made at the time a request for access is received. Access procedures are the same as the Notification procedures described above. Individuals requesting access must also comply with Privacy Act regulations regarding verification of identity and access to records (29 CFR 71.2).

CONTESTING RECORD PROCEDURES:

Same as the Notification procedure above, except individuals desiring to contest or amend information maintained in the system should direct their written request to the appropriate System Manager listed above, state clearly and concisely what information is being contested, the reasons for contesting it, and the proposed amendment to the information sought pursuant to 29 CFR 71.9.

RECORD SOURCE CATEGORIES:

Correspondence from individuals, individual complaints, witnesses, or interviews conducted during investigations or plan participant or beneficiary information obtained during investigations on cases opened in the Office of Enforcement or in any of the PWBA field offices.

SYSTEMS EXEMPTED FROM CERTAIN PROVISIONS OF THE ACT:

a. Criminal Law Enforcement: In accordance with subsection 552a(j)(2) of the Privacy Act, 5 U.S.C. 552a(j)(2), information maintained for criminal law enforcement purposes in PWBA's Office of Enforcement or its field offices is exempt from subsections (c)(3), and (4), (d), (e)(1), (2), and (3), (e)(4)(G), (H), and (I), (e) (5) and (8), (f), and (g) of 5 U.S.C. 552a.

b. Other Law Enforcement: In accordance with subsection 552a(k)(2) of the Privacy Act, 5 U.S.C. 552a(k)(2), investigatory material in this system of records compiled for civil law enforcement purposes is exempt from subsections (c)(3), (d)(1), (2), (3), and (4), (e)(1), (e)(4)(G) and (I), and (f) of 5 U.S.C. 552a.

DOL/PWBA-10

SYSTEM NAME:

PWBA Civil Litigation Case Information System.

SECURITY CLASSIFICATION:

None.

SYSTEM LOCATION:

Office of Enforcement, PWBA, U.S. Department of Labor, 200 Constitution Ave., NW, Washington, DC 20210.

CATEGORIES OF INDIVIDUALS COVERED BY THE SYSTEM:

The named defendants in the civil actions, and the names of other individuals involved in investigations and enforcement actions resulting in civil litigation with PWBA.

CATEGORIES OF RECORDS IN THE SYSTEM:

Documents such as litigation memoranda, legal documents, press releases, judgements, consent orders and other documents which relate information about a case in civil litigation. Information includes plan name, plan administrator's name, service provider's name, trustee's name, the named defendants, and the names of other individuals involved in investigations and enforcement actions resulting in civil litigation with PWBA.

AUTHORITY FOR THE MAINTENANCE OF THE SYSTEM:

29 U.S.C. 1134-37.

PURPOSE(S):

This system of records is used to access information related to civil litigation case files involving investigations instituted by the Department of Labor (DOL) under the Title I of the Employee Retirement Security Act of 1974 (ERISA). The civil litigation case files are used in the prosecution of violations of law.

ROUTINE USES OF RECORDS MAINTAINED IN THE SYSTEM, INCLUDING CATEGORIES OF USERS AND THE PURPOSE OF SUCH USES:

In addition to those universal routine uses listed in the General Prefatory Statement to this document, pursuant to 29 U.S.C. 1134, a record from this system of records may be disclosed, subject to the restrictions imposed by various statutes and rules, such as the Privacy Act, to a department or agency of the United States, or to any person actually affected by any matter which may be the subject of the investigation; except that any information obtained by the Secretary of Labor pursuant to section 6103(g) of Title 26 shall be made available only in accordance with regulations prescribed by the Secretary of the Treasury.

DISCLOSURE TO CONSUMER REPORTING AGENCIES:

None.

POLICIES AND PRACTICES FOR STORING, RETRIEVING, ACCESSING, RETAINING, AND DISPOSING OF RECORDS IN THE SYSTEM:

STORAGE:

The records in this system are maintained in an electronic database and in manual files.

RETRIEVABILITY:

Records are retrieved by the name of the plan, service provider name, trustee name, and/or the named defendants in the investigation or enforcement action.

SAFEGUARDS:

Direct access to and use of these records is restricted to authorized personnel in the Office of Enforcement (OE). The civil litigation case files are maintained in file cabinets with access limited to OE staff. The electronic database is password protected and limited to use by authorized personnel.

RETENTION AND DISPOSAL:

Manual files are destroyed after three years, the electronic index is deleted on the same schedule as the manual files or when no longer needed whichever is later.

SYSTEM MANAGER(S) AND ADDRESS:

Director of Enforcement, Pension and Welfare Benefits Administration, U.S. Department of Labor, 200 Constitution Avenue, NW., Washington, DC 20210.

NOTIFICATION PROCEDURES:

Individuals wishing to inquire whether this system of records contains information about them should contact the system manager. Individuals should furnish their full name, address, and employee benefit plan association and should identify the employee benefit plan by name and address.

RECORD ACCESS PROCEDURES:

Request for access to records should follow the Notification procedure described above. Specific materials in the system have been exempted from Privacy Act provisions under 5 U.S.C. 552a. To the extent that this system of records is not subject to exemption, it is subject to access, contest of the content of the record, and appeal of a denial to access. A determination as to exemption shall be made at the time a request for access is received. Access procedures are the same as the Notification procedures described above. Individuals requesting access must also comply with Privacy Act regulations on verification of identity and access to records (29 CFR 71.2).

CONTESTING RECORD PROCEDURES:

Same as the Notification procedure above, except individuals desiring to contest or amend information maintained in the system should direct their written request to the System Manager, state clearly and concisely what information is being contested, the reasons for contesting it, and the proposed amendment to the information sought pursuant to 29 CFR 71.9.

RECORD SOURCE CATEGORIES:

Investigators, individual defendants, witnesses, and other individuals who have relevant information.

SYSTEMS EXEMPTED FROM CERTAIN PROVISIONS OF THE ACT:

In accordance with subsection 552a(k)(2) of the Privacy Act, 5 U.S.C. 552a(k)(2), investigatory material in this system of records compiled for civil law enforcement purposes is exempt from subsections (c)(3), (d)(1), (2), (3), and (4), (e)(1), (e)(4)(G) and (I), and (f) of 5 U.S.C. 552a, provided however, that if any individual is denied any right, privilege or benefit to which he would otherwise be entitled by Federal law, or for which he would otherwise be eligible, as a result of the maintenance of such material, such material shall be provided to such individual, except to the extent that the disclosure of such material would reveal the identity of a source who furnished information to the Government under an express promise that the identity of the source would be held in confidence, or prior to January 1, 1975, under an implied promise that the identity of the source would be held in confidence. Accordingly the following systems of records are exempt from (c)(3), (d)(1), (d)(2), (d)(3), (d)(4), (e)(1), (e)(4)(G), (e)(4)(I) and (f) of 5 U.S.C. 552a.

DOL/PWBA-11

SYSTEM NAME:

PWBA Criminal Case Information System.

SECURITY CLASSIFICATION:

None.

SYSTEM LOCATION

Office of Enforcement, PWBA, U.S. Department of Labor, 200 Constitution Ave., NW, Washington, DC 20210.

CATEGORIES OF INDIVIDUALS COVERED BY THE SYSTEM:

Defendants in criminal actions involving private sector employee benefit plans.

CATEGORIES OF RECORDS IN THE SYSTEM:

Court and other documents which transmit information about the progress and/or disposition of criminal cases involving private sector employee benefit plans and written summaries of same. Documents include media articles, press releases, indictments, plea agreements, judgements, appellate documents and documents bearing evidence of restitution.

AUTHORITY FOR THE MAINTENANCE OF THE SYSTEM:

29 U.S.C. 1134-37.

PURPOSE(S):

This system of records is used to access information related to criminal actions involving investigations conducted by the Department of Labor (DOL). The criminal information files are used in the prosecution of violations of law.

ROUTINE USES OF RECORDS MAINTAINED IN THE SYSTEM, INCLUDING CATEGORIES OF USERS AND THE PURPOSE OF SUCH USES:

In addition to those universal routine uses listed in the General Prefatory Statement to this document, pursuant to 29 U.S.C. 1134, a record from this system of records may be disclosed, subject to the restrictions imposed by various statutes and rules, such as the Privacy Act, to a department or agency of the United States, or to any person actually affected by any matter which may be the subject of the investigation; except that any information obtained by the Secretary of Labor pursuant to section 6103(g) of Title 26 shall be made available only in accordance with regulations prescribed by the Secretary of the Treasury.

DISCLOSURE TO CONSUMER REPORTING AGENCIES:

None.

POLICIES AND PRACTICES FOR STORING, RETRIEVING, ACCESSING, RETAINING, AND DISPOSING OF RECORDS IN THE SYSTEM:

STORAGE:

The records in this system are maintained in an electronic tracking system and in manual files.

RETRIEVABILITY:

Manual files are retrieved by the name of the defendant. Records in electronic index may be retrieved by court, defendant's name, violation, type of plan, etc.

SAFEGUARDS:

Direct access to and use of these records is restricted to authorized personnel in the Office of Enforcement. The electronic system is password protected and limited to use by authorized personnel.

RETENTION AND DISPOSAL:

Manual files are destroyed after three years after case is closed, the electronic index is deleted on the same schedule as the manual files or when no longer needed whichever is later.

SYSTEM MANAGER(S) AND ADDRESS:

Director of Enforcement, Pension and Welfare Benefits Administration, U.S. Department of Labor, 200 Constitution Avenue, NW, Washington, DC 20210.

NOTIFICATION PROCEDURES:

Individuals wishing to inquire whether this system of records contains information about them should contact the system manager. Individuals should furnish their full name, address, and employee benefit plan association and should identify the employee benefit plan by name and address.

RECORD ACCESS PROCEDURES:

Request for access to records should follow the Notification procedure described above. Specific materials in the system have been exempted from Privacy Act provisions under 5 U.S.C. 552a(j)(2). To the extent that this system of records is not subject to exemption, it is subject to access, contest of the content of the record, and appeal of a denial to access. A determination as to exemption shall be made at the time a request for access is received. Access procedures are the same as the Notification procedures described above. Individuals requesting access must also comply with Privacy Act regulations on verification of identity and access to records (29 CFR 71.2).

CONTESTING RECORD PROCEDURES:

Same as the Notification procedure above, except individuals desiring to contest or amend information maintained in the system should direct their written request to the System Manager, state clearly and concisely what information is being contested, the reasons for contesting it, and the proposed amendment to the information sought pursuant to 29 CFR 71.9.

RECORD SOURCE CATEGORIES:

Individual defendants, witnesses, and other individuals who have relevant information.

SYSTEMS EXEMPTED FROM CERTAIN PROVISIONS OF THE ACT:

In accordance with subsection 552a(j)(2) of the Privacy Act, 5 U.S.C. 552a(j)(2), information maintained for criminal law enforcement purposes in PWBA's Office of Enforcement or its field offices is exempt from subsections (c)(3) and (4), (d), (e)(1), (2), and (3), (e)(4)(G), (H), and (I), (e) (5) and (8), (f), and (g) of 5 U.S.C. 552a.

DOL/PWBA-12

SYSTEM NAME:

Publication Hotline Requests

SECURITY CLASSIFICATION:

None.

SYSTEM LOCATION:

GMR, Inc. 7203 Gateway Court, Manassas, VA 20109.

CATEGORIES OF INDIVIDUALS COVERED BY THE SYSTEM:

Individuals requesting PWBA publications via the toll free telephone number.

CATEGORIES OF RECORDS IN THE SYSTEM:

Data regarding requests for copies of PWBA publications that are received through the toll free publication request line. Data includes individual requester's name, street address, city, state, zip code, telephone number, the publication(s) ordered and the quantity, the date the order was placed and the date it was filled.

AUTHORITY FOR THE MAINTENANCE OF THE SYSTEM:

5 U.S.C. 1135.

PURPOSE(S):

These records are maintained to process requests made to the PWBA Toll Free Publication Hotline for publications.

ROUTINE USES OF RECORDS MAINTAINED IN THE SYSTEM, INCLUDING CATEGORIES OF USERS AND THE PURPOSE OF SUCH USES:

None except those mentioned in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Computer storage.

RETRIEVABILITY:

Records on this system are retrieved electronically by using the name of requestor.

SAFEGUARDS:

Computer system is password protected and accessible only to personnel creating and maintaining the database.

RETENTION AND DISPOSAL:

Destroyed when three months old or when no longer needed, whichever is later.

SYSTEM MANAGER(S) AND ADDRESS:

Director of the Office of Participant Assistance and Communications, Pension and Welfare Benefits Administration, U.S. Department of Labor, 200 Constitution Avenue, NW, Washington, DC 20210.

NOTIFICATION PROCEDURE:

Individuals wishing to inquire whether this system of records contains information about them should contact the system manager indicated above. Individuals must furnish their full names for their records to be located and identified.

RECORD ACCESS PROCEDURES:

Same as notification procedure. Individuals requesting access must also comply with Privacy Act regulations on verification of identity and access to records (29 CFR 71.2).

CONTESTING RECORD PROCEDURES:

Same as Notification procedure above except individuals desiring to contest or amend information maintained in the system should direct their written request to the System Manager listed above, and state clearly and concisely what information is being contested, the reasons for contesting it, and the proposed amendment to the information sought pursuant to 29 CFR 71.9.

RECORD SOURCE CATEGORIES:

Individuals requesting publications.

SYSTEMS EXEMPTED FROM CERTAIN PROVISIONS OF THE ACT:

None.

DOL/PWBA-13

SYSTEM NAME:

Office of Exemption Determination ERISA Sec. 502(l) Files.

SECURITY CLASSIFICATION:

None.

SYSTEM LOCATION:

Office of Exemption Determinations, Pension and Welfare Benefits Administration, U.S. Department of Labor, 200 Constitution Avenue, NW., Washington, DC 20210.

CATEGORIES OF INDIVIDUALS COVERED BY THE SYSTEM:

Individuals who have petitioned the Secretary of Labor for relief from the monetary penalties imposed under ERISA Sec. 502(l).

CATEGORIES OF RECORDS IN THE SYSTEM:

Letters from individuals seeking relief from the 502(l) penalties, attachments supporting their petitions for relief, the Department's replies thereto, and related internal memoranda, including notes pertaining to meetings and telephone calls.

AUTHORITY FOR MAINTENANCE OF THE SYSTEM:

29 U.S.C. 1135.

PURPOSE(S):

These records are maintained to document the Department's response to petitioners' requests for relief from the section 502(l) penalties. Such penalties are imposed upon those who are found to have violated the fiduciary and prohibited transaction provisions of Part 4 of Title I of ERISA.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files and computerized index.

RETRIEVABILITY:

Files are retrieved by name of requester using a computerized index.

SAFEGUARDS:

Access to these records is limited to authorized PWBA staff. Computer system is password protected and accessible only to personnel creating the database.

RETENTION AND DISPOSAL:

Manual records are maintained in the Office of Exemption Determinations for up to two years after case closure, then transferred to the Federal Records Center for retention for an additional 23 years. Electronic records are destroyed on the same schedule as the manual files or when no longer needed, whichever is later.

SYSTEM MANAGER(S) AND ADDRESS:

Director of Exemption Determinations, Pension and Welfare Benefits Administration, U.S. Department of Labor, 200 Constitution Avenue, NW, Washington, DC 20210.

NOTIFICATION PROCEDURE:

Individuals wishing to inquire whether this system of records contains information about them should contact the system manager indicated above. All requests must be in writing and mailed or presented in person during the Department's normal business hours.

RECORDS ACCESS PROCEDURES:

Same as notification procedures. Individuals requesting access must also comply with Privacy Act regulations on verification of identity and access to records (29 CFR 71.2).

CONTESTING RECORD PROCEDURES:

Same as notification procedure above except individuals desiring to contest or amend information maintained in the system should direct their written request to the system manager listed above, and state clearly and concisely what information is being contested, the reasons for contesting it, and the proposed amendment to the information sought pursuant to 29 CFR 71.9.

RECORD SOURCE CATEGORIES:

Individuals requesting a 502(l) exemption and the responses thereto.

SYSTEMS EXEMPTED FROM CERTAIN PROVISIONS OF THE ACT:

None.

DOL/PWBA-14

SYSTEM NAME:

Investment Advisor Registration Data Base.

SECURITY CLASSIFICATION:

None.

SYSTEM LOCATION:

Department of Labor, PWBA Public Disclosure Room, U.S. Department of Labor, Washington, DC 20210.

CATEGORIES OF INDIVIDUALS COVERED BY THE SYSTEM:

Investment advisers who manage less than $25 million in assets and wish to obtain investment advisor status under the Employee Retirement Income Security Act.

CATEGORIES OF RECORDS IN THE SYSTEM:

Copies of state registration forms. Such forms vary from state to state, but typically include name, SEC file number, Employer Identification number, social security number, business address, etc.

AUTHORITY FOR THE MAINTENANCE OF THE SYSTEM:

29 U.S.C. 1002(38).

PURPOSE(S):

To develop a listing of individuals who have status as an investment advisors under ERISA.

ROUTINE USES OF RECORDS MAINTAINED IN THE SYSTEM, INCLUDING CATEGORIES OF USERS AND THE PURPOSE OF SUCH USES:

The records must be publicly available in accordance with ERISA.

DISCLOSURE TO CONSUMER REPORTING AGENCIES:

None.

POLICIES AND PRACTICES FOR STORING, RETRIEVING, ACCESSING, RETAINING, AND DISPOSING OF RECORDS IN THE SYSTEM:

STORAGE:

Manual records and electronic listing.

RETRIEVABILITY:

Records on this system are retrieved electronically by the name of investment advisor. A list of the name, location, state of registration, and date filed is available on the PWBA web-site.

SAFEGUARDS:

Computer system is password protected and accessible only to personnel creating and maintaining the database. Manual files are stored off site and are only available to authorized personnel.

RETENTION AND DISPOSAL:

Manual files are destroyed when six years old. Electronic version is deleted on the same schedule as the manual files or when no longer needed, whichever is later.

SYSTEM MANAGER(S) AND ADDRESS:

Director of the Office of Participant Assistance and Communications, Pension and Welfare Benefits Administration, U.S. Department of Labor, 200 Constitution Avenue, NW., Washington, DC 20210.

NOTIFICATION PROCEDURE:

Individuals wishing to inquire whether this system of records contains information about them should contact the system manager indicated above. Individuals must furnish their full names for their records to be located and identified.

RECORD ACCESS PROCEDURES:

Same as notification procedure. Individuals requesting access must also comply with Privacy Act regulations on verification of identity and access to records (29 CFR 71.2).

CONTESTING RECORD PROCEDURES:

Same as notification procedure above except individuals desiring to contest or amend information maintained in the system should direct their written request to the System Manager listed above, and state clearly and concisely what information is being contested, the reasons for contesting it, and the proposed amendment to the information sought pursuant to 29 CFR 71.9.

RECORD SOURCE CATEGORIES:

Investment advisors who request investment advisor status under ERISA.

SYSTEMS EXEMPTED FROM CERTAIN PROVISIONS OF THE ACT:

None.

DOL/PWBA-15

SYSTEM NAME:

PWBA Inventory Management Data Base.

SECURITY CLASSIFICATION:

None.

SYSTEM LOCATION:

U.S. Department of Labor, Office of Information Management, Pension and Welfare Benefits Administration, 200 Constitution Avenue, NW., Washington, DC 20210.

CATEGORIES OF INDIVIDUALS COVERED BY THE SYSTEM:

Individuals assigned custody of PWBA-owned ADP equipment.

CATEGORIES OF RECORDS IN THE SYSTEM:

Electronic records of PWBA-owned ADP hardware, its assigned location, the individual assigned custody of equipment, acquisition/disposal and warranty data.

AUTHORITY FOR MAINTENANCE OF THE SYSTEM:

5 U.S.C. 301.

PURPOSE(S):

To identify the makes and models of all PWBA owned ADP hardware, the equipment's current location within the agency and the individual to whom it is assigned.

ROUTINE USES OF RECORDS MAINTAINED IN THE SYSTEM, INCLUDING CATEGORIES OF USERS AND THE PURPOSES OF SUCH USES:

None, except for those universal routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Electronic database.

RETRIEVABILITY:

Files are retrieved using individual's name.

SAFEGUARDS:

Access to these records is limited to authorized PWBA staff. The computer system provides security with: (1) Mapping rights on the network, (2) network user logon passwords, and (3) database passwords.

RETENTION AND DISPOSAL:

Records are destroyed when no longer needed for administrative, legal, audit, or other operational purposes.

SYSTEM MANAGER(S) AND ADDRESS:

Director of Information Management, Pension and Welfare Benefits Administration, U.S. Department of Labor, 200 Constitution Ave., NW., Washington, DC 20210.

NOTIFICATION PROCEDURE:

Individuals wishing to inquire whether this system of records contains information about them should contact the system manager indicated above. All requests must be in writing and mailed or presented in person during the Department's normal business hours.

RECORDS ACCESS PROCEDURES:

Same as notification procedure. Individuals requesting access must also comply with US Department of Labor Privacy Act regulations on verification of identity at 29 CFR 71.2.

CONTESTING RECORD PROCEDURES:

Same as notification procedure above except individuals desiring to contest or amend information maintained in the system should direct their written request to the System Manager listed above, and state clearly and concisely what information is being contested, the reasons for contesting it, and the proposed amendment to the information sought pursuant to 29 CFR 71.9.

RECORD SOURCE CATEGORIES:

Individuals assigned computer equipment and individuals assigning the computer equipment.

SYSTEMS EXEMPTED FROM CERTAIN PROVISIONS OF THE ACT:

None.

DOL/PWBA-16

SYSTEM NAME:

Form 5500EZ Filings.

SECURITY CLASSIFICATION:

None.

SYSTEM LOCATION:

U.S. Department of Labor, Pension and Welfare Benefits Administration, Attention: EFAST 3833 Greenway Drive, Lawrence, KS 66046-1290.

CATEGORIES OF INDIVIDUALS COVERED BY THE SYSTEM:

Individuals who have filed a Form 5500EZ with the Department of Labor for plan years beginning on or after January 1, 1999.

CATEGORIES OF RECORDS IN THE SYSTEM:

Forms 5500EZ filed with the Department of Labor for plan years beginning on or after January 1, 1999.

AUTHORITY FOR MAINTENANCE OF THE SYSTEM:

26 U.S.C. 6058(a); 29 U.S.C. 1135, 1137, 1143.

PURPOSE(S):

These records satisfy the reporting and disclosure requirements mandated by the Employee Retirement Income Security Act of 1974, as amended, and the Internal Revenue Code.

Note: This system of records is maintained by the Department of Labor for the benefit of the Internal Revenue Service (IRS).

ROUTINE USES OF RECORDS MAINTAINED IN THE SYSTEM, INCLUDING CATEGORIES OF USERS AND THE PURPOSE OF SUCH USES:

None, except for those routine uses listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Original paper filings, electronic image files of the filings, and electronic data files extracted from the filing.

RETRIEVABILITY:

Retrieved using personal name, taxpayer identification number, or Social Security number; plan number; and plan year.

Note: Only the IRS can retrieve this data.

SAFEGUARDS:

Accessible only to authorized personnel. Safeguards include both electronic safeguards, including C2 compliant systems and password-protected files, and physical safeguards, including a restricted-access facility.

RETENTION AND DISPOSAL:

Paper filings are retained by the system manager for 6 months, after which time they are retained off-site for a period of fifty years. Electronic files are retained by the system manager for a period of fifty years. At the end of their respective retention periods, the paper and electronic files are destroyed.

SYSTEM MANAGER(S) AND ADDRESS:

Director, Office of Information Management, Pension and Welfare Benefits Administration, U.S. Department of Labor, 200 Constitution Avenue, NW, Washington, DC 20210.

NOTIFICATION PROCEDURE:

Individuals wishing to inquire whether this system of records contains information about them should contact the system manager indicated above. Individuals must furnish their full names for their records to be located and identified.

RECORD ACCESS PROCEDURES:

Same as notification procedure. Individuals requesting access must also comply with U.S. Department of Labor Privacy Act regulations on verification of identity at 29 CFR 71.2.

CONTESTING RECORD PROCEDURES:

Same as notification procedure above except individuals desiring to contest or amend information maintained in the system should direct their written request to the System Manager listed above, and state clearly and concisely what information is being contested, the reasons for contesting it, and the proposed amendment to the information sought pursuant to 29 CFR 71.9.

RECORD SOURCE CATEGORIES:

Individuals filing Form 5500EZ filings.

SYSTEMS EXEMPTED FROM CERTAIN PROVISIONS OF THE ACT:

None.

DOL/OSBP-1

SYSTEM NAME:

Office of Small Business Programs, Small Entity Inquiry and Complaint Tracking System.

SECURITY CLASSIFICATION:

None.

SYSTEM LOCATION:

U.S. Department of Labor, Office of Small Business Programs, Frances Perkins Building, 200 Constitution Ave., NW, Room C-2318, Washington, DC 20210.

CATEGORIES OF INDIVIDUALS COVERED BY THE SYSTEM:

Individuals who make oral or written complaints about, or requests or inquiries concerning, enforcement activities under the Small Business Regulatory Enforcement Fairness Act of 1996 (SBREFA) of the U.S. Department of Labor (Department).

CATEGORIES OF RECORDS IN THE SYSTEM:

Records include the name and address of the individuals making complaints, requests, or inquiries concerning enforcement activities of the Department of Labor, and any other information under SBREFA necessary to respond to the complaint or request.

AUTHORITY FOR MAINTENANCE OF THE SYSTEM:

Subtitles A and B of the Small Business Regulatory Enforcement Fairness Act of 1996 (SBREFA), Pub. L. 104-121, Title II, sec. 213, 110 Stat. 858-859; 5 U.S.C. Chapter 6.

PURPOSE(S):

Section 213 of Title II of Pub. L. 104-121 requires each agency to establish a program for providing informal guidance to small entities regulated by that agency. Section 213(c) requires the agency to report to Congress on “the scope of the agency's program, the number of small entities using the program, and the achievements of the program to assist small entity compliance with agency regulations.” The records in this system are maintained for the purpose of complying with the above statutory requirements.

ROUTINE USES OF RECORDS MAINTAINED IN THE SYSTEM, INCLUDING CATEGORIES OF USERS AND THE PURPOSE OF SUCH USES:

In addition to those universal routine uses listed in the General Prefatory Statement to this document, relevant records may be disclosed to the Small Business Administration (SBA) in response to a referral from the SBA of a complaint filed against this Department by a small entity.

DISCLOSURE TO CONSUMER REPORTING AGENCIES:

None.

POLICIES AND PRACTICES FOR STORING, RETRIEVING, ACCESSING, RETAINING AND DISPOSING OF RECORDS IN THE SYSTEM:

STORAGE:

Records are maintained electronically.

RETRIEVABILITY:

Name or Control Number.

SAFEGUARDS:

Accessed by authorized personnel only. Passwords are used for the data, which is electronically stored.

RETENTION AND DISPOSAL:

Five years after case is closed.

SYSTEM MANAGER(S) AND ADDRESS:

Director, Office of Small Business Programs, U.S. Department of Labor, 200 Constitution Ave., NW, Washington, DC 20210.

NOTIFICATION PROCEDURES:

Mail all inquiries or present in writing to System Manager at above address.

RECORD ACCESS PROCEDURES:

A request for access shall be addressed to the system manager at the address listed above. Individuals must furnish the following information for their records to be located and identified:

a. Name.

b. Approximate date of the complaint or incident.

CONTESTING RECORD PROCEDURES:

A petition for amendment shall be addressed to the system manager.

RECORD SOURCE CATEGORIES:

From the concerned individuals and entities.

SYSTEMS EXEMPTED FROM CERTAIN PROVISIONS OF THE ACT:

None.

DOL/OSBP-2

SYSTEM NAME:

Department of Labor Advisory Committees Members Files.

SECURITY CLASSIFICATION:

None.

SYSTEM LOCATION:

Offices in various components within the Department of Labor, and also at the Office of Small Business Programs, U.S. Department of Labor, Frances Perkins Building, 200 Constitution Avenue, NW, Washington, DC 20210.

CATEGORIES OF INDIVIDUALS COVERED BY THE SYSTEM:

Present and former members of the advisory committees established by the Department of Labor and candidates for a position on an advisory committee.

CATEGORIES OF RECORDS IN THE SYSTEM:

Biographical information on individuals who are or have been members or are being considered for membership on the committees. Also, the biographical information on individuals who have been nominated for membership on advisory committees.

AUTHORITY FOR MAINTENANCE OF THE SYSTEM:

5 U.S.C. 301.

PURPOSE(S):

To ensure that all appropriate personal records on advisory committee members, and nominees, are retained and are available for official use.

ROUTINE USES OF RECORDS MAINTAINED IN THE SYSTEM, INCLUDING CATEGORIES OF USERS AND THE PURPOSES OF SUCH USES:

In addition to those universal routine uses listed in the General Prefatory Statement to this document, information in these records may be disclosed to the General Services Administration when necessary to comply with the Federal Advisory Committee Act.

DISCLOSURE TO CONSUMER REPORTING AGENCIES:

None.

POLICIES AND PRACTICES FOR STORING, RETRIEVING, ACCESSING, RETAINING, AND DISPOSING OF RECORDS IN THE SYSTEM:

STORAGE:

Storage methods vary between program components, but the data will be stored either on magnetic media or in a manual file, both of which are secured at all times.

RETRIEVABILITY:

Retrieved by member name, nominee name or committee name, and via identification number if electronically maintained.

SAFEGUARDS:

Access is limited to authorized employees.

RETENTION AND DISPOSAL:

After a Committee terminates, its records are transferred to the National Archives and Records Administration for permanent retention.

SYSTEM MANAGER(S) AND ADDRESS:

The system manager is the Director, Office of Small Business Programs, U.S. Department of Labor, Frances Perkins Building, 200 Constitution Ave., NW, Washington, DC 20210.

NOTIFICATION PROCEDURE:

Mail all inquiries or present in writing to the system manager.

RECORD ACCESS PROCEDURES:

A request for access should be addressed to the system manager. The request should include the name of the Committee.

CONTESTING RECORD PROCEDURES:

Individuals wanting to contest or amend information maintained in this system should direct their written request to the system manager.

RECORD SOURCE CATEGORIES:

Individual members of the committees and those persons making nominations to the committee.

SYSTEMS EXEMPTED FROM CERTAIN PROVISIONS OF THE ACT:

None.

DOL/SOL-3

SYSTEM NAME:

Tort Claim Files.

SECURITY CLASSIFICATION:

Unclassified.

SYSTEM LOCATION:

Office of the Solicitor, Division of Employee Benefits, 200 Constitution Avenue, NW, Washington, DC 20210-0002; Offices of the Regional Solicitors and Associate Regional Solicitors at various field locations set forth in the Appendix.

CATEGORIES OF INDIVIDUALS COVERED BY THE SYSTEM:

Individuals filing claims for damages under the Federal Tort Claims Act.

CATEGORIES OF RECORDS IN THE SYSTEM:

Federal Tort Claim Act files, including claims forms and supporting documents filed by claimants, agency records, administrative reports and supporting documents prepared by the agency involved, internal memoranda, legal pleadings, decisions, and other documents received in connection with Federal Tort Claims Act administrative claims and litigation.

AUTHORITY FOR MAINTENANCE OF THE SYSTEM:

28 U.S.C. 2671 et seq.

PURPOSE(S):

To maintain records necessary for adjudication of claims and defense of litigation filed under the Federal Tort Claims Act.

ROUTINE USES OF RECORDS MAINTAINED IN THE SYSTEM, INCLUDING CATEGORIES OF USERS AND THE PURPOSES OF SUCH USES:

In addition to those universal routine uses contained in the General Prefatory Statement to this document, where an administrative claim or litigation under the Federal Tort Claims Act is filed with or involves allegations concerning more than one federal agency, relevant information in this system of records, including documents submitted in support of the administrative claim, may be disclosed to the relevant agency or agencies for their input and independent adjudication of the claim.

DISCLOSURE TO CONSUMER REPORTING AGENCIES:

None.

POLICIES AND PRACTICES FOR STORING, RETRIEVING, ACCESSING, RETAINING AND DISPOSING OF RECORDS IN THE SYSTEM:

STORAGE:

Manual files.

RETRIEVABILITY:

Name of claimant.

SAFEGUARDS:

Files are kept in office suites that are locked after working hours.

RETENTION AND DISPOSAL:

These records are maintained as long as a case is open. Upon conclusion of the matter, files are maintained for two years then transferred to the Federal Records Center for two years and then destroyed.

SYSTEM MANAGER(S) AND ADDRESS:

Associate Solicitor for Employee Benefits in Washington, DC, and Regional Solicitors and Associate Regional Solicitors in various locations in the field.

NOTIFICATION PROCEDURE:

See system managers and addresses.

RECORD ACCESS PROCEDURE:

To see your records, write to the office responsible for adjudicating your claim and describe as specifically as possible the records sought. The inquirer should furnish the following information:

a. Full name and address

b. Date and place of the incident or accident

c. Claim number assigned to claim (if known)

d. Signature

CONTESTING RECORD PROCEDURES:

See record access procedures.

RECORDS SOURCE CATEGORIES:

Claimants, current and former employers, witnesses, physicians and/or medical providers, insurance companies attorneys, police, hospitals, and other persons.

SYSTEMS EXEMPTED FROM CERTAIN PROVISIONS OF THE ACT:

None.

DOL/SOL-5

SYSTEM NAME:

Workforce Investment Act Tort Claim Files.

SECURITY CLASSIFICATION:

Unclassified.

SYSTEM LOCATION:

Offices of the Regional Solicitors, U.S. Department of Labor.

CATEGORIES OF INDIVIDUALS COVERED BY THE SYSTEM:

Claimants.

CATEGORIES OF RECORDS IN THE SYSTEM:

Tort claims, including negligence, medical, personnel and legal reports, summaries, correspondence, and memoranda.

AUTHORITY FOR MAINTENANCE OF THE SYSTEM:

29 U.S.C. 1501 et seq. and the Workforce Investment Act, 29 U.S.C. 2801 et seq.

PURPOSE(S):

To allow adjudication of claims filed under the Workforce Investment Act.

ROUTINE USES OF RECORDS MAINTAINED IN THE SYSTEM, INCLUDING CATEGORIES OF USERS AND THE PURPOSES OF SUCH USES:

None, except for those universal routine uses contained in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Manual files.

RETRIEVABILITY:

Name of claimant.

SAFEGUARDS:

Files are kept in office suite that is locked after working hours.

RETENTION AND DISPOSAL:

Upon completion of a case, the files are maintained in the Office of the Solicitor for two years, then retired to the appropriate Federal Records Center for three years and then destroyed.

SYSTEM MANAGER(S) AND ADDRESSES:

Regional Solicitors and Associate Regional Solicitors, U.S. Department of Labor. See the Appendix of this document for the regional addresses.

NOTIFICATION PROCEDURE:

See system manager(s) and addresses set forth in the Appendix to this document.

RECORD ACCESS PROCEDURES:

Inquirer should provide his or her full name, plus date and place of incident.

CONTESTING RECORD PROCEDURES:

See record access procedures.

RECORD SOURCE CATEGORIES:

Claimants, current and former employers, witnesses, physicians, insurance companies, attorneys, police, hospitals, other individuals.

SYSTEMS EXEMPTED FROM CERTAIN PROVISIONS OF THE ACT:

None.

DOL/SOL-6

SYSTEM NAME:

Military Personnel and Civilian Employees' Claims.

SECURITY CLASSIFICATION:

Unclassified.

SYSTEM LOCATION:

Office of the Solicitor, Division of Employee Benefits, 200 Constitution Avenue, NW, Washington, DC 20210-0002; Offices of the Regional Solicitors and Associate Regional Solicitors at various regional locations set forth in the Appendix to this document.

CATEGORIES OF INDIVIDUALS COVERED BY THE SYSTEM:

Current or former employees of the Department of Labor filing claims under the Military Personnel and Civilian Employees' Claims Act to recover for the loss of or damage to personal property incident to their service.

CATEGORIES OF RECORDS IN THE SYSTEM:

Claim files, including claim forms, accident, investigative, medical or personnel reports, witness statements, summaries, correspondence and memoranda.

AUTHORITY FOR MAINTENANCE OF THE SYSTEM:

31 U.S.C. 240-243.

PURPOSE(S):

To maintain records necessary for adjudication of claims filed under the Military Personnel and Civilian Employees' Claims Act.

ROUTINE USES OF RECORDS MAINTAINED IN THE SYSTEM, INCLUDING CATEGORIES OF USERS AND THE PURPOSES OF SUCH USES:

None, except for those universal routine uses contained in the General Prefatory Statement to this document.

DISCLOSURE TO CONSUMER REPORTING AGENCIES:

None.

POLICIES AND PRACTICES FOR STORING, RETRIEVING, ACCESSING, RETAINING AND DISPOSING OF RECORDS IN THE SYSTEM:

STORAGE:

Manual files.

RETRIEVABILITY:

Name of claimant.

SAFEGUARDS:

Files are kept in office suites that are locked after working hours.

RETENTION AND DISPOSAL:

These records are maintained as long as the case is open in the office handling the claim. Upon conclusion of the matter, files are retained for two years and then transferred to the Federal Records Center for three years and then destroyed.

SYSTEM MANAGER(S) AND ADDRESS:

Associate Solicitor for Employee Benefits in Washington, DC, and Regional Solicitors and Associate Regional Solicitors at various regional locations set forth in the Appendix to this document.

NOTIFICATION PROCEDURES:

Individuals, wishing to inquire whether this system of records contains information about them, should contact the appropriate system manager. Such person should provide his or her full name, date of birth, and signature.

RECORD ACCESS PROCEDURES:

To see your records, write the office responsible for adjudicating your claim and describe as specifically as possible the records sought. The inquirer should furnish the following information:

a. Full name and address

b. Date and place of the loss

c. Claim number assigned to claim (if known)

d. Signature

CONTESTING RECORD PROCEDURE:

See Record Access Procedures.

RECORDS SOURCE CATEGORIES:

Claimants, current and former employers, witnesses, physicians and/or medical providers, insurance companies, attorneys, police, hospitals, and other persons.

SYSTEMS EXEMPTED FROM CERTAIN PROVISIONS OF THE ACT:

None.

DOL/SOL-7

SYSTEM NAME:

Solicitor's Legal Activity Recordkeeping System.

SECURITY CLASSIFICATION:

None.

SYSTEM LOCATION:

The central database is maintained in the Office of the Solicitor (SOL), Office of Administration, Management, and Litigation Support, Washington, DC. Computer access terminals are located in SOL Divisional Offices in Washington, DC, and in all SOL Regional and Associate Regional Solicitors Offices. See the Appendix to this document for the regional office addresses.

CATEGORIES OF INDIVIDUALS COVERED BY THE SYSTEM:

Attorneys and paralegal specialists employed by SOL, judges assigned to DOL cases, and individuals and/or parties involved in the cases.

CATEGORIES OF RECORDS IN THE SYSTEM:

Individual attorney and paralegal specialist assignments, records which identify pending cases and opinions requested, status of assignments, cases and opinions, statutes enforced, client agencies served, and time spent on assignments.

AUTHORITY FOR MAINTENANCE OF THE SYSTEM:

5 U.S.C. 301.

PURPOSE(S):

To track the status of cases and other legal work, to manage attorney and paralegal specialist assignments, to track the time spent litigating cases and providing other legal services, to prepare budget submissions and to assist in allocating resources among Divisional and Regional Offices.

ROUTINE USES OF RECORDS MAINTAINED IN THE SYSTEM, INCLUDING CATEGORIES OF USERS AND THE PURPOSES OF SUCH USES:

Selected data may be shared with the Office of Management and Budget (OMB) and Congress as part of the budget submission process.

DISCLOSURE TO CONSUMER REPORTING AGENCIES:

None.

POLICIES AND PRACTICES FOR STORING, RETRIEVING, ACCESSING, RETAINING AND DISPOSING OF RECORDS IN THE SYSTEM:

STORAGE:

Manual and computer files.

RETRIEVABILITY:

By initials of the SOL attorney or paralegal specialist, name of the judge, name or social security number of the individual involved, and/or the name of the party involved in a case.

SAFEGUARDS:

Manual and computer files are accessible only by authorized persons.

RETENTION AND DISPOSAL:

Records are retained for five years.

SYSTEM MANAGER(S) AND ADDRESS:

Director, Office of Administration, Management and Litigation Support/Office of the Solicitor, 200 Constitution Avenue, NW, Washington, DC 20210.

NOTIFICATION PROCEDURES:

Inquiries should be mailed or presented to the system manager at the address listed above.

RECORD ACCESS PROCEDURE:

A request for access shall be mailed or presented to the system manager at the address listed above.

CONTESTING RECORD PROCEDURES:

A request for amendment should be addressed to the system manager noted above and must meet the requirements of 29 CFR 71.9.

RECORD SOURCE CATEGORIES:

Covered individuals, case files, correspondence files, opinion files and miscellaneous files.

SYSTEM EXEMPTED FROM CERTAIN PROVISIONS OF THE ACT:

None.

DOL/SOL-9

SYSTEM NAME:

Freedom of Information Act and Privacy Act Appeal Files.

SECURITY CLASSIFICATION:

None.

SYSTEM LOCATION:

Office of the Solicitor, Division of Legislation and Legal Counsel, U.S. Department of Labor, 200 Constitution Avenue, NW, Washington, DC 20210.

CATEGORIES OF INDIVIDUALS COVERED BY THE SYSTEM:

This system encompasses all individuals who submit administrative appeals under the Freedom of Information and Privacy Acts.

CATEGORIES OF RECORDS IN THE SYSTEM:

Each file generally contains the appeal letter, the initial request, the initial agency determination, and other records necessary to make a determination on the appeal, including copies of unsanitized records responsive to the request. When a determination is made on the appeal, the determination letter is added to the file.

AUTHORITY FOR MAINTENANCE OF THE SYSTEM:

The Freedom of Information Act (5 U.S.C. 552); the Privacy Act of 1974 (5 U.S.C. 552a); and 5 U.S.C. 301.

PURPOSE(S):

These records are maintained to process an individual's administrative appeal made under the provisions of the Freedom of Information and the Privacy Acts. The records are also used to prepare the Department's annual reports to OMB and Congress required by the Privacy and the Freedom of Information Acts.

ROUTINE USES OF RECORDS MAINTAINED IN THE SYSTEM INCLUDING CATEGORIES OF USERS AND THE PURPOSES OF SUCH USES:

These records, and information in these records, that is relevant and necessary may be used:

a. To disclose information to Federal agencies (e.g., Department of Justice) in order to obtain advice and recommendations concerning matters on which the agency has specialized experience or competence, for use by the Office of the Solicitor in making required appeal determinations and related dispositions under the Freedom of Information Act or the Privacy Act of 1974.

b. To disclose information to any source from which additional information is requested (to the extent necessary to identify the individual, inform the source of the purpose of the appeal, and to identify the type of information involved in an appeal), where necessary to obtain information relative to a decision concerning a Freedom of Information or Privacy Act appeal.

c. To disclose, in response to a request for discovery or for appearance of a witness, information that is relevant to the subject matter involved in a pending judicial or administrative proceeding.

DISCLOSURE TO CONSUMER REPORTING AGENCIES:

None.

POLICIES AND PRACTICES FOR STORING, RETRIEVING, ACCESSING, RETAINING, AND DISPOSING OF RECORDS IN THE SYSTEM:

STORAGE:

These records are maintained in manual form in file folders and are stored using the name of the individual filing the appeal. Information about the status of Freedom of Information and Privacy Act appeals is also maintained on magnetic media for use in a micro-computer.

RETRIEVABILITY:

Manual and the electronic records are retrieved by the name of the individual making the appeal. Electronic records are retrieved by the name of the appellant, the appellant's law firm, the original requester, the subject, the denying officer, the disposition date, and the case number.

SAFEGUARDS:

These records, are located in metal filing cabinets in a lockable room with access limited to personnel whose duties require access. The electronic records are located in a computer data base.

RETENTION AND DISPOSAL:

These records are destroyed six years after final agency determination or 3 years after final court adjudication, whichever is later.

SYSTEM MANAGER(S) AND ADDRESS:

Solicitor of Labor, U.S. Department of Labor, Washington DC 20210.

NOTIFICATION PROCEDURE:

Individuals wishing to inquire whether this system of records contains information about them should contact the system manager at the address listed above.

RECORD ACCESS PROCEDURES:

A request for access shall be addressed to the system manager at the address listed above. Individuals must furnish the following information for their records to be located and identified:

a. Name.

b. Approximate date of the Freedom of Information or Privacy Act Appeal and the approximate date of the determination by the Department (if issued).

CONTESTING RECORD PROCEDURES:

A petition for amendment shall be addressed to the System Manager and must meet the requirements of 29 CFR 71.9.

RECORD SOURCE CATEGORIES:

Information in this system of records comes from:

a. The individual who is the subject of the records.

b. Official personnel documents of the agency, including records from any other agency system or records included in this notice.

c. Agency officials who responded initially to the Freedom of Information and Privacy Act requests.

d. Other sources whom the agency believes have information pertinent to an agency decision on a Freedom of Information or Privacy Act appeal.

SYSTEMS EXEMPTED FROM CERTAIN PROVISIONS OF THE ACT:

The Department of Labor has claimed exemptions for several of its other systems of records under 5 U.S.C. 552a(k)(1), (2), (3), (5), and (6). During the course of processing a Freedom of Information or Privacy Act appeal, exempt materials from those other systems may become part of the case record in this system. To the extent that copies of exempt records from those other systems are entered into these Freedom of Information and Privacy Act appeals files, the Department has claimed the same exemptions for the records as they have in the original primary system or records of which they are a part.

DOL/SOL-13

SYSTEM NAME:

Employee Conduct Investigations.

SECURITY CLASSIFICATION:

None.

SYSTEM LOCATION:

Offices in the Office of the Solicitor at the National Office and in each of the Regional and Associate Regional Offices of the Solicitor.

CATEGORIES OF INDIVIDUALS COVERED BY THE SYSTEM:

Employee(s) against whom any allegations of misconduct have been made or violations of law.

CATEGORIES OF RECORDS IN THE SYSTEM:

Investigative report(s), sworn affidavits, written statements, time and attendance records, earnings and leave statements, applications for leave, notifications of personnel actions, travel vouchers, 171's, certificates of eligible, performance appraisals, interviews and other data gathered from involved parties and organizations which are associated with the case.

AUTHORITY FOR MAINTENANCE OF THE SYSTEM:

5 U.S.C. 301.

PURPOSE(S):

To investigate allegations of misconduct or violations of law.

ROUTINE USE OF RECORDS MAINTAINED IN THE SYSTEM, INCLUDING CATEGORIES OF USERS AND THE PURPOSE OF SUCH USERS:

None, except for those universal routine uses listed in the General Prefatory Statement to this document.

DISCLOSURE TO CONSUMER REPORTING AGENCIES:

None.

POLICIES AND PRACTICES FOR STORING, RETRIEVING, ACCESSING, RETAINING, AND DISPOSING IN THE SYSTEM:

STORAGE:

Records are stored in file folders in metal cabinets.

RETRIEVABILITY:

By name or case file number.

SAFEGUARDS:

Files are maintained in locked file cabinets with access only to those with a need to know the information to perform their duties.

RETENTION AND DISPOSAL:

Records are retained for four years following the date either: (a) They are referred to the OIG; (b) they are transferred to OPM/GOVT-3 Records of Adverse Actions and Actions Based on Unacceptable Performance; or (c) it is determined that the allegation was without sufficient merit to warrant further action, after which they are destroyed.

SYSTEM MANAGER(S) AND ADDRESS:

Office of Management, Office of the Solicitor, 200 Constitution Avenue, NW, Washington, DC 20210, and appropriate Regional Offices.

NOTIFICATION PROCEDURE:

Inquiries should be sent to the system manager noted at the address listed above.

RECORDS ACCESS PROCEDURES:

A request for access shall be addressed to the system manager at the address listed above.

CONTESTING RECORD PROCEDURES:

A petition for amendment shall be addressed to the System Manager and must meet the requirements of 29 CFR 71.9.

RECORD SOURCE CATEGORIES:

Hotline complaints through the Office of the Inspector General's hotline or through the General Accounting Office; incident reports submitted by employees or members of the general public; statements by subject and fellow employees; and other investigative reports.

SYSTEM EXEMPTED FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/SOL-15

SYSTEM NAME:

Solicitor's Office Litigation Files.

SECURITY CLASSIFICATION:

None.

SYSTEM LOCATION:

Offices of the Associate Solicitors, Office of the Solicitor, Washington, DC; Offices of the Regional Solicitor and Associate Regional Solicitors at various locations.

CATEGORIES OF INDIVIDUALS COVERED BY THE SYSTEM:

Plaintiffs, defendants, respondents, witnesses and other individuals who may have provided information relating to, or who may have been involved in matters that are part of Labor Department litigation, where the Department is either the plaintiff or the defendant.

CATEGORIES OF RECORDS IN THE SYSTEM:

The system contains records gathered by the various Offices of the Associate Solicitors, Regional Solicitors and Associate Regional Solicitors. The records may be derived from materials filed with the Department of Labor, court records, pleadings, statements of witnesses, information received from federal, state, local and foreign regulatory organizations and from other sources. The system also contains records that incorporate the work product of the various offices and other privileged documents.

AUTHORITY FOR MAINTENANCE OF THE SYSTEM:

5 U.S.C. 301.

PURPOSE(S):

These records are maintained for the purpose of prosecuting violations of labor laws, as well as for defending law suits and claims brought against the Department of Labor.

ROUTINE USES OF RECORDS MAINTAINED IN THE SYSTEM, INCLUDING CATEGORIES OF USERS AND THE PURPOSES OF SUCH USE:

None, except for those universal routine uses listed in the General Prefatory Statement to this document.

POLICIES AND PRACTICES FOR STORING, RETRIEVING, ACCESSING, RETAINING AND DISPOSING OF RECORDS IN THE SYSTEM:

STORAGE:

Litigation files are maintained in manual files.

RETRIEVABILITY:

By name.

SAFEGUARDS:

Files are kept in office suites which are locked after working hours.

RETENTION AND DISPOSAL:

Litigation files are maintained for two (2) years after final court determination, then transferred to the FRC where they are kept for an additional three (3) years and then destroyed.

However:

Significant litigation files in the Civil Rights Division:

Cases which (1) resulted in a major legal precedent, or (2) involved a complex and/or novel issue, or (3) involved intense public interest or controversy that usually is reflected in a high degree of media attention are retained permanently.

Litigation files involving OSHA:

OSHA litigation files are destroyed one year after all rights of appeals have expired.

Matters in which the Department obtained an injunction are maintained in SOL for two years after the matter is closed and then transferred to the FRC for twenty (20) years and then destroyed. Briefs and significant motions are retained in the office for twenty (20) years and then destroyed.

Freedom of Information Act and Privacy Act litigation files:

Files are maintained for six years after final agency action or three (3) years after final court determination, whichever is later.

Black Lung files:

Files for cases before the Administrative Law Judges are maintained for one (1) year after the case is closed and then destroyed. Cases adjudicated before the Benefit Review Board are maintained for two (2) years after the final decision is issued and then destroyed. Court of Appeal and Supreme Court cases are maintained for five years after the final decision is issued and then destroyed.

SYSTEM MANAGER(S) AND ADDRESS:

The appropriate Associate Solicitor or the Regional Solicitor or Associate Regional Solicitor, Office of the Solicitor, U.S. Department of Labor, Room S-2002, 200 Constitution Avenue, NW, Washington, DC 20210.

NOTIFICATION PROCEDURES:

Inquiries should be mailed or presented to the system manager noted at the address listed above.

RECORD ACCESS PROCEDURES:

A request for access shall be addressed to the system manager at the address listed above. Individuals must furnish the following information for their records to be located and identified:

a. Name.

b. Approximate date for the investigation.

CONTESTING RECORD PROCEDURES:

A petition for amendments shall be addressed to the System Manager and must meet the requirements of 29 CFR 71.9.

RECORD SOURCE CATEGORIES:

Component agency investigative files; investigators; other law enforcement personnel; attorneys; witnesses, informants; other individuals; federal, states and local agencies; opinion files; miscellaneous files.

SYSTEM EXEMPTED FROM CERTAIN PROVISION OF THE ACT:

Under the specific exemption authority provided by 5 U.S.C. 552a(k)(2), this system is exempt from the following provisions of the Privacy Act: 5 U.S.C. 552a(c)(3), (d), (e)(1), (e)(4)(G), (H), (I), and (f) of the Act. Disclosure of information could enable the subject of the record to take action to escape prosecution and could avail the subject greater access to information than that already provided under rules of discovery. In addition, disclosure of information might lead to intimidation of witnesses, informants, or their families, and impair future investigations by making it more difficult to collect similar information.

DOL/SOL-17

SYSTEM NAME:

Solicitor's Office Equipment Files.

SECURITY CLASSIFICATION:

None.

SYSTEM LOCATION:

Office of the Solicitor, Office of Administration, Management & Litigation Support (OAMLS), U.S. Department of Labor, 200 Constitution Avenue, NW, Washington, DC 20210.

CATEGORIES OF INDIVIDUALS COVERED BY THE SYSTEM:

All employees from the Office of the Solicitor both those from the National and the Regional Offices of the Solicitor.

CATEGORIES OF RECORDS IN THE SYSTEM:

The system contains detailed records pertaining to the chairs, desks, and other furniture, and equipment assigned to each employee from the Office of the Solicitor, including National and Regional Offices.

AUTHORITY FOR MAINTENANCE OF THE SYSTEM:

5 U.S.C. 301.

PURPOSE(S):

The information is used for statistical data and to prepare purchase orders for furniture, equipment and accessories. The information is also used to track items assigned to individuals within the Solicitor's Office.

ROUTINE USES OF RECORDS MAINTAINED IN THE SYSTEM, INCLUDING CATEGORIES USERS AND THE PURPOSE OF SUCH USES:

None, except for those universal routine uses listed in the General Prefatory Statement to this document.

DISCLOSURE REPORTING AGENCIES:

None.

POLICIES AND PRACTICES FOR STORING, RETRIEVING, ACCESSING, RETAINING, AND DISPOSING OF RECORDS IN THE SYSTEM:

STORAGE:

The records are maintained in file folders and in computers.

RETRIEVABILITY:

Records are retrieved by the name of the employee.

SAFEGUARDS:

These records are kept in office suites which are locked after working hours.

RETENTION AND DISPOSAL:

The system is updated annually and earlier records are destroyed.

SYSTEM MANAGER(S) AND ADDRESS:

Director, Office of Administration, Management & Litigation Support, U.S. Department of Labor, 200 Constitution Avenue, NW, Washington, DC 20210.

NOTIFICATION PROCEDURES:

Inquiries should be directed to the system manager noted at the address listed above.

RECORD ACCESS PROCEDURES:

A request for access shall be addressed to the system manager at the address listed above. Individuals must furnish the following information for their records to be located and identified:

a. Name.

b. Individuals requesting access must also comply with the Privacy Act regulations regarding verification of identity to records at 29 CFR 71.4.

CONTESTING RECORD PROCEDURES:

A petition for amendments shall be addressed to the System Manager and must meet the requirements of 29 CFR 71.9.

RECORD SOURCE CATEGORIES:

Agency personnel files, information submitted by the employee, and records from the Office of Administration, Management and Litigation Support.

SYSTEM EXEMPTED FROM CERTAIN PROVISION OF THE ACT:

None.

DOL/VETS-1

SYSTEM NAME:

Uniformed Services Employment and Reemployment Rights Act (USERRA) Complaint File.

SECURITY CLASSIFICATION:

None.

SYSTEM LOCATION:

Veterans' Employment and Training Service (VETS') State Offices, Regional Offices, and National Office.

CATEGORIES OF INDIVIDUALS COVERED BY THE SYSTEM:

Complainants who are veterans, enlistees, examinees, reservists or members of the National Guard of the U.S. Armed Forces on active or reserve service or training duty, and other complainants.

CATEGORIES OF RECORDS IN THE SYSTEM:

The system of records contains data related to civil investigations which include: Initial investigative complaint form, background, investigators' fact finding records, witness statements, supporting documents provided by claimants and employers, other information relevant to a determination of veterans reemployment rights.

AUTHORITY FOR MAINTENANCE OF THE SYSTEM:

38 U.S.C. 4301 et seq.

PURPOSE(S):

Records are maintained for enforcement of federal laws pertaining to rights of veterans, reservists and members of the National Guard upon their return to pre-military civilian employment following periods of active and inactive military duty and related to non-discrimination based on such service or periods of duty.

ROUTINE USES OF RECORDS MAINTAINED IN THE SYSTEM, INCLUDING CATEGORIES OF USERS AND THE PURPOSES OF SUCH USES:

In addition to those universal routine uses listed in the General Prefatory Statement, relevant records and information may be disclosed to the employer against whom a complaint has been made so that the complaint can proceed to a resolution. Disclosure may also be made when relevant and necessary to the Department of Veterans Affairs, to the Department of Defense, to the Department of Justice, and to the Office of Special Counsel when complaints have proceeded to an advanced stage.

POLICIES AND PRACTICES FOR STORING, RETRIEVING, ACCESSING, RETAINING, AND DISPOSING OF RECORDS IN THE SYSTEM:

STORAGE:

Electronic and manual records.

RETRIEVABILITY:

By name of complainant or name of employer.

SAFEGUARDS:

Locked room or locked cabinets, and passwords for electronic system.

RETENTION AND DISPOSAL:

Cutoff and removal from active file in fiscal year when litigation is completed, transfer to Federal Records Center five (5) years after cutoff. Destroy when ten (10) years old.

SYSTEM MANAGER(S) AND ADDRESS:

Chief of Investigations and Compliance, United States Department of Labor, Veterans' Employment and Training Service, 200 Constitution Avenue, NW, Washington, DC 20210.

NOTIFICATION PROCEDURES:

Inquiries should be directed to the system manager noted at the address listed above.

RECORD ACCESS PROCEDURES:

A request for access shall be addressed to the systems manager at the address listed above. Individuals must furnish the following information for their records to be located and identified:

a. Name.

b. Approximate date of separation.

CONTESTING RECORD PROCEDURES:

A petition for amendment should be addressed to the System Manager.

RECORD SOURCE CATEGORIES:

Veterans, Reserve and National Guard members, employees, employers, former employees, Departments of Defense, Department of Veterans Affairs, physicians, union officers and maybe the public.

SYSTEMS EXEMPTIONS FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/VETS-2

SYSTEM NAME:

Veterans' Preference Complaint File under the Veterans Equal Opportunities Act of 1998 (VEOA).

SECURITY CLASSIFICATION:

None.

SYSTEM LOCATION:

Veterans' Employment and Training Service (VETS') State Offices, Regional Offices, and National Office.

CATEGORIES OF INDIVIDUALS COVERED BY THE SYSTEM:

Veterans of the U.S. Armed Forces who believe that they have been denied veterans preference or other special considerations provided by law(s).

CATEGORIES OF RECORDS IN THE SYSTEM:

The system of records contains materials related to civil investigations which include: Initial investigative complaint form, background, investigators' fact finding records, witness statements, supporting documents provided by claimants and employers, other information relevant to a determination of veterans preference consideration related to employment with Federal agencies.

AUTHORITY FOR MAINTENANCE OF THE SYSTEM:

5 U.S.C. 3330a.

PURPOSE(S):

Records are maintained for investigation of possible violations of federal laws pertaining to veterans' preference and other special consideration related to employment with Federal agencies.

ROUTINE USES OF RECORDS MAINTAINED IN THE SYSTEM, INCLUDING CATEGORIES OF USERS AND THE PURPOSE OF SUCH USERS:

In addition to those universal routine uses listed in the General Prefatory Statement, records and information may be disclosed to the Federal employing agency against whom a complaint has been made so that the complaint can proceed to a conclusion. Disclosure of information that is relevant and necessary may also be made to the Office of Personnel Management and to the Merit Systems Protection Board.

POLICIES AND PRACTICES FOR STORING, RETRIEVING, ACCESSING, RETAINING, AND DISPOSING OF RECORDS IN THE SYSTEM:

STORAGE:

Electronic and manual records.

RETRIEVABILITY:

By name of complainant or name of Federal agency.

SAFEGUARDS:

Secured room, or locked cabinets, and passwords for electronic system.

RETENTION AND DISPOSAL:

Cutoff and removed from active file in fiscal year when litigation is completed. Transferred to Federal Records Center five (5) years after cutoff. Destroy when ten (10) years old.

SYSTEM MANAGER(S) AND ADDRESS:

Chief of Investigations and Compliance, United States Department of Labor, Veterans' Employment and Training Service, 200 Constitution Avenue, NW, Washington, DC 20210.

NOTIFICATION PROCEDURES:

Inquiries should be mailed or presented to the system manager noted at the address listed above.

RECORD ACCESS PROCEDURES:

A request for access shall be addressed to the systems manager at the address listed above. Individuals must furnish the following information for their records to be located and identified:

a. Name.

b. Approximate date of separation.

CONTESTING RECORD PROCEDURES:

A petition for amendment shall be addressed to the System Manager and must meet the requirements of 29 CFR 71.9.

RECORD SOURCE CATEGORIES:

Veterans, Federal employment applicants or employing Federal agencies, former agency employees, Department of Defense, Department of Veterans Affairs, Office of Personnel Management, union officers and members of the public.

SYSTEMS EXEMPTIONS FROM CERTAIN PROVISIONS OF THE ACT:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or prior to January 1, 1975, under an implied promise that the identity of the source would be held in confidence.

DOL/VETS-3

SYSTEM NAME:

Veterans' Transition Assistance Program (TAP) Registration System.

SECURITY CLASSIFICATION:

None

SYSTEM LOCATION:

Veterans' Employment and Training Service (VETS) State Directors' Offices, Regional Offices, National Office.

CATEGORIES OF INDIVIDUALS COVERED BY THE SYSTEM:

Service members, and their spouses, for 180 days after separation of the servicemember from the U.S. Armed Forces.

CATEGORIES OF RECORDS IN THE SYSTEM:

Registration data on participants in the Transition Assistance Program (TAP) orkshops including the name, address, social security number, and duty station.

AUTHORITY FOR MAINTENANCE OF SYSTEM:

10 U.S.C. 1144.

PURPOSE(S):

Records are maintained to house achievement levels in TAP Program workshops, develop demographic data, and research programs effectiveness.

ROUTINE USES OF RECORDS MAINTAINED IN THE SYSTEM, INCLUDING CATEGORIES OF USERS AND THE PURPOSES OF SUCH USES:

In addition to those universal routine uses listed in the General Prefatory Statement to this document, disclosure of records and information may be made to the Department of Defense, Department of Transportation, and to the Department of Veterans Affairs so that they may they assist the TAP participant by sharing information.

POLICIES AND PRACTICES FOR STORING, RETRIEVING, ACCESSING, RETAINING, AND DISPOSING OF RECORDS IN THE SYSTEM:

STORAGE:

Electronic and manual records.

RETRIEVABILITY:

By name, state, military base, or VETS region.

SAFEGUARDS:

Locked room or locked cabinets, and passwords for electronic system.

RETENTION AND DISPOSAL:

Records are transferred to the Federal Records Center three years after the end of the fiscal year when they were created, and they are destroyed ten years thereafter.

SYSTEM MANAGER(S) AND ADDRESS:

Director of Operations and Programs, United States Department of Labor, Veterans' Employment and Training Service, Room, 200 Constitution Avenue, NW, Washington, DC 20210, and Regional Offices.

NOTIFICATION PROCEDURES:

Inquiries should be mailed or presented to the appropriate system manager listed above.

RECORD ACCESS PROCEDURES:

A request for access shall be addressed to the systems manager at the address listed above. Individuals must furnish the following information for their records to be located and identified:

a. Name.

b. Approximate date of separation.

CONTESTING RECORD PROCEDURES:

A petition for amendment shall be addressed to the System Manager and must meet the requirements of 29 CFR 71.9.

RECORD SOURCE CATEGORIES:

Participants in TAP workshops.

SYSTEMS EXEMPTIONS FROM CERTAIN PROVISIONS OF THE ACT:

None.

Appendix—Responsible Officials

National Office

The titles of the responsible officials of the various component agencies in the Department of Labor are listed below. This list is provided for information and to assist requesters in locating the office most likely to have responsive records. The officials may be changed by appropriate designation. Unless otherwise specified, the mailing addresses of the officials shall be: U.S. Department of Labor, 200 Constitution Avenue, NW, Washington, DC 20210.

Office of the Secretary

Secretary of Labor, ATTENTION: Assistant Secretary for Administration and Management (OASAM)

Office of the Solicitor

Deputy Solicitor, Office of the Solicitor

Office of the Administrative Law Judges (OALJ)

Chief Administrative Law Judge, Office of Administrative Law Judges, OALJ

Legal Counsel, OALJ

The mailing address for the Office of Administrative Law Judges is: Chief, Office of Administrative Law Judges, 800 K Street, NW., Suite N-400, Washington, DC 20001-8002.

Office of the Assistant Secretary of Administration and Management (OASAM)

Assistant Secretary for Administration and Management, OASAM

Deputy Assistant Secretary for Administration and Management, OASAM

Director, Business Operations Center, OASAM

Director, Procurement Service Center, OASAM

Director, Civil Rights Center, OASAM

Director, Human Resources Center, OASAM

Director, Information Technology Center, OASAM

Director, Worklife Center, OASAM

Director, Human Resource Services Center, OASAM

Director, Office of Budget, OASAM

Director, Conference and Services Center, OASAM

Director, Safety and Health Center, OASAM

Office of the Chief Financial Officer (OCFO)

Chief Financial Officer, OCFO

Office of Small Business Programs

Director, Office of Small Business Programs

Employees' Compensation Appeals Board (ECAB)

Chairperson, Employees' Compensation Appeals Board, ECAB

Associate Deputy Secretary for Adjudication

Executive Director, Office of Adjudicatory Services

Administrative Review Board (ARB)

Chairperson, Administrative Review Board, ARB

Benefits Review Board (BRB)

Chief Administrative Appeals Judge, Benefits Review Board, BRB

Director, Women's Bureau, Office of the Secretary

Office of Congressional and Intergovernmental Affairs (OCIA)

Assistant Secretary, Office of Congressional and Intergovernmental Affairs, OCIA

Deputy Assistant Secretary, OCIA

Office of the Assistant Secretary for Policy (ASP)

Assistant Secretary for Policy, ASP

Deputy Assistant Secretary, ASP

Office of the Assistant Secretary for Public Affairs (OPA)

Assistant Secretary, Office of Public Affairs, OPA

Deputy Assistant Secretary, OPA

Administrative Review Board (ARB)

Director, Office of Administrative Review Board, ARB

Office of the Inspector General (OIG)

Disclosure Officer, OIG

Bureau of International Labor Affairs (ILAB)

Deputy Under Secretary, ILAB

Associate Deputy Under Secretary, ILAB

Secretary of the National Administrative Office, ILAB

Employment Standards Administration (ESA)

Assistant Secretary for Employment Standards, ESA

Director, Equal Employment Opportunity Unit, ESA

Director, Office of Management, Administration and Planning (OMAP), ESA

Director, Division of Human Resources Management, OMAP, ESA

Director, Division of Legislative and Regulatory Analysis, OMAP, ESA

Director, Office of Workers' Compensation Programs (OWCP), ESA

Special Assistant to the Director, OWCP, ESA

Director, Division of Planning, Policy and Standards, OWCP, ESA

Director for Federal Employees' Compensation, OWCP, ESA

Director for Longshore and Harbor Workers' Compensation, OWCP, ESA

Director for Coal Mine Workers' Compensation, OWCP, ESA

Administrator, Wage and Hour Division, ESA

Deputy Administrator, Wage and Hour Division, ESA

National Office Program Administrator, Wage and Hour Division, ESA

Deputy National Office Program Administrator, Wage and Hour Division, ESA

Director, Office of Enforcement Policy, Wage and Hour Division, ESA

Deputy Director, Office of Enforcement Policy, Wage and Hour Division, ESA

Director, Office of Planning and Analysis, Wage and Hour Division, ESA

Director, Office of Wage Determinations, Wage and Hour Division, ESA

Director, Office of External Affairs, Wage and Hour Division, ESA

Director, Office of Quality and Human Resources, Wage and Hour Division, ESA

Deputy Assistant Secretary for Federal Contract Compliance Programs (OFCCP), ESA

Deputy Director, Office of Federal Contract Compliance Programs, OFCCP, ESA

Director, Division of Policy, Planning and Program Development, OFCCP, ESA

Deputy Director, Division of Policy, Planning and Program Development, OFCCP, ESA

Director, Division of Program Operations, OFCCP, ESA

Deputy Director, Division of Program Operations, OFCCP, ESA

Director, Division of Management and Administrative Programs, OFCCP, ESA

Deputy Assistant Secretary for Labor-Management Programs, (OLMS), ESA

Employment and Training Administration (ETA)

Assistant Secretary of Labor, ETA

Deputy Assistant Secretary of Labor, ETA

Administrator, Office of Financial and Administrative Management, ETA

Director, Office of Financial and Administrative Services, ETA

Director, Office of Human Resources, ETA

Director, Divisions of Federal Assistance and Contract Services, ETA

Administrator, Office of Policy and Research, ETA

Director, Office of Grants and Contracts Management, ETA

Administrator, Office of Technology and Information Services, ETA

Administrator, Office of Workforce Security, ETA

Director, Office of Income Support, ETA

Director, Office of Career Transition Assistance, ETA

Director, Division of U.S. Employment Service and Americans Labor Information Market System (ALMIS)

Chief, Division of Foreign Labor Certifications, ETA

Administrator, Office of Adult Services, ETA

Director Office of National Programs, ETA

Director, Division of Systems Support, ETA

Director, Office of Adults, Dislocated Workers and Trade Adjustment Assistance, ETA

Director, Division of Trade Adjustment Assistance, ETA

Administrator, Office of Youth Services, ETA

Director, Office of Youth Opportunities, ETA

Director, Office of School to Work, ETA

Director, Office of Job Corps, ETA

Director, Office of Apprenticeship Training, Employer and Labor Services, ETA

Director, Office of Equal Employment Opportunity, ETA

Occupational Safety and Health Administration (OSHA)

Assistant Secretary, OSHA

Director, Office of Public Affairs, OSHA

Director, Directorate of Construction, OSHA

Director, Directorate of Federal-State Operations, OSHA

Director, Directorate of Policy, OSHA

Director, Directorate of Administrative Programs, OSHA

Director, Personnel Programs, OSHA

Director, Office of Administrative Services, OSHA

Director, Office of Management Data Systems, OSHA

Director, Office of Management Systems and Organization, OSHA

Director, Office of Program Budgeting, Planning and Financial Management, OSHA

Director, Directorate of Compliance Programs, OSHA

Director, Directorate of Technical Support, OSHA

Director, Directorate of Safety Standards Programs, OSHA

Director, Directorate of Health Standards Programs, OSHA

Director, Office of Statistics, OSHA

Pension and Welfare Benefits Administration (PWBA)

Director, Office of Participant Assistance and Communications, PWBA

Office of the Assistant Secretary for Veterans' Employment and Training (VETS)

Assistant Secretary, VETS

Deputy Assistant Secretary, VETS

Director, Office of Operations and Programs, VETS

Director, Office of Agency Management and Budget, VETS

Disclosure Officer, VETS

Bureau of Labor Statistics (BLS)

Commissioner, BLS

Associate Commissioner, Office of Administration, BLS

The mailing address for responsible officials in the Bureau of Labor Statistics is: Rm. 4040—Postal Square Bldg., 2 Massachusetts Ave., NE, Washington, DC 20212-0001.

Mine Safety and Health Administration (MSHA)

Assistant Secretary, MSHA

Deputy Assistant Secretary, MSHA

Chief, Office of Congressional and Legislative Affairs, MSHA

Chief, Office of Information and Public Affairs, MSHA

Director of Administration and Management, MSHA

Administrator, Coal Mine Safety and Health (CMS&H), MSHA

Chief, Technical Compliance & Investigation Division, CMS&H, MSHA

Chief, Health Division, CMS&H, MSHA

Chief, Safety Division, CMS&H, MSHA

Accident Investigation Program Manager, CMS&H, MSHA

Administrator, Metal and Nonmetal Mine Safety and Health (M/NM), MSHA

Chief, Technical Compliance & Investigation Division, M/NM, MSHA

Chief, Health Division, M/NM, MSHA

Chief, Safety Division, M/NM, MSHA

Accident Investigation Program Manager, M/NM, MSHA

Director of Assessments, MSHA

Director of Technical Support, MSHA

Director of Educational Policy and Development, MSHA

Director of Standards, Regulations, and Variances, MSHA

Director of Program Evaluation and Information Resources, MSHA

The mailing address for the responsible officials in the Mine Safety and Health Administration (MSHA) is: 4015 Wilson Boulevard, Arlington, Virginia 22203.

Regional Offices

The titles of the responsible officials in the regional offices of the various component agencies are listed below: Unless otherwise specified, the mailing address for these officials by region, shall be:

Region I

U.S. Department of Labor, John F. Kennedy Federal Building, Boston, Massachusetts 02203 (For Wage and Hour only: Contact Region III)

Region II

201 Varick Street, New York, New York 10014 (For Wage and Hour only: Contact Region III)

Region III

The Curtis Center, 170 South Independence Mall West, Suite 825 East, Philadelphia, Pennsylvania 19106-3315

Region IV

U.S. Department of Labor, Atlanta Federal Center, 61 Forsyth Street, SW, Atlanta, Georgia 30303

(OWCP Only) 214 N. Hogan Street, Suite 1006, Jacksonville, Florida 32202

Region V

Kluczynski Federal Building, 230 South Dearborn Street, Chicago, Illinois 60604

(FEC only) 1240 East Ninth Street, Room 851, Cleveland, Ohio 44199

Region VI

525 Griffin Square Building, Griffin & Young Streets, Dallas, Texas 75202

Region VII

City Center Square Building, 1100 Main Street, Kansas City, Missouri 64105-2112 (For Wage and Hour only: Contact Region V)

(OFCCP only) 801 Walnut Street, Room 200, Kansas City, Missouri 64106

Region VIII

1999 Broadway Street, Denver, Colorado 80202, (For Wage and Hour and OFCCP: Contact Region VI)

(OWCP only) 1801 California Street, Suite 915, Denver, Colorado 80202

The mailing address for the Regional Director, Bureau of Apprenticeship and Training in Region VIII is: U.S. Custom House, 721—19th Street, Room 465, Denver, CO. 80202.

Region IX

71 Stevenson Street, San Francisco, California 94105

Region X

1111 Third Avenue, Seattle, Washington 98101-3212 (For Wage and Hour only: Contact Region IX)

Regional Administrator for Administration and Management (OASAM)

Regional Personnel Officer, OASAM

Regional Director for Information and Public Affairs, OASAM

Regional Administrator for Occupational Safety and Health and Safety (OSHA)

Regional Commissioner, Bureau of Labor Statistics (BLS)

Regional Administrator for Employment and Training Administration (ETA) (For the following regions: Boston, New York, Philadelphia, Atlanta, Dallas, Chicago and San Francisco)

Associate Regional Administrator for ETA (For the following regions: Denver, Kansas City and Seattle)

Regional Director, Job Corps, ETA

Director, Regional Office of Apprenticeship and Training, Employer and Labor Services, ETA

Regional Administrator for Wage and Hour, ESA

Regional Director for Federal Contract Compliance Programs, ESA

Regional Director for the Office of Workers' Compensation Programs, ESA

District Director, Office of Workers' Compensation Programs, ESA

Office of Federal Contract Compliance Programs ESA, Responsible Offices, Regional Offices

JFK Federal Building, Room E-235, Boston, Massachusetts 02203

201 Varick Street, Room 750, New York, New York 10014

The Curtis Center, 170 South Independence Mall West, Philadelphia, Pennsylvania 19106-3315

61 Forsyth Street, S.W., Suite 7B75, Atlanta, Georgia 30303

Klucynski Federal Building, 230 South Dearborn Street, Room 570, Chicago, Illinois 60604

Federal Building, 525 South Griffin Street, Room 840 Dallas, Texas 75202

71 Stevenson Street, Suite 1700, San Francisco, California 94105-2614

1111 Third Avenue, Suite 610, Seattle, Washington 98101-3212

Office of Workers’ Compensation Programs ESA: Responsible Officials, District Directors

John F. Kennedy Federal Building, Room E-260, Boston, Massachusetts 02203 (FECA and LHWCA Only)

201 Varick Street, Seventh Floor, Room 750, New York, New York 10014 (FECA and LHWCA only)

The Curtis Center, 170 South Independence Mall West, Suite 790 West, Philadelphia, Pennsylvania 19106-3313 (FECA and LHWCA only)

Penn Traffic Building, 319 Washington Street, Johnstown, Pennsylvania 15901 (BLBA only)

105 North Main Street, Suite 100, Wilkes-Barre, Pennsylvania 18701 (BLBA Only)

Wellington Square, 1225 South Main Street, Suite 405, Greensburg, Pennsylvania 15601 (BLBA only)

300 West Pratt Street, Suite 240, Baltimore, Maryland 21201 (LHWCA Only)

Federal Building, 200 Granby Mall, Room #212, Norfolk, Virginia 23510 (LHWCA only)

500 Quarrier Street, Suite 110, Charleston, West Virginia 25301 (BLBA Only)

425 Juliana Street, Suite 3116, Parkersburg, West Virginia 26101 (BLBA Only)

800 North Capitol Street, NW., Washington, DC 20211 (FECA Only)

77 P Street, NE., 2nd Floor, Washington, DC 20002 (LHWCA Only)

1200 Upshur Street, NW., Washington, DC 20210 (DC Claims Only)

164 Main Street, Suite 508, Pikeville Kentucky 41501 (BLBA only)

500 Springdale Plaza, Spring Street, Mt. Sterling, Kentucky 40353 (BLBA Only)

214 N. Hogan Street, 10th Floor, Room 1006, Jacksonville, Florida 32201 (FECA and LHWCA only)

230 South Dearborn Street, Room 578, Chicago, Illinois 60604 (FECA and LHWCA)

1240 East 9th Street, Room 851, Cleveland, Ohio 44199 (FECA Only)

1160 Dublin Road, Suite 300, Columbus, Ohio 43214 (BLBA Only)

525 Griffin Street, Federal Building Dallas, Texas 75202 (FECA Only)

701 Loyola Avenue, Room 13032, New Orleans, Louisiana 70113 (LHWCA Only)

8866 Gulf Freeway, Suite 140, Houston, Texas 77017 (LHWCA Only)

City Center Square, Suite 750, 1100 Main Street, Kansas City, Missouri 64105 (FECA Only)

1801 California Street, Suite 915, Denver, Colorado 80202 (FECA and BLBA Only)

71 Stevenson Street, 2nd Floor, P.O. Box 193770, San Francisco, California 94105 (LHWCA and FECA Only)

401 E. Ocean Boulevard, Suite 720, Long Beach, California 90802 (LHWCA Only)

300 Ala Moana Boulevard, Room 5119, Honolulu, Hawaii 96850 (LHWCA Only)

1111 3rd Avenue, Suite 615, Seattle, Washington 98101-3212 (LHWCA and FECA only)

Mine Safety & Health Administration Field Offices And Responsible Officials

Coordinator, Small Mines/Mine Emergency Unit

Superintendent, National Mine Health and Safety Academy, 1301 Airport Road, Beaver, WV 25813-9426

Chief, Safety and Health Technology Center, P.O. Box 18233, Pittsburgh, PA 15236

Chief, Approval and Certification Center, R.R. 1, Box 251, Industrial Park Road, Triadelphia, WV 26059

Chief, Information Resource Center

Chief, Office of Injury and Employment Information, P.O. Box 25367, Denver, CO 80225-0367

District Manager, Coal Mine Safety and Health

The Stegmaier Bldg., Suite 034, 7 N. Wilkes-Barre Blvd., Wilkes-Barre, PA 18702

R.R. 1, Box 736, Hunker, PA 15639

5012 Mountaineer Mall, Morgantown, WV 26505

100 Bluestone Road, Mt. Hope, WV 25880

P.O. Box 560, Norton, VA 24273

4159 North Mayo Trail, Pikeville, KY 41501

HC 66, Box 1699, Barbourville, KY 40906

Suite 200, 2300 Old Decker Road, Vincennes, IN 47591

P.O. Box 25367, Denver, CO 80225-0367

100 YMCA Drive, Madisonville, KY 42431-9019

Suite 213, 135 Gemini Circle Birmingham, AL 35209

District Manager, Metal and Nonmetal Mine Safety and Health

Assistant District Manager, Metal and Nonmetal Mine Safety and Health:

Thornhill Industrial Park, 547 Keystone Drive, Suite 4, Warrendale, PA 15086-7573

Suite 212, 135 Gemini Circle, Birmingham, AL 35209

Suite 333, 515 W. First Street, Duluth, MN 55802-1302

Rm. 4C50, 1100 Commerce Street, Dallas, TX 75242-0499

P.O. Box 25367, Denver, CO 80225-0367

2060 Peabody Road, Suite 610, Vacaville, CA 95687-6696

Regional Administrator, Occupational Safety and Health Administration (OSHA)

Area Director, OSHA:

Valley Office Park, 13 Branch Street, Methuen, MA 01844

639 Granite Street, 4th Floor, Braintree, MA 02184

1441 Main Street, Room 550, Springfield, MA 01103-1493

One Lafayette Square, Suite 202, Bridgeport, CT 06604

Federal Building, 450 Main Street, Room 613, Hartford, CT 06103

40 Western Avenue, Room 608, Augusta, ME 04330

202 Harlow Street, Room 211, Bangor, ME 04401

279 Pleasant Street, Suite 201, Concord, NH 03301

Federal Office Building, 380 Westminster Mall, Room 243, Providence, RI 02903

401 New Karner Road, Suite 300, Albany, NY 12205-3809

42-40 Bell Boulevard, Bayside, NY 11361

5360 Genesee Street, Bowmansville, NY 14026

1400 Old Country Road, Suite 208, Westbury, NY 11590

201 Varick Street, Room 670, New York, NY 10048

3300 Vickery Road, North Syracuse, NY 13212

660 White Plains Road, 4th Floor, Tarrytown, NY 10591-5107

1030 St. Georges Avenue, Plaza 35, Suite 205, Avenel, NJ 07001

500 Route 17 South, 2nd Floor, Hasbrouck Heights, NJ 07604

299 Cherry Hill Road, Suite 304, Parsippany, NJ 07054

Marlton Executive Park, Building 2, 701 Route 73 South, Suite 120, Marlton, NJ 08053

BBV Plaza Building, 1510 F.D. Roosevelt Avenue, Guaynabo, PR 00968

850 North 5th Street, Allentown, PA 18102

3939 West Ridge Road, Suite B12, Erie, PA 16506-1857

Progress Plaza, 49 North Progress Avenue, Harrisburg, PA 17109-3596

U.S. Custom House, Room 242, Second & Chestnut Street, Philadelphia, PA 19106

Federal Office Building, 1000 Liberty Avenue, Room 1428, Pittsburgh, PA 15222-4101

The Stegmaier Building, Suite 410, 7 North Wilkes-Barre Boulevard, Wilkes-Barre, PA 18702-5241

844 North King Street—Room 2209, Wilmington, DE 19801

1099 Winterson Road, Suite 140, Linthicum, MD 21090

Federal Office Building, 200 Granby Street, Room 835, Norfolk, VA 23510-1811

405 Capitol Street, Suite 407, Charleston, WV 25301-1727

LaVista Perimeter Office Park, 2183 N. Lake Parkway, Building 7, Suite 110, Tucker, GA 30084-4154

2400 Herodian Way, Suite 250, Smyrna, GA 30080-2968

450 Mall Boulevard, Suite J, Savannah, GA 31406

2047 Canyon Road—Todd Mall, Birmingham, AL 35216-1981

3737 Government Boulevard, Suite 100, Mobile, AL 36693-4309

8040 Peters Road, Building H-100, Fort Lauderdale, FL 33324

Ribault Building, Suite 227, 1851 Executive Center Drive, Jacksonville, FL 32207

5807 Breckenridge Parkway, Suite A, Tampa, FL 33610-4249

John C. Watts Federal Office Building, 330 West Broadway, Room 108, Frankfort, KY 40601-1922

3780 I-55 North, Suite 210, Jackson, MS 39211-6323

Century Station Federal Office Building, 300 Fayetteville Street Mall, Room 438, Raleigh, NC 27601-9998

1835 Assembly Street, Room 1468, Columbia, SC 29201-2453

2002 Richard Jones Road, Suite C-205, Nashville, TN 37215-2809

1600 167th Street, Suite 12, Calumet City, IL 60409

O'Hara Lake Plaza, 2360 East Devon Avenue, Suite 1010, Des Plaines, IL 60018

11 Executive Drive, Suite 11, Fairview Heights, IL 62208

344 Smoke Tree Business Park, North Aurora, IL 60542

2918 W. Willow Knolls Road, Peoria, IL 61614

46 East Ohio Street, Room 423, Indianapolis, IN 46204

Lansing Area Director, 801 South Waverly Road, Suite 306, Lansing, MI 48917-4200

300 South 4th Street, Room 1205, Minneapolis, MN 55415

36 Triangle Park Drive, Cincinnati, OH 45246

Federal Office Building, 1240 East 9th Street, Room 899, Cleveland, OH 44199

Federal Office Building, 200 North High Street, Room 620, Columbus, OH 43215

Ohio Building, 420 Madison Avenue, Suite 600, Toledo, OH 43604

Federal Building, U.S. Courthouse 500, Barstow Street, Room B-9, Eau Claire, WI 54701

1648 Tri Park Way, Appleton, WI 54914

4802 E. Broadway, Madison, WI 53716

Henry S. Reuss Building, 310 W. Wisconsin Ave, Suite 1180, Milwaukee, WI 53202

903 San Jacinto Boulevard, Suite 319, Austin, TX 78701

Wilson Plaza, 606 N. Carancahua, Suite 700, Corpus Christi, TX 78476

834 East R.L. Thornton Freeway, Suite 420, Dallas, TX 75228

700 East San Antonio Street, Room C408, El Paso, TX 79901

North Starr II, Suite 430, 8713 Airport Freeway, Fort Worth, TX 76180-7604

350 N. Sam Houston Parkway, Suite 120, Houston, TX 77060

17625 El Camino Real, Suite 400, Houston, TX 77058

Federal Office Building, 1205 Texas Avenue, Room 804, Lubbock, TX 79401

TCBY Building, Suite 450, 425 West Capitol Avenue, Little Rock, AR 72201

9100 Bluebonnet Centre Boulevard, Suite 201, Baton Rouge, LA 70809

Western Bank Building, Suite 820, 505 Marquette, NW., Albuquerque, NM 87102

420 West Main, Suite 300, Oklahoma City, OK 73102

6200 Connecticut Avenue, Suite 100, Kansas City, MO 64120

911 Washington Avenue, Room 420, St. Louis, MO 63101

210 Walnut Street, Room 815, Des Moines, IA 50309

8600 Farley—Suite 105, Overland Park, KS 66212

300 Epic Center, 301 North Main, Wichita, KS 67202

Overland—Wolf Building, 6910 Pacific Street, Room 100, Omaha, NE 68106

1391 Speer Boulevard, Suite 210, Denver, CO 80204-2552

7935 East Prentice Avenue, Suite 209, Englewood, CO 80111-2714

2900 4th Avenue North, Suite 303, Billings, MT 59101

3rd & Rosser, Room 348, P.O. Box 2439, Bismark, ND 58502

1781 South 300 West, Salt Lake City, UT 84115-1802

101 El Camino Plaza, Suite 105, Sacramento, CA 95815

5675 Ruffin Road, Suite 330, San Diego, CA 92123

3221 North 16th Street, Suite 100, Phoenix, AZ 85016

300 Ala Moana Boulevard, Suite 5-146, Honolulu, HI 96850

705 North Plaza, Room 204, Carson City, NV 89701

505 106th Avenue, NE., Suite 302, Bellevue, WA 98004

301 W. Northern Lights Boulevard, Suite 407, Anchorage, AK 99503-7571

1150 North Curtis Road, Suite 201, Boise, ID 83706

Federal Office Building, 1220 Southwest 3rd Avenue, Room 640, Portland, OR 97204

Pension and Welfare Benefits Administration Regional Director or District Supervisor

Regional Director, J.F.K. Federal Bldg., Room 575, Boston, Massachusetts 02203

Regional Director, 201 Varick Street, New York, NY 10014

Regional Director, The Curtis Center, 170 South Independence Mall West, Philadelphia, Pennsylvania 19106-3315

District Supervisor, Silver Spring Metro Center, Building One, Second Floor, 1335 East-West Highway, Silver Spring, MD 20901

Regional Director, 61 Forsyth Street, S.W., Room 7B54, Atlanta, Georgia 30303

District Supervisor, 8040 Peters Road, Building H, Suite 104, Plantation, Florida 33324

Regional Director, 1885 Dixie Highway, Suite 210, Ft. Wright, Kentucky 41011

District Supervisor, 211 West Fort Street, Suite 1310, Detroit, Michigan 48226-3211

Regional Director, 200 West Adams Street, Suite 1600, Chicago, Illinois 60606

Regional Director, City Center Square, 1100 Main Street, Suite 1200, Kansas City, Missouri 64105

District Supervisor, 815 Olive Street, Room 338, St. Louis, Missouri 63101

Regional Director, 525 Griffin Street, Room 707, Dallas, Texas 75202

Regional Director, 71 Stevenson Street, Suite 915, PO Box 190250, San Francisco, California 94119-0250

District Director, 1111 Third Avenue, Room 860, Seattle, Washington 98101-3212

Regional Director, 790 E. Colorado Blvd., Suite 514, Pasadena, CA 91101

Regional Administrators, Veterans' Employment and Training Service (VETS)

Region I

J.F. Kennedy Federal Building, Government Center, Room E-315, Boston, Massachusetts 02203

Region II

201 Varick Street, Room 766, New York, New York 10014

Region III

The Curtis Center, 170 S. Independence Mall West, Suite 770 West, Philadelphia, Pennsylvania 19106

Region IV

Sam Nunn Atlanta Federal Center, 61 Forsyth Street, SW., Room 6T85, Atlanta, Georgia 30303

Region V

230 South Dearborn, Room 1064, Chicago, Illinois 60604

Region VI

525 Griffin Street, Room 858, Dallas, Texas 75202

Region VII

City Center Square Building, 1100 Main Street, Suite 850, Kansas City, Missouri 64105-2112

Region VIII

1999 Broadway, Suite 1730, Denver, Colorado 80202-5716

Region IX

71 Stevenson Street, Suite 705, San Francisco, California 94105

Region X

1111 Third Avenue, Suite 900, Seattle, Washington 98101-3212

[FR Doc. 02-7376 Filed 4-5-02; 8:45 am]

BILLING CODES 4510-20-P; 4510-21-P; 4510-23-P; 4510-24-P; 4510-26-P; 4510-27-P; 4510-28-P; 4510-29-P; 4510-30-P; 4510-43-P; 4510-79-P; 4510-CF-P; 4510-CH-P; 4510-CK-P; 4510-CN-P; 4510-CP-P